DEPARTMENT OF COMMERCE

National Oceanic and Atmospheric Administration

15 CFR Part 922

[Docket No. 241204-0311]

RIN 0648-BJ14

Regulations for the Florida Keys National Marine Sanctuary Management Review: Blueprint for Restoration

AGENCY: Office of National Marine Sanctuaries (ONMS), National Ocean Service (NOS), National Oceanic and Atmospheric Administration (NOAA), Department of Commerce (DOC).

ACTION: Final rule.

SUMMARY: As part of its Restoration Blueprint initiative, the National Oceanic and Atmospheric Administration (NOAA) is issuing final regulations for the Florida Keys National Marine Sanctuary (FKNMS or sanctuary) that will expand the boundary of the sanctuary, update sanctuary-wide regulations, update the individual marine zones and their associated regulations, and revise the sanctuary's terms of designation. NOAA is also finalizing a revised management plan and final environmental impact statement (EIS) as part of this action. The final rule describes how NOAA will work to improve the condition of resources in FKNMS through a series of regulatory measures designed to reduce threats and, where appropriate, restore coral reefs, seagrasses, and other important habitats. The intended effect of this final rule is to manage and protect the living and heritage resources of FKNMS for the benefit of the public.

DATES: Effective Date: Pursuant to section 304(b) of the National Marine Sanctuaries Act (NMSA) (16 U.S.C. 1434(b)), the designation and regulations shall take effect and become final after the close of a review period of forty-five days of continuous session of Congress, beginning on the date on which this Federal rulemaking is published, which is January 17, 2025; however, if the Governor of the State of Florida certifies to the Secretary of Commerce during that same review period that any such regulation is unacceptable, the regulation(s) will not take effect in State waters of the sanctuary. The public can track days of the congressional session at the following website: https://www.congress.gov/days-in-session. NOAA will publish an announcement of the effective date of the final regulations in the Federal Register.

Incorporation by reference: The incorporation by reference of certain material listed in the rule is approved by the Director of the Federal Register as of after the close of a review period of forty-five days of continuous session of Congress, beginning on the date on which this Federal rulemaking is published, which is January 17, 2025. NOAA will publish an announcement of the IBR approval date in the Federal Register.

Delay of effective date: NOAA is delaying the effective date of §§ 922.163(a)(5)(x) and 922.164(e)(3), (f)(2), (g)(1), and (h)(1) until January 19, 2027.

ADDRESSES: Copies of the final EIS and management plan described in this rule, the Record of Decision (ROD), and additional background materials are available at https://floridakeys.noaa.gov/blueprint/.

FOR FURTHER INFORMATION CONTACT: Beth Dieveney, Policy Analyst, FKNMS, 33 East Quay Rd., Key West, FL 33040, 305-797-6818 phone, or by email at beth.dieveney@noaa.gov.

SUPPLEMENTARY INFORMATION:

I. Introduction

1. Florida Keys National Marine Sanctuary

Designated in 1990, FKNMS was the ninth national marine sanctuary in the National Marine Sanctuary System. As one of the largest marine protected areas in the United States, FKNMS encompasses approximately 3,800 square miles of coastal and ocean waters from the estuarine waters of South Florida along the Florida Keys archipelago to the Dry Tortugas, encompassing more than 1,700 islands. FKNMS provides habitats for more than 6,000 species of fishes, invertebrates, and plants, in addition to uniquely expansive and diverse seagrass and coral reef communities. Within the boundaries of the sanctuary lie spectacular, unique, and nationally significant marine resources including North America's only coral barrier reef, extensive seagrass beds, mangrove-fringed islands, and more than 6,000 species of marine life. The sanctuary also protects pieces of our Nation's history such as shipwrecks and other archeological resources. This final rule follows NOAA's publication of a 2022 proposed rule and a 2019 draft EIS, which included a range of alternatives.

The health of the marine environment around the Florida Keys and the health of the Florida Keys community in Monroe County, Florida, are inextricably linked. A declining marine environment puts the economy and jobs at risk. Relying on the existence and maintenance of a healthy marine environment, the Florida Keys support more than 82,874 residents and approximately 5.13 million visitors annually (Rockport Analytics, 2019). Tourism value to the Florida Keys economy was estimated at $2.4 billion (in 2018, the most recent year data were available), supporting 43% of jobs and employment in Monroe County and sales tax paid by visitors to Monroe County made up roughly 59% of state and local tax receipts attributed to tourism (Rockport Analytics, 2019).

2. Need for the Rulemaking

NOAA's management of FKNMS is directed by the purposes and policies of the NMSA and the Florida Keys National Marine Sanctuary and Protection Act (FKNMSPA, Public Law 101-605). The NMSA requires the Secretary of Commerce (Secretary) to evaluate the substantive progress toward implementing the management plan and goals for the sanctuary, especially the effectiveness of site-specific management techniques and strategies, and . . . revise the management plan and regulations as necessary to fulfill the purposes and policies of this chapter. (16 U.S.C. 1434(e)). Those purposes and policies include:

• Provide authority for comprehensive and coordinated conservation and management of these marine areas, and activities affecting them, in a manner which complements existing regulatory authorities (16 U.S.C. 1431(b)(2));

• Maintain the natural biological communities in the national marine sanctuaries, and to protect, and, where appropriate, restore and enhance natural habitats, populations, and ecological processes (id. 1431(b)(3));

• Facilitate to the extent compatible with the primary objective of resource protection, all public and private uses of the resources of these marine areas not prohibited pursuant to other authorities (id. (b)(6));

• Develop and implement coordinated plans for the protection and management of these areas with appropriate Federal agencies, State and local governments . . . and other public and private interests concerned with the continuing health and resilience of these marine areas (id. 1431(b)(7)); and

• Create models of, and incentives for, ways to conserve and manage these areas, including the application of innovative management techniques (id. 1431(b)(8)).

The FKNMSPA directs NOAA to protect and preserve living and other resources of the Florida Keys marine environment, provide education on and interpretation of sanctuary resources to the public, and manage human uses of the sanctuary consistent with the FKNMSPA (Sec. 3, Pub. L. 101-605, 104 Stat. 3090).

In order to ensure long-term resource viability and ecosystem function, NOAA is updating the FKNMS management framework to address current and future threats to sanctuary resources, such as diminished water quality originating from both within and outside the sanctuary, significant decrease in coral cover, and habitat degradation from vessel impacts including anchor damage, propeller-scarring, and groundings. Each of these threats has major implications for FKNMS.

In addition, NOAA is updating FKNMS management efforts to respond to the 2011 FKNMS Condition Report,¹ which concluded that resources in the Florida Keys were in fair to fair/poor condition and generally either stable or in decline. Since the release of the 2011 condition report, sanctuary resources have been further degraded by Hurricane Irma (2017), a serious and widespread coral disease outbreak, a seagrass die-off, and warming ocean temperatures as evident during the summer 2023 marine heat wave, among other threats.

¹ https://sanctuaries.noaa.gov/science/condition/fknms/welcome.html.

Furthermore, during the comment phase on the draft documents for this action, the public emphasized the need for a more ecosystem-based management approach to better protect the region's marine resources. To that end, there was strong public support for sanctuary expansion and updated marine zones—actions that are consistent with the purposes and policies of the NMSA and the FKNMSPA. As a result, this final rule extends national marine sanctuary management actions to areas that have demonstrated biological and ecological connectivity with existing sanctuary resources and includes adaptive management strategies to better respond to changing conditions, use patterns, and emerging threats to resources.

In addition to these regulatory updates, NOAA is enhancing research, restoration, and education efforts to conserve and restore these nationally significant sanctuary resources. These efforts, which are described in the final management plan, are critical for assessing changes occurring in the environment, fostering a stewardship ethic, and developing a better understanding of the ecosystem services that sanctuary resources provide for communities throughout the Florida Keys.

In a parallel process, which involved a separate regulatory review aimed at creating consistency and streamlining national marine sanctuary regulations, on January 6, 2023, NOAA updated some of the regulations found at 15 CFR part 922 (88 FR 953 ²). Part 922 includes general regulations applicable to all national marine sanctuaries (subparts A through E) and site-specific regulations that relate to each individual sanctuary (subparts F through T). All regulatory references to 15 CFR part 922 in this final rule conform with the 88 FR 953 final rule.

² https://www.federalregister.gov/documents/2023/01/06/2022-28225/national-marine-sanctuary-regulations.

3. Incorporation by Reference

The definitions in § 922.162 for “marine life species” and “tropical fish” incorporate by reference the same definitions under State of Florida regulations for Marine Life found at Florida Administrative Code (F.A.C.) 68B-42.001 and 68B-42.002. Specifically, under these Florida regulations, the definitions of “marine life species” and “tropical fish” in 68B-42.002 incorporate lists of species designated as “restricted species” found at 68B-42.001. Under Florida regulations, a fishing permit is required to target any species that falls under the definition of “marine life species” and “tropical fish.” Similarly, sanctuary regulations at § 922.163(a)(12) require, among other things, that marine life species only be harvested from the sanctuary if authorized by a state permit or exemption. Sanctuary regulations at § 922.164(b)(2) also prohibit the collection of tropical fish from within two management areas of the sanctuary that were formerly the Key Largo and Looe Key national marine sanctuaries. Florida regulations are readily accessible at https://www.flrules.org/. These Florida regulations are currently referenced in the existing sanctuary regulations; at this time NOAA is updating the language in order to comply with Office of Federal Register regulations for incorporation by reference found at 1 CFR part 51.

II. The Restoration Blueprint Process

1. Notice of Intent & Scoping

On April 19, 2012, NOAA and the U.S. Department of the Interior's (DOI) U.S. Fish and Wildlife Service (USFWS) published a notice of intent in the Federal Register. The notice informed the public of the proposal to develop a draft environmental impact statement (draft EIS), announced five public scoping meetings, and solicited public comment. NOAA and USFWS held public scoping meetings throughout the Florida Keys, in Ft. Myers and Miami and accepted written comments from April 19, 2012, to June 29, 2012. The website provides a scoping comments summary document ³ and original comments can be found at the regulations.gov docket for this notice of intent: NOAA-NOS-2012-0061.

³ https://nmsfloridakeys.blob.core.windows.net/floridakeys-prod/media/archive/review/documents/scopingcommentssummary.pdf.

In addition, as part of formal scoping, the FKNMS Sanctuary Advisory Council played a significant role throughout this review and the alternatives development process. Informed by their 2012 Regulatory and Marine Zone Alternatives Development Work Plan ⁴ and input from four community working groups,⁵ the Sanctuary Advisory Council provided over 200 recommendations for the sanctuary superintendent as well as the USFWS Florida Keys National Wildlife Refuges Complex manager to consider when developing alternatives related to regulations and marine zones within the sanctuary. The website https://floridakeys.noaa.gov/review/workgroups.html provides more information and summary documents of the Sanctuary Advisory Council and working groups.

⁴ https://nmsfloridakeys.blob.core.windows.net/floridakeys-prod/media/archive/sac/othermaterials/121211draftworkplan.pdf.

⁵ These working groups included 35 additional community member participants, many of whom represented local, small Florida Keys businesses. For details see: https://floridakeys.noaa.gov/review/workgroups.html.

2. Environmental Impact Statement (EIS)

Following the NOI and scoping, in accordance with the National Environmental Policy Act (NEPA, 42 U.S.C. 4321 et seq.) and the NMSA (16 U.S.C. 1434), NOAA prepared and released a draft EIS and updated draft management plan on (84 FR 45728, August 30, 2019). NOAA accepted public comments on the draft EIS from August 2019 to January 2020 and hosted six public hearings and two Sanctuary Advisory Council meetings to hear public comment. NOAA received comment from 1,213 distinct commenters during the public comment period and several letters and petitions with multiple signatories for a total of well over 35,000 comments.

The draft EIS, also referred to as the Florida Keys National Marine Sanctuary Restoration Blueprint, evaluated the environmental consequences of four specific alternatives and provided an in-depth resource assessment. The alternatives in the draft EIS considered sanctuary boundary expansion to protect ecologically connected habitats; proposed new or modified sanctuary-wide regulations; proposed to establish new and modify existing marine zones to protect additional sensitive and threatened coral reef, seagrass, hardbottom habitats and species dependent on these habitats; and included an updated draft management plan. The draft EIS alternatives aimed to address threats and protect sanctuary resources by separating conflicting uses and managing high intensity and concentrated use activities while still allowing sustainable uses compatible with FKNMS natural resource protection goals.

A final EIS was prepared following the release of the 2022 Notice of Proposed Rulemaking (NOPR) described below. The final EIS includes the four alternatives evaluated in the draft EIS, the 2022 NOPR proposal, and a preferred alternative. The preferred alternative in the final EIS matches the regulations in this rule. The final EIS was released on December 13, 2024 and is available at https://floridakeys.noaa.gov/blueprint/.

All alternatives analyzed in the final EIS are consistent with NOAA's mission to conserve and manage coastal and marine ecosystems and resources, would further the FKNMS mission to “protect the marine resources of the Florida Keys while facilitating human uses that are consistent with the primary objective of sanctuary resource protection,” would provide for more comprehensive management and protection of important and vulnerable ecological and cultural resources in the Florida Keys, and would provide important opportunities for research and recovery of resources from observed impacts. No significant adverse impacts to the human environment were identified under any alternative considered in the final EIS.

3. The Notice of Proposed Rulemaking

The proposed rule combined individual aspects of each of the four alternatives presented in the draft EIS, was directly informed by the thousands of public and agency comments received on the draft EIS, and considered updated environmental and socioeconomic information.

On July 18, 2022, NOAA published a NOPR modifying the FKNMS boundary, sanctuary-wide regulations, and marine zones and associated regulations (87 FR 42800). NOAA hosted five public comment meetings, throughout the Florida Keys and virtually, and accepted written comments from July 18, 2022, to October 26, 2022. NOAA accepted comments in the form of letters and written comments through electronic submissions to http://regulations.gov, letters submitted by mail, and both in-person and virtual public hearings. NOAA received 426 unique comments during the public comment period on the NOPR. All public comments on the proposed rule are available at https://www.regulations.gov/docket/NOAA-NOS-2019-0094. NOAA's response to the public comments is set forth in Section V of this document.

In addition to public comment, NOAA consulted with and received technical assistance and comment from several Federal agencies, fishery management councils (FMCs), and State agencies. A brief summary of engagement follows.

a. U.S. Fish & Wildlife Service Consultation

USFWS has been engaged in the Restoration Blueprint process since NOAA and USFWS jointly published a Federal Register notice of intent on April 19, 2012, to notify the public of the agencies' intent to prepare a draft EIS and to initiate the scoping process. 77 FR 23425 (April 19, 2012). USFWS participated in the public scoping events and relevant community working groups and provided subject matter expertise throughout development of the draft EIS, the proposed rule and this final rule. In addition, NOAA initiated informal Endangered Species Act (ESA) consultation with USFWS Ecological Services in August 2019 and received comment on June 22, 2020. In that comment letter, USFWS Ecological Services concurred with NOAA's determination that the proposed action is unlikely to adversely affect listed species or adversely modify critical habitat and noted that coordination with the Florida Keys National Wildlife Refuges would be ongoing in the development of the proposed and final rule. NOAA provided USFWS the proposed rule on July 18, 2022 and on February 21, 2024, a description of the minor changes anticipated to that rule following public comment. NOAA concluded that these updates to the regulations since publication of the draft EIS do not change NOAA's determination, and USFWS concurred on February 23, 2024.

b. Regional Fishery Management Council Consultation

Pursuant to NMSA Section 304(a)(5), NOAA sent letters on August 22, 2019, to initiate consultation with the Gulf of Mexico Fishery Management Council (GMFMC) and the South Atlantic Fishery Management Council (SAFMC) on potential regulatory changes that affect Federal fisheries. NOAA also provided multiple updates at the respective Council meetings and various advisory and technical committees over the course of the development of the draft EIS and throughout the public comment period following its release. Both the GMFMC and SAFMC submitted comment letters on the draft EIS on February 21, 2020 and March 13, 2020 respectively.

NOAA continued to engage with and provide briefings for both FMCs and their individual advisory panels during the proposed rule public comment period. Both the GMFMC and SAFMC submitted comment letters on the proposed rule on February 15 and February 22, 2023, respectively, which are responded to below.

c. U.S. Department of Defense Coordination

The Department of the Navy provided a summary of their operational environment and activities at Naval Air Station (NAS) Key West during development of the 2019 draft EIS, in a comment letter on March 2, 2020, and during development of the proposed and final rule. This information was used to inform the updated list of military activities that are exempted from NOAA regulations under 922.163(d) (see Appendix F of the final EIS).

d. State of Florida Coordination

NOAA has worked closely with several Florida State agencies throughout the public scoping process, and development of the draft and final EISs and the proposed and final rule. Approximately 60 percent of the sanctuary is within Florida State waters, and the sanctuary is cooperatively managed with the State of Florida, with the Department of Environmental Protection (DEP) and Florida Fish and Wildlife Conservation Commission (FWC) as lead agencies. The Florida Department of State through the State Historic Preservation Office (SHPO) is also a key resource management partner for sanctuary historical resources. NOAA coordinates with other State agencies as needed on topic-specific issues. Several co-trustee agreements outline a framework for this cooperative management relationship. Finally, NOAA has evaluated this final rule to ensure compliance with the requirements of Section 307 of the Coastal Zone Management Act specifically in relation to the enforceable policies of Florida's Coastal Zone Management Program. NOAA submitted its consistency determination to the State on May 21, 2024.

Florida Department of Environmental Protection

NOAA coordinated extensively with Florida DEP throughout the process. DEP was represented at most Sanctuary Advisory Council community working group meetings where they provided management perspective and resource status and use data and has an official seat on the Sanctuary Advisory Council. DEP submitted comment letters to NOAA on the 2019 draft EIS on May 1, 2020, and on the proposed rule on March 31, 2023.

Florida Fish and Wildlife Conservation Commission

Florida FWC staff has coordinated directly with sanctuary staff, notably with Florida Fish and Wildlife Research Institute (FWRI) experts assigned to provide scientific and technical support for each of the Sanctuary Advisory Council community working groups. Florida FWC staff also served as a co-chair to facilitate one of the working groups, and has an official seat on the Sanctuary Advisory Council. NOAA also provided multiple updates at FWC meetings over the course of the development of the 2019 draft EIS and throughout the public comment period. In addition, FWRI research findings directly informed various regulatory and zoning aspects of this final rule. FWC submitted a comment letter to NOAA on the 2019 draft EIS on April 29, 2020, and for the proposed rule on March 30, 2023.

Florida State Historic Preservation Office

The Florida SHPO and Florida Division of Historical Resources staff have coordinated with FKNMS staff to review and develop an updated draft Programmatic Agreement under Section 106 of the National Historic Preservation Act regarding Florida Keys National Marine Sanctuary Operations, Management, and Permitting (Programmatic Agreement), which was included in the draft EIS (Appendix C) for public comment. In addition, the SHPO submitted a comment letter to NOAA on the 2019 draft EIS on January 31, 2020, that noted the draft EIS Preferred Alternative (Alternative 3) would sufficiently address NOAA's National Historic Preservation Act Section 106 (54 U.S.C. 306108) responsibilities through implementation of the new management plan and Section 106 Programmatic Agreement. On October 13, 2022, NOAA sent a follow-up letter to the SHPO notifying the SHPO of the publication of the NOPR and an updated management plan and providing a finding of no adverse effects to historic properties. The SHPO did not offer further comment.

III. Changes From Proposed to Final Rule

1. Sanctuary Boundary

In this rule, NOAA is modifying the sanctuary boundary to expand the sanctuary's area from the existing 3,800 square miles to 4,539 square miles but is not including the proposed expansion area in Pulley Ridge. The final sanctuary boundary is expanded to include the Area To Be Avoided (ATBA) regulatory zone and the Tortugas Region, as was proposed in the 2022 NOPR. Concurrent with considering boundary expansion to include Pulley Ridge, as noted in the proposed rule, the United States proposed that the International Maritime Organization (IMO) designate a No Anchoring Area in the southern portion of Pulley Ridge, which was approved and implemented starting June 1, 2023 (IMO SN.1/Circ.342 ⁶). Therefore, given the IMO action to protect these habitats from anchor damage from all vessels and the additional protections in place through GMFMC Habitat Area of Particular Concern (HAPC) regulations for fishing vessels, NOAA has determined that sanctuary expansion to include Pulley Ridge is not necessary at this time, and it is not included in this final rule.

⁶ See also https://www.imo.org/en/MediaCentre/MeetingSummaries/Pages/NCSR-9th-session.aspx.

2. Sanctuary-Wide Regulations

a. Definitions

NOAA amends the definitions for “anchoring” and “no anchoring” from the definition in the proposed rule to include an exception for allowing the use of a mooring buoy. Commenters raised concerns that the proposed definitions would prohibit use of a mooring buoy since a mooring buoy is technically anchored to the seabed. NOAA amends the definition for “at risk of becoming derelict” and “deserting” to align with the State of Florida definition, which was updated since release of the 2022 NOPR.

NOAA amends the definition for “traditional fishing” to set the baseline of activities considered traditional to those fishing activities customarily conducted in the sanctuary as of the effective date of this rule. The NOPR had set the baseline of traditional fishing activities as those described in the 1996 Florida Keys National Marine Sanctuary FMP/EIS (Vol. II), consistent with the existing regulation. This change is made based on comments received from the FWC, SAFMC, and GMFMC. This change is intended to define “traditional fishing” as those fishing activities customarily conducted in the sanctuary, as managed by the FWC in State waters and by NMFS in the EEZ, as of the effective date of this rule. Fishing regulations change, and by defining traditional fishing as those activities customarily conducted as of the effective date of this rule, NOAA does not intend to exclude fishing activities subject to routine changes to state and federal fishery management regulations. Routine changes include changes to size limits, bag limits, vessel limits, trip limits, possession limits, retention limits, quotas, harvest, catch limits, or catch targets and routine season modifications including in-season adjustments or closures. On the other hand, substantial changes to state and federal fishery management regulations for a fishing activity would make that activity no longer considered traditional fishing and the changes to that fishing activity would not be exempted from the corresponding sanctuary prohibition. Substantial changes include new or modified regulations that allow use of new gear types or methods or that modify allowable or authorized gear types or methods. Any future update to the traditional fishing definition would require a separate rulemaking in order to consider public comment and to conduct an environmental analysis under NEPA of the potential impacts of new or innovative gear types or fishing activities on sanctuary resources. NOAA would collaborate closely with, and rely on the expertise of, fishery managers for the FWC, FMCs, and NMFS when considering any updates to the definition of traditional fishing. Appendix G of the 2024 final EIS provides additional description of the fishing activities managed by the FWC in State waters and by NMFS in the EEZ that are intended to be considered traditional fishing.

Between the draft and final rule, NOAA has added a definition for “derelict vessels” and amends definitions of “at-risk of becoming derelict” and “deserting” to align more clearly with the State of Florida's program for addressing derelict vessels and vessels at-risk of becoming derelict. The timelines for 24-hour notification and removal of such vessels within 72 hours of notification have been moved from the definition of “deserting” to the prohibition at 922.163(a)(5)(viii) to reduce confusion and redundancy and to make it clearer that these timelines also apply to derelict vessels and vessels at risk of becoming derelict, regardless of whether the vessel is occupied.

b. Discharge and Deposit Regulation Exception

Consistent with the proposed rule, NOAA updates the existing discharge and deposit regulation to explicitly prohibit the discharge or deposit of any material or other matter from a cruise ship, except cooling water, and to simplify and clarify terminology by removing the exception for “exhaust gas” and “water generated by routine vessel operations.” In response to public comment on the proposed rule, the final rule further clarifies the exception for the discharge or deposit of deck washdown by adding the term “runoff” to the list of exceptions, thereby allowing weather/rain runoff to be discharged or deposited into the sanctuary from a vessel other than a cruise ship.

c. Large Vessel Mooring Buoys

As explained above in the DATES section of this document, NOAA is delaying the effective date for the large vessel mooring buoy requirement (§ 922.163(a)(5)(x)) for two years beyond the effective date of this final rule. The purpose of this delay is to provide NOAA with adequate time to finalize a mooring buoy plan, including numbers and locations of mooring buoys; to secure materials; and to install new mooring buoys. Until this provision is effective, large vessels may continue to use regular mooring buoys.

d. Temporary Regulation for Emergency and Adaptive Management

With regard to the issuance of temporary emergency regulations, NOAA's final rule is the same as the proposed rule with one minor technical correction to 922.165(c)(2) which provides an opportunity for public comment after publication of a temporary emergency rule. As required under section 553 of the APA, NOAA will collect public comment before issuing an emergency rule and will delay the effective date by 30 days, unless NOAA finds good cause that doing so is impracticable, unnecessary, or contrary to the public interest. 5 U.S.C. 553(b)(B), (d)(3). The proposed rule provided that the Director shall receive public comments on the necessity for, and extent of, the temporary regulation for a period of 15 days after the effective date of notification. This final rule changes the word “shall” to “may.” NOAA may choose to collect public comment for 15 days after issuing an emergency temporary rule when, in NOAA's discretion, it determines that post-decision comment would be necessary and in the public interest, such as to inform potential modifications to the emergency or temporary response action and/or its duration. While NOAA has every intention of accepting public comment after publication of a temporary emergency rule whenever NOAA is unable to collect pre-publication notice and comment, there may be cases where public comment would not inform a further agency action and post-publication public comment would serve no agency or public interest.

e. Authorizations of Sunken Military Craft Act Permits

Sunken military craft in FKNMS are administered by the respective Secretary concerned pursuant to the Sunken Military Craft Act. NOAA will develop an MOA with the appropriate agencies regarding collaboration on implementing the Sunken Military Craft Act. The ONMS Director will request approval from the respective Secretary concerned for any terms and conditions of ONMS authorizations that may involve sunken military craft in FKNMS.

3. Marine Zone Boundaries and Associated Marine Zone Regulations

a. Conservation Areas

This final rule adopts the same boundaries and associated regulations for Conservation Areas as the proposed rule. In addition, as explained above in the DATES section of this document, NOAA is delaying the effective date for the prohibition on anchoring in CAs for two years beyond the effective date of this final rule. The purpose of this delay is to provide NOAA with adequate time to finalize a mooring buoy plan including numbers and locations of mooring buoys, secure materials, and install new mooring buoys. All other CA regulations will become effective as described in the DATES section above (i.e., after the close of a review period of forty-five days of continuous session of Congress).

b. Sanctuary Preservation Areas (SPAs)

In this final rule, NOAA modifies the size of two SPAs presented in the proposed rule. Turtle Rocks is modified slightly from 2.3 square miles in the proposed rule to 2.5 square miles in this final rule in order to align this SPA with the existing John Pennekamp Coral Reef State Park marine zone. Sombrero Key is modified from 0.52 square miles in the proposed rule to 0.33 square miles in this final rule. This change is made to focus SPA protection on the area with the greatest amount of coral and to exclude areas of primarily sandy bottom.

In addition, as explained above in the DATES section of this document, NOAA is delaying the effective date for the prohibition on anchoring on SPAs for two years beyond the effective date of this final rule. The purpose of this delay is to provide NOAA with adequate time to finalize a mooring buoy plan, including numbers and locations of mooring buoys, to secure materials, and to install new mooring buoys. All other SPA regulations will become effective as of the effectiveness date of this final rule (i.e., after the close of a review period of forty-five days of continuous session of Congress), including eliminating the exception for catch and release fishing by trolling in Conch Reef, Alligator Reef, Sombrero Reef, and Sand Key SPAs, and stopping the practice of issuing permits for baitfishing in SPAs.

c. Restoration Areas

The final rule includes two Nursery Restoration Areas in addition to the nine other restoration areas that were included in the proposed rule. These two areas were established and permitted as coral nursery sites after the proposed rule was released for comment. NOAA received comments requesting that these two nursery sites be included as Nursery Restoration Areas in this final rule. Both sites are in the Upper Keys region and are in Federal waters of the sanctuary. Key Largo Nursery Restoration Area is approximately 0.07 square miles (46.8 acres) and Islamorada Nursery Restoration Area is approximately 0.07 square miles (47.2 acres).

In addition, as explained above in the DATES section of this document, NOAA is delaying the effective date for the prohibition on anchoring in SPAs for two years beyond the effective date of this final rule. Habitat and Nursery Restoration Areas apply the same prohibitions as SPAs, so the prohibition on anchoring in Restoration Areas will also be delayed two years.

d. Wildlife Management Areas

NOAA's final rule amends 9 WMAs from what was included in the proposed rule and eliminates two proposed new WMAs that were included in the proposed rule. Details follow.

• Crocodile Lake: In response to a request from USFWS, this zone is expanded slightly to include a rookery island.

• Barnes-Card Sound: In response to a request from FWC, the regulations applied in this zone are modified to be idle speed no wake instead of no motor.

• Eastern Lake Surprise: In response to a request from USFWS, the no entry area in the proposed rule is expanded to include the entire shoreline.

• Whitmore Bight: In response to a request from the Florida DEP and public comment, the no motor zone is expanded to include a John Pennekamp Coral Reef State Park no motor zone.

• Dove and Rodriguez Key: In response to public comment, the northern boundary is adjusted slightly, opening more area for general use.

• Tavernier Key: In response to public comment, the boundary is adjusted slightly, opening more area for general use, and this final rule does not include a no anchor regulation specific to this zone.

• Ashbey-Horseshoe Key: This area is within an existing Lignumvitae Key Aquatic Preserve and Lignumvitae Key Botanical State Park no motor zone; therefore this rule does not include a new sanctuary marine zone at this site at this time.

• Channel Key Banks: In response to public comment and input from the FWC, this zone is modified slightly to better align with the bank habitat areas, to add a no entry area around Channel Key, and to open additional channels for normal operation.

• Red Bay Banks: In response to public comment and input from the FWC, this zone's boundary is modified slightly to better align with existing channels.

• East Content Keys and Upper Harbor Key Flats: In response to a request from the Florida DEP and FWC, this zone's southern boundary is expanded slightly to include additional islands.

• Howe Key: In response to input from the USFWS, Florida DEP, FWC and public comment, the regulation applied in this zone is changed from no entry (NOPR) to no motor (this final rule).

• Archer Key: Informed by public comment and requests from Florida DEP and FWC, this rule does not include a new marine zone at this site.

IV. Summary of all Final Regulations

Based on public comments received between July and October 2023, internal deliberations, interagency consultations, meetings with constituent groups, and evaluation of this input with the USFWS and the State of Florida, with this final rule, NOAA is implementing the following measures.

These sections are organized in the same way they were presented in the 2019 draft EIS and 2024 final EIS for the FKNMS Restoration Blueprint:

1. sanctuary boundary;

2. sanctuary-wide regulations;

3. marine zone boundaries within the sanctuary; and

4. marine zone regulations.

A final management plan is included in the final EIS and is available at the address and website listed in the ADDRESSES section of this rule.

1. Sanctuary Boundary

As noted above, pursuant to the procedures in FKNMSPA, Sec. 5(a) Pub. L. 101-605 and section 304(a) of the NMSA, 16 U.S.C. 1434(a),⁷ NOAA is modifying the sanctuary boundary to expand the sanctuary's area from 3,800 square miles to 4,539 square miles. The final sanctuary boundary is expanded to include the ATBA regulatory zone and the Tortugas Region.

⁷ Section 5(d) of the FKNMSPA authorized NOAA to make minor modifications to the sanctuary boundary no later than the issuance of the draft EIS, which under section 7(a) was one of the documents required to be completed within 30 months of the passage of the Act. Section 5(a) of the FKNMSPA provides that FKNMS shall be managed and regulations enforced under all applicable provisions of such title III as if the Sanctuary had been designated under such title. NOAA published the draft EIS in 1995, and, in 1997 finalized the designation process by publishing the final EIS/management plan, regulations, and terms of designation. Accordingly, 5(d) no longer applies and, pursuant to NMSA section 304(a), NOAA follows the process required in section 304 of the NMSA to modify the terms of designation and sanctuary boundaries.

First, the boundary expansion to align with the ATBA will result in a consistent regulatory boundary, which is intended to provide clarity for mariners and additional ecosystem protections. The ATBA areas within the sanctuary were established through the FKNMSPA and prohibit operating any tank vessel or vessel over 50 meters length within specified areas to protect coral reef habitat from potential vessel impacts, including groundings. Second, the expansion in the Tortugas Region aligns with the existing particularly sensitive sea area (PSSA), established by the IMO in 2002. PSSAs are used to protect areas for special ecological, socioeconomic, or scientific reasons and areas that are vulnerable to damage by international maritime activities. This expansion provides additional protections for important ecological resources and the ecological connectivity in the region, particularly between Tortugas North and South Conservation Areas and Tortugas Bank. In addition, expansion in the Tortugas Region takes into account recently collected and compiled mapping coverage data and remotely operated vehicle imagery in the southern portion of the existing Tortugas South Ecological Reserve, which show unique and sensitive habitat features in this area.

2. Sanctuary-Wide Regulations

a. Live Rock Aquaculture

The final rule is the same as the proposed rule, which maintains the current exception for live rock aquaculture from sanctuary-wide regulatory prohibitions if authorized by a Florida Sovereignty Submerged Land Live Rock Aquaculture Lease issued by the Florida Department of Agricultural and Consumer Services in conjunction with U.S. Army Corps of Engineers via the Programmatic General Permit SAJ-99, or a NMFS Aquacultured Live Rock permit, which is issued under the Magnuson-Stevens Fishery Conservation and Management Act (MSA) in conjunction with the U.S. Army Corps of Engineers via the Programmatic General Permit SAJ-71.

b. Discharge and Deposit Regulation Exception

The final rule updates the existing discharge and deposit regulation to explicitly prohibit the discharge or deposit of any material or other matter from a cruise ship, except cooling water, and to simplify and clarify terminology by removing the exception for “exhaust gas” and “water generated by routine vessel operations.” In response to public comment, the final rule provides an exception from the prohibition for the discharge or deposit of deck runoff for discharges from all vessels except cruise ships, thereby allowing weather/rain runoff to be discharged or deposited into the sanctuary. Each of these provisions are explained in more detail below.

NOAA has a long history of regulating various discharges under the NMSA to ensure that the discharges do not degrade water quality within the sanctuary. These regulations are often more stringent than regulations promulgated under other State or Federal authorities, such as the Clean Water Act (CWA), to recognize that the unique resources of the sanctuary deserve additional protections. When the original FKNMS regulations were promulgated in 1997, NOAA established prohibitions against discharging most material into the sanctuary, with limited and specified exceptions for bait or chum, biodegradable effluent from approved marine sanitation devices, graywater and deck washdown during routine vessel operations, and vessel cooling water and engine exhaust. In sanctuary zones, such as Sanctuary Preservation Areas and Ecological Reserves, NOAA established more stringent regulations to only allow discharge of vessel cooling water and engine exhaust. The 1997 regulations also prohibited the discharge of material or other matter from outside the sanctuary that enters and injures a sanctuary resource. In 1999, the U.S. Environmental Protection Agency (EPA) established a No Discharge Zone under the CWA for vessel sewage in Key West, Florida, within State waters, in response to a petition from the State of Florida. The No Discharge Zone prohibited the discharge of untreated or treated vessel sewage, including from marine sanitation devices. Subsequently EPA expanded the No Discharge Zone to all State waters of the sanctuary (67 FR 35735 ⁸; May 21, 2002). In 2010, NOAA removed the exception for discharges from marine sanitation devices in the entire sanctuary under the NMSA, thereby making all sanctuary waters a no discharge zone under the NMSA (75 FR 72655 ⁹; Nov. 26, 2010). Comments on NOAA's rulemaking at that time also supported banning harmful vessel graywater discharges, especially from large cruise ships and cargo vessels. While NOAA did not ban graywater discharges in 2010, NOAA responded by noting that additional water quality regulations may be considered in future FKNMS management plan reviews.

⁸ https://www.govinfo.gov/app/details/FR-2002-05-21/02-12283.

⁹ https://nmssanctuaries.blob.core.windows.net/sanctuaries-prod/media/archive/management/fr/75_fr_72655.pdf.

Under its NMSA authorities, NOAA now further restricts discharges from cruise ships while in the sanctuary. Specifically, the rule prohibits discharges or deposits of any material or other matter from a cruise ship except cooling water. This change results in prohibiting the discharges or deposits of graywater and deck washdown from cruise ships, which are currently exempt from the prohibitions. Cruise ships are among the largest vessels traversing the sanctuary and the source of a considerable volume of graywater discharges generated by carrying passengers (e.g., showers, laundry, sinks, kitchens). In addition, certain routine maintenance activities may occur while a cruise ship is in port within the sanctuary, including deck washdown, which may affect water quality. These routine maintenance activities could occur outside of the sanctuary in other less environmentally sensitive ports. Scientific literature discusses the adverse effects of various cruise ship discharges on the marine environment, including brine from desalination equipment, ballast water, and spa/pool water, among others. NOAA believes that it is feasible for cruise ships to successfully avoid discharging or depositing in sanctuary waters because cruise ship operations in sanctuary waters are limited to entering and leaving the port of Key West. In short, NOAA is prohibiting all discharges from cruise ships except for cooling water to avoid impacts to sanctuary resources and because it is feasible for cruise ships to avoid these discharges for the short period they are in the sanctuary waters. This final rule is informed by information received through coordination with the EPA, notably that agency's studies related to cruise ship discharges and vessel operations in other sensitive marine environments (classified as “Waters Federally Protected wholly or in part for Conservation Purposes” under the EPA Vessel General Permit). NOAA also considered information related to the successful management of cruise ship operations in certain national parks, including Glacier Bay, Alaska, where, through concession agreements, cruise ships operate with higher environmental standards when in park waters.

NOAA is also banning discharges besides cooling water from cruise ships to prevent pollution from new and emerging technologies and activities that may result in discharges into ocean waters, such as the increased use of exhaust gas cleaning systems (EGCS). While recent technology such as engine exhaust gas scrubbers may help reduce air emissions from large vessel engines that use high sulfur fuels, including cruise ships, this results in the pollution being discharged in waste water from the EGCS open loop system. While the wash water may be treated before discharge, the discharge still contains metals, polycyclic aromatic hydrocarbons, and higher pH. The long-term accumulation of metals and hydrocarbons in estuaries or harbors is greater, and of more concern to scientists, than the long-term discharge of these contaminants in the open ocean (Teuchies et al., 2020). Vessels with EGCS currently switch to low sulfur fuels in other areas where EGCS discharges are prohibited.

NOAA will continue to provide an exception to the discharge and deposit prohibition for cooling water from all vessels, including cruise ships, because it is currently technologically infeasible for ships to operate without discharging or depositing cooling water. However, this exception does not apply if cooling water is mixed with other substances. In particular, cooling water that is mixed with any other substances, such as EGCS wash water, brine, and ballast water is prohibited.

NOAA is removing the exception for exhaust gas from its discharge and deposit prohibitions for all vessels to reduce confusion that the exemption for exhaust gas was intended to exempt EGCS washwater, which it does not. NOAA does not exempt discharges of EGCS washwaters from the discharge and deposit prohibition. The original intent of this exception was to allow the discharge or deposit of boat engine wet exhaust, rather than exempting exhaust emissions or EGCS washwater. NOAA interprets the term “cooling water” to encompass boat engine wet exhaust, which is defined in the EPA Vessel General Permit (Section 2.2.21) as the ambient water that is injected into the exhaust for cooling and noise reduction purposes and then discharged, typical of marine outboard engine operation.

NOAA is also simplifying the exception for discharges and deposits of water generated by routine vessel operations. The current regulatory exception for discharges or deposits of “water generated by routine vessel operations (e.g., deck wash down and graywater as defined in section 312 of the CWA), excluding oily wastes from bilge pumping,” does not clearly define what types of discharges or deposits are allowed. Specifically, the term “water generated by routine vessel operations” is not defined in FKNMS or other agency rules (compared with the terminology used by the Clean Water Act for “discharges incidental to the normal operation of a vessel”), creating ambiguity as to what, if any, additional discharges or deposits are meant to be excepted from the regulatory prohibition besides deck washdown and graywater. Based on a review of the original regulations and management plan for the sanctuary, NOAA believes the intention of this exception was simply to allow discharges or deposits of cooling water (including boat engine wet exhaust), deck washdown and runoff, and graywater, and to explicitly prohibit the discharge or deposit of oily bilge wastes. At this time, NOAA is making technical corrections to the discharge and deposit exceptions to simplify this provision to clearly explain that cooling water, deck washdown and runoff, and graywater are allowable discharges and deposits from vessels other than cruise ships, but oily wastes from bilge pumping are not. Under this rule, the terms “cooling water,” “deck washdown and runoff,” “graywater,” and “oily wastes from bilge pumping” continue to have the same meaning as these terms hold under section 312 of the CWA and any implementing regulations, but NOAA believes that citing the CWA in the regulatory text is unnecessary. Discharges or deposits of fish and fish parts when part of a traditional fishing activity are allowed under another exception to the discharge and deposit prohibitions and will not change.

Of note, on December 4, 2018, Congress passed the Vessel Incidental Discharge Act (VIDA) (Title IX of the Frank LoBiondo Coast Guard Authorization Act of 2018), CWA 312(p). VIDA requires the EPA to develop new national standards of performance for commercial vessel incidental discharges and the United States Coast Guard to develop corresponding implementing regulations. EPA published a final rule on October 9, 2024 (89 FR 82074), but at the time of publication of this final rule, implementing regulations for VIDA have not yet been promulgated by the United States Coast Guard. However, when those regulations are finalized, there will be additional discharge prohibitions placed on vessels operating in federally protected waters such as national marine sanctuaries. NOAA will review any VIDA implementing regulations to ensure they are consistent with the sanctuary's primary goal of resource protection (16 U.S.C. 1431(b)(6)) and to determine whether conforming changes to the sanctuary regulations may be necessary and appropriate.

c. Temporary Regulation for Emergency and Adaptive Management

The final rule updates the existing regulations to allow for rapid, temporary rulemaking to facilitate time-sensitive, adaptive management and to respond to emergencies. First, this rule expands the time frame during which any temporary regulation could remain in place from 60 days to six months, with the option for one additional extension of six months (rather than the currently authorized additional 60 days). This increased time frame is consistent with the emergency time frames outlined in section 305(c) of the MSA, as well as NOAA's regulations for other national marine sanctuaries. While NOAA is extending the potential time frame that a temporary regulation could be in effect, NOAA would consider the specific circumstances and craft any temporary regulation for the appropriate duration, which may be less than the maximum time allowed under this regulation. Second, this rule outlines three categories for which NOAA will issue temporary regulations (as outlined below in this section). Third, this rule sets out the procedure by which a temporary regulation would be promulgated, including the requirement that the agency provide a justification for the time sensitivity of the action to comply with the Administrative Procedure Act (5 U.S.C. 553(b)(B)). This procedure also (1) addresses notice and comment requirements, and (2) requires State approval for any temporary regulations proposed in State waters.

NOAA identified three categories for temporary regulation to protect sanctuary resources when time is of the essence. The first category will allow for temporary regulations to prevent or minimize destruction of, loss of, or injury to sanctuary resources from any human-made or natural circumstances, including a concentration of human use, change in migratory or habitat use patterns, vessel impacts, natural disaster or similar emergency, disease, or bleaching. Second, temporary regulations may be used to initiate restoration, recovery, or other activities where a delay would undermine the success of the activity. Lastly, NOAA may use temporary regulations to initiate research where an unforeseen event produces an opportunity for scientific research that may be lost if it is not initiated immediately.

Importantly, temporary regulations will only allow NOAA to shorten or bypass minimum public comment periods if NOAA makes a finding of good cause that such procedures are impracticable, unnecessary, or contrary to the public interest pursuant to the APA, 5 U.S.C. 553(b)(B). This finding must be made before promulgating a temporary regulation without following the full rulemaking procedures, including public notice and comment. While NOAA must make this required finding before promulgating a temporary regulation under this proposal, NOAA believes that all three of the temporary regulation categories will satisfy this good cause requirement because each of these categories requires NOAA to take rapid, immediate actions in order to address an important and time-sensitive environmental need. However, when any given issue arises, NOAA will review it on a case-by-case basis to determine if application of a temporary rule is consistent with the APA. Where the agency determines that time is available without jeopardizing the effectiveness of the action, NOAA will follow notice and comment procedures before taking action. Additionally, NOAA may choose to collect public comment for 15 days after issuing an emergency temporary rule when, in the agency's discretion, it determines that post-decision comment would be worthwhile, such as to inform potential modifications to the emergency or temporary response action.

While NOAA is updating these regulations to allow greater responsiveness to emerging issues and in response to public comment, since FKNMS was designated in 1990, NOAA has only issued emergency regulations four times. In 1997, the emergency regulation was used to prohibit anchoring of vessels 50 meters or greater in an area of Tortugas Bank, which was subsequently established through a full rulemaking process. In 2002, an area of approximately 0.58 acres was identified as an area to avoid for a period of 104 days at the M/V Wellwood grounding site. In 2003, two areas totaling 425 acres were closed for a period of 60 days to prevent additional injury to living coral in an area impacted by a rapidly spreading coral disease outbreak. Most recently, in 2023 in response to extreme ocean temperatures, a 0.07 square mile temporary special use area was established to protect endangered corals relocated to a nursery in deeper water locations with conditions more conducive to coral survival. This emergency regulation was effective September 6 through November 6, 2023, and was extended for an additional 60-days until January 5, 2024.

d. Historical Resources Permitting

The rule updates historical resource permitting by replacing the current survey/inventory, research/recovery, and deaccession/transfer permit categories with a new, single archaeological research permit category. This rule also defines the term “archaeological research,” explains criteria that must be met in order for NOAA to issue an archaeological research permit (including applicant qualifications), and prescribes certain conditions that will apply to these permits. This aligns sanctuary historical resource permitting with State permitting regulations for archaeological research promulgated under Chapter 1A-32, Florida Administrative Code, and optimizes compliance with the Federal archaeology program.¹⁰ The Federal archaeology program is a general term used to encompass archeological activities on public land, as well as archaeological activities for federally financed, permitted, or licensed activities on non-federal land. Its foundation is based upon historic preservation laws like the National Historic Preservation Act and Archaeological Resources Protection Act. Dozens of Federal agencies, including NOAA, undertake archeological activities and contribute to the Federal archeology program. The Secretary of the Interior is charged with providing general guidance and coordination for all of Federal archeology.

¹⁰ https://www.nps.gov/archeology/sites/fedarch.htm.

The single archaeological research permit category simplifies permitting research focused on historical resources in the sanctuary, including the State waters portion of the sanctuary. Research that results in adverse effects to historic properties would not qualify for a permit under this simplified permitting process. For example, adverse effects to historical resources may result from site excavation, in which case the proposed activity would need to be separately permitted by the State and sanctuary.

The current permitting system is unnecessarily complicated and confusing to applicants as it artificially bisects the archaeological research process. Division of permits into either survey/inventory or research/recovery often resulted in insufficient research plans to meet project goals. The archaeological research permit category will require that applicants commit to following an explicit statement of objectives and that project methods be chosen to gather the information required to meet the stated objectives.

This new archaeological research permit category also requires that an applicant be the project's supervising archaeologist whose qualifications meet the Secretary of the Interior's Professional Qualification Standards for archaeology. This aligns with the required credentials for investigators receiving a State archaeological research permit under Chapter 1A-32, Florida Administrative Code. Additionally, this permit category requires that the supervising archaeologist be on site for any excavation and/or artifact recovery. As a result of these changes, NOAA believes that the quality of the research, both proposed and conducted, will be improved. NOAA anticipates that the reporting of research results will also be of higher quality when directed by a professional archaeologist with the required field experience. For the above reasons, NOAA believes that this new archaeological research permit category with associated application and review criteria will increase the protection of historical resources throughout the sanctuary.

In addition to the above changes, this rule eliminates the permit category allowing for the deaccession/transfer of historical resources. Eliminating the deaccession/transfer of historical sanctuary resources is consistent with Chapter 1A-31, Florida Administrative Code, which states that the State of Florida will not issue permits for exploration and recovery of historic shipwreck sites by commercial salvors or for transferring objects recovered by commercial salvors for areas of FKNMS. Eliminating the deaccession/transfer permit category is also consistent with the Secretary of the Interior's Standards and Guidelines for Federal Agency Historic Preservation Programs and Standards for the Treatment of Historic Properties, which focus on the preservation and long-term curation of any recovered historical resources for the benefit of the public (as opposed to private ownership). Likewise, this approach is consistent with the Abandoned Shipwreck Act Guidelines, which recommend that, at a minimum, state-owned shipwrecks located within a national marine sanctuary or in other areas (like habitat areas or coralline formations) protected under Federal or State statute, order, or regulation not be available for commercial salvage, treasure hunting or personal collecting. These Federal guidelines, and the statutes that underpin them, are part of the Federal archaeology program and align with NOAA's long-standing classification and protection of historical resources as sanctuary resources under the NMSA.

To date, no deaccession/transfer permit has ever been issued and, as such, the impact of this change will be minimal. NOAA intends to continue engaging directly with current sanctuary historical resource permit holders and entities with pre-existing, valid rights of access to clarify how updated historical resource permitting regulations would or would not affect potential future activities.

e. Sunken Military Craft Act Permitting

The Sunken Military Craft Act of 2004 (SMCA; Pub. L. 108-375, Title XIV, sections 1401 to 1408; 10 U.S.C. 113 note) preserves and protects from unauthorized disturbance all sunken military craft that are owned by the United States government, as well as foreign sunken military craft that lie within United States waters, as defined in the SMCA. Thousands of U.S. sunken military craft lie in waters around the world, many accessible to looters, treasure hunters, and others who may cause damage to them. These craft, and their associated contents, represent a collection of non-renewable and significant historical resources that often also serve as maritime graves, carry unexploded ordnance, or contain oil and other hazardous materials. By protecting sunken military craft, the SMCA helps reduce the potential for irreversible harm to these nationally important historical and cultural resources.

Sunken military craft are administered under the SMCA by the respective secretaries of the various military departments and, in the case of a Coast Guard vessel, the Secretary of the Department in which the Coast Guard is operating.

Sunken military craft are administered by the respective Secretary concerned pursuant to the SMCA. The Secretary concerned is solely responsible for authorizing disturbance of sunken military craft under the SMCA, specifically for archaeological, historical, or educational purposes, and will consult with NOAA when considering permitting such activities. The Secretary concerned is also responsible for determinations of sunken military craft status and ownership, publicly disclosing the location of sunken military craft, and determining eligibility and nominating sunken military craft as historic properties to the National Register of Historic Places. Any agreements with foreign sovereigns regarding sunken military craft in U.S waters are negotiated by the Secretary of Defense, the Secretary of State, and the Secretary of the Navy, according to authorities vested in each by the SMCA. The final rule provides that the Secretary concerned or his or her designee and NOAA will ensure coordination and foster collaboration on any research, monitoring, and educational activities pertaining to sunken military craft located within the sanctuary system. The Director will request approval from the Secretary concerned for any terms and conditions of FKNMS authorizations that may involve sunken military craft.

f. Fish Feeding

The final rule includes a new sanctuary-wide regulation prohibiting the feeding or attracting of fish, including sharks, or other marine species from any vessel and/or while diving and new definitions for “diving,” and “feeding.” The terms “attract” and “attracting” are already defined in the National Marine Sanctuary System-wide regulations at 15 CFR 922.11. The regulatory text has been developed with additional input from agency staff with expertise in impacts to sharks and shark depredation, human safety concerns, and compliance and enforcement. NOAA does not provide a “grandfather” clause for current eco-tour/fish feeding operations (i.e., an exemption for pre-existing operators), although NOAA received some comments requesting such a provision. Instead, NOAA will consider issuing general permits to pre-existing eco-tour/fish feeding operators who are able to satisfy all general permit application requirements. Any permits would contain specific terms and conditions to protect sanctuary resources.

This new fish feeding regulation does not affect the existing regulatory exception that allows the discharge or deposit of fish, fish parts, chumming materials, or bait that is used or generated incidental to and while conducting traditional fishing in the sanctuary.

As noted in the Changes from Proposed Rule to Final Rule section above, NOAA is modifying the regulatory definition for traditional fishing to set the baseline of activities considered traditional to the effective date of this rule. Any future update to the definition of “traditional fishing” would be done through a separate rulemaking in order to consider public comment and to conduct an environmental analysis under NEPA of the potential impacts of new or innovative gear types or fisheries activities on sanctuary resources. NOAA would collaborate closely with, and rely on the expertise of, the FWC, FMCs, and NMFS when considering any updates to the list of traditional fishing activities.

g. Grounded, Deserted, and Derelict Vessels and Harmful Matter

NOAA's final rule prohibits anchoring, mooring, operating, deserting, or occupying a derelict vessel or a vessel at risk of becoming derelict or deserting a vessel aground or adrift in the sanctuary. Deserted, aground, derelict, or at risk of becoming derelict vessels are subject to the same 24-hour notification requirements and must be removed from the sanctuary within 72 hours of such notification, unless the Director approves of an exception. This provision has been updated to align with the State of Florida's regulatory procedures for derelict vessels.

Operators or owners of a vessel that strikes the seabed or runs aground must notify the Director within 24 hours of such incident regardless of whether or not sanctuary resources are injured. Vessels will be considered unlawfully deserted unless operators or owners of a vessel notify the Director within 24 hours of leaving a vessel unoccupied that is adrift or run aground or 24 hours after the Director has taken reasonable steps to notify the operator or owner of a vessel found adrift or aground. This definition of “deserting” will apply in FKNMS instead of the system-wide definition of “deserting” found in section 922.11.

Vessels that are aground, deserted, derelict, or at risk of becoming derelict must be removed within 72 hours of the Director's notification absent extenuating circumstances like weather or safety or unless otherwise consistent with a removal plan approved by the Director. NOAA has chosen one deadline of 72 hours to be consistent with the State of Florida's requirements to remove grounded vessels under Florida's Coral Reef Protection Act, Florida Statute 403.93345. While the State of Florida has several different deadlines for removal of derelict vessels or vessels at risk of becoming derelict, NOAA adopts a 72-hour deadline for removing all such vessels for simplicity and consistency. NOAA intends to use its discretion to grant exceptions to the 72-hour deadline for safety, weather, and approved removal plans, to align with State removal deadlines, where appropriate.

The final rule also prohibits leaving harmful matter aboard a grounded, deserted, derelict, or at risk of becoming derelict vessel. The term “harmful matter” is already defined in the National Marine Sanctuary System-wide regulations at 15 CFR 922.11.

h. Large Vessels Use of Mooring Buoys

NOAA's final rule requires large vessels to use designated large vessel mooring buoys and all other vessels to use regular mooring buoys. An associated new definition for “large vessel” is also added. Mooring buoys serve as an important management tool in FKNMS, providing boaters the ability to moor their vessel safely and avoid damaging coral reefs and other important ecosystems. However, mooring buoy use by large vessels has been shown to damage the mooring buoy anchoring hardware and in some cases the substrate to which the hardware is secured. As explained above in the DATES section of this document, NOAA is delaying the effective date for the large vessel mooring buoy requirement for two years beyond the effective date of this final rule to provide NOAA with adequate time to finalize a mooring buoy plan, including numbers and locations of mooring buoys, to secure materials, and to install new mooring buoys. Until this provision is effective, large vessels may continue to use regular mooring buoys. Additional information about sanctuary mooring buoy management, including plans to engage user groups to help identify areas of use, numbers of users, and placement of mooring buoys, is included in the final management plan.

i. Technical Revisions to Sanctuary Regulations

NOAA's final rule includes technical revisions and updates to regulatory definitions, terms, and provisions (see the general summary included in Appendix D of the final EIS). As this is the first comprehensive review of FKNMS regulations since they were implemented in 1997, NOAA has undertaken a thorough review of all existing regulations. These technical changes can be grouped in four broad categories described below.

Definitions and Terms are updated for greater consistency with the F.A.C., National Marine Sanctuary System-wide regulations, other sanctuary-specific regulations, FKNMS regulations, and the revised management plan. For example, due to new regulations, several new terms and definitions are added including, but not limited to, “anchoring,” “derelict,” “at risk of becoming derelict,” “continuous transit,” and “deserting.” Several terms that are no longer needed or are being replaced with new terms are eliminated, such as “Ecological Reserve,” “no access buffer,” and “closed.” Terms that are now defined in National Marine Sanctuary System-wide regulations at 922.11 are removed, including “seagrass” and “vessel.” While the new National Marine Sanctuary System-wide definitions at 922.11 include a definition for “deserting,” this rule provides a modified version for the sanctuary to align with the State of Florida timelines and procedures for derelict vessels.

Changes Required for Consistency With the NMSA

NOAA updates one and eliminates another regulatory provision to eliminate redundancy or confusion pertaining to the authority granted to State Governors under the NMSA. Under section 304(b)(1) of the NMSA, at the time of sanctuary designation, the Governor of any State in which a national marine sanctuary is located partially or entirely within the state's seaward boundary may certify that the designation or any of its terms is unacceptable and the designation or unacceptable term will not take effect in State waters. Under 304(a)(4), the terms of designation may be modified only by the same procedures by which the original designation is made, which includes the procedures at 304(b)(1). In this rule, NOAA is eliminating the provisions at 922.163(g) and 922.164(f) because these provisions provide that new sanctuary regulations will not take effect in Florida State waters unless approved by the Board of Trustees of the Internal Improvement Trust Fund, and, regarding fishing regulations in the sanctuary, until established by the Florida Marine Fisheries Commission. These provisions inappropriately provided additional authorities to State entities, other than the Governor, that were not delegated to the states by Congress under the NMSA.

Military Exemption

NOAA's final rule revises the existing military exemption regulation in two ways. First, NOAA updates the list of exempted military activities from the list found in the 1996 Final Environmental Impact Statement and Management Plan for the sanctuary to the 2024 final EIS for the sanctuary. Second, NOAA clarifies the process for new military activities to be exempted from sanctuary prohibitions. Each change is described below.

Current FKNMS regulations reference military activities conducted by the Department of Defense (DOD) in the sanctuary and, for certain military activities, provide an exemption from sanctuary prohibitions. The current exemptions for DOD military activities in the sanctuary reference existing classes of military activities that were conducted prior to the effective date of these regulations as identified in the Environmental Impact Statement and Management Plan for the Sanctuary. NOAA has long interpreted this exemption to refer to the description of military activities contained in the 1996 FKNMS FEIS (Volume II, pages 93-96), which was prepared prior to the effective date of the 1997 regulations. Through this rule, NOAA is updating this exemption to include military activities currently conducted within the sanctuary that NOAA has determined are appropriate for exemption because the activities are not likely to injure sanctuary resources or will be carried out in a manner that avoids to the maximum extent practical any adverse impact on sanctuary resources and qualities. An updated list is provided in Appendix F of the final EIS that reflects current DOD activities conducted in the sanctuary that NOAA considers to be exempt. The updated list includes activities that are already exempt, the effects of which were analyzed in the 1996 FKNMS FEIS, and are considered in the 2024 final EIS. In addition, the updated list includes one new activity, the effects of which were analyzed in the Navy's 2018 Atlantic Fleet Testing and Training Environmental Impact Statement and is considered in the 2024 final EIS. The updated list of exemptions does not include DOD activities that occur outside of the sanctuary or DOD activities that occur inside the sanctuary but are not prohibited by FKNMS regulations. The updated exemptions apply to activities that occur within the current sanctuary boundary and boundary expansion area.

NOAA commits to working with DOD to consider exempting new activities from the prohibitions. NOAA would use the same standard to exempt new activities as used to update the list of DOD exemptions in the 2024 final EIS. In other words, NOAA would exempt a new activity from the prohibitions if NOAA determines such activity is not likely to injure sanctuary resources or will be carried out in a manner that avoids to the maximum extent practical any adverse impact on sanctuary resources and qualities. Any changes to this list of exempted military activities would only occur after compliance with all applicable laws, such as the APA and NEPA, as necessary, and after public notice and comment, as applicable.

NOAA has removed from the military exemption regulation reference to NMSA 304(d) Interagency Cooperation. The regulation previously referenced 304(d) as the mechanism for exempting new DOD activities from the prohibitions. However, NOAA has removed the reference to the 304(d) Interagency Cooperation process because 304(d) applies to all Federal agency actions that are likely to destroy, cause the loss of, or injure sanctuary resources, including those conducted by DOD, regardless of whether the specific actions are prohibited by sanctuary regulations. Additionally, certain activities that DOD may seek to exempt from the prohibitions would not require 304(d) consultation if the activities are not likely to injure sanctuary resources (see also final EIS Appendix F).

General Editorial changes are made to clarify, remove redundancy, and reorganize and simplify regulations where possible to make them easier to understand. These changes are solely editorial, grammatical, or stylistic, and no new requirements are established by these changes.

Editorial changes to permitting regulations are made to reduce redundancy with National Marine Sanctuary System-wide permitting regulations (15 CFR part 922 subpart D), which were recently updated and consolidated (88 FR 953; January 6, 2023). These changes are solely editorial, and no new requirements are established by these changes.

First, since the 1997 FKNMS regulations, NOAA has published application guidelines to aid potential applicants for permits in national marine sanctuaries. The application guidelines ¹¹ explain the necessary parts of an application and how to submit it. Updated National Marine Sanctuary System-wide regulations (15 CFR part 922 subpart D) codify these requirements. As such, in this final rule, NOAA removes redundant application instructions from the FKNMS-specific regulations.

¹¹ https://sanctuaries.noaa.gov/management/permits/welcome.html.

Second, this rule also includes two new general permit categories that are unique to FKNMS—one for Archaeological Research and one for Restoration—which are discussed in detail in other sections of this document. A third general permit category specific to FKNMS, activities that further FKNMS purposes, is found at 15 CFR part 922 subpart D. This final rule specifies only where different or additional information or procedures are needed for general permit categories that are unique to FKNMS (such as Tortugas North Conservation Area access permits).

Lastly, this rule adds a provision for the certification of any valid lease, permit, license, or right of subsistence use or access that is in existence when the revised sanctuary terms of designation (see Section VI of this rule) become effective. Under National Marine Sanctuary System-wide regulations, NOAA currently has authority to certify such pre-existing rights of access or use (15 CFR 922.10). This rule adds procedures and criteria to clarify how NOAA would issue such certification permits for FKNMS. A certification permit would be available to persons holding such valid and pre-existing rights of access or use in the sanctuary expansion areas. Certification permits would also be available to persons holding valid and pre-existing rights of access or use to conduct activities in the sanctuary that were not previously regulated but now will be regulated.

3. Marine Zone Boundaries and Associated Regulations Within the Sanctuary

The final rule includes five marine zone types: Management Areas, Conservation Areas, Sanctuary Preservation Areas, Restoration Areas, and Wildlife Management Areas (WMAs). This section includes a summary of the marine zones and associated regulations in this rule. In addition to marine zone-specific regulations, sanctuary-wide regulations apply within all marine zones of the sanctuary. Global Positioning System (GPS) coordinates for all marine zones included in NOAA's final rule can be found in Appendices C through I. An interactive map and updated individual marine zone maps are available at the website listed in the ADDRESSES section above in this rule.

a. Management Areas

The final rule maintains the existing Key Largo and Looe Key marine zones as Management Areas. These two areas were designated as national marine sanctuaries in 1975 and 1981, respectively, which preceded designation of FKNMS and were therefore included within the FKNMS boundary and referred to as “Existing Management Areas.” With this rule, all marine zones established with the 1997 regulations could be considered existing; therefore this qualifier is removed from the Key Largo and Looe Key marine zones.

In the final rule, the Key West and Great White Heron National Wildlife Refuges, which are currently referred to as Existing Management Areas, are referred to by their full names. Existing sanctuary regulations in the Key West and Great White Heron National Wildlife Refuges are maintained with the exception of a minor change to the area where personal watercraft are allowed (see part III, section 4q. Personal Watercraft below).

b. Conservation Areas

The final rule combines the existing Ecological Reserves and Special Use Areas (SUA) into one Conservation Area zone type and maintains and applies the existing SUA regulations prohibiting fishing, requiring continuous transit without interruption, and requiring stowage of gear in such areas. “Conservation Area” means an area of the sanctuary that provides natural spawning, nursery, and residence areas for the replenishment and genetic protection of marine life and protects and preserves groups of habitats and species, within which activities are subject to conditions, restrictions and prohibitions to achieve these objectives. These areas consist of contiguous, diverse habitats; protect a variety of sanctuary resources; and/or facilitate scientific research that promotes sanctuary management or recovery of sanctuary resources. In addition, these areas, with the exception of Western Sambo, have similar regulations, which are intended to provide the greatest level of protection to these contiguous habitats and areas set aside to support scientific research.

The final rule includes six Conservation Areas, all of which are existing sanctuary marine zones. The final rule slightly expands the spatial area of three existing zones (Tennessee Reef, Western Sambo, and Tortugas South) and eliminates one zone (the existing Looe Key SUA). Western Sambo is also included as a Conservation Area with slightly different regulations as outlined below. With the exception of the zone name change to Conservation Area, NOAA makes no changes to the existing Conch Reef SUA, Eastern Sambo SUA, or Tortugas North Ecological Reserve. The Conservation Areas range in size from the smallest, Conch Reef, at 0.15 square miles to the largest, Tortugas North, at 109.05 square miles. The total area included in the six Conservation Areas is 213.11 square miles.

A summary of the Conservation Areas included in this final rule and changes from current FKNMS zoning and regulations follows. Note that for all of the zones below, the zone name will be changed to Conservation Area.

• Conch Reef: No changes to the regulations or area.

• Tennessee Reef: No changes to regulations. This zone is extended to the 90-foot contour line to capture additional deep reef habitats.

• Looe Key: This existing SUA zone is eliminated. This area will, instead, be managed as part of the larger Looe Key Management Area, as described above in section 3.a. Management Areas.

• Eastern Sambo: No changes to the regulations or area.

• Western Sambo: This existing zone is extended to the 90-foot contour line to capture additional deep reef habitats. In addition, no-anchor restrictions apply for the southern portion of the zone in the area of most prominent coral reef development. All other existing regulations in Western Sambo are maintained, including, but not limited to, prohibitions on discharging or depositing any matter or other material, fishing by any means, and harvesting any marine life. This is the only Conservation Area that allows access for snorkeling and diving.

• Tortugas North: No changes to the regulations or area. In addition, see part III, section 4. Additional Marine Zone Regulations, below, for information on administrative changes to Tortugas North Access Permit requirements.

• Tortugas South: No changes to the regulations. This zone is extended to the west by one mile along its entire length. This expansion captures additional habitat west of Riley's Hump that is known to support fish spawning aggregations and important deep reef habitats. Recently collected and compiled mapping coverage data and remotely operated vehicle (ROV) imagery show unique habitat features in this area, including rock escarpment formations and a well-defined ledge. These data also showed the presence of a diversity of fish species. Therefore, the final rule maintains the southern boundary of the Tortugas South Conservation Area as proposed despite some comments on the draft EIS.

c. Sanctuary Preservation Areas (SPAs)

The final rule includes 17 SPAs, defined as a discrete, biologically important area of the sanctuary within which activities are subject to conditions, restrictions, and prohibitions to avoid concentrations of uses that could result in significant declines in species populations or habitat, to reduce conflicts between uses, to protect areas that are critical for sustaining important marine species or habitats, or to provide opportunities for scientific research. The SPAs range in size from the smallest, Cheeca Rocks SPA, at 0.07 square miles to the largest, Carysfort Reef SPA, at 3.78 square miles. The total area included in the 17 SPAs is 12.14 square miles.

SPA regulations included in this rule eliminate the current exception allowing catch and release fishing in four existing SPAs (Conch Reef, Alligator Reef, Sombrero Key, and Sand Key). In addition, anchoring is prohibited in all SPAs. This final rule includes a new definition for “anchoring,” which means securing a vessel to the seabed by any means except when using a mooring buoy. All other existing SPA regulations remain, including, but not limited to, prohibitions on discharging or depositing any matter except cooling water, fishing by any means, and harvesting any marine life. Consistent regulations throughout SPAs are intended to clarify for the public what is allowed and what is restricted to promote understanding and compliance and to facilitate enforcement and management. Finally, the management practice of issuing permits allowing baitfishing in all SPAs will be phased out over a 3-year period.

As explained above in the DATES section of this document, NOAA is delaying the effective date for the no anchoring regulation in all SPAs (§ 922.164(e)(3)) for two years beyond the effective date of this final rule. The purpose of this delay is to provide NOAA with adequate time to finalize a mooring buoy plan, including numbers and locations of mooring buoys, to secure materials, and to install new mooring buoys. The no anchoring prohibition will likewise be delayed for Habitat and Nursery Restoration Areas under sections 922.164(g)(1), (h)(1), which apply the SPA prohibitions. All other SPA regulations will become effective as of the effectiveness date of this final rule (i.e., after the close of a review period of forty-five days of continuous session of Congress), including eliminating the exception for catch and release fishing by trolling in Conch Reef, Alligator Reef, Sombrero Reef, and Sand Key SPAs and stopping the practice of issuing permits for baitfishing in SPAs. A summary of Sanctuary Preservation Areas included in the final rule follows (listed northeast to southwest). For all of the zones listed below, the SPA regulations as outlined above and at 15 CFR 922.164(e) will apply.

• Turtle Rocks: This rule establishes a new SPA.

• Carysfort Reef: This existing SPA is expanded to the 90-foot contour to include additional deep reef habitat.

• The Elbow: Existing SPA; no boundary change.

• Key Largo Dry Rocks-Grecian Rocks: The final rule connects two existing SPAs into a single SPA.

• Molasses Reef: Existing SPA; no boundary change.

• Conch Reef: Existing SPA; no boundary change. The regulatory exception that allows catch and release fishing by trolling in the SPA is removed.

• Davis Reef: Existing SPA; no boundary change.

• Hen and Chickens Reef: Existing SPA; no boundary change.

• Cheeca Rocks: Existing SPA; no boundary change.

• Alligator Reef: This existing SPA is expanded to the 90-foot contour to include additional deep reef habitat. The regulatory exception that allows catch and release fishing by trolling in the SPA is removed.

• Turtle Shoal: This rule establishes a new SPA.

• Coffins Patch: Existing SPA; no boundary change.

• Sombrero Key: This existing SPA is expanded slightly to include remnant elkhorn corals, a species listed under the Endangered Species Act. The regulatory exception that allows catch and release fishing by trolling in the SPA is removed.

• Newfound Harbor Key: Existing SPA; no boundary change.

• Looe Key: Existing SPA; no boundary change.

• Eastern Dry Rocks: Existing SPA; no boundary change.

• Sand Key: Existing SPA; no boundary change. The regulatory exception that allows catch and release fishing by trolling in the SPA is removed.

d. Restoration Areas

Given the increase in important habitat restoration activities in the sanctuary over the past two decades, NOAA's final rule includes a new Restoration Area zone type to support species or habitat recovery. The zone includes two distinct designations:

• Nursery Restoration Area zone type encompasses existing nursery areas and are regulated similar to Conservation Areas to provide the highest level of protection to sensitive corals and other organisms while they are being propagated. These regulations prohibit, among other things, fishing, anchoring, and discharges or deposits and require that vessels remain in transit through the area.

• Habitat Restoration Area zone type protects sites where active transplanting and restoration activities are ongoing. These areas are managed with the same regulations that apply to SPAs to provide for access and educational opportunities while prohibiting, among other things, fishing, anchoring, and discharges or deposits.

As explained above in the DATES section of this document, NOAA is delaying the effective date for the no anchoring regulation for all SPAs (§ 922.164(e)(3)) for two years beyond the effective date of this final rule. This delay will apply to the no anchoring prohibition for Habitat Restoration Zones, which apply the SPA regulations.

i. Nursery Restoration Areas

Specifically, this final rule includes eleven Nursery Restoration Areas with regulations prohibiting, among other things, fishing, anchoring, and discharges or deposits, and requiring that vessels remain in transit through the area. All Nursery Restoration Areas are very small (individual zones are approximately 70 acres (0.1 square miles)) and are designed to protect the underwater nursery structures and associated corals growing on them with a 200-yard buffer. The total area of Nursery Restoration Areas is 748.8 acres (1.17 square miles).

NOAA establishes all existing, permitted coral nurseries as distinct Nursery Restoration Areas. The following existing, permitted coral nurseries are included in the final rule as distinct Nursery Restoration Areas (listed northeast to southwest):

• Carysfort Reef

• Key Largo: This area was established and permitted as a coral nursery site after the proposed rule was released for comment. NOAA received comments requesting that this site be included as a Nursery Restoration Area in this final rule. Key Largo Nursery Restoration Area, approximately 0.07 square miles (46.8 acres), is in Federal waters of the Upper Keys region of the sanctuary.

• Pickles Reef West

• Islamorada: This area was established and permitted as a coral nursery site after the proposed rule was released for comment. NOAA received comments requesting that this site be included as a Nursery Restoration Area in this final rule. Islamorada Nursery Restoration Area, approximately 0.07 square miles (47.2 acres), is in Federal waters of the Upper Keys region of the sanctuary.

• The Elbow Reef

• Marathon

• Middle Keys

• Looe Key East

• Looe Key West

• Key West

• Sand Key

ii. Habitat Restoration Areas

NOAA is also establishing four new Habitat Restoration Areas to protect existing, permitted active coral reef restoration sites. All Habitat Restoration Areas are small, ranging from 5 to 220 acres (<0.01 to 0.35 square miles), with an average size of 85 acres (0.13 square miles), and are designed to protect sites supporting active coral restoration with a 200-yard buffer. The total area of Habitat Restoration Areas is 339 acres (0.53 square miles). The final rule establishes the following Habitat Restoration Areas with regulations prohibiting, among other things, fishing, anchoring, and discharges or deposits:

• Horseshoe Reef

• Pickles Reef East

• Cheeca Rocks East

• Cheeca Rocks South

In this rule all Habitat Restoration Areas protect active coral reef restoration; however, NOAA does not intend to limit application of this new zone type to coral restoration activities only. The Habitat Restoration Area zone type could be applied in the future in any area to support and facilitate restoration of other degraded habitats or species (e.g., seagrass, hardbottom, etc.). In addition, a framework for establishing short-term, time-sensitive protections to support critical management including habitat restoration is described in the updated temporary regulation for emergency and adaptive management (see part IV, section 2. Sanctuary-wide Regulations above and the full regulatory text included in 15 CFR 922.165.) Additional information about how this zone type may be used in the future can be found in the final management plan. Future nursery and habitat restoration area site locations, sizes, and duration will be informed by site-specific habitat restoration plans, which could be prepared as part of a disease response or Restoration permit application.

Finally, to further facilitate habitat restoration and to complement this zone type, this rule includes a new category of general permit for Restoration.

e. Wildlife Management Areas (WMAs)

The final rule includes 44 WMAs, defined as an area of the sanctuary in which various access and use restrictions are applied to manage, protect, preserve, and minimize disturbance to sanctuary wildlife resources, including, but not limited to, endangered or threatened species or the habitats, special places, or conditions on which they rely. Access and use restrictions applied in WMAs address the specific protections necessary to minimize disturbances to sanctuary habitats and wildlife and are therefore tailored for the specific location and resource need. In addition, these access and use restrictions may be for a limited or seasonal time period. These WMAs aim to balance resource protection with compatible uses. This final rule generally favors sanctuary resource protection over access where biological and impact data demonstrate a need; however, the least restrictive access regulations and zone size needed to meet the resource protection goals are applied.

The final rule includes no change and/or only minor technical modifications to existing regulations for nine existing WMAs, spatial and/or regulatory modifications for 15 existing WMAs, and 20 new WMAs. In addition, the final rule eliminates three existing WMAs. The average size of WMAs (excluding the existing Tortugas Bank zone) is 0.62 square miles, ranging from 0.01 to 6.37 square miles (the newly established Pelican Shoal WMA and Marquesas Turtle WMA, respectively). The total area included in WMAs is 64.87 square miles of which 32.23 square miles is the existing Tortugas Bank no anchor zone.

Nine of the twenty-eight existing WMAs have no spatial or regulatory changes, or only minor technical changes, in this rule. The minor technical changes include (1) spatial changes that clarify exceptions to access regulations for certain channels and (2) regulatory changes in zone access terminology such that the existing “no access buffer” and “closed” regulations are changed to “no entry” to be consistent with the intent of the regulation and with State regulations.

NOAA is eliminating the existing no access buffer and closed zone regulations and is replacing them with a no entry regulation that has the same effect. The existing no access buffer zones are portions of the sanctuary where vessels are prohibited from entering regardless of the method of propulsion. In general practice, the no access buffer, closed, and no entry regulations have similar intent. In addition, this change in nomenclature creates consistency in application of this regulation throughout the sanctuary and aligns with State regulations. In addition to the zones discussed in this section, the no-access buffer zones at Crocodile Lake and Marquesas Keys WMAs are eliminated; however, both of these WMAs have additional minor spatial and/or regulatory changes and are more fully discussed in the section below.

The WMAs in this rule with no spatial or regulatory changes, or only minor technical changes, follow:

• Horseshoe Key: This is an existing 300 foot no access buffer zone with the island closed by the USFWS to decrease disturbance to nesting and roosting birds. NOAA is making a technical update to change the existing no access buffer regulation to no entry.

• West Content Keys: This is an existing zone with idle speed no wake in selected creeks and no access buffer in one cove to decrease disturbance to shorebirds using the area for nesting and foraging. NOAA is making a technical update to change the existing no access buffer regulation to no entry.

• Sawyer Key: This is an existing zone where the tidal creeks on the south side are closed to decrease disturbance to nesting birds. NOAA is making a technical update to change the existing closed regulation to no entry.

• East Harbor Key: This is an existing 300 foot no access buffer zone to decrease disturbance to various resting and nesting birds. NOAA is making a technical update to change the existing no access buffer regulation to no entry.

• Cayo Agua Keys: This is an existing zone with idle speed no wake in all navigable creeks to decrease disturbance to nesting and roosting birds, including great white heron, osprey, and the large numbers of resting shorebirds. There is no change from the status quo.

• Big Mullet Key: This is an existing 300 foot no motor zone around the island to decrease disturbance to nesting birds and resting shorebirds. There is no change from the status quo.

• Little Mullet Key: This is an existing 300 foot no access buffer zone to decrease disturbance to nesting, roosting, and foraging birds and shallow seagrass flats around the island, which exhibit prop scarring. NOAA is making a technical update to change the existing no access buffer regulation to no entry.

• Pelican Shoal: This is an existing no access buffer zone to decrease disturbance to nesting roseate terns and is an area that is thought to be the last active ground-breeding location for this ESA-listed species in Florida. Additionally, this is an FWC Critical Wildlife Area that was established in 1990. NOAA is making a technical update to change the existing no access buffer regulation to no entry.

• Tortugas Bank: This is an existing sanctuary zone prohibiting anchoring by vessels over 50 meters in length, which protects coral and hardbottom habitats on Tortugas Bank from anchor damage. NOAA is making no change in the spatial area or regulations for this zone.

As noted above, WMAs protect important habitats and species dependent on those habitats with access and use restrictions tailored for the specific location and resource need. Listed below (approximately northeast to southwest) are existing WMAs with changes to spatial boundaries, regulations, or a combination of both. Informed by public and agency comments, and additional data on resources and human uses, the final rule refines the spatial areas included in WMAs and the specific regulations that apply to most efficiently protect sanctuary resources while allowing the greatest level of use compatible with the resource protection goals.

• Crocodile Lake: This existing March 1 to October 1 no access buffer WMA is modified to become a year-round no entry zone except for Steamboat Creek. The final rule expands the WMA slightly to encompass an important bird nesting site. The portion of the existing Crocodile Lake WMA on the northwestern shoreline of Eastern Lake Surprise becomes part of the Eastern Lake Surprise WMA as it is contiguous with that area.

• Eastern Lake Surprise: This existing WMA is modified to include a no entry area along the western shoreline that is currently part of the Crocodile Lake WMA. In the canal and basin on the southeast side of Eastern Lake Surprise, the existing regulations are changed from idle speed no wake to no entry; in addition, the no entry regulation is extended along the entire shoreline.

• Dove and Rodriguez Keys: These two existing WMAs are combined to create one no motor zone WMA. The existing regulation that closes two small islands near Dove Key is eliminated.

• Tavernier Key: This is an existing no motor zone. The final rule maintains the no motor regulation with exceptions for Tavernier Creek and the unnamed channel to the northeast leading to it.

• Snake Creek: This existing no motor zone is extended to the west along the shoreline up to but not including the existing Monroe County no motor zone. An exception to the no motor regulations is made for Snake Creek itself and the three channels providing access to Windley Key.

• Cotton Key: This existing no motor zone is extended to include an area west of Cotton Key that exhibits prop scarring.

• East Content Keys and Upper Harbor Key Flats: East Content Keys and Upper Harbor Key Flats are both existing marine zones. East Content Keys WMA consists of an existing small idle speed no wake zone in the largest tidal creek. This final rule applies additional idle speed no wake regulations in the remaining tidal creeks at East Content Keys. In addition, the seagrass flats to the east, north, and south of East Content Key, extending beyond Upper Harbor Key, are designated as idle speed no wake as this area exhibits scarring. Upper Harbor Keys WMA is an existing 300-foot no access zone around the entire island. NOAA is making a technical update to change the existing no access buffer regulation to no entry. This zone will be encompassed within the larger East Content Keys and Upper Harbor Key Flats idle speed no wake WMA.

• Snipe Keys: This existing marine zone is modified with the addition of a no entry area, which is an important roosting area for magnificent frigatebirds that are easily disturbed by motorized and non-motorized boat traffic. The existing no motor and idle speed no wake areas will not change.

• Mud Keys: This existing marine zone includes idle speed no wake and closed areas within the channels. This final rule updates this to idle speed no wake in all channels.

• Lower Harbor Keys: This existing zone includes idle speed no wake in selected tidal creeks. This final rule expands the idle speed no wake area to further protect and decrease disturbance to various nesting, roosting, and wading birds.

• Bay Keys: This existing marine zone is modified by expanding the current idle speed no wake area in the channel leading to the northwest island, maintaining that island as no motor, and includes an additional adjacent island to the southeast as no motor.

• Cottrell Key: This existing no motor zone is changed to a no entry zone to decrease disturbance to nesting and roosting birds. Cottrell Key has one of the highest annual counts of nesting great white herons in the Lower Keys, and serves as an important island for other nesting, roosting and foraging birds.

• Woman Key: This existing zone, which currently includes one-half of the beach and sand spit as closed, is changed to no entry and expanded to include 300-feet offshore of the beach to further decrease disturbance to nesting and roosting birds and ESA-listed sea turtles, which may be impacted during nesting by high concentrations of visitors.

• Boca Grande Key: This existing zone currently includes a closed area on the south half of the beach and the island is closed by the USFWS. In this final rule, the WMA is changed to no entry and expanded to include 300-feet offshore of the beach to decrease disturbance to nesting and roosting birds and ESA-listed sea turtles, which may be impacted during nesting by high concentrations of visitors.

• Marquesas Keys: This is an existing zone with a 300-foot no motor regulation around three keys, a 300-foot no access buffer zone around one island (all on the western side of Mooney Harbor), and idle speed no wake in a southwest tidal creek. NOAA's final rule maintains all of these areas; however, the no motor and no access buffer zones are changed to no entry, and one additional island on the south end of Mooney Harbor is added as no entry.

NOAA's final rule includes 20 new WMAs, eleven of these fall within USFWS National Wildlife Refuge boundaries, nine of which specifically serve to protect USFWS trust species (e.g., species for which the Refuge was established to protect and/or Migratory Bird Treaty Act species).

• Barnes-Card Sound: This final rule establishes a new idle speed no wake WMA.

• Whitmore Bight: This final rule establishes a new no motor WMA that includes an area along the shoreline in John Pennekamp State Coral Reef Park that includes the State Park managed no motor zone.

• Pelican Key: This final rule establishes a new no entry WMA.

• Pigeon Key: This final rule establishes a new no entry WMA.

• Channel Key Banks: This final rule establishes a new idle speed no wake WMA. This final rule allows exceptions for normal operation in established channels and includes Channel Key as a no entry area.

• Red Bay Bank: This final rule establishes a new idle speed no wake WMA.

• Marathon Oceanside Shoreline: This final rule establishes a new idle speed no wake WMA with exceptions for established channels.

• East Bahia Honda Key: This final rule establishes a new no motor WMA.

• West Bahia Honda Key: This final rule establishes a new no motor WMA.

• Little Pine Key Mangrove: This final rule establishes a new no entry WMA.

• Water Key Mangroves: This final rule establishes a new no entry WMA.

• Howe Key Mangrove: This final rule establishes a new no motor WMA.

• Torch Key Mangroves: This final rule establishes a new no entry WMA.

• Crane Key: This final rule establishes a new no entry WMA.

• Northeast Tarpon Belly Keys: This final rule establishes a new no motor WMA.

• Happy Jack Key: This final rule establishes a new no entry WMA.

• Western Dry Rocks: This final rule establishes a new WMA that will mirror newly established FWC regulations ¹² (February 2021) with a seasonal no fishing prohibition from April 1 to July 31 and a no anchor regulation during this same seasonal time period.

¹² https://www.flrules.org/gateway/ruleNo.asp?id=68B-6.004.

• Barracuda Keys: This final rule establishes a new idle speed no wake WMA.

• Ballast and Man Keys Flats: This final rule establishes a new idle speed no wake WMA.

• Marquesas Turtle: This final rule establishes a new idle speed no wake WMA.

This final rule does not include two WMAs that were included in the 2022 NOPR:

• Archer Key: This final rule does not include a new sanctuary marine zone at this site due to comments received from the public and requests from Florida DEP and FWC.

• Ashbey-Horseshoe Key: This final rule does not include a new sanctuary marine zone at this site. This area is an existing no motor zone within Lignumvitae Key Aquatic Preserve and Lignumvitae Key Botanical State Park therefore this rule does not include a new sanctuary marine zone at this site at this time.

4. Additional Marine Zone Regulations

a. Motorized Personal Watercraft

NOAA's final rule includes regulatory changes to allow motorized personal watercraft (PWC) operation in a small portion of the Key West National Wildlife Refuge, west of the Key West main ship channel around marker G13, where PWC operation is otherwise prohibited.

b. Tortugas North Access Permits

The final rule streamlines the permit application process for persons wishing to enter the Tortugas North Conservation Area. The current regulation requires that access permits must be requested at least 72 hours, but no earlier than one month, before the date that access is requested. This final rule removes the current requirement to request access permits no earlier than one month before the date of entrance to the area and removes the requirement to notify FKNMS before entering and upon leaving the area. The requirement to request an access permit at least 72 hours in advance will remain.

c. Catch and Release Fishing by Trolling in Four SPAs

The final rule eliminates the exception allowing catch and release fishing by trolling in four SPAs (Conch Reef, Alligator Reef, Sombrero Key, and Sand Key). Over two decades of management experience with marine zones in the sanctuary points to providing zones with consistent and clear regulations and indicates that user compliance is greatly reduced and enforcement greatly hindered when exceptions to regulations in specific zones are provided.

d. Bait Fishing Permits

NOAA is eliminating over a three-year period the practice of issuing bait fishing permits of any kind in all SPAs. As noted above, over two decades of management experience with marine zones in the sanctuary points to providing zones with consistent and clear regulations and indicates that user compliance is greatly reduced and enforcement greatly hindered when exceptions to regulations in specific zones are provided.

5. Sanctuary Management Plan

The final EIS includes a final revised management plan. The management plan, which includes non-regulatory actions, complements and further supports this rulemaking. The management plan actions are largely focused on understanding and improving the condition of sanctuary resources by reducing threats and addressing emerging issues. Actions also include engaging with and strengthening partnerships to address issues and impacts that occur outside the sanctuary boundary and fall within the jurisdiction or authority of partner Federal or State agencies. A copy of the final management plan is available at the address and website listed in the ADDRESSES section of this rule.

V. Changes to the Sanctuary Terms of Designation

1. Summary of Changes to the Terms of Designation

Section 304(a)(4) of the NMSA requires that the terms of designation for national marine sanctuaries include: (1) the geographic area of the sanctuary; (2) the characteristics of the area that give it conservation, recreational, ecological, historical, research, educational, or aesthetic value; and (3) the types of activities subject to regulation by NOAA to protect those characteristics. Section 304(a)(4) also specifies that the terms of designation may be modified only by the same procedures by which the original designation was made, including public notice and comment, and preparation of an EIS. Terms of designation include the geographic area of the sanctuary, characteristics of the area that give it value, and the types of activities that will be subject to regulation. Therefore, the revised FKNMS terms of designation set forth below:

1. Modify Article I (“Designation and Effect”) to include the expanded sanctuary boundary;

2. Modify Article II (“Description of the Area”) by changing the geographic description and size of the sanctuary;

3. Modify Article III (“Characteristics of the Area That Give it Particular Value”) by updating the size of the sanctuary and the description of the special resources contained within it;

4. Modify Article IV (“Scope of Regulation”) by simplifying descriptions of the categories of activities that may be subject to regulation. As originally drafted, the Terms of Designation contain a level of detail similar to, if not the same, as the regulations. Instead, NOAA proposes to provide broad categories of activities to be more consistent with the legislative intent of section 304(a)(4) of the NMSA to merely identify the “types of activities” and rely on the regulations themselves to provide the specific regulatory details (see e.g., 15 CFR 922.163). Otherwise, the “Scope of Regulation” section would be duplicative of the regulations and serve no purpose. By simplifying the activity descriptions, NOAA is not broadening in any way the scope of the regulations and is not adding any new or different activities to be subject to regulation. The regulations themselves contain the operative language and only the regulations are enforceable;

5. Modify Article V (“Effect on Leases, Permits, Licenses, and Rights”) by modifying language to be consistent with section 304(c) of the NMSA related to any valid lease, permit, license, approval, or other authorization or right in existence prior to the effective date of the revised terms of designation, and to cite the correct section of Office of National Marine Sanctuaries regulations for certifying such valid rights; and

6. Modify the “Florida Keys National Marine Sanctuary Boundary Coordinates” to include the expanded sanctuary boundary.

Terms of Designation for the Florida Keys National Marine Sanctuary

Article I. Designation and Effect

On November 16, 1990, the Florida Keys National Marine Sanctuary and Protection Act (FKNMSPA), Pub. L. 101-605 (16 U.S.C. 1433 note), became law. That Act designated an area of waters and submerged lands, including the living and nonliving resources within those waters, as described therein, as the Florida Keys National Marine Sanctuary (sanctuary). The FKNMSPA specifies that the sanctuary, is designated . . . under title III of the Marine Protection, Research, and Sanctuaries Act of 1972 (16 U.S.C. 1431 et seq.). The Sanctuary shall be managed and regulations enforced under all applicable provisions of such title III as if the Sanctuary had been designated under such title. FKNMSA Sec. 5(a). In 2001, pursuant to the procedures outlined in section 304 of the NMSA, 16 U.S.C. 1434, the boundary of the sanctuary was expanded to include important coral reefs and other resources in two areas west of the Dry Tortugas National Park, including Sherwood Forest and Riley's Hump. In 2024, the boundary of the sanctuary was further expanded to include areas: (a) north of the existing northern extent of the sanctuary, offshore of Miami-Dade County, to align with the Area To Be Avoided, (b) seaward of the existing southern boundary of the sanctuary to align with the ATBA, (c) at the far western end of the existing sanctuary boundary, to extend by approximately one mile westward and encompass the outer boundaries of the Tortugas South Conservation Area (formerly the Tortugas South Ecological Reserve) and square off the sanctuary boundary in its northwestern corner.

Section 304 of the NMSA, 16 U.S.C. 1434, authorizes the Secretary of Commerce to issue such regulations as are necessary and reasonable to implement the designation, including managing and protecting the conservation, recreational, ecological, historical, scientific, educational, cultural, archaeological or aesthetic resources and qualities of a national marine sanctuary. Section 1 of Article IV of the Terms of Designation lists activities of the type that are presently being regulated or may have to be regulated in the future in order to protect sanctuary resources and qualities. Listing in section 1 does not mean that a type of activity will be regulated in the future; however, if a type of activity is not listed, it may not be regulated, except on an emergency basis, unless section 1 is amended, following the procedures for designation of a sanctuary set forth in paragraphs (a) and (b) of section 304 of the NMSA, to include the type of activity.

Article II. Description of the Area

The Florida Keys National Marine Sanctuary boundary encompasses a total of approximately 3,427 square nautical miles (4,539 square statute miles) of coastal, ocean, and Gulf of Mexico waters, and the submerged lands thereunder, surrounding the Florida Keys in south Florida. The northernmost point of the sanctuary lies just east of Miami and Key Biscayne. The contiguous area boundary on the Atlantic Ocean side of the Florida Keys runs south from just north of Biscayne National Park generally curving in a southwesterly direction along the Florida Keys archipelago until southwest of the Dry Tortugas and Loggerhead Key. The contiguous area boundary on the Gulf of Mexico side of the Florida Keys continues from this southwestern point to the north approximately 32 miles until it reaches a point northwest of Loggerhead Key and the Dry Tortugas. The boundary then continues east to approximately 8 miles north of Cottrell Key, and then from there it continues generally to the northeast to just north of Sprigger Bank. The boundary then generally approximates the southeastern Everglades National Park boundary until it continues along the western shore of Manatee Bay, Barnes Sound, and Card Sound. The boundary then generally approximates the southern boundary of Biscayne National Park and continues to do so north along the park's eastern boundary until it reaches the sanctuary's northeastern most point.

The landward boundary of the contiguous sanctuary area is the shoreline as defined by the mean high-water line. The Dry Tortugas National Park is not included within the sanctuary and the inner sanctuary boundary in this location is coterminous with this national park boundary. The sanctuary boundary encompasses the entire Florida coral reef tract, all of the mangrove islands of the Florida Keys, and some of the seagrass meadows of the Florida Keys. The precise boundary of the sanctuary is set forth at the end of this Designation Document.

Article III. Characteristics of the Area That Give it Particular Value

The Florida Keys extend approximately 223 miles southwest from the southern tip of the Florida peninsula. Adjacent to the Florida Keys land mass are located spectacular unique, nationally significant marine environments, including seagrass meadows, mangrove islands, and extensive living coral reefs. These marine environments support rich biological communities possessing extensive conservation, recreational, commercial, ecological, historical, research, educational, and aesthetic values which give this area special national significance. These environments are the marine equivalent of tropical rain forests in that they support high levels of biodiversity, are fragile and easily susceptible to damage from human activities, and possess high value to humans if properly conserved. These marine environments are subject to damage and loss of their ecological integrity from a variety of sources of disturbance.

The Florida Keys are a limestone island archipelago. The Keys are located at the southern edge of the Florida Plateau, a large carbonate platform made of a depth of up to 7000 meters of marine sediments, which have been accumulating for 150 million years and which have been structurally modified by subsidence and sea level fluctuation. The Keys region is generally divided into five distinct areas: the Florida reef tract, one of the world's largest coral reef tracts and the only barrier reef in the United States; Florida Bay, a large, shallow seagrass-dominated estuary and world-famous game fishing region that sits at the interface between the Florida Everglades and the Florida Reef Tract; the Southwest Continental Shelf; the Straits of Florida; and the Keys themselves.

The sanctuary contains one of North America's most diverse assemblages of terrestrial, estuarine, and marine fauna and flora. In addition to the Florida reef tract, the sanctuary includes thousands of patch reefs, various hardbottom habitats, mangrove fringed shorelines and mangrove islands, and a substantial portion of one of the world's largest seagrass communities that covers 3.6 million acres of the nearshore marine environment in south Florida. These diverse habitats provide shelter and food for thousands of species of marine plants and animals, including more than 50 species of animals identified under Federal or State law as endangered or threatened. The Keys were at one time a major seafaring center for European and American trade routes to the Caribbean, and submerged cultural and historic resources (i.e., shipwrecks) abound in the surrounding waters. In addition, the sanctuary contains substantial archaeological resources of pre-European cultures.

The uniqueness of the marine environment draws multitudes of visitors to the Keys. The major industry in the Florida Keys is tourism, including activities related to the Keys' marine resources, such as dive shops, charter fishing and dive boats and marinas, as well as hotels and restaurants. The abundance of the resources also supports a large commercial fishing employment sector.

The number of visitors to the Keys grows each year, with a concomitant increase in the number of residents, homes, jobs, and businesses. As population grows and the Keys accommodate ever-increasing resource use pressures, the quality and quantity of sanctuary resources are increasingly threatened. These pressures require coordinated and comprehensive monitoring and researching of the Florida Keys' region.

Article IV. Scope of Regulations

Section 1. Activities Subject to Regulation

The following activities are subject to regulation under the NMSA, either throughout the entire sanctuary or within identified portions of it or, as indicated, in areas beyond the boundary of the sanctuary, to the extent necessary and reasonable. Such regulation may include prohibitions to ensure the protection and management of the conservation, recreational, ecological, historical, scientific, educational, cultural, archaeological or aesthetic resources and qualities of the area (e.g., 15 CFR 922.163). Because an activity is listed here does not mean that such activity is being or will be regulated. Listing an activity here means that the Secretary of Commerce can regulate the activity in accordance with all applicable laws without going through the designation procedures required by paragraphs (a) and (b) of section 304 of the NMSA, 16 U.S.C. 1434(a) and (b). Further, no regulation issued under the authority of the NMSA may take effect in Florida State waters within the sanctuary if the Governor of the State of Florida certifies to the Secretary of Commerce that such regulation is unacceptable within the forty-five day review period specified in NMSA.

Activities Subject to Regulation:

1. Mineral or hydrocarbon exploration, development, or production;

2. Destroying, causing the loss of, or injuring coral or live rock or attempting to do so;

3. Altering or placing any structure, object, or other material on the seabed, except as authorized by appropriate permits or as part of lawful fishing;

4. Discharging or depositing any material or discharging or depositing any material beyond the sanctuary that then enters the sanctuary and injures a sanctuary resource or quality;

5. Operating a vessel, including anchoring, in a manner that may destroy, cause the loss of, or injure sanctuary resources or property or in a manner that may injure or endanger the life of sanctuary users;

6. Diving in a manner that could harm sanctuary resources, sanctuary property, or other users of the sanctuary;

7. Stocking within the sanctuary or releasing within or from beyond the boundary of the sanctuary any non-native or exotic species;

8. Defacing, marking, or damaging in any way or displacing, removing, or tampering with any markers, signs, notices, placards, navigational aids, monuments, stakes, posts, mooring buoys, boundary buoys, trap buoys, or scientific equipment;

9. Moving, removing, injuring, preserving, curating, and managing historic resources;

10. Taking, removing, moving, catching, collecting, harvesting, feeding, attracting, injuring, destroying, or causing the loss of or attempting to take, remove, move, catch, collect, harvest, feed, attract, injure, destroy, or cause the loss of any sanctuary resource;

11. Conducting or attempting to conduct any manner of activities within specially designated marine areas, including removing, injuring, or disturbing any living or dead organism or bottom formation; possessing or using certain fishing gear; operating or anchoring vessels; entering areas; and diving;

12. Harvesting marine life species;

13. Possessing or using explosives, electrical charges, or toxic substances within the sanctuary, or using explosives, electrical charges, or toxic substances beyond the sanctuary that then enter the sanctuary and injure a sanctuary resource or quality;

14. Abandoning fishing gear or vessels and removing (including salvaging) fishing gear and grounded, derelict, or abandoned vessels;

15. Maintaining or deserting a derelict vessel or vessel at risk of becoming derelict and leaving harmful matter aboard a grounded or deserted vessel; and,

16. Interfering with any enforcement action.

Section 2. Emergency and/or temporary regulation.

Any and all activities are subject to immediate emergency and/or temporary regulation, including any not listed in Section 1 of this article.

Article V. Effect on Leases, Permits, Licenses, and Rights

Pursuant to paragraph (c)(1) of section 304 of the NMSA, 16 U.S.C. 1434(c)(1), a person may conduct an activity prohibited by sanctuary regulations if such activity is specifically authorized by a valid Federal, State, or local lease, permit, license, approval, or other authorization or right in existence prior to the effective date of these revised terms of designation, provided that the holder of the lease, permit, license, approval, or other authorization complies with the procedures outlined in this subpart and subpart E.

However, in no event may the Secretary of Commerce or his or her designee issue any form of approval for the: (1) exploration, leasing, development, or production of minerals or hydrocarbons; (2) disposal of dredged material within the sanctuary other than in connection with beach renourishment or sanctuary restoration projects; or (3) discharge of untreated or primary treated sewage. Any purported authorizations issued by other authorities for any of these activities within the sanctuary shall be invalid.

Article VI. Alteration of this Designation

The terms of designation, as defined in paragraph (a) of section 304 of the NMSA, 16 U.S.C. 1434(a), may be modified only by the procedures outlined in paragraphs (a) and (b) of section 304 of the NMSA, 16 U.S.C. 1434(a) and (b), including public hearings, consultation with interested Federal, State, and local government agencies, review by the appropriate congressional committees, review by the Governor of the State of Florida, and approval by the Secretary of Commerce, or his or her designee. No designation, term of designation, or implementing regulation may take effect in Florida State waters within the sanctuary if the Governor of the State of Florida certifies to the Secretary of Commerce that such designation, term of designation, or regulation is unacceptable within the forty-five day review period specified in NMSA.

Florida Keys National Marine Sanctuary Boundary Coordinates

The Florida Keys National Marine Sanctuary (sanctuary) encompasses an area of 3,427 square nautical miles (4,539 square miles) of coastal, ocean, and Gulf of Mexico waters and the submerged lands thereunder from the boundary to the shoreline as defined by the mean high water tidal datum surrounding the Florida Keys in southern Florida. The precise boundary coordinates are listed in Appendix I to this Subpart.

The sanctuary boundary begins approximately 4 miles east of the northern extent of Key Biscayne at Point 1 and continues roughly south and then southwest and west in numerical order to Point 15 approximately 27 miles SW of Loggerhead Key. From Point 15 the sanctuary boundary continues north to Point 17 which is approximately 18 miles NW of Loggerhead Key and then continues roughly east in numerical order to Point 23 just north of Sprigger Bank. From Point 23 the boundary continues in numerical order roughly SE to Point 26 just north of Old Dan Bank. From Point 26 the boundary continues NE in numerical order through Bowlegs Cut and Steamboat Channel to Point 42 near the southern entrance to Cowpens Cut west of Plantation Key.

From Point 42 the boundary continues towards Point 43 until it intersects the shoreline. From this intersection the boundary follows the shoreline roughly NNE until it intersects the line segment formed between Point 44 and Point 45.

From this intersection the boundary continues NNE to Point 45 and then roughly NE in numerical order to Point 61 just west of Hammer Point in Tavernier, FL. From Point 61 the boundary continues in numerical order roughly north and then NW to Point 64 just west of Pigeon Key. From Point 64 the boundary continues in numerical order roughly NE then NNE through Baker Cut to Point 69. From Point 69 the boundary continues in numerical order roughly NE through Buttonwood Sound to Point 73.

From Point 73 the boundary continues towards Point 74 until it intersects the shoreline near the southern entrance to Grouper Creek west of Key Largo, FL. From this intersection the boundary follows the shoreline NE along Grouper Creek until it intersects the line segment formed between Point 75 and Point 76. From this intersection the boundary continues towards Point 76 until it intersects the shoreline. From this intersection the boundary follows the shoreline roughly east until it intersects the line segment formed between Point 77 and Point 78.

From this intersection the boundary continues to Point 78 and then roughly ESE in numerical order through Tarpon Basin to Point 85. From Point 85 the boundary continues NE and then NW to Point 92.

From Point 92 the boundary continues towards Point 93 until it intersects the shoreline. From this intersection the boundary follows the shoreline roughly north along Dusenberry Creek until it intersects the line segment formed between Point 94 and Point 95.

From this intersection the boundary continues to Point 95 and then NE in numerical order through Blackwater Sound to Point 102 south of the entrance to Jewfish Creek.

From Point 102 the boundary continues towards Point 103 until it intersects the shoreline. From this intersection the boundary follows the shoreline roughly NNE and then NW until it intersects the line segment formed between Point 104 and Point 105. From this intersection the boundary continues towards Point 105 until it intersects the shoreline. From this intersection the boundary follows the shoreline roughly NNE and then roughly west along southwestern Barnes Sound and around Division Point until it intersects the line segment formed between Point 106 and Point 107 near Manatee Creek east of Long Sound. From this intersection the boundary continues towards Point 107 until it intersects the shoreline. From this intersection the boundary follows the shoreline roughly NNW until it intersects the line segment formed between Point 108 and Point 109. From this intersection the boundary continues towards Point 109 until it intersects the shoreline. From this intersection the boundary follows the shoreline roughly east until it intersects the line segment formed between Point 109 and 110. From this intersection the boundary continues towards Point 110 until it intersects the shoreline. From this intersection the boundary follows the shoreline roughly north and then NE until it intersects the line segment formed between Point 111 and Point 112. From this intersection the boundary continues towards Point 112 until it intersects the shoreline. From this intersection the boundary follows the shoreline roughly east and then north around Bay Point and then west until it intersects the line segment formed between Point 113 and Point 114. From this intersection the boundary continues towards Point 114 until it intersects the shoreline. From this intersection the boundary follows the shoreline north along the western side of Manatee Bay until it intersects the line segment formed between Point 115 and Point 116. From this intersection the boundary continues towards Point 116 until it intersects the shoreline.

From this intersection the boundary follows the shoreline around northern Manatee Bay and Barnes Sound until it intersects the line segment formed between Point 117 and Point 118. From this intersection the boundary continues towards Point 118 until it intersects the shoreline. From this intersection the boundary follows the shoreline roughly to the SE south of FL State Route 905A—Card Sound Road then NW and roughly north along western Little Card Sound and then Card Sound cutting off the mouths of canals and drainage ditches until it intersects the line segment formed between Point 119 and Point 120 south of Midnight Pass. From this intersection the boundary continues to Point 120 and then roughly SE to each successive point in numerical order approximating the southern boundary of Biscayne National Park to Point 142 approximately 3 miles ENE of Turtle Rocks. From Point 142 the boundary continues roughly N to each successive point in numerical order ending at Point 158.

The inner landward sanctuary boundary is defined by and follows the shoreline where not already specified in the description above.

Dry Tortugas National Park is not included within the FKNMS and the inner sanctuary boundary in this area is coterminous with this national park boundary and begins at Point DT1 and continues in numerical order counterclockwise around the national park ending at Point DT10.

VI. Response to Comments

NOAA collected comments on the 2019 draft EIS as well as the 2022 proposed rule. For the purposes of full transparency and responsiveness, the following section addresses all of these comments. The subject matter of each comment category is first summarized, followed by NOAA's response. Responses may refer to portions of the regulations, management plan, or EIS that NOAA modified as a result of comments it received. Comments and responses are organized primarily by applicable regulation or to a few cross-cutting categories of comments.

General

Comment 1: NOAA received comments that opposed any additional regulatory action and called for no change to the current regulations and management plan.

Response: As described in Section I.2 above, NOAA determined it was necessary to update the FKNMS management framework, including modifying regulations, in order to ensure long-term resource viability and ecosystem function and to address current and future threats to sanctuary resources such as diminished water quality originating from both within and outside the sanctuary, significant decrease in coral cover, and habitat degradation from vessel impacts including anchor damage, propeller-scarring, and groundings. Each of these threats has major implications for FKNMS. In addition, the 2011 FKNMS Condition Report ¹³ concluded that resources in the Florida Keys appear to be in fair to fair/poor condition and are generally either stable or in decline. Since the release of the 2011 condition report, sanctuary resources have been further degraded by Hurricane Irma (2017), a serious and widespread coral disease outbreak, a seagrass die-off, and warming ocean temperatures as evident during the summer 2023 marine heat wave, among other threats. New regulations are necessary to address these conditions.

¹³ https://sanctuaries.noaa.gov/science/condition/fknms/welcome.html.

Sanctuary Boundary

Comment 2: NOAA received comments supporting the sanctuary boundary expansion alternative to include the ATBA, the Tortugas region, and Pulley Ridge. Comments noted support for sanctuary-wide boundary expansion to reduce confusion and create consistency, particularly through the ATBA boundary expansion. Comments acknowledged the need for greater ecological protection in the Florida Keys that could be achieved through boundary expansion, particularly by including the entire Tortugas region and Pulley Ridge. NOAA received comments opposing the sanctuary boundary expansion alternatives, largely due to concern about loss of access for traditional fishing activities.

Response: NOAA's action to include the final preferred alternative aligns the sanctuary boundary with the ATBA boundary to create a consistent geographic and regulatory boundary. In addition, including the ATBA and the Tortugas region provides additional protections for the resources that are present in the expanded area, including those that are ecologically connected. In response to concerns about sanctuary boundary expansion resulting in loss of fishing access, the boundary expansion does not affect activities that are considered traditional fishing as defined at 15 CFR 922.162.

Comment 3: NOAA received comments supporting and opposing expanding the sanctuary boundary to include a distinct unit at Pulley Ridge. Comments in support noted its value as the deepest known photosynthesizing coral reef off the continental U.S. with physical and biological connections to the Florida Keys. Comments in opposition noted this area is already regulated as a HAPC with associated GMFMC regulations and requested that NOAA pursue other avenues to protect the area from all vessel anchoring.

Response: The final rule does not include Pulley Ridge in the sanctuary boundary. The existing HAPC with associated GMFMC regulations prohibits, among other things, anchoring by fishing vessels. NOAA's purpose for proposing a designation of a new unit in Pulley Ridge was to protect important mesophotic reef habitat from anchoring by all vessels. Concurrent with considering boundary expansion to include Pulley Ridge, as noted in the proposed rule, the United States proposed that the IMO designate a No Anchoring Area in the southern portion of Pulley Ridge, which was approved and implemented starting June 1, 2023 (IMO SN.1/Circ.342). The IMO designation has prohibited all anchoring on Pulley Ridge and, therefore, the need for additional regulation by NOAA is greatly reduced. Finally, given that this area of Pulley Ridge is managed as a HAPC with associated fishing regulations under the MSA, the final rule does not restrict fishing in this area.

Comment 4: NOAA received comments that opposed any change to the sanctuary boundary citing reasons including (1) the lack of sufficient enforcement; (2) concern of restricting use/access for the public, particularly for commercial fishing and most notably shrimp fishing; (3) budget and management limitations; and (4) socioeconomic consequences to certain industries.

Response: NOAA considered all of these concerns throughout the Restoration Blueprint process, including at the draft EIS and draft management plan phase, the notice of proposed rulemaking, the final EIS and final management plan, and in this final rule. Specifically, (1) enforcement is identified as one of six management priorities in the final management plan (see the priorities section and activities 3.3.1 and 5.3.2). NOAA/ONMS will work with partners to enhance enforcement capacity to achieve visible resource protection benefits. ONMS is also committed to enhancing public knowledge, understanding, and compliance through establishing consistent regulations, where feasible, and targeted education and interpretation of those regulations. These efforts will strengthen enforcement of the final regulations. (2) Public access, including fishing access, is not affected by expanding the sanctuary boundary. Sanctuary-wide regulations will apply, which may affect how someone operates (e.g., prohibition on impact to the seabed) but do not affect access. Specific to fishing activity, exemptions from specific sanctuary-wide regulations exist for traditional fishing activities, the definition for which is updated in the final rule. (3) NOAA will address resource limitations by identifying priorities towards which resources will be directed. NOAA's final management plan includes a suite of six management priorities and Appendix I outlines a prioritization framework that initially evaluates cost and level of effort needed followed by consideration of the following five factors: importance, impact, feasibility, requirements, and connection to one of the six priority themes. In addition, NOAA will continue to work with partners that play an essential role in how the sanctuary conducts its operations and programs. Appendix II includes a list of representative partners. (4) As summarized in the 2022 Socioeconomic Report (Schwarzmann et.al., 2022), the estimated economic effects of the 2022 NOPR alternative are not considered significant under section 3(f)(1) of Executive Order 12866. Estimated losses to small businesses in the commercial fishing and recreational for-hire fishing sectors resulting from proposed boundary changes are expected to be less than 1% of average revenue with the exception of the lobster fishery, which may experience a loss of roughly 2%. In this final rule, NOAA is selecting a smaller sanctuary boundary expansion than the 2022 NOPR Alternative; therefore, socioeconomic impacts are expected to be less than what was estimated in the 2022 Socioeconomic Report.

Sanctuary-Wide Regulations

Comment 5: Commenters requested NOAA consider adding an exception to the proposed anchoring definition to include an exemption for push poles and power poles.

Response: NOAA's final rule prohibits anchoring in all SPAs, Habitat Restoration Areas, and Conservation Areas, except in the Western Sambo Conservation Area. Given that these areas prohibit take (i.e., fishing) and the use of push poles and power poles is not commonplace, the final rule does not modify the anchoring definition to allow exceptions. The final rule does not regulate anchoring for nearshore WMAs, where push poles and power poles are more commonplace. See the response to comments in the WMA section.

Comment 6: NOAA received comments requesting a definition for trolling given the existing exception for catch and release fishing by trolling in 4 SPAs and the proposal to include a “trolling only” zone at the proposed Western Dry Rocks (Alternatives 2 and 3).

Response: The final rule does not include any provisions related to trolling, so a definition is not needed.

Comment 7: NOAA received comments opposing the proposed update to the traditional fishing definition. Commenters requested that the definition more fully capture existing fishing regulations promulgated by State and Federal authorities and allow for the future development and use of innovative gear types intended to reduce impacts on FKNMS resources. Commenters also recommended that the final rule include the complete definition of traditional fishing, instead of being included as a reference to another section or document.

Response: After further consideration and close coordination with the Florida Fish and Wildlife Conservation Commission, the GMFMC, and the SAFMC, NOAA agrees with the recommendation to capture existing fishing practices in the definition of traditional fishing rather than limiting the definition to activities that were in existence as of 1997. NOAA has included an updated definition for “traditional fishing” in the final rule that includes fishing activities taking place as of the effective date of this final rule.

NOAA provides further guidance in final EIS Appendix G that includes an updated description of the current fisheries managed by the FWC in State waters and by NMFS in the EEZ. The traditional fishing activities described in Appendix G are currently occurring in this sanctuary subject to FWC/NMFS regulation and will remain subject to the sanctuary's marine zone regulations where additional protections are needed to address impacts of traditional fishing activities on sanctuary resources.

NOAA agrees that it may be appropriate to update the traditional fishing definition in the future, particularly to recognize new or innovative gear types that become widely used and are demonstrated to reduce impacts to sanctuary resources. Any update to the definition and the fishing activities that are considered traditional fishing would be done through a separate rulemaking in order to consider public comment and to conduct an environmental analysis under NEPA of the potential impacts of new or innovative gear types or fisheries activities on sanctuary resources. New or innovative gear types, along with other new or modified fishing activities, would continue to require sanctuary permits or authorization while they are being tested. NOAA would collaborate closely with, and rely on the expertise of, FWC and the FMCs when considering any updates to the definition of traditional fishing activities.

Discharge and Deposit Regulation Exception

Comment 8: NOAA received comments strongly supporting a specific regulation to limit discharges from cruise ships and asserting that cruise ship discharges are a significant cause of water quality problems in the FKNMS. Specific comments requested clarification about exceptions from the discharge prohibitions for certain discharges (e.g., rainwater, ballast water) from cruise ships. Commenters also requested that NOAA continually review this provision to see if technology advances warrant additional or modified discharge regulations. Commenters also stated that discharges from cruise ships are sufficiently regulated by the U.S. EPA, including through the CWA and VIDA. Finally, commenters claimed there is no scientific support for prohibiting exhaust gas cleaning system discharges and no need to rely on the precautionary principle.

Response: NOAA has updated and clarified the cruise ship discharge and deposit prohibition in this final rule to more clearly prohibit discharging or depositing of any material or other matter from a cruise ship except cooling water. NOAA determined that other alternatives, which proposed instead to specify certain discharges that would be allowed by cruise ships (e.g., “clean wash water”), would be extremely difficult to define based on changing industry standards. The use of such terms could be interpreted differently among stakeholders, which could create compliance and enforcement challenges. EPA has recently issued a final rule setting national standards of performance for commercial vessel incidental discharges, but these standards will not be effective until the United States Coast Guard has promulgated implementing regulations. Additionally, the sanctuary was designated by Congress, in part, for the purpose of protecting water quality, and sanctuary regulations have long imposed more stringent vessel discharge standards than the CWA. For instance, the sanctuary's current discharge and deposit prohibition, which provides a limited exception for certain routine vessel discharges, was promulgated almost ten years before EPA began regulating incidental vessel discharges in 2007.

Discharges of EGCS wash water contain PAH's, higher pH water, and heavy metals. EPA's national standards for discharge of EGCS wash water is based largely on the IMO 2015 Guidelines for Exhaust Gas Cleaning Systems (Resolution MEPC.259(68)), but these standards may not be sufficiently protective for FKNMS. Although the degree of harm of these releases depends on the local environmental conditions, scientific studies indicate a cause for concern of impacts to sensitive ecosystems such as FKNMS (Teuchies et al., 2020). NOAA does not require scientific certainty to prohibit EGCS wash water discharges. While EPA's regulations do not ban EGCS wash water, a ban narrowly tailored to cruise ships in FKNMS is feasible. Cruise ships spend a short time traveling in the Sanctuary to visit Key West, and cruise ships currently switch to low sulfur fuels when entering harbors and ports where EGCS discharges are prohibited. Though low-sulfur fuel is more costly, cruise ships spend a very short time traveling through the sanctuary to visit Key West. This regulatory change meets the express purpose of the Act to facilitate uses in the sanctuary to the extent compatible with the primary objective of resource protection by, in this case, considering the low economic impact on cruise ships and the risk of harm to sanctuary resources. 16 U.S.C. 1431(b)(6).

Comment 9: NOAA received comments raising concerns about compliance with the prohibition of discharges from cruise ships and enforcement of violations. Specifically, commenters noted that this regulation lacks the appropriate enforcement mechanism and mandatory penalty consequences.

Response: Cruise ships are subject to a comprehensive system of regulation and oversight. State and Federal agencies may conduct announced and unannounced inspections and enforce compliance with State and Federal laws and regulations. A cruise ship found to be in violation of the sanctuary's discharge and deposit prohibition could be subject to civil penalties under the NMSA, 16 U.S.C. 1437(d), or, in some cases, criminal prosecution. If a discharge and deposit results in destruction, loss of, or injury to sanctuary resources, a cruise ship may also be liable for resulting response costs and damages under 16 U.S.C. 1443.

Comment 10: NOAA received public comments requesting that proposed discharge prohibition for cruise ships be extended to all commercial vessels over 79 feet.

Response: NOAA appreciates these comments and considered them carefully. Cruise ships are a unique source of a considerable volume of greywater discharges generated by carrying passengers (i.e., showers, laundry, sinks, kitchens, etc.) and have the ability to refrain from discharging during their short time in the sanctuary. NOAA may consider extending this discharge prohibition to other large vessels in a future rulemaking after evaluating water quality monitoring data and assessing the types, numbers, and sizes of vessels present in FKNMS.

Comment 11: NOAA received comments recommending that a regulation be added to specifically address turbidity (e.g., suspended sediments in the water column) generated from cruise ships and other large vessels.

Response: NOAA's final rule was designed to limit discharges of greywater and runoff from cruise ships because these discharges are well studied as having potential adverse effects on water quality, and cruise ships are capable of reducing these discharges while in the sanctuary. More study is needed to weigh the costs and benefits of any regulation aimed at reducing turbidity from cruise ship transit. Ship-caused turbidity could have localized impacts to sanctuary resources in the vicinity of the transit channel. It is unclear if measures to address those impacts could be taken other than reducing the size or frequency of cruise ships entering Key West, which could have measurable economic impacts.

Additionally, the Florida DEP is responsible for reviewing, establishing and revising water quality standards, including turbidity. Pursuant to the Federal Clean Water Act, DEP conducts a comprehensive review of water quality standards every three years. The Water Quality Protection Program (WQPP) may invite additional review, discussion and recommendations about proposed or adopted revisions to water quality standards that impact waters of the Florida Keys.

Comment 12: NOAA received comments acknowledging that in some cases vessels provide affordable housing options. These commenters were concerned about the use of these vessels as homes, the use of vessels as overnight rentals, and the potential environmental impact of discharge from such vessels if they aren't regulated specifically.

Response: NOAA acknowledges the reality of vessels serving as affordable housing and that the use of vessels as short-term rentals could potentially cause harm to the environment from discharges from residential uses. However, NOAA already regulates vessel discharges, regardless of the duration of a visit. State waters of the Florida Keys have been designated as a No Discharge Zone since 2002. This designation was extended into Federal waters in 2010, and current sanctuary regulations prohibit the discharge or deposit of any material or other matter into the sanctuary, with limited exceptions. NOAA continues to work with the FKNMS Water Quality Protection Program (WQPP) (established through the FKNMSPA and administered by the U.S. EPA and the State of Florida's DEP in cooperation with NOAA), its partners, and the community to support outreach to vessel owners about sanctuary discharge regulations and options for marine sanitation device pump out. NOAA also continues to support NOAA OLE, FWC, and USCG enforcement efforts related to discharge. See also the comments and responses to Overnight Mooring Buoys.

Temporary Regulation for Emergency and Adaptive Management

Comment 13: NOAA received comments supporting an expanded time frame for the existing emergency regulation to allow increased responsiveness to emergencies and emerging issues that would benefit from immediate management action. NOAA also received comments expressing concerns that an increased time frame could subvert the public comment process required for rulemaking. Commenters also suggested that the sanctuary consider different time frames for sanctuary-wide versus marine zone-specific emergencies. Finally, NOAA received comments that “emergency” was not clearly defined which raised uncertainty about the drivers that would potentially allow for greater flexibility in modifying zones to address changing resource management needs.

Response: The final rule includes a new regulatory framework for temporary emergency rules that was developed in response to public comments. The final rule includes an increased time frame for the Temporary Regulation for Emergency and Adaptive Management in order to provide the greatest level of flexibility to NOAA for responding to emergency management needs in the sanctuary. While NOAA's final rule has a maximum time frame (six months with one six-month extension), NOAA will consider shorter time frames where appropriate to meet management needs. In addition, this extended time frame provides sufficient time for NOAA to go through a full rulemaking process if the situation warranted. An increased time frame also aligns with the emergency time frames outlined in section 305(c) of the MSA. This increased time frame is also consistent with other national marine sanctuaries that have emergency regulations.

In addition, the final rule addresses the comments in a number of ways. Specifically:

• To address concerns about subverting the public notice and comment process, NOAA is making clear that the existing APA requirements—to provide for prior notice and opportunity for public comment, unless NOAA can demonstrate good cause apply to these emergency rulemakings;

• To respond to questions regarding what NOAA would consider an emergency, the agency has identified categories for which temporary regulations may be promulgated. NOAA believes it is clearer and more efficient to establish well-defined categories, criteria, and processes for temporary regulations to respond to time-sensitive needs to manage sanctuary resources, rather than attempt to define “emergency;” and

• With respect to concerns raised about application of emergency action in State waters, the final rule explicitly acknowledges that temporary regulations shall be subject to the Governor's review pursuant to section 304(b)(1) of the NMSA.

Historical Resources Permitting

Comment 14: NOAA received comments supporting updating historical resource permits to align with the State process, noting that historic resources are nonrenewable resources and NOAA has an obligation to manage them as such. Comments specifically acknowledged that aligning NOAA's historical resource permits with Florida's archaeological research permit standards should make the permitting process more efficient for researchers working in the State waters of the sanctuary. Some commenters noted that this alignment would in turn serve to increase protection of FKNMS historical resources.

Response: NOAA agrees and is updating the historical resource permits for these reasons. The current permitting system is unnecessarily complicated and confusing to applicants as it artificially bisects the archaeological research process into either survey/inventory or research/recovery, often resulting in insufficient research plans to meet project goals. The archaeological research permit category requires that applicants commit to following an explicit statement of objectives and that project methods be chosen to gather the information required to meet the stated objectives. The quality of the research, both proposed and conducted, will be improved by these changes, and the reporting of research results will also be of higher quality when directed by a professional archaeologist with the required education and experience. Finally, the archaeological research permit category with associated application and review criteria will increase the protection of historical resources throughout the sanctuary. These changes support the agency's efforts to meet National Historic Preservation Act (NHPA) responsibilities in combination with the new management plan and the proposed NHPA Programmatic Agreement for FKNMS Operations, Management, and Permitting. NOAA concludes only minor socio-economic impacts will result from increasing regulation of historic resource permitting.

Comment 15: NOAA received comments opposing changes to the historical resource permit categories due to the potential impact to private property rights for those involved in salvage of historic shipwrecks. NOAA also received comments that organizations holding Federal Admiralty Court rights of access should not be exempt from updated historical resource permitting regulations. More generally, NOAA received comments both supporting and opposing historic shipwreck salvage and the resulting removal of historical resources from the sanctuary for private gain. Commenters in support of the status quo indicated a belief that private sector salvage was a better way to preserve historical resources. Comments opposing historic shipwreck salvage were supportive of NOAA's proposal to remove current permitting provisions allowing for the deaccession/transfer of sanctuary artifacts.

Response: Holders of pre-existing, valid admiralty rights are not required to obtain a deaccession/transfer permit under the current sanctuary policies, and, as such, will not be affected by the elimination of this permit category in the final rule. In the 1996 FKNMS final management plan and final environmental impact statement (Vol. 2, pg. 99), NOAA recognized that admiralty rights of access to specific historic shipwrecks had been granted by Federal courts to certain organizations and individuals prior to congressional designation of the sanctuary. NOAA continues to recognize such rights of access for those organizations and individuals that have continued to maintain the underlying admiralty rights and will recognize any right to seek adjudication of title to articles of salvage in accordance with the entities' admiralty rights.

The removal of a deaccession/transfer permit category for those without Federal Admiralty rights is consistent with Federal archaeological preservation laws, collectively referred to as the Federal Archaeology Program, which promote the “in place” conservation of archaeological sites on public lands, rather than private salvage/recovery. Furthermore, archaeological excavation and artifact recovery from public lands should be undertaken for public benefit to answer specific research questions. The resulting artifact collections should be maintained intact for future study. NOAA's changes to FKNMS historical resource permitting categories in the final rule aligns FKNMS regulations with these national historic preservation standards.

Those holding pre-existing, valid admiralty rights are not exempt from regulation or other historic resource permitting requirements. In accordance with section 304(c) of the NMSA and ONMS regulations at 15 CFR 922.10 and 922.167, these rights of access are subject to regulation and restriction by NOAA and must be carried out in a manner consistent with other applicable laws such as the Abandoned Shipwreck Act (ASA), ASA guidelines, NHPA, NMSA, and FKNMSPA.

Comment 16: NOAA received comments specifically related to the Draft NHPA Programmatic Agreement for FKNMS Operations, Management, and Permitting, which was included in Appendix C of the 2019 draft EIS. Commenters expressed frustration that the previous NHPA Programmatic Agreement had expired prior to the development and implementation of an updated version. Commenters expressed concern that this updated draft was not fairly publicly vetted and approved with full consultation of the relevant Florida State offices. Some commenters indicated a desire to have the draft agreement made available through a separate public review process.

Response: NOAA has been working with the State of Florida and the Advisory Council on Historic Preservation (ACHP) since 2015 to develop a NHPA Programmatic Agreement for FKNMS Operations, Management, and Permitting. NHPA implementing regulations under 36 CFR 800.14(b)(2)(ii) require the agency official to arrange for public participation appropriate to the subject matter and scope of the proposed agreement. NOAA determined that the 2019 draft EIS process would be a suitable way to notify the public of the draft programmatic agreement and receive public comment. In addition to public meetings during which NOAA presented information about its management update, including the draft programmatic agreement, NOAA also held a meeting with FKNMS historical resource permittees and former permittees to make them aware of the 2019 draft EIS/draft programmatic agreement and associated public comment period. NOAA believes that the 5-month public comment period offered for the 2019 draft EIS/draft programmatic agreement was sufficient. NOAA, with FKNMS Sanctuary Advisory Council Submerged Cultural Resources members, hosted a special meeting just following release of the draft EIS in 2019 to further engage the interested public on issues related to the Programmatic Agreement. Since that time, NOAA, the State of Florida and the ACHP have been finalizing the agreement.

Fish Feeding

Comment 17: NOAA received comments that generally supported the proposal to prohibit feeding and attracting of fish, including sharks, or other marine species, from any vessel or while diving in the sanctuary, consistently in State and Federal waters. Specifically, comments opposed shark feeding for entertainment purposes, citing safety concerns of mixing feeding sharks with fishing, swimming, and snorkeling activities. Commenters also noted concern about habituating sharks to feeding and how that affects their behavior. NOAA also received comments that opposed this proposed regulation because of the potential loss of eco-tourism and educational opportunities and questioned the impacts of fish and shark feeding on the environment, human safety, and fish and shark behavior.

Response: NOAA determined the benefits of prohibiting fish feeding outweigh the potential costs to eco-tourism or educational opportunities. NOAA considered impacts to sharks and shark depredation, human safety concerns, and compliance and enforcement. In order to minimize the impacts to current eco-tourism and educational businesses that utilize fish feeding, NOAA will consider issuing general permits to pre-existing eco-tour operators. However, in order to minimize the negative impacts of fish feeding, this exception will only apply to pre-existing companies with the goal of phasing out the practice, and permit applicants must satisfy all general permit application requirements. Any permits would contain specific terms and conditions to protect sanctuary resources.

Comment 18: NOAA received comments questioning the difference between the prohibition of feeding fish for attracting and viewing purposes but allowing the use of bait in traditional fishing activities and the impact these activities have on the environment and fish behavior.

Response: This regulation was developed due to concerns about the safety of divers, swimmers, and the effects of concentrating and training predatory fish to associate humans with food. Moray eels, sharks, barracuda, groupers and a host of other species can pose an increased danger to divers as a result of hand-feeding. In addition, hand feeding generally occurs in the same locations, days, and time schedules and creates a habitual feeding station for marine life. This is in contrast to fishing activity that is generally less regular and consistent in locations, times, and schedule. Marine species conditioned to being fed begin anticipating meals, which interrupts natural feeding cycles and can result in negative behavior and health impacts including that hand-fed fish are especially vulnerable to predators. The existing exemption for the discharge or deposit of fish, fish parts, chumming materials or bait used or generated incidental to and while conducting traditional fishing activities will be maintained. A description of activities considered traditional fishing is included in Appendix G of the final EIS.

Comment 19: NOAA received comments requesting that shore-based fish feeding be regulated, including that all business-scale feeding of tarpon and other species should be fully prohibited noting the habituation of a wild animal.

Response: NOAA has decided not to regulate shore-based activity at this time due to the large number of shore-based fish feeding venues. These venues are mostly small-scale, coin operated operations with a handful of larger-scale operations at points throughout the sanctuary, which would be difficult to control and manage to ensure compliance.

Grounded and Deserted Vessels, and Harmful Matter

Comment 20: NOAA received comments supporting the proposal providing the sanctuary greater authority to address grounded and deserted vessels. Commenters noted that NOAA should ensure that definitions and application of any proposed regulations are consistent with the State of Florida regulations and enforcement authorities. NOAA also received comments acknowledging that enforcement of a new regulation could prove challenging given the number of deserted vessels in the sanctuary and broad geographic area where they are found. NOAA received comments supporting additional coordination with the towing and salvage operators to develop best practices for vessel removal recognizing that sometimes additional damage can occur during the removal process.

Response: NOAA agrees with the need for the sanctuary to have its own specific regulations to respond to the threat of deserted vessels and harmful matter. The final rule is consistent with State regulations. NOAA will continue to work in partnership with the State of Florida, Monroe County, the U.S. Coast Guard and others due to the challenging scope of this issue. Finally, the management plan includes additional details for how NOAA will engage with towing and salvage operators to develop best management practices and a permitting process for removing grounded and deserted vessels (See Appendix A, Activity 3.3.4).

Large Vessels Mooring Buoys

Comment 21: NOAA received comments that support delineating large and small vessel mooring buoys. Commenters requested clarification about the size delineation including length, combined length of rafted vessels, and vessel tonnage. Some comments supported this regulation and the potential application to limit access to sensitive areas that have been damaged by overcrowding and intensive use. Commenters also recommended boater education courses to increase boater knowledge regarding proper use of and regulations associated with mooring buoys. Commenters raised concern about the number of large vessel mooring buoys and if that would be sufficient to meet demand.

Response: NOAA agrees with comments about delineating mooring buoys based on vessel sizes and provides further clarification in the definition for “large vessel” in the rule. In addition, large vessel mooring buoys include a sticker indicating the vessel length that can use such buoys. The management plan includes activities related to review and update of the sanctuary mooring buoy program including plans to engage user groups to help identify areas of use, numbers of users, and placement of mooring buoys. Finally, the sanctuary website includes information and tutorials about the proper use of mooring buoys, information is included in the Bluestar Program education materials, and the sanctuary has a voluntary boater education course and participates in and provides sanctuary specific content for boater training courses hosted by the U.S. Coast Guard Auxiliary and others.

Live Rock Aquaculture

Comment 22: NOAA received comments that supported the development of a Memorandum of Agreement with the Florida Department of Agriculture and Consumer Services (FDACS) and NMFS for better coordination of this activity. Commenters opposed the requirement of an additional sanctuary permit for live rock aquaculture operations.

Response: NOAA agrees and the final rule does not include an additional sanctuary permit for live rock aquaculture. The final management plan includes activity 3.2.3 calling for the development of a Memorandum of Agreement with the Florida FDACS and NMFS for better coordination of this activity.

Comment 23: NOAA received specific comments requesting that existing live rock aquaculture sites be considered when evaluating the final marine zone locations, regulations, and continued access for existing permitted live rock aquaculture operators.

Response: NOAA has evaluated the existing live rock aquaculture site locations in relation to the proposed new or modified marine zones. Currently, there is only one marine zone where live rock aquaculture occurs (in the vicinity of the proposed new Tavernier Nursery Restoration Area). Due to the fact that the Tavernier Nursery Restoration Area is proposed transit only, the live rock aquaculturist will need to obtain a sanctuary permit to enter and operate in this zone. In addition, for this site, and more generally, live rock aquaculture practitioners must have a valid State license or Federal permit to operate. As long as they have a copy of this documentation and a sanctuary permit on their vessel if and when operating in the sanctuary marine zone, enforcement action will not be taken with respect to lawful and authorized live rock aquaculture operations within this marine zone. NOAA and FWC will ensure that their enforcement officers are aware that valid State license or Federal permit holders may continue to conduct this activity as licensed or permitted.

Overnight Use of Mooring Buoys

Comment 24: NOAA received comments that were generally not supportive of prohibiting overnight use of mooring buoys, largely due to issues of public safety (e.g., safe harbor during storms), public access, and enforcement. Some public comments, however, highlighted concern about new and increasing practice of anchored and moored vessels being used for overnight accommodation (e.g., vacation rental by owner) and possible impacts from such use, including prohibited discharges. Comments also include alternative proposals including limiting visitors to a maximum 14-day stay to prevent long-term use of moorings.

Response: Mooring buoys are intended to increase boating accessibility while reducing impact to critical and sensitive sanctuary resources caused by anchoring. In the EIS, NOAA considered an alternative that would prohibit use of mooring buoys overnight in response to concerns about impacts of longer term uses such as increased discharges and increased impacts on sanctuary resources, like harvesting of fish. In response to safety concerns, in this alternative NOAA also considered an exception to this regulation for vessels seeking safe harbor. The benefits of this alternative would be to facilitate equitable access to the mooring buoys and to ensure compliance with sanctuary rules while at mooring buoys while continuing to allow overnight use for safety. However, NOAA does not restrict overnight use in the final rule in response to public and agency comments that were generally not supportive of prohibiting overnight use of mooring buoys, largely due to issues of public safety, limiting public access, and enforcement.

Shoreline Slow Speed

Comment 25: NOAA received comments that were generally supportive of modifying the existing idle speed, no wake regulation along all residential shoreline (922.163(a)(5)(iii)(D)) to a more general shoreline slow speed regulation and applying it to all shorelines within the sanctuary. Commenters noted the benefits of such a regulation including (1) potentially decreasing the number of individual WMAs (where speed is regulated); (2) reducing the need for, or at least the number of, marker buoys and signage; and (3) providing additional protections for nearshore habitats and species. Commenters also noted concern regarding the feasibility of enforcing a shoreline slow speed regulation and the number of exceptions that may be required for channels, passes, and ability to access deeper areas nearshore.

Response: The sanctuary's existing regulations prohibit operating a vessel at a speed greater than 4 knots or in a manner which creates a wake within 100 yards of residential shorelines. In Alternative 4, NOAA considered modifying this regulation so that it applies to 100 yards of all shorelines (not just residential) and simplifying the speed restriction by prohibiting “creating an extensive wake.” NOAA acknowledges the value of expanding slow speed regulations for the reasons identified by the commenters, as well as the value that additional shoreline protections could provide in light of potential impacts from climate change and sea level rise. However, in the final rule, NOAA retains the existing regulatory language due to the number of exceptions that may be required for channels and passes and the potential loss of access to deeper areas nearshore. In the preferred final alternative, NOAA carefully considered all of the proposed existing, modified, and new WMAs to ensure that the WMAs will provide additional protections for nearshore habitats and species in the areas of greatest need without a slow speed restriction.

Marine Zones and Associated Regulations

Comment 26: NOAA received numerous suggestions for new or different areas to be designated marine zones.

Response: NOAA carefully assessed all suggestions for new or modified marine zones throughout the Restoration Blueprint process. NOAA's assessment was based on reviewing the resources present in the areas, the condition of those resources, risks to the resources, and the nature and extent of the public's use of those areas. NOAA carried forward new or modified marine zones for additional analysis in the final rule if NOAA identified a potential need for protection that outweighs potential negative effects on the public's use. The new marine zones include: South Islamorada Coral Gardens, Cannon Patch, Sister Creek, Hurricane Key, Don Quixote Key, Howell Key, South Picnic Island, Pine Channel Island, Upper Sugarloaf Sound, Little Saddlebunch, Coconut Key, Bill Finds Key, Veterans Key, Upper Matacumbe Key, Cheeca Rocks Flat, Lower Matacumbe Key, Ocean Reef, and Plantation Key Colony.

Comment 27: NOAA received comments expressing concern that NOAA is establishing new marine zones with access restrictions, particularly impacting fishing access, but NOAA does not subsequently re-open areas for fishing once the marine zone has either achieved its purpose or resource conditions have shifted.

Response: NOAA's final rule eliminates five existing marine zones including one Conservation Area (Looe Key SUA), two SPAs (Rock Key and French Reef) and two WMAs (Little Crane Key and Tidal Flat South of Marvin Key). These existing marine zones are eliminated due to resource condition changes and an opportunity to evaluate different management regimes. The elimination of these zones removes restrictions on fishing in these areas.

In addition, NOAA proposed 13 new marine zones in the 2019 draft EIS that are not included in the proposed or final rule. These proposed marine zones are not being finalized for a range of reasons including the need for additional scientific and user data and concerns about fishing access and other recreational uses within these areas.

Management Areas

Comment 28: NOAA received comments supporting the proposal to change the Existing Management Area zone type to Management Area.

Response: NOAA agrees and is changing the zone type from Existing Management Areas to simply Management Areas. This change is common sense given that all marine zones within FKNMS will now be considered existing. Key Largo and Looe Key areas (which predated and were encompassed in the designation of the FKNMS) are now be referred to as Management Areas with all existing regulations maintained. Great White Heron NWR and Key West NWR, which are referred to as Existing Management Areas, will now simply be referred to as national wildlife refuges. Existing sanctuary regulations in the Key West and Great White Heron NWRs will be maintained with the exception of a minor change to a particular area where personal watercraft will be allowed to operate in Key West NWR where they are otherwise prohibited.

Comment 29: NOAA received comments opposing the proposed no anchor regulations in the Key Largo Management Area and Looe Key Management Area. Specific to the Key Largo Management Area, comments noted that a no anchor regulation would impact the multi-use activities there, including fishing, and the area includes sandy bottom habitats where a no anchor regulation is not needed. Comments did, however, support the use of no anchor regulations in smaller, targeted areas with sensitive habitats that would benefit from protection from anchor damage.

Response: NOAA agrees the area includes sandy bottom habitat and a no anchor regulation is not needed, and the proposed and final rule do not include a no anchor regulation in Key Largo or Looe Key Management Areas. The final rule does, however, include a no anchor regulation in all SPAs and Restoration Areas, which is described below in those respective sections.

Comment 30: NOAA received comments opposing the proposal in the 2019 draft EIS to change the Looe Key Management Area boundary by expanding the Looe Key SPA and Looe Key SUA boundaries because this change would have reduced the extent of the areas where certain fishing activities are currently allowed.

Response: NOAA's final rule maintains the greatest amount of area in the Looe Key Management Area available for fishing. The areas of the Looe Key Management Area, Looe Key SPA, and Looe Key SUA were modified in different configurations in each of the draft EIS alternatives for a few reasons, including to provide additional protections for habitats and species in those areas and in an attempt to simplify the zoning scheme in this area. As in the proposed rule, the final rule does not change the current Looe Key SPA boundary, and the Looe Key SUA is eliminated, thereby opening the area up for fishing that has been closed since 1997. The final rule includes two small Nursery Restoration Areas within the Looe Key Management Area where fishing is prohibited.

Exception for Motorized Personal Watercraft

Comment 31: NOAA received comments related to the operation of motorized PWC in the sanctuary that ranged from banning PWC throughout the sanctuary to opposing any restrictions on where PWC could operate, with the majority of comments supporting some level of continued use of PWCs within the sanctuary. Specific to the proposal to provide a small area open for PWC operation in the Key West NWR, comments included (1) support, (2) recommendations to allow PWC use in areas parallel to the entire length of the Key West ship channel to further public safety, (3) additional licensing requirements for PWC tour operators, and (4) the State of Florida should take the lead for regulating PWC under Chapter 327.60 Florida Statutes.

Response: The current sanctuary regulatory prohibition on the operation of PWC and airboats within the Great White Heron and Key West NWRs prevents the disruption of roosting, foraging, and nesting birds over a widespread area. At this time, NOAA has concluded that the risk of disturbance to sanctuary resources such as birds does not warrant banning PWCs throughout the sanctuary. NOAA finds that it is appropriate to maintain and refine the existing regulation for PWC operations in the areas where the resources of greatest sensitivity are found including the NWRs and the network of islands. The final rule provides a small area for PWC operation in the Key West NWR that is adjacent to the shipping channel to allow for the separation of users engaged in different and conflicting activities while continuing to meet the resource protection goals over the broader area. The Lower Keys Guides Association and the PWC Cooperative requested NOAA allow PWCs in this small area in a presentation to the FKNMS Advisory Council to address concerns about conflict between the operation of PWC and fishing activities in this area including on the eastern side of the shipping channel. NOAA and the Florida Keys NWR support this change to avoid this conflicting use in this very congested shipping channel. All vessel operators have a responsibility to observe the navigation rules and practice good seamanship while transiting this area.

Regarding additional licensing requirements for PWC tour operators, business and livery licensing for PWC tour operators falls under the purview of state, county, and municipal entities, which provide adequate training and screening. Finally, regarding comments asserting that the State of Florida should take the lead for regulating PWC, the State has not enacted regulations to protect sanctuary resources from PWC. Comments also asserted that the current prohibition on PWC does not comply with Florida Statute 327.60, but that provision applies to a county or municipality, not the Federal government. Therefore, the final rule establishes additional regulations on PWC in order to prevent the disturbance of sanctuary wildlife.

Comment 32: NOAA received comments that additional regulation and enforcement of existing regulations of the use of thrill craft (e.g., PWC, airboats, parasails) in the national wildlife refuges is needed.

Response: Existing NOAA regulations prohibit the operation of PWC and airboats within the Great White Heron and Key West NWRs. The Federal Aviation Administration regulates parasail activities and the USCG regulates small passenger vessels that conduct parasail operations. Therefore, at this time, additional regulation and enforcement of existing regulations of the use of thrill craft (e.g., PWC, airboats, parasails) in the national wildlife refuges is not included in the final rule.

Conservation Areas

Comment 33: NOAA received comments supportive of combining the existing Ecological Reserve zone type and existing Special Use zone type into one new Conservation Area zone type and maintaining the existing regulations (e.g., continuous transit only).

Response: NOAA agrees and in an attempt to simplify zone terminology created one Conservation Area zone type that includes the zones with the most restrictive regulations.

Tortugas North Conservation Area Access Permits

Comment 34: NOAA received comments that were supportive of the proposed administrative changes to these permits.

Response: NOAA thanks the commenters for their comments.

Comment 35: NOAA received comments both supporting and opposing establishing three large, contiguous Conservation Areas in each region of the sanctuary (Carysfort Reef, Long Key Tennessee Reef, and Tortugas Corridor). Comments in support were numerous and generally noted the value of providing additional ecosystem-level management and protection. Opposing comments were also numerous and provided specific impacts related to loss of access and opportunity for recreational use in all the proposed areas, particularly related to fishing access.

Response: NOAA considered including large contiguous marine zones in the draft EIS Alternatives 2, 3, and 4 with more area and restrictive regulations in each subsequent alternative to better meet a Sanctuary Advisory Council goal for this review: Protect large, contiguous, diverse, and interconnected habitats that provide natural spawning, nursery, and permanent residence areas for the replenishment and genetic protection of marine life, and protect and preserve all habitats and species. While NOAA believes there is great value in a system of marine zones that includes large contiguous marine zones in each region of the Florida Keys, public sentiment from local Florida Keys residents, location-specific impacts to users (e.g., in some cases a large portion of recreational access would be lost for specific communities), and in some cases (Tortugas Region) additional data is needed. NOAA is committed to working with the community and user groups, agency partners, and researchers to evaluate further refinement of the existing marine zones and to advance a network of marine reserves in the future.

Comment 36: NOAA received comments both supporting and opposing expanding existing marine zones to include deep reef habitat (Tennessee Reef and Western Sambo). Supporting comments noted that expansions would provide additional protections to deep reef habitats that show potential resilience to the stony coral tissue loss disease, could serve as a source for coral reef seed stock, and would provide greater ecosystem level protection. Opposing comments expressed general opposition to limiting any access for fishing activity. Some commenters specifically requested that in the deep reef expansion areas, hook and line trolling or drift fishing be allowed, noting their desire to allow as much user access as possible while still protecting coral reef habitat from physical damage.

Response: The final rule includes the expansion of these two existing zones to include deep reef habitat. Expanding these zones will support ecological resilience in this area and potentially serve as seed stock for shallow coral reefs. Conservation areas are designed to protect interconnected habitat types to facilitate research and protect the full range of habitats and species life cycle needs. Due to the overarching purpose and intent of this zone, NOAA determined that allowing an exception for fishing in these expansion areas would not be compatible with Conservation Areas as the most protective marine zones. The expansion area is 0.97 square miles for Western Sambo and 0.53 square miles for Tennessee Reef. Additionally, NOAA determined that consistent regulations across all Conservation Areas and within specific zones would better facilitate public understanding of what is allowed versus prohibited (e.g., no take) and therefore compliance with zone-specific regulations.

Comment 36: NOAA received comments both supporting and opposing expanding Tortugas South westward to include additional habitat and an area shown to support multi-fish aggregation activity. Comments also requested that, if NOAA extends this zone to the west, that NOAA also consider removing 34 square miles from the southern portion of this zone to allow for fishing opportunities in an area that has been closed to fishing since 2001. Opposing comments expressed general opposition to limiting any access for fishing activity. Specific concerns were raised about the loss of access for the commercial shrimp fishery.

Response: NOAA's final rule includes expansion of Tortugas South to provide additional protection for habitats shown to support multi-species fish spawning aggregation activity. NOAA evaluated recently collected and compiled mapping coverage data and remotely operated vehicle (ROV) imagery showing unique habitat features in this area, including rock escarpment formations and a well-defined ledge. These data also showed the presence of a diversity of fish species. NOAA determined that maintaining protection in the southern portion of Tortugas South is warranted.

Comment 37: NOAA received comments both supporting and opposing the proposal to establish two new Conservation Areas (Channel Key Banks and Red Bay Bank) to protect shallow mixed hardbottom habitat that is not currently well represented in sanctuary marine zones. Comments generally supported additional protections for these areas due to the impacts from vessel prop scarring; however, most commenters did not support applying Conservation Area regulations (e.g., transit only) due to the level of reported fishing use in the area (e.g., lobster). In addition, NOAA received comments requesting that Channel Key within the Channel Key Banks proposed marine zone have no-entry regulations applied given the presence of a high number of nesting and roosting birds.

Response: Alternatives in the draft EIS included a range of different options for establishing marine zones to protect shallow mixed habitat in the bayside Florida Keys. Given the amount of habitat damage in these areas, new protections through marine zoning are warranted; however, informed by public comment about the level of reported use in these areas, the final regulations require idle speed no wake rather than transit only. The final rule also includes much smaller, more targeted areas than initially proposed and allows normal operation through established channels. It includes additional protections at Channel Key due to the high number of roosting and nesting birds; some reports indicate the highest numbers congregating in the Middle Keys region. Under the final rule, these marine zones are considered WMAs rather than Conservation Areas.

Restoration Areas

Comment 38: NOAA received comments supporting establishing new marine zones to facilitate habitat restoration and protect coral reef nursery sites. Public comment also specifically requested that these new zones be considered Restoration Areas through the creation of a new general Restoration Area zone category.

Response: Informed by public comment, the final rule includes a new Restoration Area zone category, which includes two distinct designations: Habitat Restoration Areas where active restoration is taking place and Nursery Restoration Areas where nursery species are propagated. The final rule includes all existing permitted coral reef nursery sites (11 total) as Nursery Restoration Areas and existing permitted coral reef restoration sites (4 total) as Habitat Restoration Areas. NOAA takes this action to recognize the increase in important habitat restoration activities in the sanctuary over the past two decades. Finally, while the final Restoration Area zones are all coral reef sites, this zone type could be used for other habitat areas (e.g., seagrass, sponge, hardbottom). New zones would need to be established in future rulemaking processes.

Comment 40: NOAA received comments requesting two additional coral nursery sites be established as Nursery Restoration Areas. These two nursery sites were installed by restoration practitioners following the release of the 2022 NOPR so were not included in the NOPR alternative.

Response: NOAA has added these two areas to the final rule because the value of including these two additional coral nursery sites is consistent with the goals of this zone type. These new zones are Key Largo Nursery Restoration Area (0.07 square miles, 46.8 acres) and Islamorada Nursery Restoration Area (0.07 square miles, 47.2 acres).

Sanctuary Preservation Areas

Comment 41: NOAA received comments opposing the application of an idle speed no wake regulation in all SPAs due to several factors, including the size of many zones and the inclusion of portions of Hawk Channel in some SPAs.

Response: NOAA agrees and determined that an idle speed no wake regulation in all SPAs is not practicable; therefore, it was not carried forward in the final rule.

Comment 42: NOAA received comments supporting the application of a no anchoring regulation in all SPAs to provide greater protections to coral and other sensitive habitats from anchor damage. Commenters also expressed the need for additional, well placed and maintained mooring buoys, particularly if additional no anchor restrictions would be applied. Commenters requested that updates to the mooring buoy program include input from user groups.

Response: The final rule includes a no anchor regulation for all SPAs in order to provide greater protections from anchor damage for areas with sensitive habitats. The management plan also includes activities related to review and update of the sanctuary mooring buoy program including plans to engage user groups to help identify areas of use, numbers of users, and placement of mooring buoys (see Management Plan comments and responses below).

Comment 43: NOAA received comments both supporting and opposing the proposal to establish two new SPAs to protect patch reef habitat (Turtle Rocks and Turtle Shoals). The majority of commenters supported establishing these new zones. Some commenters also supported establishing these areas as Conservation Areas to provide the greatest level of protection for these sensitive habitats. Opposing commenters expressed concern regarding limiting any access for fishing activity due to the fact that SPA regulations prohibit fishing.

Response: The draft EIS alternatives included a range of options for establishing marine zones at these two sites, including designating these areas as Conservation Areas (the most protective marine zone) and SPAs (allowing access but no take). Informed by public comment, the final rule includes these two sites as new SPAs to protect important patch reef habitat. Establishing these areas as SPAs will allow access for diving and snorkeling and will prohibit fishing in these areas.

Comment 44: NOAA received comments supporting the proposal to combine two existing SPAs (Key Largo Dry Rocks and Grecian Rocks) into one larger SPA zone. Commenters in support noted the value of larger SPA zones for greater protection to habitats and species. The majority of commenters supporting combining these two zones requested that the expanded zone be more targeted on the core area of coral reef habitat. NOAA also received comments that opposed combining these two zones, most noting that the expansion includes large areas of sand bottom rather than coral reef and opposing limiting any access for fishing.

Response: Informed by public comment, NOAA modified the size of this zone for the NOPR and Final Rule to focus the zone on the high relief reef areas to balance protection with greater access in the surrounding waters (Alternatives 2, 3, and 4 include a proposed 1.2 square mile zone and the NOPR and Final Rule include a 0.5 square mile zone). Through the final rule, NOAA will more fully protect the habitats and species present at this site as data show that the larger zone size more adequately captures the area necessary for different life cycle stages of some fish species.

Comment 45: NOAA received comments both supporting and opposing expanding existing marine zones to include deep reef habitat (Carysfort Reef and Alligator Reef). Supporting comments noted that expansions would provide additional protections to deep reef habitats that show potential resilience to stony coral tissue loss disease, could serve as a source for coral reef seed stock, and would provide greater ecosystem level protection. Opposing commenters expressed concern with limiting any access for fishing activity. Some commenters specifically requested that in the deep reef expansion areas, hook and line trolling or drift fishing be allowed, noting their desire to allow as much user access as possible while still protecting coral reef habitat from physical damage.

Response: The final rule expands these two existing zones to include deep reef habitat. Including deep reef habitat in the marine zone will further support ecological resilience in this area and potentially serve as seed stock for shallow coral reefs. SPAs are established, in part, to separate conflicting uses (e.g., diving/snorkeling and fishing). Therefore, allowing an exception for fishing in these expansion areas would not be compatible with the purpose and intent of SPAs to separate conflicting uses. Additionally, consistent regulations across all SPAs and within specific zones will better facilitate public understanding of what is allowed and result in greater compliance with associated regulations. The expansion area is 1.6 square miles for Carysfort Reef and 0.20 square miles for Alligator Reef.

Catch and Release Fishing by Trolling in Four Sanctuary Preservation Areas

Comment 46: NOAA received comments supporting the elimination of the exception in four SPAs for catch and release fishing by trolling. Commenters noted the benefit of consistent regulations within all SPAs and that SPAs should be fully no-take zones as the area in the sanctuary that is truly no-take is very small. NOAA received comments that opposed the elimination of this exception due to concerns about the loss of fishing access in these SPAs, noting that this exception was part of trade-off with fishermen to gain their support for the establishment of SPAs in 1997 and that this agreement should continue to be upheld and that trolling is not likely to impact the benthic habitats in these areas.

Response: NOAA's final rule eliminates catch and release trolling in SPAs in order to standardize all regulations for SPAs. NOAA acknowledges that catch and release trolling may not impact the benthic habitats in these areas, but NOAA's analysis suggests that having consistent regulations in all SPAs outweighs maintaining this exception that was instituted over 26 years ago. NOAA has attempted through this and other regulatory changes to create consistent regulations within all SPAs. Given the numbers of individuals accessing and recreating in these specific marine zones, having consistent regulations increases the likelihood that users know and understand what activities are allowed versus prohibited to facilitate increased compliance with marine zone-specific regulations. Eliminating this exception will also facilitate enforcement against unlawful fishing. Given that an overarching purpose of SPA zones is to reduce user conflict, fully separating fishing and diving/snorkeling activity more fully realizes this zone's purpose. Through this change, a total of 1.22 square miles (779 acres) that once allowed catch and release fishing by trolling will no longer allow such fishing.

Bait Fish Permits in Sanctuary Preservation Areas

Comment 47: NOAA received comments supporting the proposal to stop issuing permits for baitfishing in SPAs noting that allowing this activity in these zones creates (1) confusion for the public regarding what is and is not allowed, (2) provides an incentive to fish in no-fishing zones, and (3) creates enforcement challenges given public confusion. Commenters also supported NOAA's intent to create consistent regulations in all SPAs. NOAA also received comments opposing the elimination of baitfishing permits in SPAs. These commenters generally noted that allowing baitfishing in SPAs was part of an original trade-off with fishermen to gain their support for the establishment of SPAs and that this agreement should continue to be upheld. Commenters also more specifically stated that the gear type used does not impact the benthic habitat and that this activity is generally undertaken early in the morning thereby limiting the potential overlap of fishing activity with diving and snorkeling.

Response: Beginning on the effective date of this final rule, NOAA will begin to phase out the practice of issuing baitfishing permits for SPAs over a 3-year period to create fully no take SPAs. NOAA's elimination of the practice of issuing baitfish permits does not require a change to the regulations and will be implemented via changes to FKNMS's permitting policies. When final FKNMS regulations become effective, existing baitfishing permit holders will have the option to renew their permit annually for three years, but NOAA will not issue any baitfishing permits to any additional persons. After the third year, NOAA will no longer issue permits for this activity. This change, while not requiring a change to the regulations, contributes to creating consistent regulations in all SPAs, will aid in user understanding and compliance, and will facilitate enforcement. Consistency of regulations and practices in SPAs outweighs issuing baitfish permits as initiated over 26 years ago. This decision is based on over 25 years of management of the network of marine zones within the sanctuary, including a review of catch log data submitted by permit holders over the past five years. These reports indicate that there is a limited number of recreational and commercial fishermen using the permits to catch baitfish, with over half of the permitted fishermen reporting annually they are not using the permit (i.e., not catching baitfish within the SPAs. To see a summary of baitfishing permit usage analysis see Appendix B in the Updated Socioeconomic Supporting Documentation for the 2019 Draft Environmental Impact Statement and 2022 Proposed Rule, which is available at the website listed in the ADDRESSES section above in this rule). Those fishermen that do state they are harvesting baitfish within the SPAs report very low catch numbers, leading NOAA to believe that very few users will be adversely affected by this change and that most fishermen are already catching baitfish outside of the SPAs. Given that an overarching purpose of SPA zones is to reduce user conflict, fully separating fishing and diving/snorkeling activity more fully realizes this zone's purpose.

Restricted Access in Select Sanctuary Preservation Areas

Comment 48: NOAA received comments specific to the proposal to limit access in select SPAs, with the majority of comments opposing any proposal that would restrict local boater access. While not supporting this specific proposal, commenters noted concern about increasing numbers and intensity of use and expressed support for considering ways to manage the numbers of users in the sanctuary in both coral reef and the waters and islands on the Gulf side of the Florida Keys (i.e., backcountry areas). Many commenters acknowledged that other resource protection entities (U.S. Forest Service, National Park Service, and international marine parks, among others) manage use, access, and overall numbers of users through various regulatory and non-regulatory mechanisms, and some commenters provided ideas and recommendations for consideration. While public comment generally supported the concept of limiting access, there was little support for the specific locations selected for closure to the public by NOAA in the draft EIS. In addition, the public did not support the proposal to limit access by only allowing certain commercial operators (i.e., Blue Star Program participants), because commercial operators bring more individuals to a site than individual boaters.

Response: Draft EIS Alternatives 3 and 4 would have limited commercial access in three SPAs to Blue Star designated operators. In the final rule, NOAA does not include this regulation or any regulation that specifically restricts access by setting a limit on the number of users allowed to access specific sanctuary marine zones. Informed by public comment, NOAA determined that more information, additional public input, and evaluation of additional management tools would be needed prior to implementing a limited access regulation. Part of this evaluation would include consideration of how NOAA would manage and enforce a limited access regulation in some SPAs. Finally, in response to comments acknowledging the need to address the increasing numbers of users and visitors, the final management plan includes additional information about NOAA's intent to better assess sanctuary carrying capacity, evaluate regulatory and non-regulatory tools to manage use and number of users of the sanctuary, and consider how existing regulations and management activities can be more strategically applied to better manage use and impacts from use (e.g., boater education, mooring buoys, proposed no anchor regulation in SPAs, etc.). With this additional evaluation and further public and agency engagement, NOAA may consider regulatory action to manage the number of users and impacts of this use on sanctuary resources in the future.

Wildlife Management Areas

Comment 49: NOAA received comments that supported no change to existing zones (e.g., status quo) and other comments that supported creating additional WMAs and/or expanding existing WMAs. Even those comments that supported no change to the zones generally supported taking action to protect sanctuary resources while also allowing the greatest level of access and use. Most public comments included some mention of the importance and challenge of marking WMAs and educating the public (particularly the visiting, non-resident public) about the nature of navigating in the backcountry and shallow waters of the Florida Keys. NOAA received comments specific to every WMA including comments regarding the size and shape of WMAs and the regulations applied within them.

Response: WMAs are established for location-specific resource management needs and issue-specific regulations are applied (e.g., idle speed no wake vs. no entry). NOAA used two criteria when developing WMAs: (1) favor resource protection goals over access when data demonstrates the need and (2) implement the least restrictive access regulations and zone size to achieve resource protection goals. Additional considerations included simplifying zones and associated regulations to enhance user understanding of the zone area and associated regulations to facilitate greater compliance. Finally, with respect to those zones focused on shallow water habitat/seagrass protection, NOAA considered the success of existing no motor zones (e.g., Tavernier Key WMA) and utilized recent prop scar mapping data to determine where additional restrictions were necessary. The selection of the WMAs in the final rule reflects a careful consideration and balancing of these factors.

Contour of 300 Feet Around Islands vs. Straight Line Zones

Comment 50: NOAA received comments supporting using straight lines for WMAs for easier marking, compliance, and enforcement. NOAA received comments opposing using straight lines for WMAs noting that more area than needed for the resource protection goals would be included in the marine zone thereby affecting the area accessible by various user groups.

Response: NOAA's rule includes a 300 foot (100 yard) buffer zone around sensitive islands and creates zone boundaries that align with the habitats intended for protection within the marine zone rather than straight line boundaries. NOAA considered straight line WMA boundaries, which have an advantage because they further simplify the zone shape, improve the ability to mark, and improve enforcement. Despite these benefits, NOAA ultimately decided in this final rule to define boundaries that follow the contours around islands and other natural features (e.g., seagrass beds, bank habitats) in order to provide the least restrictive access regulations and zone size to achieve resource protection goals.

Recommendation of a 50 Foot No Entry Zone Surrounded by a 300 Foot No Motor Zone

Comment 51: NOAA received comments recommending a modified regulatory scheme for several WMAs of a 50 foot no entry area closest to shore (e.g., about two-boat lengths) surrounded by an outer additional 300 foot no motor area. The intent of these recommendations is to allow the greatest user access while still maintaining protections for sensitive habitat, bird nesting and roosting sites, and turtle nesting beaches.

Response: NOAA evaluated these recommendations and for several reasons did not include them in the final rule. Primarily, NOAA's decision criteria favor resource protection over access when data demonstrates the need. These decisions were further informed by comments and data submitted by the USFWS that a minimum 100-yard distance (i.e., 100-yard no entry zone) is needed to minimize disturbance to wading and migratory birds. Bird species will be disturbed and negatively impacted where no-entry zones are less than 100 yards and boater traffic of any kind (including kayaks and other paddle craft) is allowed. Aside from sea-level rise, the number one threat to the long-term persistence of these bird species in the national wildlife refuges is human disturbance. Secondarily, the proposed scheme is complicated, and an overarching goal for the marine zoning component of this rulemaking is to simplify and create consistent regulations where possible to facilitate compliance and enforcement.

Idle Speed No Wake and Channel Access

Comment 52: NOAA received comments specific to several proposed idle speed no wake zones that, while supporting the zone, requested maintaining normal operation in channels.

Response: NOAA agrees and in the final rule has clarified where channels are open for normal operation (e.g., Marathon WMA) and in some cases has added additional channels based on user feedback (e.g., Channel Key WMA).

No Anchor

Comment 53: NOAA received comments specific to the proposed no anchor WMAs, including that they are not necessary (e.g., Archer Key) and that safe harbor anchoring and anchoring for educational purposes should be excluded (e.g., Tavernier Key).

Response: The final rule does not include a new no anchor zone at Archer Key as proposed in draft EIS Alternative 2. The purpose and intent of this zone—to protect seagrass and hardbottom habitat—is sufficiently addressed through the three existing FKNMS mooring buoys installed in that area. The final rule also does not include a no anchor regulation at Tavernier WMA and Dove Key and Rodriguez Key WMA because of public use of these areas for recreation and, specific to the sailing community, the use of these areas for both safe harbor and sailing and anchoring education. Both of these high use marine zones still include the no motor regulation aimed at protecting habitat from vessel damage. For all of these WMAs, if impacts to the habitat increase, NOAA could reevaluate regulations at these locations.

Clarification of No Motor Regulation

Comment 54: NOAA received comments seeking clarification about the proposed no motor WMAs, specifically whether vessels could have motors and/or what types of motors may be allowed in these WMAs.

Response: The final rule maintains the existing “no motor” definition, which applies to all modified or no motor WMAs (12 WMAs) and means the use of internal combustion motors is prohibited. NOAA will provide information in outreach and educational products to help boaters understand and comply with this regulation. A vessel with an internal combustion motor on board may still access a no motor zone, but only through the use of a push pole, paddle, sail, electric motor, or similar means of operation. It is prohibited from using its internal combustion motor.

Change of No Access Buffer and Closed Regulation to No Entry

Comment 55: NOAA received comments both supporting and opposing the proposed change of the existing no access buffer and closed regulation to no entry. The majority of commenters supported the change, noting that it made sense to simplify the language and be consistent with State zone types and associated regulations. Those who opposed the change asserted that the existing regulation was sufficient for the resource protection goals.

Response: The final rule changes the no access buffer and closed regulations to no entry to be consistent with the intent of the regulation and with complimentary State regulations. The existing no access buffer zone identifies a portion of the sanctuary where vessels are prohibited from entering regardless of the method of propulsion. In general practice, the no access buffer, closed, and no entry regulations have similar intent. This change applies to nine of the existing WMAs.

No Entry and Access for Education and Eco-Tour Operators

Comment 56: NOAA received comments specific to certain proposed no entry WMAs related to continued educational and eco-tour operation (e.g., Pelican Key). Comments included (1) opposition to no entry due to the loss of access and (2) support for no entry if access for educational and eco-tour operators would be allowed.

Response: The resources present at many of these locations need the greatest level of protection and, therefore, these zones are no entry in the final rule. In addition, given the educational opportunities some of these sites provide to advance understanding and stewardship ethic of these resources, NOAA will consider using its existing permit categories to permit educational and eco-tour operators. Permits will be issued on a case-by-case basis and will help inform the numbers, types, and frequency of use in these areas. NOAA will also work with partners to evaluate the potential impacts of use in these areas to determine if continued access should be allowed and permitted.

Other Zone-Specific Comments

Comment 57: NOAA received comments both supporting and opposing protections for a multi-species fish spawning aggregation site at Western Dry Rocks. Comments included support for year-round closure, seasonal closure, no action, and deferring to FWC to take action as this area is in State waters.

Response: The final rule includes a WMA at Western Dry Rocks with regulations that align with existing FWC regulations (as of February 2021) with a seasonal no fishing prohibition from April 1 to July 3 and a no anchor regulation during that same time period. NOAA includes additional anchoring restrictions because the ecological features present at this site contribute to the establishment and maintenance of a fish spawning aggregation site.

Comment 58: NOAA received comments both supporting and opposing a proposed new marine zone protecting an internationally important sea turtle foraging habitat area. Comments included (1) support for the greatest level of protection (e.g., transit only) in the largest area where sea turtles are shown to be present in high numbers; (2) support for a smaller targeted area; (3) support for less restrictive regulations (e.g., idle speed no wake); (4) questioning the need of such a zone given the perceived increase in turtle numbers and lack of data for turtle strikes that can be attributed to vessel traffic in this specific area; (5) opposition to this zone due to the need to transit through this area to take safe harbor in the Marquesas Keys; and (6) opposition to this zone due to the potential loss of fishing access depending on the regulation applied.

Response: NOAA determined that protecting this internationally important sea turtle foraging habitat area is needed and will apply idle speed no wake regulations in this area to protect this habitat from vessel impacts. In developing the final rule, NOAA reviewed updated data for this site and now modifies the size of the marine zone and includes the area of greatest habitat variability and highest numbers of turtle sightings. This size modification removes the southern portion, which allows safe transit to the Marquesas Keys. In addition, by applying an idle speed no wake regulation instead of a no entry or transit only regulation, this area is still accessible for fishing activities and other uses.

Comment 59: NOAA received comments suggesting numerous additional areas to include as new WMAs (e.g., Hurricane Key, Don Quixote, Bill Finds Key).

Response: NOAA used the two criteria for considering new WMA marine zones (resource protection need and public access/use) and evaluated all additional marine zones proposed by public comment under these criteria. NOAA is not including any additional WMAs beyond those included in the 2022 NOPR. Through the updated WMA zones, NOAA prioritized modifying or creating new WMAs where resources demonstrated the greatest need for additional protections while balancing user access. In response to changing resource conditions or levels, types, and intensity of use, NOAA will continue to work with sanctuary users, agency partners, and research partners to evaluate existing zones and the need to consider modified or new protections.

VII. Classification

1. National Marine Sanctuaries Act

Section 301(b) of the NMSA provides authority for comprehensive and coordinated conservation and management of national marine sanctuaries in coordination with other resource management authorities. Section 304(a)(4) of the NMSA requires that the procedures specified in Section 304 for designating a national marine sanctuary be followed for modifying any terms of designation. This action is revising the terms of designation (e.g., expanding the boundary) for FKNMS. Pursuant to NMSA Section 303(b)(2), NOAA provided notice of this action at the draft EIS and proposed rule phases to the Committee on Resources of the House of Representatives; the Committee on Commerce, Science, and Transportation of the Senate; and the Secretaries of State, Defense, Transportation, and the Interior, and invited further consultation.

Section 304(a)(5) of the NMSA also requires that NOAA consult with the appropriate FMC on any action proposing to regulate fishing in Federal waters. Consultation with the SAFMC and GMFMC is discussed above in part II, The Restoration Blueprint Process. Pursuant to Section 304(b)(1) of the NMSA, NOAA will submit a notice of this action to Congress, and the Governor of Florida will also have the opportunity to review this final action.

2. National Environmental Policy Act

In accordance with Section 304(a)(2) of the NMSA (16 U.S.C. 1434(a)(2)), and the provisions of NEPA (42 U.S.C. 4321 et. seq.). NOAA has prepared a final EIS to evaluate the impacts of this action. For more information on the final EIS and steps leading to the action, please refer above to part II, The Restoration Blueprint Process, section 2. The final EIS contains a statement of the purpose and need for the project, description of alternatives, including the no action alternative, description of the affected environment, and evaluation and comparison of environmental consequences including cumulative impacts. Based on the evaluation of the alternatives, NOAA determined that no significant adverse impacts to resources and the human environment are expected if any of the alternatives are adopted, and this conclusion applies to this action.

This EIS applies CEQ's 1978 NEPA regulations because review of this proposed action began on August 20, 2019, which preceded the effective date of CEQ's which preceded the effective date of CEQ's Phase 2 NEPA regulations (July 1, 2024)

NOAA has also issued a ROD. Copies of the final EIS and ROD are available at the address and website listed in the ADDRESSES section of this final rule.

3. Executive Order 12866: Regulatory Planning and Review

The Office of Management and Budget (OMB) has determined this rule is significant under Executive Order 12866, “Regulatory Planning and Review,” 58 FR 190 (Oct 4, 1993), as supplemented and reaffirmed E.O. 14094, “Modernizing Regulatory Review,” 88 FR 21879 (April 11, 2023). Please see final EIS Appendix K: Cost-Benefit Analysis, which is available at the address and website listed in the ADDRESSES section of this final rule for more information. Based upon information provided in Cost-Benefit Analysis, the NOAA estimates annual effect of this rulemaking is less than $200 million, and the rule will not adversely affect in a material way the economy, a sector of the economy, productivity, competition, jobs, the environment, public health or safety, or State, local, or Tribal governments or communities. Under the baseline for this action, NOAA would maintain the existing sanctuary boundary, sanctuary-wide regulations, marine zones and associated regulations, and management plan. The existing activities occurring in the sanctuary are described in the final EIS by resource area under the No Action Alternative subsections in Chapter 4: Affected Environment. With this action, changes to marine zones that may restrict certain commercial and recreational uses (e.g., recreational boaters, fishers, divers) in those areas are spatially small compared to the area of FKNMS that will remain available for those uses, resulting in limited impacts. Some costs are expected to occur within the commercial and recreational fishing industries, while the majority of benefits will accrue to the non-consumptive users (e.g., divers, snorkelers, kayakers, wildlife viewers). Some of the costs that may be experienced are loss of fishing revenue and loss of recreational fishing activity. Benefits include improvements to natural resource conditions resulting in improved visitor experience. Detailed analyses of the costs and benefits of this rulemaking are provided in the 2022 Socioeconomic Report which is available in the ADDRESSES section of this final rule.

4. Executive Order 13132: Federalism Assessment

NOAA has concluded this regulatory action does not have federalism implications sufficient to warrant preparation of a federalism assessment under Executive Order 13132. This rule will not have a substantial or direct effect on states or local governments. NOAA has coordinated closely with State partners throughout the development of this rule and, where applicable and practicable, aligns with and/or defers to existing State regulations for proposals within State waters of the sanctuary. NOAA has aimed for consistent regulations throughout sanctuary waters including those within State and Federal jurisdiction.

5. Executive Order 13175: Consultation and Coordination With Indian Tribal Governments

Executive Order 13175 reaffirms the Federal government's commitment to tribal sovereignty, self-determination, and self-government. Its purpose is to ensure that all Executive departments and agencies consult with Indian tribes and respect tribal sovereignty as they develop policies on issues that impact Indian communities. This action is not anticipated to have substantial direct effects on one or more Indian tribes, on the relationship between the Federal government and Indian tribes, or on the distribution of power and responsibility between the Federal government and Indian tribes. The Seminole Tribe of Florida Tribal Historic Preservation Office provided comments on the draft EIS specific to the Programmatic Agreement under Section 106 of the National Historic Preservation Act regarding Florida Keys National Marine Sanctuary Operations, Management, and Permitting, and consultation related to archaeological research permits.

6. Regulatory Flexibility Act

The Regulatory Flexibility Act (RFA), as amended and codified at 5 U.S.C. 601 et seq., requires an agency to prepare a regulatory flexibility analysis of any rule subject to the notice and comment rulemaking requirements under the Administrative Procedure Act (5 U.S.C. 553) or any other statute, unless the agency certifies that the rule will not have a significant economic impact on a substantial number of small entities. Pursuant to section 605(b), the Chief Counsel for Regulation, Department of Commerce, submitted a memorandum to the Chief Counsel for Advocacy, Small Business Administration, certifying that the proposed rule would not have a significant impact on a substantial number of small entities. The rationale for that certification was set forth in the preamble of the proposed rule (87 FR 42800, July 18, 2022), and in the supporting 2022 Socioeconomic Report, which is available on the website listed in the ADDRESSES section above in this rule. NOAA primarily considered the years 2015-2019 for commercial fishing and 2014-2018 for recreational fishing, the latest data available at the time of this analysis. NOAA relied on commercial fishing data from FWC and recreational fishing data from NMFS' Marine Recreational Information Program. ONMS also consulted with NMFS to utilize estimates of economic impact and data from fishery management council reports to estimate changes to the commercial and recreational fishing sectors.

Small entities are defined by the Small Business Administration (SBA). The definition of the relevant small businesses are presented here and are from the most recent size standards published by the SBA in 2019 (US SBA, 2019). Size standards are based upon the average annual receipts (all revenue) or the average employment of a firm. The commercial size standards for finfish fishing (NAICS code—114111) is $22.0 million, shellfish fishing (NAICS code—114112) is $6.0 million and other marine fishing (NAICS code—114119) is $8.0 million. Scenic and sightseeing transportation, water-based businesses such as for-hire recreational fishing operations, and dive/snorkeling for-hire operations (NAICS code—487210) have size standards of $8.0 million.

NOAA found, in summary, that this action is not expected to reduce the profits of any small businesses directly regulated by this rule. This is in part due to the potential for substitution of location for activities and that the rule is informed by and responsive to comments from the potentially impacted user groups (e.g., two specific marine zones included in the draft EIS are were not included in the proposed or final rule due, in part, to comments from lobster fishermen regarding their expected maximum potential loss of access and use). Costs to the fishing sector assume the maximum potential loss and that there is no replacement value (i.e., moving activities to a different location). Overall losses were less than 1% of annual revenue for all fisheries except the spiny lobster fishery, where an approximate 2% annual loss was estimated. This regulatory action would not establish any new reporting or record-keeping requirements. No duplicative, overlapping, or conflicting federal rules have been identified.

Although NOAA has made minor changes to the regulations from the proposed rule to the final rule, none of the changes alter the initial determination that this rule will not have a significant impact on a substantial number of small entities. The changes between the proposed and final rule for this action are nominal; the changes clarify a few of the regulatory definitions and slightly modify several marine zone boundaries and their associated regulations (see Section III of this final rule preamble for additional details). Between the proposed and final rule, NOAA has reduced the sizes of the zones within which small entities would be affected; therefore, NOAA expects less cost to operators in FKNMS than reported in the proposed rule. NOAA also did not receive any comments on the certification or conclusions. Therefore, for the reasons stated above, the determination that this rule will not have a significant economic impact on a substantial number of small entities remains unchanged. As a result, a final regulatory flexibility analysis was not required and none was prepared.

7. Paperwork Reduction Act

The existing FKNMS regulations contain a collection-of-information requirement for persons making an application for a permit. This collection of information is subject to the Paperwork Reduction Act (PRA), approved by the Office of Management and Budget (OMB), under control number 0648-0141 (expires November 30, 2024), for collection-of-information for reporting and recordkeeping requirements under 15 CFR part 922. This rule will not increase or otherwise revise the existing paperwork burdens.

The public reporting burden for national marine sanctuary general permit applications is estimated to average 1 hour 30 minutes per application, including the time for reviewing the application instructions, searching existing data sources, gathering and maintaining the data needed, and completing and reviewing the collection of information. For special use permits, a collection-of-information requirement is necessary to determine whether the activities are consistent with the terms and conditions of special use permits prescribed by the NMSA. The public reporting burden for this collection of information is estimated to average eight (8) hours per response (application, annual report, and financial report), including the time for reviewing instructions, searching existing data sources, gathering and maintaining the data needed, and completing and reviewing the collection of information. The current OMB-approved collection-of-information requirement also includes other types of permits that may be issued by FKNMS, such as Tortugas North access permits, authorization permits, and certification permits. The estimates set forth in the OMB approval do not include additional time that may be required should the applicant be required to provide information to NOAA for the preparation of documentation that may be required under NEPA (16 U.S.C. 1431 et seq.).

NOAA does not expect that this rule will appreciably change the average annual number of applicants or the reporting burden for the information requirements supporting general or special use permits, authorization permits, or certification permits because sanctuary boundaries, marine zones, and regulations are not being modified in such a way that a significant number of new permits are expected or required. Uses that require permits are anticipated to continue with similar frequencies as current operations. NOAA believes that the updated regulations do not necessitate a modification to its information collection approval by the Office of Management and Budget under the Paperwork Reduction Act. However, an increase in the number of ONMS permit requests would require a change to the reporting burden certified for OMB control number 0648-0141. While not expected, if such permit requests do increase, an update to this control number for the processing of ONMS permits would be requested.

In the most recent Information Collection Request revision and approval for national marine sanctuary permits (dated November 30, 2021), NOAA reported approximately 424 national marine sanctuary permitting actions each year, including applications for all types of ONMS permits, requests for permit amendments, and the conduct of administrative appeals. NOAA determined that this final rule does not necessitate a modification to its information collection approval by OMB under the Paperwork Reduction Act because no increase in the number of permits requested is anticipated. NOAA solicited comments on this determination in the proposed rule, and no public comments were received. NOAA is also requesting a revision and extension of its approved information collection request, outside of this rulemaking, for national marine sanctuary permits to include the additional estimated permit numbers, which will apply to FKNMS.

8. National Historic Preservation Act

The National Historic Preservation Act (NHPA; 54 U.S.C. 300101 et seq.) is intended to preserve historical and archaeological sites in the United States. The NHPA created the National Register of Historic Places, the list of National Historic Landmarks, and the State Historic Preservation Offices (SHPO). Section 106 of the NHPA requires Federal agencies to take into account the effects of their undertakings on historic properties and afford the Advisory Council on Historic Preservation (ACHP) a reasonable opportunity to comment. The review process mandated by Section 106 is outlined in regulations issued by the ACHP (36 CFR part 800 ¹⁴).

¹⁴ https://www.ecfr.gov/current/title-36/chapter-VIII/part-800.

In coordinating its responsibilities under Section 106 of the NHPA with the release of the 2019 draft EIS, NOAA solicited for and identified potential consulting parties, identified historic properties in the area of potential effects, and assessed the effects of the undertaking on such properties in consultations with those identified parties. NOAA received official comment letters from the Florida SHPO, the Seminole Tribe of Florida, non-governmental organizations, associations, sanctuary historical resource permittees, and other interested members of the public. Pursuant to 36 CFR 800.16,¹⁵ the term “historic property” means any prehistoric or historic district, site, building, structure or object included in, or eligible for inclusion in, the National Register of Historic Places maintained by the Secretary of the Interior. The term includes artifacts, records, and remains that are related to and located within such properties as well as properties of traditional religious and cultural importance to an Indian tribe . . . that meet the National Register criteria.

¹⁵ https://www.ecfr.gov/current/title-36/chapter-VIII/part-800/subpart-C/section-800.16.

NOAA determined that the action will have no adverse effects on the historic properties within the area of potential effects. NOAA received comment from the Florida SHPO that the draft EIS sufficiently addressed the sanctuary's NHPA Section 106 responsibilities through implementation of the new management plan and through the development of an updated Section 106 Programmatic agreement.

In addition, NOAA initiated consultation with the Seminole Tribe of Florida and the Miccosukee Tribe of Indians of Florida. NOAA received comments from the Seminole Tribe of Florida requesting that NOAA specifically include reference to its Section 106 responsibility to consult with interested federally recognized Tribes before issuing permits for archaeological research and on all undertakings with the potential to affect historic properties. NOAA has incorporated these comments into the final EIS. NOAA invited further comment on the notice of proposed rulemaking and received no additional comments from either the Florida SHPO or Tribes. For associated correspondence, see EIS Appendix J.

NOAA will continue coordination with the Florida SHPO, ACHP, and other consulting parties to finalize the draft Programmatic Agreement under Section 106 of the National Historic Preservation Act regarding Florida Keys National Marine Sanctuary Operations, Management, and Permitting, which is a separate effort from this rulemaking.

9. Coastal Zone Management Act

Section 307 of the Coastal Zone Management Act (CZMA; 16 U.S.C. 1456) requires Federal agencies to conduct their activities in a manner that is consistent to the maximum extent practicable with the enforceable policies of a state's coastal management program if such activities will affect any coastal uses or resources of the State. NOAA provided copies of the draft EIS to the State of Florida and requested that the State identify any enforceable policies of its coastal management program applicable to the proposed action. In compliance with the CZMA, NOAA prepared a consistency determination, and on May 21, 2024 submitted it to the State of Florida. On August 6, 2024 the State of Florida issued a letter of conditional concurrence to NOAA.

List of Subjects in 15 CFR Part 922

Administrative practice and procedure, Coastal zone, Fishing gear, Incorporation by reference, Marine resources, Natural resources, Penalties, Recreation and recreation areas, Wildlife.

Nicole R. LeBoeuf,
Assistant Administrator for Ocean Services and Coastal Zone Management, National Ocean Service, National Oceanic and Atmospheric Administration.

For the reasons set forth above, NOAA is amending 15 CFR part 922 as follows:

PART 922—NATIONAL MARINE SANCTUARY PROGRAM REGULATIONS

1. The authority citation for part 922 continues to read as follows:

Authority: 16 U.S.C. 1431 et seq.

Subpart P also issued under Public Law 101-605.

2. Revise subpart P to read as follows:

Subpart P—Florida Keys National Marine Sanctuary

Sec.
922.160 Purpose.
922.161 Boundary.
922.162 Definitions.
922.163 Prohibited activities—Sanctuary-wide.
922.164 Additional activity regulations by designated sanctuary area.
922.165 Temporary regulation for emergency and adaptive management.
922.166 National Marine Sanctuary permitting—General permits, special use permits, and authorizations.
922.167 National Marine Sanctuary permitting—Certifications.
922.168-922.178 [Reserved]
922.179 Incorporation by reference.
Appendix A to Subpart P of Part 922—Florida Keys National Marine Sanctuary Boundary Coordinates
Appendix B to Subpart P of Part 922—Areas To Be Avoided Boundary Coordinates
Appendix C to Subpart P of Part 922—Management Areas Boundary Coordinates
Appendix D to Subpart P of Part 922—National Wildlife Refuges Boundary Coordinates
Appendix E to Subpart P of Part 922—Wildlife Management Areas Boundary Coordinates and Access Restrictions
Appendix F to Subpart P of Part 922—Sanctuary Preservation Areas Boundary Coordinates
Appendix G to Subpart P of Part 922—Conservation Areas Boundary Coordinates
Appendix H to Subpart P of Part 922—Restoration Areas—Habitat Boundary Coordinates Appendix I to Subpart P of Part 922—Restoration Areas—Nursery Boundary Coordinates

§ 922.160 Purpose.

(a) The purpose of the regulations in this subpart is to implement the comprehensive management plan for the Florida Keys National Marine Sanctuary by regulating activities affecting the resources of the sanctuary or any of the qualities, values, or purposes for which the sanctuary is designated, in order to protect, preserve, and manage the conservation, ecological, recreational, research, educational, historical, and aesthetic resources and qualities of the area. In particular, the regulations in this subpart are intended to protect, restore, and enhance the living resources of the sanctuary, contribute to the maintenance of natural assemblages of living resources for future generations, provide places for species dependent on such living resources to survive and propagate, facilitate to the extent compatible with the primary objective of resource protection all public and private uses of the resources of the sanctuary not prohibited under other authorities, reduce conflicts between such compatible uses, and achieve other policies and purposes of the Florida Keys National Marine Sanctuary and Protection Act and the National Marine Sanctuaries Act.

(b) Section 304(e) of the NMSA requires the Secretary to review management plans and regulations every five years, and make necessary revisions. Upon completion of the five-year review of the sanctuary management plan and regulations, the Secretary will re-propose the regulations in their entirety with any proposed changes thereto. The Governor of the State of Florida will have the opportunity to review the re-proposed regulations before they take effect and if the Governor certifies any such regulation as unacceptable, it will not take effect in State waters of the sanctuary.

§ 922.161 Boundary.

The sanctuary consists of an area of approximately 3,427 square nautical miles (4,539 square statute miles) of coastal and ocean waters, and the submerged lands thereunder, surrounding the Florida Keys in Florida. Appendix A to this subpart sets forth the precise sanctuary boundary.

§ 922.162 Definitions.

The following definitions apply to the Florida Keys National Marine Sanctuary regulations. Other terms appearing in the regulations in this part are defined at 15 CFR 922.11, and/or in the Marine Protection, Research, and Sanctuaries Act (MRPSA), as amended, 33 U.S.C. 1401 et seq. and 16 U.S.C. 1431 et seq., and/or the Florida Keys National Marine Sanctuary and Protection Act, Public Law 101-605. To the extent that a term appears in § 922.11 and this section, the definition in this section governs.

Acts means the Florida Keys National Marine Sanctuary and Protection Act, as amended, (FKNMSPA) (Pub. L. 101-605), and the National Marine Sanctuaries Act (NMSA), also known as Title III of the Marine Protection, Research, and Sanctuaries Act, as amended, (MPRSA) (16 U.S.C. 1431 et seq.).

Adverse effect means any factor, force, or action that would independently or cumulatively damage, diminish, degrade, impair, destroy, or otherwise harm any sanctuary resource, as defined in section 302(8) of the NMSA (16 U.S.C. 1432(8)) and in this section, or any of those qualities, values, or purposes for which the sanctuary is designated.

Airboat means a vessel operated by means of a motor driven propeller that pushes air for momentum.

Anchoring means securing a vessel to the seabed by any means, except when using a mooring buoy in full compliance with this Subpart.

At risk of becoming derelict means a vessel when any of the following conditions exist:

(1) The vessel is taking on or has taken on water without an effective means to dewater;

(2) Spaces on the vessel that are designed to be enclosed are incapable of being sealed off or remain open to the elements for extended periods of time;

(3) The vessel has broken loose or is in danger of breaking loose from its anchor or mooring;

(4) The vessel is listing due to water intrusion; or

(5) The vessel does not have an effective means of propulsion for safe navigation within 72 hours after the vessel owner or operator receives telephonic notice, in-person notice recorded on an agency approved body camera, or written notice, which may be provided by facsimile, electronic mail, or other electronic means, stating such from any authorized officer, and the vessel owner or operator is unable to provide a receipt, proof of purchase, or other documentation of having ordered necessary parts for vessel repair.

(6) The vessel is tied to an unlawful or unpermitted structure or mooring.

Conservation Area means an area of the sanctuary that provides natural spawning, nursery, and residence areas for the replenishment and genetic protection of marine life and that protects and preserves groups of habitats and species, within which activities are subject to conditions, restrictions and prohibitions to achieve these objectives. These areas consist of contiguous, diverse habitats; protect a variety of sanctuary resources; and/or facilitate scientific research that promotes sanctuary management or recovery of sanctuary resources. Appendix G to this subpart sets forth the geographic coordinates of these areas.

Continuous transit without interruption means a vessel must keep traveling through a designated area and fishing by any means is prohibited. However, fish, invertebrates, and marine plants may be possessed aboard a vessel if such organisms have not been harvested or removed from within the designated area. Any organisms must be stowed in a cabin, locker, or similar storage area prior to entering and during transit through a designated area, and any gear used to harvest or remove such organisms must not be available for immediate use, as defined in this section, when entering and during transit through the designated area.

Coral means, but is not limited to, the corals of the Class Hydrozoa (stinging and hydrocorals); Class Anthozoa, Subclass Hexacorallia, Order Scleractinia (stony corals); Class Anthozoa, Subclass Ceriantipatharia, Order Antipatharia (black corals); and Class Anthozoa, Subclass Ocotocorallia, Order Gorgonacea, species Gorgonia ventalina and Gorgonia flabellum (sea fans).

Coral reefs means hardbottoms, patch reefs, mid-channel reefs, and all parts of the reef tract.

Derelict vessel means a vessel that is:

(1) In a wrecked, junked, or substantially dismantled condition upon any waters of the sanctuary.

(i) A vessel is wrecked if it is sunken or sinking; aground without the ability to extricate itself absent mechanical assistance; or remaining after a marine casualty, including, but not limited to, a boating accident, extreme weather, or a fire.

(ii) A vessel is junked if it has been substantially stripped of vessel components, if vessel components have substantially degraded or been destroyed, or if the vessel has been discarded by the owner or operator. Attaching an outboard motor to a vessel that is otherwise junked will not cause the vessel to no longer be junked if such motor is not an effective means of propulsion.

(2) A vessel is substantially dismantled if at least two of the three following vessel systems or components are missing, compromised, incomplete, inoperable, or broken:

(i) The steering system,

(ii) The propulsion system, or

(iii) The exterior hull integrity.

(3) Attaching an outboard motor to a vessel that is otherwise substantially dismantled will not cause the vessel to no longer be substantially dismantled if such motor is not an effective means of propulsion.

Deserting means leaving a vessel unoccupied that is adrift, aground, derelict, or at risk of becoming derelict unless:

(1) Within 24 hours of leaving such a vessel, the Director has been notified or it has been more than 24 hours since the Director made a reasonable attempt to notify a vessel owner/operator of an unoccupied vessel adrift, aground, derelict, or at risk of becoming derelict, and the vessel owner/operator has not responded; and

(2) Removing or causing to be removed a vessel has been removed within 72 hours in accordance with 15 CFR 922.163(a)(5)(i) or (viii).

Diving means an activity during which a person is wholly or partially submerged in the water and is equipped with a face mask, face mask and snorkel, or underwater breathing apparatus.

Exotic species means any species whose natural zoogeographic range does not include the waters of the Atlantic Ocean, Caribbean, or Gulf of Mexico without passive or active introduction to such area through anthropogenic means.

Feeding means offering, giving, or attempting to give any food or other substance to fish, including sharks, or other marine species, except for the purpose of harvesting marine species during traditional fishing as defined in this section.

Hardbottom means a submerged marine community comprised of organisms attached to solid rock substrate. Hardbottom is the substrate to which corals may attach but does not include the corals themselves.

Idle speed no wake means that a vessel must proceed at a speed no greater than that which will maintain steerageway and headway and which does not cause a visible wake. At no time is any vessel required to proceed so slowly that the operator is unable to maintain control over the vessel or any other vessel or object that it has under tow.

Large vessel means a vessel greater than 65′ length or the combined lengths of two or more vessels if, when tied together, the vessels would be greater than 65′ length.

Length means the straight line horizontal measurement of the overall length from the foremost part of the boat to the aftermost part of the boat, measured from end to end over the deck excluding sheer and measured parallel to the centerline. Bow sprits, bumpkins, rudders, outboard motor brackets, handles, and other similar fittings, attachments, and extensions are not included in the measurement.

Live rock means any living marine organism or an assemblage thereof and the hard substrate to which it is attached, including hard bottom, dead coral, rock, banks, or reefs, but not individual mollusk shells (e.g., scallops, clams, oysters). Such attached living marine organisms may include, but are not limited to: sea anemones (Phylum Cnidaria: Class Anthozoa: Order Actiniaria); sponges (Phylum Porifera); tube worms (Phylum Annelida), including fan worms, feather duster worms, and Christmas tree worms; bryozoans (Phylum Bryozoa); sea squirts (Phylum Chordata); and marine algae, including Mermaid's fan and cups (Udotea spp.), coralline algae, green feather and green grape algae (Caulerpa spp.), and watercress (Halimeda spp.).

Marine life species means any species of fish, invertebrate, or plant designated as restricted species in subsections (2), (3), and (4) of F.A.C. 68B-42.001 (incorporated by reference, see § 922.179).

Military activity means an activity conducted by the Department of Defense, with or without participation by foreign forces, other than civil engineering and other civil works projects conducted by the U.S. Army Corps of Engineers.

No anchor means securing a vessel to the seabed by any means is prohibited, except when using a mooring buoy in full compliance with this Subpart.

No anchor by vessels >50m length means securing a vessel greater than 50 meters (164 feet) length to the seabed by any means is prohibited.

No entry means all vessels and all persons are prohibited from entering the area.

No motor means the use of internal combustion motors is prohibited. A vessel with an internal combustion motor may access a no motor zone only through the use of a push pole, paddle, sail, electric motor, or similar means of operation but is prohibited from using its internal combustion motor.

Not available for immediate use means not readily accessible for immediate use, e.g., by being stowed and unbaited in a cabin, locker, rod holder, or similar storage area or by being securely covered and lashed to a deck or bulkhead.

Officially marked channel means a channel marked by Federal, State of Florida, or Monroe County officials of competent jurisdiction with navigational aids.

Personal watercraft means any jet or air-powered watercraft operated by standing, sitting, or kneeling on or behind the vessel, in contrast to a conventional boat where the operator stands or sits inside the vessel, and that uses an inboard engine to power a water jet pump for propulsion, instead of a propeller as in a conventional boat.

Prop dredging means the use of a vessel's propulsion wash to dredge or otherwise alter the seabed. Prop dredging includes, but is not limited to, the use of propulsion wash deflectors or similar means of dredging or otherwise altering the seabed. Prop dredging does not include the disturbance to bottom sediments resulting from normal vessel propulsion.

Prop scarring means the injury to seagrasses or other immobile organisms attached to the seabed caused by operation of a vessel in a manner that allows its propeller or other running gear, or any part thereof, to cause such injury (e.g., cutting seagrass rhizomes).

Residential shoreline means any human-made or natural shoreline, canal mouth, basin, or cove, when any of these features are adjacent to any residential land use district under the Monroe County land development regulations (including: improved subdivision, suburban residential or suburban residential limited, sparsely settled, urban residential, and urban residential mobile home) or residential land use district under any other municipal regulations.

Restoration Area means an area of the sanctuary that supports species or habitat recovery, including protection for restoration sites (referred to as Habitat Restoration Areas) and short- and long-term propagation nurseries (referred to as Nursery Restoration Areas), within which activities are subject to conditions, restrictions, and prohibitions to achieve these objectives. Appendices H and I to this subpart set forth the geographic coordinates of these areas.

Sanctuary means the Florida Keys National Marine Sanctuary.

Sanctuary Preservation Area means an area of the sanctuary that encompasses a discrete, biologically important area, within which activities are subject to conditions, restrictions, and prohibitions to avoid concentrations of uses that could result in significant declines in species populations or habitat, to reduce conflicts between uses, to protect areas that are critical for sustaining important marine species or habitats, or to provide opportunities for scientific research. Appendix F to this subpart sets forth the geographic coordinates of these areas.

Tank vessel means a vessel that is constructed or adapted to carry, or that carries, oil or hazardous material in bulk as cargo or cargo residue, and that—

(1) Is a vessel of the United States,

(2) Operates on the navigable waters of the United States, or

(3) Transfers oil or hazardous material in a port or place subject to the jurisdiction of the United States (46 U.S.C. 2101).

Traditional fishing means those commercial or recreational fishing activities customarily conducted within the sanctuary as of January 17, 2025.

Tropical fish means any species of fish designated as a restricted species in F.A.C. 68B-42.001(2) and defined as tropical fish under F.A.C. 68B-42.002(18) (incorporated by reference, see § 922.179).

Wildlife Management Area means an area of the sanctuary in which various access and use restrictions are applied to manage, protect, preserve, and minimize disturbance to sanctuary wildlife resources, including but not limited to endangered or threatened species or the habitats, special places, or conditions on which they rely. Appendix E to this subpart lists these areas and their access and use restrictions.

§ 922.163 Prohibited activities—Sanctuary-wide.

(a) Except as specified in paragraphs (b) and (c) of this section, the following activities are prohibited and thus are unlawful for any person to conduct or to cause to be conducted:

(1) Mineral and hydrocarbon exploration, development and production. Exploring for, developing, or producing minerals or hydrocarbons within the sanctuary.

(2) Removal of, injury to, or possession of coral or live rock. Moving, removing, harvesting, damaging, disturbing, touching, breaking, cutting, otherwise injuring, or possessing, in or from the sanctuary, any living or dead coral or coral formation, or live rock, or attempting any of these activities, except as authorized by an aquacultured live rock permit issued by the National Marine Fisheries Service or a Florida Sovereignty Submerged Land Live Rock Aquaculture Lease issued by the Florida Department of Agriculture and Consumer Services.

(3) Alteration of, or construction on, the seabed. Drilling into, dredging, otherwise altering the seabed of the sanctuary, or engaging in prop-dredging; or constructing, placing, or abandoning any structure, material, or other matter on or in the seabed of the sanctuary, except as an incidental result of:

(i) Anchoring vessels in a manner not otherwise prohibited by this subpart;

(ii) Traditional fishing activities not otherwise prohibited by this subpart;

(iii) Installation and maintenance of navigational aids by, or pursuant to valid authorization by, any Federal, State, or local authority of competent jurisdiction;

(iv) Dredging within Key West Harbor, its approach channels, and turning basins, only in federally dredged areas in existence as of July 1, 1997;

(v) Construction, repair, replacement, or rehabilitation of minor structures including docks, swim/observation platforms, floating vessel platforms, boat ramps, boat notches, boat lifts, mooring piles, seawalls, rip rap revetments, culverts, bulkheads, piers, or marinas with less than ten slips authorized by any valid lease, permit, license, approval, or other authorization issued by any Federal, State, or local authority of competent jurisdiction; or

(vi) Placement of approved rock material pursuant to the terms and conditions of an aquacultured live rock permit issued by the National Marine Fisheries Service or a Florida Sovereignty Submerged Land Live Rock Aquaculture Lease issued by the Florida Department of Agriculture and Consumer Services.

(4) Discharge or deposit of materials or other matter. (i) Within the boundary of the sanctuary, discharging or depositing any material or other matter from a cruise ship except cooling water;

(ii) Within the boundary of the sanctuary, discharging or depositing any material or other matter except:

(A) Fish, fish parts, chumming materials, or bait used or generated incidental to and while conducting traditional fishing in the sanctuary;

(B) From a vessel other than a cruise ship, cooling water, deck washdown and runoff, and graywater, discharged in compliance with 33 U.S.C. 1322 et seq. Vessels may not discharge oily wastes from bilge pumping.

(iii) Beyond the boundary of the sanctuary, discharging or depositing any material or other matter that subsequently enters the sanctuary and injures a sanctuary resource or quality, except:

(A) Materials or other matter listed in paragraphs (a)(4)(ii)(A) and (B) of this section;

(B) Sewage from a vessel in compliance with United States Coast Guard regulations at 33 CFR 159.7;

(C) Materials or other matter authorized under, and in compliance with, Monroe County land use permits; or

(D) Materials or other matter authorized under, and in compliance with, State of Florida permits.

(5) Operation of vessels. (i) Operating a vessel in such a manner as to strike or otherwise injure coral, coral reefs, hardbottom, seagrass, or any other immobile organism attached to the seabed, including, but not limited to, operating a vessel in such a manner as to cause prop-scarring.

(A) The owner and/or operator of any vessel that has been operated in a manner described in paragraph (a)(5)(i) of this section must notify the Director of such an event within 24 hours after its occurrence. If the vessel has run aground, the owner and/or operator must remove or cause the removal of the vessel within 72 hours after the initial incident unless otherwise prohibited or restricted by the United States Coast Guard, the Director agrees that extenuating circumstances such as weather or marine hazards would prevent safe removal of the vessel, or if the removal is otherwise subject to a removal plan approved by the Director. The owner and/or operator must remove or cause the removal of the vessel in a manner that avoids injury to sanctuary resources and shall consult with the Director in accomplishing this task.

(B) [Reserved].

(ii) Anchoring a vessel on living coral.

(iii) Except in officially marked channels, operating a vessel at a speed greater than idle speed no wake within:

(A) An area designated as idle speed no wake;

(B) 300 feet (100 yards) of navigational aids indicating emergent or shallow reefs (international diamond warning symbol);

(C) 300 feet (100 yards) of residential shorelines; or

(D) 300 feet (100 yards) of a stationary vessel.

(iv) Operating a vessel at a speed greater than idle speed no wake less than 100 feet (33.3 yards) from a divers‐down flag on an inlet or navigation channel; or less than 300 feet (100 yards) from a divers-down flag on all waters other than inlets and navigation channels.

(v) Operating a vessel in such a manner as to injure wading, roosting, or nesting birds, or marine mammals.

(vi) Operating or mooring a vessel in a manner that endangers life, limb, sanctuary resources, or property.

(vii) Having a marine sanitation device that is not secured in a manner that prevents discharges or deposits of treated or untreated sewage. Acceptable methods include, but are not limited to, all methods that have been approved by the United States Coast Guard.

(viii) Anchoring, mooring, deserting, operating, or occupying a derelict vessel or a vessel at risk of becoming derelict, or deserting a vessel aground or adrift in the sanctuary. Deserted vessels, derelict vessels, or vessels at risk of becoming derelict, must be removed within 72 hours of when the vessel owner or operator receives telephonic notice, in-person notice recorded on an agency approved body camera, or written notice which may be provided by facsimile, electronic mail, or other electronic means, stating removal is necessary from the Director or any authorized officer or the Director makes reasonable attempts to provide notice using any of these means, unless the Director agrees that extenuating circumstances, such as weather or marine hazards, would prevent safe removal, or if removal is consistent with a removal plan approved by the Director. The owner and/or operator must remove or cause the removal of the vessel in a manner that avoids injury to sanctuary resources and shall consult with the Director in accomplishing this task. The Director may require the preparation of and approval of a removal plan.

(ix) Leaving harmful matter aboard a grounded, deserted, derelict, or at risk of becoming derelict vessel in the sanctuary.

(x) Tying a large vessel to a mooring buoy not specifically designated for large vessels or tying a vessel other than a large vessel to a mooring buoy specifically designated for large vessels.

(6) Conduct of diving/snorkeling without a flag. Diving or snorkeling without displaying a divers-down flag from the highest point of the vessel or such other location from which the visibility of the divers-down flag is not obstructed in any direction.

(i) Divers must stay within 100 feet (33.3 yards) of the divers‐down flag on inlets and navigation channels.

(ii) Divers must stay within 300 feet (100 yards) of the divers‐down flag on all waters in the sanctuary other than rivers, inlets, and navigation channels.

(7) Release of exotic species. Introducing or releasing any exotic species into the sanctuary.

(8) Damage or removal of markers. Marking, defacing, damaging in any way, displacing, removing, tying to, or tampering with any official markers, signs, notices, or placards, whether temporary or permanent, or any navigational aids, monuments, stakes, posts, mooring buoys, boundary buoys, trap buoys, or scientific equipment.

(9) Movement of, removal of, injury to, or possession of sanctuary historical resources. Moving, removing, injuring, or possessing or attempting to move, remove, injure, or possess a sanctuary historical resource.

(10) Conduct of prohibited activities under the MMPA, ESA, and MBTA. Conducting any activity that is prohibited under the Marine Mammal Protection Act, as amended, (MMPA), 16 U.S.C. 1361 et seq., the Endangered Species Act, as amended, (ESA), 16 U.S.C. 1531 et seq., or the Migratory Bird Treaty Act, as amended, (MBTA) 16 U.S.C. 703 et seq., except as authorized under those statutes.

(11) Possession or use of explosives or electrical charges. Possessing, using, or releasing explosives or electrical charges within the sanctuary, except powerheads and distress signaling devices when necessary and proper for safety.

(12) Harvest or possession of marine life species. Harvesting, fishing for, possessing, or landing any marine life species, or part thereof, in or from the sanctuary, except as authorized by a valid State of Florida license or exemption.

(13) Interference with law enforcement. Interfering with, obstructing, delaying, or preventing an investigation, a boarding, a search, a seizure, or the disposition of seized property in connection with enforcement of the NMSA or FKNMSPA or any regulation or permit issued under the Acts.

(14) Fish feeding. Attracting or feeding fish, including sharks, or other marine species from any vessel and/or while diving. Attracting or feeding does not include using bait or chum when conducting traditional fishing.

(b) Exemption for military activities. (1) The prohibitions in paragraph (a) of this section and § 922.164 do not apply to existing classes of military activities that were conducted prior to the effective date of these regulations, as identified in the 2024 FKNMS Final Environmental Impact Statement (for availability, see http://www.floridakeys.noaa.gov) for the sanctuary. New military activities in the sanctuary may be exempted from the prohibitions in paragraph (a) of this section and in § 922.164 by the Director after consultation between the Director and the Department of Defense.

(2) In the event of threatened or actual destruction of, loss of, or injury to a sanctuary resource or quality, including, but not limited to, spills and groundings caused by the Department of Defense, the cognizant component of the Department of Defense shall promptly coordinate with the Director for the purpose of taking appropriate actions to prevent, respond to, or mitigate the harm and, if possible, restore or replace the sanctuary resource or quality.

(c) Exemption for law enforcement. The following prohibitions do not apply to Federal, State, or local officers while performing enforcement duties in their official capacities or responding to emergencies that threaten life, property, or the environment:

(1) Those contained in paragraphs (a)(2), (a)(5), and (a)(8) through (a)(12) of this section;

(2) Those contained in paragraph (a)(4), except that all discharges of sewage must be in compliance with United States Coast Guard regulations at 33 CFR 159.7;

(3) Those contained in § 922.164(b)(1), (2) and (4); and

(4) Those contained in § 922.164(d) through (h).

(d) In no event may the Director issue a permit, including a certification or authorization, under § 922.10, subpart D of this part, § 922.166, or § 922.167 authorizing, or otherwise approving, the exploration for, leasing, development, or production of minerals or hydrocarbons within the sanctuary, the disposal of dredged material within the sanctuary other than in connection with beach renourishment or sanctuary restoration projects, or the discharge of untreated or primary treated sewage, and any purported authorizations issued by other authorities for any of these activities within the sanctuary shall be invalid.

§ 922.164 Additional activity regulations by designated sanctuary area.

(a) Areas to be avoided. Operating a tank vessel or a vessel greater than 50 meters (164 feet) in length, or towing vessel(s), equipment, or materials such that the combined length of the tow vessel and all towed vessels, equipment, or materials is greater than 50 meters, is prohibited in all areas to be avoided, except if such vessel is a public vessel and its operation is essential for national defense, law enforcement, or responses to emergencies that threaten life, property, or the environment. Appendix B to this subpart sets forth the geographic coordinates of these areas, which are established under Florida Keys National Marine Sanctuary and Protection Act, Public Law 101-605 and International Maritime Organization advisory SN/Circ. 145.

(b) Key Largo and Looe Key Management Areas. The following activities are prohibited within the Key Largo and Looe Key Management Areas described in appendix C to this subpart:

(1) Removing, collecting, damaging, harming, breaking, cutting, spearing, or similarly injuring, or possessing, in or from the management area, any coral or other marine invertebrate, or any plant, soil, rock, or other material, except that commercial harvesting of spiny lobster and stone crab by trap and recreational harvesting of spiny lobster by hand or by hand gear is allowed if consistent with the regulations in this part and regulations under the Magnuson-Stevens Fishery Conservation and Management Act.

(2) Collecting or harvesting tropical fish.

(3) Fishing with wire fish traps, bottom trawls, dredges, fish sleds, or similar vessel-towed or anchored bottom fishing gear or nets.

(4) Fishing with, carrying, or possessing pole spears, air rifles, bows and arrows, slings, Hawaiian slings, rubber powered arbaletes, pneumatic and spring-loaded guns, or similar devices known as spearguns.

(c) Great White Heron and Key West National Wildlife Refuges. Operating a personal watercraft, operating an airboat, water skiing, and landing recreational aircraft are prohibited within the Great White Heron and Key West National Wildlife Refuges (described in appendix D to this subpart), except that operating a personal watercraft is allowed only in six areas described in appendix D.

(d) Wildlife Management Areas. Appendix E to this subpart sets forth the geographic coordinates of Wildlife Management Areas. The following access and use restrictions apply in individual Wildlife Management Areas. Certain exceptions from the access and use restrictions are also provided. All restrictions apply year-round unless specified.

Table 1 to Paragraph (d)
Wildlife management area | Access and use restriction
Barnes-Card Sound Wildlife Management Area | Idle speed no wake.
Crocodile Lake Wildlife Management Area | No entry within 300 feet (100 yards) of shorelines.
| Exceptions: Steamboat Creek.
Eastern Lake Surprise Wildlife Management Area | Idle speed no wake east of Highway 1.
| No entry within 300 feet (100 yards) of shorelines.
| No entry in the canal and basin on the southeast side.
Whitmore Bight Wildlife Management Area | No motor.
Pelican Key Wildlife Management Area | No entry.
Dove and Rodriguez Keys Wildlife Management Area | No motor.
Pigeon Key Wildlife Management Area | No entry.
Tavernier Key Wildlife Management Area | No motor.
| Exceptions: Tavernier Creek. Unnamed channel to the northeast of Tavernier Creek.
Snake Creek Wildlife Management Area | No motor.
| Exceptions: Snake Creek. Three channels providing access to Windley Key.
Cotton Key Wildlife Management Area | No motor.
Channel Key Banks Wildlife Management Area | Idle speed no wake. No entry around Channel Key.
Marathon Oceanside Shoreline Wildlife Management Area | Idle speed no wake.
| Exceptions: Ten channels providing access to Marathon.
Red Bay Bank Wildlife Management Area | Idle speed no wake.
East Bahia Honda Key Wildlife Management Area | No motor.
West Bahia Honda Key Wildlife Management Area | No motor.
Horseshoe Keys Wildlife Management Area | No entry.
Little Pine Key Mangrove Wildlife Management Area | No entry.
Water Key Mangroves Wildlife Management Area | No entry.
Howe Key Mangrove Wildlife Management Area | No motor.
East Content Keys and Upper Harbor Key Flats Wildlife Management Area | Idle speed no wake in all tidal creeks and shallow flats.
| No entry around Upper Harbor Key.
West Content Keys Wildlife Management Area | Idle speed no wake in the eastern tidal creek.
| No entry in the western cove.
Torch Key Mangroves Wildlife Management Area | No entry.
Northeast Tarpon Belly Keys Wildlife Management Area | No motor.
Crane Key Wildlife Management Area | No entry.
Sawyer Key Wildlife Management Area | No entry.
Happy Jack Key Wildlife Management Area | No entry.
Barracuda Keys Wildlife Management Area | Idle speed no wake.
Pelican Shoal Wildlife Management Area | No entry.
Snipe Keys Wildlife Management Area | Idle speed no wake in the main tidal creek.
| No motor in all other tidal creeks. No entry around the two small southern islands.
Mud Keys Wildlife Management Area | Idle speed no wake.
Lower Harbor Keys Wildlife Management Area | Idle speed no wake.
East Harbor Key Wildlife Management Area | No entry.
Cayo Agua Keys Wildlife Management Area | Idle speed no wake.
Bay Keys Wildlife Management Area | Idle speed no wake in the channel north of the western island.
| No motor around the eastern and western islands.
Big Mullet Key Wildlife Management Area | No motor.
Cottrell Key Wildlife Management Area | No entry.
Little Mullet Key Wildlife Management Area | No entry.
Ballast and Man Keys Flats Wildlife Management Area | Idle speed no wake.
| Exception: Two channels between the keys.
Western Dry Rocks Wildlife Management Area | From April 1 to July 31, continuous transit without interruption and no anchor.
Woman Key Wildlife Management Area | No entry.
Boca Grande Key Wildlife Management Area | No entry.
Marquesas Keys Wildlife Management Area | Idle speed no wake in the creek east of Gull Keys.
| No entry around the small island west of Gull Key. No entry around three smallest islands on the western side of Mooney Harbor.
Marquesas Keys Turtle Wildlife Management Area | Idle speed no wake.
Tortugas Bank Wildlife Management Area | No anchor by vessels >50m length.

(e) Sanctuary Preservation Areas. Appendix F to this subpart sets forth the geographic coordinates of Sanctuary Preservation Areas. The following activities are prohibited within the Sanctuary Preservation Areas:

(1) Discharging or depositing any material or other matter, except cooling water from vessels.

(2) Moving, fishing, harvesting, removing, collecting, damaging, disturbing, breaking, cutting, spearing, otherwise injuring, or possessing, in or from the area, any coral, marine invertebrate, fish, bottom formation, algae, seagrass or other living or dead organism, including shells, or attempting any of these activities. However, fish, invertebrates, and marine plants may be possessed aboard a vessel provided that the vessel remains in continuous transit without interruption.

(3) Anchoring a vessel.

(f) Conservation Areas. Appendix G to this subpart sets forth the geographic coordinates of Conservation Areas. The following activities are prohibited within the Conservation Areas:

(1) Conducting any activity prohibited at 922.164(e)(1) and 922.164(e)(2).

(2) Anchoring a vessel, except in a portion of the Western Sambo Conservation Area where anchoring is allowed landward of the line connecting the points 24.498774, −81.725441 and 24.504693, −81.693012.

(3) Entering a Conservation Area other than the Western Sambo Conservation Area, except for continuous transit without interruption.

(g) Habitat Restoration Areas. Appendix H to this subpart sets forth the geographic coordinates of Habitat Restoration Areas. Conducting any activity prohibited at 922.164(e) is prohibited within the Habitat Restoration Areas.

(h) Nursery Restoration Areas. Appendix I to this subpart sets forth the geographic coordinates of Nursery Restoration Areas. The following activities are prohibited within the Nursery Restoration Areas:

(1) Conducting any activity prohibited at 922.164(e).

(2) Entering any Nursery Restoration Area, except for continuous transit without interruption.

§ 922.165 Temporary regulation for emergency and adaptive management.

(a) Any and all activities are subject to temporary regulation, including prohibition of any activity, restriction of access or uses, or designation or modification of any areas identified in §§ 922.164(d) through (h), subject to the limitations in this section.

(b) The Director may temporarily regulate activities in the sanctuary only if the Director determines, based on the best available information, that immediate action is reasonably necessary to:

(1) Prevent or minimize destruction of, loss of, or injury to sanctuary resources, or risk of the same, from any human-made or natural circumstances. These circumstances may include, but are not limited to, a concentration of human use, change in migratory or habitat use patterns, vessel impacts, natural disaster or similar emergency, disease, or bleaching;

(2) Initiate restoration, recovery, or other activity to improve or repair living habitats and species where a delay in time would impair the ability of such activity to succeed; or

(3) Initiate research where an unforeseen event produces an opportunity for scientific research that may be lost if research is not initiated immediately.

(c) Any temporary regulation issued under this section shall be subject to the following procedure:

(1) No temporary regulation issued under this section will take effect unless the proposed rule is published in the Federal Register for public comment and the final rule is published not less than 30 days before its effective date, unless the Director finds for good cause that notice and comment rulemaking and a 30 day delay of the effectiveness date under the Administrative Procedure Act, 5 U.S.C. 553, is impracticable, unnecessary, or contrary to the public interest.

(2) If the Director decides, for good cause, that a temporary rule is to be made effective immediately without affording prior notice and opportunity for public comment, the Director may decide to receive public comments on the necessity for, and extent of, the temporary regulation for a period of 15 days after the effective date of notification.

(3) Notification in the Federal Register of temporary regulation issued by the Director under this section will include the following information:

(i) A description of the regulation;

(ii) Reason(s) for the regulation under paragraph (b) of this section and the good cause determinations required under paragraph (c)(1) of this section; and

(iii) The effective date and termination date of such regulation.

(d) Any temporary regulation may be in effect for up to six months (180 days), with one six-month (additional 186-day) extension. NOAA will announce any extension by publishing a notice in the Federal Register.

(e) Temporary regulations under this section shall not take effect in Florida State waters until approved by the Governor of the State of Florida.

(f) It is unlawful for any person to violate any temporary regulation imposed under this section.

§ 922.166 National Marine Sanctuary permitting—General permits, special use permits, and authorizations

(a) National Marine Sanctuary general permits. (1) Except as noted at § 922.163(d), a person may conduct an activity prohibited by § 922.163 or 922.164 if such activity is specifically allowed by and conducted in accordance with the scope, purpose, and terms and conditions of a general permit issued under this section or subpart D of this part.

(2) The Director, at his or her discretion, may issue a general permit under this section subject to such terms and conditions as he or she deems appropriate if the Director finds that the activity falls within one of the general permit categories at § 922.30(b) or one of the following categories:

(i) Archaeological research: Activities involving the scientific study of the physical remains of human activity and its surrounding environmental context, utilizing research questions to inform society's understanding of the past;

(ii) Restoration: Activities that further restoration of natural resources of the sanctuary; and

(iii) Tortugas North Conservation Area Access: Activities that involve access to and entry into the Tortugas North Conservation Area.

(b) Application requirements and procedures. (1) Applications for general permits, special use permits, and authorizations under this section or subpart D of this part, other than for Tortugas North Conservation Area Access shall be addressed to the Superintendent, Florida Keys National Marine Sanctuary, 33 East Quay Road, Key West, FL 33040, or sent by electronic means as defined in the instructions for the ONMS permit application. All applications, except those for Tortugas North Conservation Area Access, shall comply with the requirements and procedures under subpart D of this part.

(2) Applications for general permits for Tortugas North Conservation Area shall be requested via telephone to FKNMS at (305) 809-4700 or by email to TortugasNorthPermit@noaa.gov at least 72 hours before the date the permit is desired to be effective. All applications shall include:

(i) Vessel name;

(ii) Name, address, and telephone number of owner and operator;

(iii) Name, address, and telephone number of applicant;

(iv) USCG documentation, State license, or registration number;

(v) Home port;

(vi) Length of vessel and propulsion type (i.e., motor or sail);

(vii) Number of divers; and

(viii) Requested effective date (date of ingress) and date of egress. General permits for Tortugas North Conservation Area Access shall be issued for a period not exceeding two weeks.

(c) Review procedures and evaluation. (1) General permits, special use permits, and authorizations. The Director shall review and evaluate an application for a general permit, special use permit, or authorization in accordance with this section and subpart D of this part.

(2) General permits for archaeological research. The Director shall not issue a general permit for archaeological research unless the Director conducts the required review and evaluation required by paragraph (c)(1) of this section and further finds that:

(i) The applicant is a supervising archaeologist responsible for project planning, field operations, research analysis, and reporting and will directly supervise and be on site for any excavation and/or historical resource recovery operations. A supervising archaeologist shall have underwater archaeological experience related to the research proposed and shall meet the requirements for prehistoric or historic archaeology in the Secretary of the Interior's Standards and Guidelines for Archaeology and Historic Preservation, which are:

(A) A graduate degree in archaeology, anthropology, or closely related field;

(B) At least one year of full-time professional experience or equivalent specialized training in archaeological research, administration, or management;

(C) At least four months of supervised field and analytic experience in general North American archaeology;

(D) Demonstrated ability to carry research to completion; and

(E) A professional in prehistoric archaeology shall have at least one year of full-time professional experience at a supervisory level in the study of prehistoric period archaeological resources. A professional in historic archaeology shall have at least one year of full-time professional experience at a supervisory level in the study of historic period archaeological resources;

(ii) The applicant commits to following an explicit statement of objectives and methods that respond to needs identified in the planning process;

(iii) The methods and techniques of the proposed activity are selected to obtain the information required by the statement of objectives; and

(iv) The applicant commits to assess the results against the statement of objectives and integrate them into the planning process.

(3) Activities in designated sanctuary areas. The Director shall not issue a general permit, special use permit, or authorization under this section or subpart D of this part for activities within any of the areas described in § 922.164(b) through (h) unless the Director finds that such activities will further and are consistent with the purposes for which such area was established as described in §§ 922.162 and 922.164 and in the currently applicable FKNMS management plan for the sanctuary.

(d) Terms and conditions. (1) In addition to any terms and conditions in subpart D of this part, general permits, special use permits, and authorizations issued under this section or subpart D of this part shall be subject to the following terms and conditions:

(i) Except for Tortugas North Conservation Area Access Permits, the signed permit or a copy thereof shall be maintained in legible condition on board all vessels or aircraft used in the conduct of the permitted activity and be displayed for inspection upon the request of any authorized officer;

(ii) All permitted activities shall be conducted in a manner that does not destroy, cause the loss of, or injure sanctuary resources or qualities, except to the extent that such may be specifically authorized;

(iii) The permittee agrees to hold the United States harmless against any claims arising out of the conduct of the permitted activities; and

(iv) All necessary Federal, State, and/or local leases, permits, licenses, approvals, or other authorizations from all agencies with jurisdiction over the proposed activities shall be secured before commencing any activities authorized pursuant to a sanctuary permit.

(2) General permits for archaeological research shall be subject to the terms and conditions in paragraph (d)(1) of this section and to the following terms and conditions:

(i) An agreement with a conservation laboratory shall be in place before historical resource recovery operations begin, where a qualified marine archaeological materials conservator shall be in charge of planning, conducting, and supervising the conservation of any historical resources and other materials recovered. To be considered a qualified marine archaeological materials conservator, the individual shall have a graduate degree in archaeology, history, anthropology, or science with experience conserving archaeological materials recovered from the marine environment documented in a Curriculum Vitae and professional references; and

(ii) A curation agreement with a museum or facility for curation, public access, periodic public display, and maintenance of the recovered historical resources shall be in place before commencing field operations involving historical resource recovery. The curation facility shall meet the requirements of 36 CFR part 79.

(3) The Director, at his or her discretion, may subject a general permit, special use permit, or authorization issued under this section of subpart D of this part to such additional terms and conditions as he or she deems appropriate. These may include but are not limited to the following:

(i) Any data, information, or results obtained pursuant to the permit shall be made available to NOAA and the public;

(ii) A NOAA official shall be allowed to observe any activity conducted pursuant to the permit;

(iii) The permittee shall submit to NOAA one or more reports on the status, progress, or results of any activity authorized by the permit, including all revenues derived from such activities during the year and/or term of the permit, as applicable; and

(iv) The permittee shall purchase and maintain general liability insurance or other acceptable security against potential claims for destruction, loss of, or injury to sanctuary resources arising out of the permitted activities. The amount of insurance or security should be commensurate with an estimated value of the sanctuary resources in the permitted area. A copy of the insurance policy or security instrument shall be submitted to the Director.

(4) Sunken military craft are administered by the respective Secretary concerned pursuant to the Sunken Military Craft Act. The Director will enter into a Memorandum of Agreement regarding collaboration with other Federal agencies charged with implementing the Sunken Military Craft Act that may address aspects of managing and protecting sunken military craft. The Director will request approval from the Secretary concerned for any terms and conditions of ONMS authorizations that may involve sunken military craft.

§ 922.167 National Marine Sanctuary permitting—Certifications.

(a) Except as noted at § 922.163(d), a person may conduct an activity prohibited by § 922.163 or 922.164 within the sanctuary if such activity is specifically authorized by a valid Federal, State, or local lease, permit, license, or right of subsistence use or of access that is in existence on the effective date of the final regulations for the designation or any revised terms of designation for the Florida Keys National Marine Sanctuary, provided that the holder of the lease, permit, license, or right of subsistence use or of access complies with § 922.10 and provided that:

(1) The holder of such authorization or right notifies the Director, in writing, within 90 days of the effective date of the revised terms of designation of the existence and location of such authorization or right and requests certification of such authorization or right; and

(2) The holder complies with any terms and conditions on the exercise of such authorization or right imposed as a condition of certification by the Director to achieve the purposes for which the sanctuary was designated.

(b) Requests for certifications shall be addressed to the Superintendent, Florida Keys National Marine Sanctuary, 33 East Quay Road, Key West, FL 33040, or sent by electronic means as defined in the instructions for the ONMS permit application. A copy of the lease, permit, license, or right of subsistence use or of access must accompany the request.

(c) A certification requester with an authorization or right described in paragraph (a) of this section authorizing an activity prohibited by § 922.163 or 922.164 may continue to conduct the activity without being in violation of applicable provisions of § 922.163 or 922.164 pending the Director's review of and decision regarding his or her certification request.

(d) The Director may request additional information from the certification requester as the Director deems reasonably necessary to condition appropriately the exercise of the certified authorization or right to achieve the purposes for which the sanctuary was designated. The Director must receive the information requested within 45 days of the date of the Director's request for information. Failure to provide the requested information within this time frame may be grounds for denial by the Director of the certification request.

(e) In considering whether to issue a certification, the Director may seek and consider the views of any other person or entity, within or outside the Federal government, and may hold a public hearing as deemed appropriate by the Director.

(f) Upon completion of review of the authorization or right and information received with respect thereto, the Director shall communicate, in writing, any decision on a certification request or any action taken with respect to any certification made under this section to both the holder of the certified lease, permit, license, approval, other authorization, or right, and the issuing agency and shall set forth the reason(s) for the decision or action taken.

(g) The Director may amend, suspend, or revoke any certification issued under this section whenever continued operation would otherwise be inconsistent with any terms or conditions of the certification. Any such action shall be forwarded in writing to both the certification holder and the agency that issued the underlying lease, permit, license, or right of subsistence use or of access, and shall set forth reason(s) for the action taken.

(h) The Director may amend any certification issued under this section whenever additional information becomes available that he or she determines justifies such an amendment.

(i) Any time limit prescribed in or established under this section may be extended by the Director for good cause.

(j) It is unlawful for any person to violate any terms and conditions in a certification issued under this section.

§§ 922.168-922.178 [Reserved]

§ 922.179 Incorporation by reference.

Certain material is incorporated by reference into this subpart with the approval of the Director of the Federal Register in accordance with 5 U.S.C. 552(a) and 1 CFR part 51. All approved incorporation by reference (IBR) material is available for inspection at the National Oceanic and Atmospheric Administration (NOAA) and at the National Archives and Records Administration (NARA). Contact NOAA at: the Office of National Marine Sanctuaries (ONMS), 1305 East-West Highway, Silver Spring, MD 20910; website: https://sanctuaries.noaa.gov/contact.html. For information on the availability of this material at NARA, visit www.archives.gov/federal-register/cfr/ibr-locations or email fr.inspection@nara.gov. The material may be obtained from the following source:

(a) State of Florida—Department of State. R.A. Gray Building, 500 South Bronough Street, Tallahassee, FL 32399-0250; phone:(850)245-6270; email: AdministrativeCode@dos.myflorida.com; website: https://flrules.org/.

(1) F.A.C. 68B-42.001. Florida Administrative Code chapter 68B-42, Marine Life, rule 68B-42.001, Purpose and Intent; Designation of Restricted Species; Definition of Marine Life, effective November 1, 2012; IBR into § 922.162.

(2) F.A.C. 68B-42.002. Florida Administrative Code chapter 68B-42, Marine Life, rule 68B-42.002, Definitions, effective November 1, 2012; IBR into § 922.162.

(b) [Reserved]

Appendix A to Subpart P of Part 922—Florida Keys National Marine Sanctuary Boundary Coordinates

The Florida Keys National Marine Sanctuary (sanctuary) encompasses an area of 3,622 square nautical miles (4,797 square miles) of coastal, ocean, and Gulf of Mexico waters and the submerged lands thereunder from the boundary to the shoreline as defined by the mean high water tidal datum surrounding the Florida Keys in southern Florida.

The sanctuary boundary begins approximately 4 miles east of the northern extent of Key Biscayne at Point 1 and continues roughly south and then southwest and west in numerical order to Point 15 approximately 27 miles SW of Loggerhead Key. From Point 15 the sanctuary boundary continues north to Point 17 which is approximately 18 miles NW of Loggerhead Key and then continues roughly east in numerical order to Point 23 just north of Sprigger Bank. From Point 23 the boundary continues in numerical order roughly SE to Point 26 just north of Old Dan Bank. From Point 26 the boundary continues NE in numerical order through Bowlegs Cut and Steamboat Channel to Point 42 near the southern entrance to Cowpens Cut west of Plantation Key.

From Point 42 the boundary continues towards Point 43 until it intersects the shoreline. From this intersection the boundary follows the shoreline roughly NNE until it intersects the line segment formed between Point 44 and Point 45.

From this intersection the boundary continues NNE to Point 45 and then roughly NE in numerical order to Point 61 just west of Hammer Point in Tavernier, FL. From Point 61 the boundary continues in numerical order roughly north and then NW to Point 64 just west of Pigeon Key. From Point 64 the boundary continues in numerical order roughly NE then NNE through Baker Cut to Point 69. From Point 69 the boundary continues in numerical order roughly NE through Buttonwood Sound to Point 73.

From Point 73 the boundary continues towards Point 74 until it intersects the shoreline near the southern entrance to Grouper Creek west of Key Largo, FL. From this intersection the boundary follows the shoreline NE along Grouper Creek until it intersects the line segment formed between Point 75 and Point 76. From this intersection the boundary continues towards Point 76 until it intersects the shoreline. From this intersection the boundary follows the shoreline roughly east until it intersects the line segment formed between Point 77 and Point 78.

From this intersection the boundary continues to Point 78 and then roughly ESE in numerical order through Tarpon Basin to Point 85. From Point 85 the boundary continues NE and then NW to Point 92.

From Point 92 the boundary continues towards Point 93 until it intersects the shoreline. From this intersection the boundary follows the shoreline roughly north along Dusenberry Creek until it intersects the line segment formed between Point 94 and Point 95.

From this intersection the boundary continues to Point 95 and then NE in numerical order through Blackwater Sound to Point 102 south of the entrance to Jewfish Creek.

From Point 102 the boundary continues towards Point 103 until it intersects the shoreline. From this intersection the boundary follows the shoreline roughly NNE and then NW until it intersects the line segment formed between Point 104 and Point 105. From this intersection the boundary continues towards Point 105 until it intersects the shoreline. From this intersection the boundary follows the shoreline roughly NNE and then roughly west along southwestern Barnes Sound and around Division Point until it intersects the line segment formed between Point 106 and Point 107 near Manatee Creek east of Long Sound. From this intersection the boundary continues towards Point 107 until it intersects the shoreline. From this intersection the boundary follows the shoreline roughly NNW until it intersects the line segment formed between Point 108 and Point 109. From this intersection the boundary continues towards Point 109 until it intersects the shoreline. From this intersection the boundary follows the shoreline roughly east until it intersects the line segment formed between Point 109 and 110. From this intersection the boundary continues towards Point 110 until it intersects the shoreline. From this intersection the boundary follows the shoreline roughly north and then NE until it intersects the line segment formed between Point 111 and Point 112. From this intersection the boundary continues towards Point 112 until it intersects the shoreline. From this intersection the boundary follows the shoreline roughly east and then north around Bay Point and then west until it intersects the line segment formed between Point 113 and Point 114. From this intersection the boundary continues towards Point 114 until it intersects the shoreline. From this intersection the boundary follows the shoreline north along the western side of Manatee Bay until it intersects the line segment formed between Point 115 and Point 116. From this intersection the boundary continues towards Point 116 until it intersects the shoreline.

From this intersection the boundary follows the shoreline around northern Manatee Bay and Barnes Sound until it intersects the line segment formed between Point 117 and Point 118. From this intersection the boundary continues towards Point 118 until it intersects the shoreline. From this intersection the boundary follows the shoreline roughly to the SE south of FL State Route 905A—Card Sound Road then NW and roughly north along western Little Card Sound and then Card Sound cutting off the mouths of canals and drainage ditches until it intersects the line segment formed between Point 119 and Point 120 south of Midnight Pass. From this intersection the boundary continues to Point 120 and then roughly SE to each successive point in numerical order approximating the southern boundary of Biscayne National Park to Point 142 approximately 3 miles ENE of Turtle Rocks. From Point 142 the boundary continues roughly N to each successive point in numerical order ending at Point 158.

The inner landward sanctuary boundary is defined by and follows the shoreline where not already specified in the description above.

Dry Tortugas National Park is not included within the FKNMS and the inner sanctuary boundary in this area is coterminous with this national park boundary and begins at Point DT1 and continues in numerical order counterclockwise around the national park ending at Point DT10.

Coordinates listed in this appendix are unprojected (Geographic) and based on the North American Datum of 1983.

Florida Keys National Marine Sanctuary Boundary Coordinates
Point | Latitude | Longitude
1 | 25.72274 | −80.08695
2 | 25.64500 | −80.04500
3 | 25.36667 | −80.05000
4 | 25.10633 | −80.17467
5 | 24.93950 | −80.32100
6 | 24.63167 | −80.78833
7 | 24.48667 | −81.28833
8 | 24.37167 | −81.71950
9 | 24.38333 | −81.89167
10 | 24.38333 | −82.05833
11 | 24.38749 | −82.22133
12 | 24.38854 | −82.26357
13 | 24.36667 | −82.80000
14 | 24.30000 | −83.08333
15 | 24.30084 | −83.16711
16 | 24.54992 | −83.16627
17 | 24.76760 | −83.16665
18 | 24.76670 | −83.10000
19 | 24.76667 | −82.90000
20 | 24.76333 | −82.80000
21 | 24.73333 | −81.91667
22 | 24.85000 | −81.43333
23 | 24.91667 | −80.93333
24 | 24.87555 | −80.89054
25 | 24.87315 | −80.88754
26 | 24.85164 | −80.83258
27 | 24.86699 | −80.77381
28 | 24.89338 | −80.74983
29 | 24.90039 | −80.73560
30 | 24.90073 | −80.73483
31 | 24.91255 | −80.72551
32 | 24.93676 | −80.67597
33 | 24.93859 | −80.67223
34 | 24.93891 | −80.67163
35 | 24.94153 | −80.66370
36 | 24.94315 | −80.65854
37 | 24.96567 | −80.63474
38 | 24.99620 | −80.56513
39 | 24.99637 | −80.56482
40 | 24.99756 | −80.56322
41 | 24.99919 | −80.56088
42 | 25.00054 | −80.56067
43 * | 25.00130 | −80.56032
44 * | 25.00597 | −80.55863
45 | 25.00722 | −80.55812
46 | 25.00786 | −80.55769
47 | 25.00883 | −80.55694
48 | 25.01038 | −80.55553
49 | 25.01590 | −80.54977
50 | 25.01695 | −80.54876
51 | 25.02295 | −80.53795
52 | 25.02304 | −80.53783
53 | 25.02309 | −80.53768
54 | 25.02361 | −80.53499
55 | 25.02687 | −80.53021
56 | 25.03011 | −80.52417
57 | 25.03095 | −80.52186
58 | 25.03179 | −80.51954
59 | 25.03388 | −80.51809
60 | 25.03398 | −80.51804
61 | 25.03409 | −80.51801
62 | 25.03740 | −80.51778
63 | 25.03825 | −80.51790
64 | 25.05836 | −80.52178
65 | 25.06772 | −80.49982
66 | 25.08144 | −80.47469
67 | 25.09063 | −80.46820
68 | 25.09088 | −80.46808
69 | 25.09294 | −80.46779
70 | 25.09387 | −80.46704
71 | 25.12097 | −80.44703
72 | 25.12126 | −80.44688
73 | 25.12142 | −80.44684
74 * | 25.12214 | −80.44683
75 * | 25.12785 | −80.44378
76 * | 25.12845 | −80.44309
77 * | 25.12878 | −80.44084
78 | 25.12875 | −80.44022
79 | 25.12870 | −80.43984
80 | 25.12834 | −80.43776
81 | 25.12787 | −80.43414
82 | 25.12772 | −80.43313
83 | 25.12739 | −80.43078
84 | 25.12690 | −80.42809
85 | 25.12667 | −80.42678
86 | 25.12815 | −80.42335
87 | 25.12839 | −80.42307
88 | 25.12889 | −80.42266
89 | 25.12942 | −80.42242
90 | 25.12972 | −80.42234
91 | 25.13040 | −80.42244
92 | 25.13126 | −80.42273
93 * | 25.13200 | −80.42327
94 * | 25.14298 | −80.42513
95 | 25.14339 | −80.42491
96 | 25.14359 | −80.42472
97 | 25.14390 | −80.42416
98 | 25.14744 | −80.41865
99 | 25.17698 | −80.39366
100 | 25.17961 | −80.39071
101 | 25.17986 | −80.39049
102 | 25.18009 | −80.39037
103 * | 25.18302 | −80.38932
104 * | 25.18612 | −80.39050
105 * | 25.18637 | −80.39084
106 * | 25.23068 | −80.43215
107 * | 25.23093 | −80.43225
108 * | 25.23170 | −80.43239
109 * | 25.23193 | −80.43244
110 * | 25.23245 | −80.43118
111 * | 25.23533 | −80.42929
112 * | 25.23578 | −80.42858
113 * | 25.24041 | −80.43052
114 * | 25.24081 | −80.43041
115 * | 25.25651 | −80.42968
116 * | 25.25692 | −80.43006
117 * | 25.30013 | −80.38710
118 * | 25.30034 | −80.38658
119 * | 25.37260 | −80.31062
120 | 25.36649 | −80.28245
121 | 25.35144 | −80.25593
122 | 25.34986 | −80.25492
123 | 25.34899 | −80.25473
124 | 25.34633 | −80.25384
125 | 25.34545 | −80.25288
126 | 25.34484 | −80.25239
127 | 25.34370 | −80.25134
128 | 25.34246 | −80.25012
129 | 25.34203 | −80.24950
130 | 25.34151 | −80.24892
131 | 25.34107 | −80.24829
132 | 25.34069 | −80.24776
133 | 25.33956 | −80.24736
134 | 25.33816 | −80.24685
135 | 25.33724 | −80.24628
136 | 25.33661 | −80.24578
137 | 25.33587 | −80.24482
138 | 25.33530 | −80.24386
139 | 25.33531 | −80.24328
140 | 25.33638 | −80.21007
141 | 25.32064 | −80.19434
142 | 25.29144 | −80.16515
143 | 25.30885 | −80.15424
144 | 25.46608 | −80.10667
145 | 25.48154 | −80.10296
146 | 25.49758 | −80.09999
147 | 25.51415 | −80.09664
148 | 25.52104 | −80.09524
149 | 25.52554 | −80.09471
150 | 25.55760 | −80.09125
151 | 25.57223 | −80.09004
152 | 25.59328 | −80.08848
153 | 25.59972 | −80.08808
154 | 25.60242 | −80.08791
155 | 25.61437 | −80.08784
156 | 25.63198 | −80.08743
157 | 25.64476 | −80.08736
158 | 25.72274 | −80.08695
DT1 | 24.72612 | −82.79849
DT2 | 24.72537 | −82.86646
DT3 | 24.71690 | −82.89975
DT4 | 24.64904 | −82.96770
DT5 | 24.56533 | −82.96789
DT6 | 24.56624 | −82.90040
DT7 | 24.61764 | −82.79902
DT8 | 24.66867 | −82.76542
DT9 | 24.70164 | −82.76522
DT10 | 24.72612 | −82.79849

Note: The coordinates in the table above marked with an asterisk (*) are not a part of the sanctuary boundary. These coordinates are landward reference points used to draw a line segment that intersects with the shoreline.

Appendix B to Subpart P of Part 922—Areas To Be Avoided Boundary Coordinates

Coordinates listed in this appendix are unprojected (Geographic) and based on the North American Datum of 1983.

The boundary for the following Area to be Avoided zones begins at Point 1 and continues to each successive point in numerical order until ending at the zone's last point as listed in its specific coordinate table.

ATBA 1
Point | Latitude | Longitude
1 | 24.37167 | −81.71950
2 | 24.46667 | −81.71950
3 | 24.47833 | −81.72500
4 | 24.49667 | −81.71950
5 | 24.55167 | −81.58583
6 | 24.56000 | −81.43333
7 | 24.63667 | −81.11667
8 | 24.72000 | −80.88667
9 | 24.76833 | −80.76917
10 | 24.85167 | −80.61833
11 | 24.95833 | −80.45833
12 | 25.16500 | −80.27000
13 | 25.40000 | −80.15167
14 | 25.52500 | −80.11667
15 | 25.66167 | −80.11417
16 | 25.75000 | −80.10167
17 | 25.72262 | −80.08689
18 | 25.64500 | −80.04500
19 | 25.36667 | −80.05000
20 | 25.10633 | −80.17467
21 | 24.93950 | −80.32100
22 | 24.63167 | −80.78833
23 | 24.48667 | −81.28833
24 | 24.37167 | −81.71950

ATBA 2
Point | Latitude | Longitude
1 | 24.46583 | −81.81084
2 | 24.38333 | −81.89167
3 | 24.44333 | −81.97500
4 | 24.46250 | −81.92834
5 | 24.48917 | −81.89000
6 | 24.48917 | −81.83334
7 | 24.46583 | −81.81084

ATBA 3
Point | Latitude | Longitude
1 | 24.38854 | −82.26357
2 | 24.39333 | −82.46333
3 | 24.57500 | −82.62500
4 | 24.71667 | −82.44167
5 | 24.63850 | −81.90100
6 | 24.63183 | −81.89000
7 | 24.60250 | −81.86300
8 | 24.57333 | −81.84333
9 | 24.55733 | −81.82883
10 | 24.52000 | −81.86833
11 | 24.47833 | −81.94666
12 | 24.44333 | −81.99250
13 | 24.38333 | −82.05833
14 | 24.38854 | −82.26357

ATBA 4
Point | Latitude | Longitude
1 | 24.53333 | −82.89167
2 | 24.53333 | −83.00083
3 | 24.66167 | −83.00083
4 | 24.76000 | −82.90667
5 | 24.76000 | −82.78667
6 | 24.71333 | −82.73167
7 | 24.65833 | −82.73167
8 | 24.59333 | −82.77333
9 | 24.53333 | −82.89167

Appendix C to Subpart P of Part 922—Management Areas Boundary Coordinates

Coordinates listed in this appendix are unprojected (Geographic) and based on the North American Datum of 1983.

The boundary for the following Management Area zones begins at each individual zone's Point 1 and continues to each successive point in numerical order until ending at that same zone's last point as listed in its specific coordinate table.

Key Largo Management Area
Point | Latitude | Longitude
1 | 24.96750 | −80.31889
2 | 25.02050 | −80.39784
3 | 25.02111 | −80.39765
4 | 25.02349 | −80.39596
5 | 25.02480 | −80.39511
6 | 25.02647 | −80.39412
7 | 25.02835 | −80.39311
8 | 25.03026 | −80.39219
9 | 25.03239 | −80.39127
10 | 25.03437 | −80.39054
11 | 25.03582 | −80.39006
12 | 25.03766 | −80.38952
13 | 25.04131 | −80.38859
14 | 25.04242 | −80.38834
15 | 25.04466 | −80.38792
16 | 25.04654 | −80.38767
17 | 25.04899 | −80.38745
18 | 25.05181 | −80.38736
19 | 25.05367 | −80.38740
20 | 25.05394 | −80.38732
21 | 25.05501 | −80.38504
22 | 25.05674 | −80.38186
23 | 25.05817 | −80.37953
24 | 25.05915 | −80.37808
25 | 25.06050 | −80.37585
26 | 25.06127 | −80.37467
27 | 25.06219 | −80.37338
28 | 25.06343 | −80.37103
29 | 25.06500 | −80.36841
30 | 25.06659 | −80.36607
31 | 25.06791 | −80.36430
32 | 25.06917 | −80.36273
33 | 25.07090 | −80.36078
34 | 25.07161 | −80.35932
35 | 25.07319 | −80.35646
36 | 25.07492 | −80.35370
37 | 25.07627 | −80.35170
38 | 25.07758 | −80.34993
39 | 25.07871 | −80.34852
40 | 25.07988 | −80.34715
41 | 25.08122 | −80.34569
42 | 25.08233 | −80.34456
43 | 25.08376 | −80.34320
44 | 25.08584 | −80.34140
45 | 25.08816 | −80.33961
46 | 25.09008 | −80.33827
47 | 25.09123 | −80.33754
48 | 25.09340 | −80.33628
49 | 25.09508 | −80.33461
50 | 25.09727 | −80.33265
51 | 25.09909 | −80.33118
52 | 25.10065 | −80.33003
53 | 25.10306 | −80.32842
54 | 25.10455 | −80.32753
55 | 25.10675 | −80.32633
56 | 25.10986 | −80.32489
57 | 25.11178 | −80.32356
58 | 25.11340 | −80.32254
59 | 25.11593 | −80.32113
60 | 25.11717 | −80.31955
61 | 25.11860 | −80.31788
62 | 25.12093 | −80.31541
63 | 25.12266 | −80.31379
64 | 25.12400 | −80.31262
65 | 25.12523 | −80.31162
66 | 25.12694 | −80.31033
67 | 25.12887 | −80.30900
68 | 25.13035 | −80.30808
69 | 25.13203 | −80.30711
70 | 25.13443 | −80.30588
71 | 25.13689 | −80.30478
72 | 25.13830 | −80.30423
73 | 25.14048 | −80.30347
74 | 25.14175 | −80.30309
75 | 25.14388 | −80.30178
76 | 25.14505 | −80.30112
77 | 25.14692 | −80.30015
78 | 25.14953 | −80.29897
79 | 25.15236 | −80.29789
80 | 25.15525 | −80.29691
81 | 25.15781 | −80.29618
82 | 25.16003 | −80.29567
83 | 25.16189 | −80.29534
84 | 25.16377 | −80.29507
85 | 25.16640 | −80.29484
86 | 25.16831 | −80.29476
87 | 25.17038 | −80.29477
88 | 25.17167 | −80.29483
89 | 25.17332 | −80.29382
90 | 25.17517 | −80.29279
91 | 25.17672 | −80.29201
92 | 25.17811 | −80.29137
93 | 25.17936 | −80.29046
94 | 25.18113 | −80.28928
95 | 25.18344 | −80.28789
96 | 25.18581 | −80.28665
97 | 25.18754 | −80.28585
98 | 25.18939 | −80.28428
99 | 25.19109 | −80.28297
100 | 25.19284 | −80.28174
101 | 25.19464 | −80.28059
102 | 25.19715 | −80.27915
103 | 25.19887 | −80.27828
104 | 25.20114 | −80.27726
105 | 25.20274 | −80.27663
106 | 25.20410 | −80.27526
107 | 25.20523 | −80.27420
108 | 25.20638 | −80.27318
109 | 25.20756 | −80.27221
110 | 25.21054 | −80.26987
111 | 25.21246 | −80.26852
112 | 25.21408 | −80.26749
113 | 25.21540 | −80.26671
114 | 25.21691 | −80.26589
115 | 25.21947 | −80.26464
116 | 25.22157 | −80.26376
117 | 25.22312 | −80.26299
118 | 25.22521 | −80.26208
119 | 25.22681 | −80.26146
120 | 25.22861 | −80.26085
121 | 25.22973 | −80.26014
122 | 25.23088 | −80.25948
123 | 25.23240 | −80.25831
124 | 25.23381 | −80.25731
125 | 25.23571 | −80.25608
126 | 25.23687 | −80.25540
127 | 25.23879 | −80.25310
128 | 25.24041 | −80.25134
129 | 25.24283 | −80.24901
130 | 25.24477 | −80.24735
131 | 25.24725 | −80.24545
132 | 25.24940 | −80.24349
133 | 25.25105 | −80.24211
134 | 25.25338 | −80.24035
135 | 25.25547 | −80.23894
136 | 25.25694 | −80.23804
137 | 25.25835 | −80.23724
138 | 25.26092 | −80.23594
139 | 25.26355 | −80.23480
140 | 25.26687 | −80.23359
141 | 25.26915 | −80.23204
142 | 25.27098 | −80.23093
143 | 25.27251 | −80.23008
144 | 25.27697 | −80.22775
145 | 25.27997 | −80.22644
146 | 25.28249 | −80.22552
147 | 25.28432 | −80.22495
148 | 25.28642 | −80.22274
149 | 25.28768 | −80.22149
150 | 25.29000 | −80.21941
151 | 25.29197 | −80.21783
152 | 25.29352 | −80.21644
153 | 25.29547 | −80.21481
154 | 25.29748 | −80.21329
155 | 25.29940 | −80.21199
156 | 25.30114 | −80.20984
157 | 25.30329 | −80.20751
158 | 25.30570 | −80.20518
159 | 25.30734 | −80.20377
160 | 25.30980 | −80.20185
161 | 25.31204 | −80.20031
162 | 25.31452 | −80.19880
163 | 25.31588 | −80.19805
164 | 25.31708 | −80.19745
165 | 25.31853 | −80.19611
166 | 25.32064 | −80.19434
167 | 25.29144 | −80.16515
168 | 25.26130 | −80.13652
169 | 25.11806 | −80.20139
170 | 24.96750 | −80.31889

Looe Key Management Area
Point | Latitude | Longitude
1 | 24.53389 | −81.43333
2 | 24.56583 | −81.43333
3 | 24.57083 | −81.38333
4 | 24.53889 | −81.38333
5 | 24.53389 | −81.43333

Appendix D to Subpart P of Part 922—National Wildlife Refuges Boundary Coordinates

Coordinates listed in this appendix are unprojected (Geographic) and based on the North American Datum of 1983.

Note: The coordinates in the tables of this appendix marked with an asterisk (*) are not a part of the zone's boundary. These coordinates are landward reference points used to draw a line segment that intersects with the shoreline.

Key West National Wildlife Refuge

The seaward boundary for the Key West National Wildlife Refuge begins at Point 1 and continues to each successive point in numerical order until ending at Point 5. The inner landward boundary for Key West National Wildlife Refuge is defined by and follows the shoreline at mean high water.

Note: This boundary description only represents the marine portions of the Key West National Wildlife Refuge that fall within the sanctuary. The full Key West National Wildlife Refuge boundary was established by Executive Order 923 in 1908.

Key West National Wildlife Refuge
Point | Latitude | Longitude
1 | 24.66495 | −82.16653
2 | 24.66715 | −81.81657
3 | 24.44728 | −81.81653
4 | 24.44690 | −82.16601
5 | 24.66495 | −82.16653

Great White Heron National Wildlife Refuge

The boundary description below only represents the marine portions of the Great White Heron National Wildlife Refuge that fall within the sanctuary. The full Great White Heron National Wildlife Refuge boundary was established by Executive Order 7993 in 1938, with additional islands acquired under the Migratory Bird Conservation Act (16 U.S.C., S. 715).

The Great White Heron National Wildlife Refuge boundary begins approximately 1.6 miles south of Cocoanut Key at Point 1 and continues west to Point 2 and then south to Point 3. From Point 3 the boundary continues west towards Point 4 until it intersects the shoreline at No Name Key. From this intersection the boundary follows the shoreline generally west until it intersects the line segment formed between Point 5 and Point 6. From this intersection the boundary continues to Point 6 and then south towards Point 7 until it intersects the shoreline at Big Pine Key. From this intersection the boundary follows the shoreline generally north and then around to the south and then east until it intersects the line segment formed between Point 8 and Point 9. From this intersection the boundary continues south to Point 9 and then west towards Point 10 until it intersects the shoreline. From this intersection the boundary follows the shoreline generally west and then north until it intersects the line segment formed between Point 11 and Point 12. From this intersection the boundary continues north to Point 12 and then west towards Point 13 until it intersects the shoreline. From this intersection the boundary follows the shoreline NW until it intersects the line segment formed between Point 14 and Point 15. From this intersection the boundary continues north to Point 15 and then west towards Point 16 until it intersects the shoreline. From this intersection the boundary follows the shoreline north around the northern end of Big Pine Key and then generally south until it intersects the line segment formed between Point 17 and Point 18. From this intersection the boundary continues towards Point 18 until it intersects the shoreline. From this intersection the boundary follows the shoreline west and then south until it intersects the line segment formed between Point 19 and Point 20. From this intersection the boundary continues west towards Point 20 until it intersects the shoreline at Big Torch Key. From this intersection the boundary follows the shoreline NW until it intersects the line segment formed between Point 21 and Point 22. From this intersection the boundary continues north to Point 22 and then west towards Point 23 until it intersects the shoreline. From this intersection the boundary follows the shoreline north around the northern end of Big Torch Key and then generally south until it intersects the line segment formed between Point 24 and Point 25. From this intersection the boundary continues south towards Point 25 until it intersects the shoreline. From this intersection the boundary follows the shoreline generally south until it intersects the line segment formed between Point 26 and Point 27. From this intersection the boundary continues south to Point 27 then west to Point 28 and south towards Point 29 until it intersects the shoreline. From this intersection the boundary follows the shoreline until it intersects the line segment formed between Point 30 and Point 31. From this intersection the boundary continues west to Point 31 and then south towards Point 32 until it intersects the shoreline at Cudjoe Key. From this intersection the boundary follows the shoreline west and then east until it intersects the line segment formed between Point 32 and Point 33. From this intersection the boundary continues south towards Point 33 until it intersects the shoreline. From this intersection the boundary follows the shoreline generally west until it intersects the line segment formed between Point 34 and Point 35. From this intersection the boundary continues west to Point 35 and then south to Point 36 and west to Point 37 and north to Point 38. From Point 38 the boundary continues west towards Point 39 until it intersects the shoreline at Sugarloaf Key. From this intersection the boundary follows the shoreline around the northern end of Sugarloaf Key until it intersects the line segment formed between Point 40 and Point 41. From this intersection the boundary continues west to Point 41 and then generally SW to each successive point in numerical order to Point 45. From Point 45 the boundary continues south towards Point 46 until it intersects the shoreline at Saddlebunch Keys. From this intersection the boundary follows the shoreline generally south until it intersects the line segment formed between Point 47 and Point 48. From this intersection the boundary continues towards Point 48 until it intersects the shoreline. From this intersection the boundary follows the shoreline generally south until it intersects the line segment formed between Point 48 and Point 49. From this intersection the boundary continues towards Point 49 until it intersects the shoreline. From this intersection the boundary follows the shoreline generally west until it intersects the line segment formed between Point 50 and Point 51. From this intersection the boundary continues west to Point 51 and then south towards Point 52 until it intersects the shoreline. From this intersection the boundary follows the shoreline generally west until it intersects the line segment formed between Point 53 and Point 54. From this intersection the boundary continues west to Point 54 and then south towards Point 55 until it intersects the shoreline. From this intersection the boundary follows the shoreline south until it intersects the line segment formed between Point 55 and Point 56. From this intersection the boundary continues south to Point 56 and then west to Point 57 and then south to Point 58. From Point 58 the boundary continues towards Point 59 until it intersects the shoreline at Big Coppitt Key. From this intersection the boundary follows the shoreline west until it intersects the line segment formed between Point 60 and Point 61. From this intersection the boundary continues west to Point 61 and then south towards Point 62 until it intersects the shoreline at Rockland Key. From this intersection the boundary follows the shoreline south and then west until it intersects the line segment formed between Point 63 and Point 64. From this intersection the boundary continues towards Point 64 until it intersects the shoreline. From this intersection the boundary follows the shoreline NW until it intersects the line segment formed between Point 65 and Point 66. From this intersection the boundary continues north to Point 66 and then west towards Point 67 until it intersects the shoreline. From this intersection the boundary follows the shoreline west until it intersects the line segment formed between Point 67 and Point 68. From this intersection the boundary continues west towards Point 68 until it intersects the shoreline at Channel Key. From this intersection the boundary follows the shoreline west until it intersects the line segment formed between Point 69 and Point 70. From this intersection the boundary continues west to Point 70 and then generally NE to each successive point in numerical order to Point 78. From Point 78 the boundary continues south and then west to each successive point in numerical order ending at Point 81. The inner landward boundary of this National Wildlife Refuge is defined by and follows the shoreline where not already specified.

Great White Heron National Wildlife Refuge
Point | Latitude | Longitude
1 | 24.72002 | −81.23787
2 | 24.71978 | −81.26930
3 | 24.70532 | −81.26938
4 * | 24.70505 | −81.33922
5 * | 24.70504 | −81.34280
6 | 24.70502 | −81.34800
7 * | 24.69801 | −81.34804
8 * | 24.69391 | −81.34807
9 | 24.69081 | −81.34809
10 * | 24.69087 | −81.35670
11 * | 24.70579 | −81.36417
12 | 24.71964 | −81.36412
13 * | 24.71976 | −81.37785
14 * | 24.72221 | −81.37952
15 | 24.73455 | −81.37969
16 * | 24.73458 | −81.39071
17 * | 24.72233 | −81.39533
18 * | 24.72180 | −81.39532
19 * | 24.72005 | −81.39747
20 * | 24.72017 | −81.43404
21 * | 24.72197 | −81.43521
22 | 24.73481 | −81.43526
23 * | 24.73478 | −81.43997
24 * | 24.73337 | −81.45123
25 * | 24.72838 | −81.45121
26 * | 24.72109 | −81.45119
27 | 24.72012 | −81.45119
28 | 24.71965 | −81.49089
29 * | 24.70513 | −81.49086
30 * | 24.70510 | −81.49384
31 | 24.70498 | −81.50701
32 * | 24.70121 | −81.50701
33 * | 24.69340 | −81.50703
34 * | 24.69042 | −81.51572
35 | 24.69044 | −81.52277
36 | 24.67596 | −81.52261
37 | 24.67582 | −81.53856
38 | 24.69038 | −81.53872
39 * | 24.69045 | −81.55392
40 * | 24.69047 | −81.55588
41 | 24.69053 | −81.57072
42 | 24.67611 | −81.57031
43 | 24.67605 | −81.58622
44 | 24.66152 | −81.58615
45 | 24.66145 | −81.60206
46 * | 24.65367 | −81.60210
47 * | 24.65278 | −81.60211
48 * | 24.65161 | −81.60212
49 * | 24.64975 | −81.60213
50 * | 24.64716 | −81.61461
51 | 24.64715 | −81.61790
52 * | 24.63403 | −81.61779
53 * | 24.63271 | −81.62618
54 | 24.63278 | −81.63326
55 * | 24.62056 | −81.63345
56 | 24.61820 | −81.63349
57 | 24.61820 | −81.66690
58 | 24.60367 | −81.66677
59 * | 24.60365 | −81.67007
60 * | 24.60363 | −81.67520
61 | 24.60359 | −81.68266
62 * | 24.59486 | −81.68266
63 * | 24.58918 | −81.69107
64 * | 24.58905 | −81.69613
65 * | 24.59312 | −81.69862
66 | 24.60374 | −81.69868
67 * | 24.60370 | −81.70391
68 * | 24.60360 | −81.72036
69 * | 24.60359 | −81.72386
70 | 24.60338 | −81.81000
71 | 24.73450 | −81.81037
72 | 24.73433 | −81.61816
73 | 24.82134 | −81.61827
74 | 24.82180 | −81.33316
75 | 24.79245 | −81.33308
76 | 24.79258 | −81.23840
77 | 24.82172 | −81.23861
78 | 24.82103 | −81.14278
79 | 24.73416 | −81.14243
80 | 24.73455 | −81.23785
81 | 24.72002 | −81.23787

Personal Watercraft (PWC) Exception Area 1—Key West National Wildlife Refuge

Personal watercraft are allowed within the following area inside Key West National Wildlife Refuge. The boundary for PWC Exception Area 1 begins at Point 1 and continues to each successive point in numerical order until ending at Point 4 in the following coordinate table:

Point | Latitude | Longitude
1 | 24.52853 | −81.81654
2 | 24.54833 | −81.81655
3 | 24.54298 | −81.82584
4 | 24.52853 | −81.81654

PWC Exception Area 2—Great White Heron National Wildlife Refuge

Personal watercraft are allowed within the following area inside Great White Heron National Wildlife Refuge. The area begins just north of No Name Key at Point 1 and continues west towards Point 2 until it intersects the shoreline at No Name Key. From this intersection the boundary follows the shoreline west until it intersects the line segment formed between Point 3 and Point 4. From this intersection the boundary continues west to Point 4 then south towards Point 5 until it intersects the shoreline. From this intersection the boundary follows the shoreline generally NW then south and then east until it intersects the line segment formed between Point 6 and Point 7. From this intersection the boundary continues south to Point 7 and then west towards Point 8 until it intersects the shoreline. From this intersection the boundary follows the shoreline generally NW until it intersects the line segment formed between Point 9 and Point 10. From this intersection the boundary continues north to Point 10 then east to Point 11 and then south to Point 12 where it ends. The inner landward boundary of this zone is defined by and follows the shoreline where not already specified.

Point | Latitude | Longitude
1 | 24.70499 | −81.33226
2 * | 24.70505 | −81.33922
3 * | 24.70504 | −81.34280
4 | 24.70502 | −81.34800
5 * | 24.69801 | −81.34804
6 * | 24.69391 | −81.34807
7 | 24.69081 | −81.34809
8 * | 24.69087 | −81.35670
9 * | 24.70579 | −81.36417
10 | 24.71964 | −81.36412
11 | 24.71969 | −81.33228
12 | 24.70499 | −81.33226

PWC Exception Area 3—Great White Heron National Wildlife Refuge

Personal watercraft are allowed within the following area inside the Great White Heron National Wildlife Refuge. This area begins on Howe Key at the intersection of the shoreline and the line segment formed by Point 1 and Point 2. From this intersection the boundary continues east towards Point 2 until it intersects the shoreline at Big Pine Key. From this intersection the boundary follows the shoreline generally south until it intersects the line segment formed between Point 3 and Point 4. From this intersection the boundary continues towards Point 4 until it intersects the shoreline. From this intersection the boundary follows the shoreline generally west and south until it intersects the line segment formed between Point 5 and Point 6. From this intersection the boundary continues west to Point 6 and then north towards Point 7 until it intersects the shoreline at Howe Key. From this intersection the boundary follows the shoreline generally south and east until it intersects the line segment formed between Point 8 and Point 9 where it ends. The inner landward boundary of this zone is defined by and follows the shoreline where not already specified.

Point | Latitude | Longitude
1 * | 24.73472 | −81.40463
2 * | 24.73464 | −81.39898
3 * | 24.72233 | −81.39533
4 * | 24.72180 | −81.39532
5 * | 24.72005 | −81.39747
6 | 24.72025 | −81.41181
7 * | 24.73480 | −81.41169
8 * | 24.73472 | −81.40463
9 * | 24.73464 | −81.39898

PWC Exception Area 4—Great White Heron National Wildlife Refuge

Personal watercraft are allowed within the following area inside the Great White Heron National Wildlife Refuge. This area begins just west of Big Torch Key at Point 1 and continues west to Point 2 and then north towards Point 3 until it intersects the shoreline. From this intersection the boundary follows the shoreline north until it intersects the line segment formed between Point 3 and Point 4. From this intersection the boundary continues towards Point 4 until it intersects the shoreline. From this intersection the boundary follows the shoreline north until it intersects the line segment formed between Point 4 and Point 5. From this intersection the boundary continues north to Point 5 and then east towards Point 6 until it intersects the shoreline. From this intersection the boundary follows the shoreline east until it intersects the line segment between Point 6 and Point 7. From this intersection the boundary continues towards Point 7 until it intersects the shoreline. From this intersection the boundary follows the shoreline east until it intersects the line segment formed between Point 7 and Point 8. From this intersection the boundary continues towards Point 8 until it intersects the shoreline at Big Torch Key. From this intersection the boundary follows the shoreline generally south until it intersects the line segment formed between Point 9 and Point 10. From this intersection the boundary continues south towards Point 10 until it intersects the shoreline. From this intersection the boundary follows the shoreline generally south until it intersects the line segment formed between Point 11 and Point 12. From this intersection the boundary continues south to Point 12 where it ends. The inner landward boundary of this zone is defined by and follows the shoreline where not already specified.

Point | Latitude | Longitude
1 | 24.72012 | −81.45119
2 | 24.72024 | −81.45910
3 * | 24.72739 | −81.45914
4 * | 24.72850 | −81.45915
5 | 24.73470 | −81.45913
6 * | 24.73472 | −81.45545
7 * | 24.73472 | −81.45506
8 * | 24.73474 | −81.45214
9 * | 24.73337 | −81.45123
10 * | 24.72838 | −81.45121
11 * | 24.72109 | −81.45119
12 | 24.72012 | −81.45119

PWC Exception Area 5—Great White Heron National Wildlife Refuge

Personal watercraft are allowed within the following area inside the Great White Heron National Wildlife Refuge. This area begins just NW of Halfmoon Key at Point 1 and continues south to Point 2 and then west towards Point 3 until it intersects the shoreline at Big Coppitt Key. From this intersection the boundary follows the shoreline west until it intersects the line segment formed between Point 4 and Point 5. From this intersection the boundary continues west to Point 5 and then north towards Point 6 until it intersects the shoreline at Duck Key. From this intersection the boundary follows the shoreline SW and then NW around Duck Key until it intersects the line segment formed between Point 7 and Point 8. From this intersection the boundary continues east to Point 8 where it ends. The inner landward boundary of this zone is defined by and follows the shoreline where not already specified.

Point | Latitude | Longitude
1 | 24.61820 | −81.66690
2 | 24.60367 | −81.66677
3 * | 24.60365 | −81.67007
4 * | 24.60363 | −81.67520
5 | 24.60359 | −81.68266
6 * | 24.61716 | −81.68207
7 * | 24.61821 | −81.68201
8 | 24.61820 | −81.66690

PWC Exception Area 6—Great White Heron National Wildlife Refuge

Personal watercraft are allowed within the following area inside the Great White Heron National Wildlife Refuge. This area begins just north of Rockland Key at Point 1. From Point 1 the boundary continues south towards Point 2 until it intersects the shoreline at Rockland Key. From this intersection the boundary follows the shoreline generally south and west until it intersects the line segment formed between Point 3 and Point 4. From this intersection the boundary continues west towards Point 4 until it intersects the shoreline. From this intersection the boundary follows the shoreline NW until it intersects the line segment formed between Point 5 and Point 6. From this intersection the boundary continues north to Point 6 and then east to Point 7 where it ends. The inner landward boundary of this zone is defined by and follows the shoreline where not already specified.

Point | Latitude | Longitude
1 | 24.60359 | −81.68266
2 * | 24.59486 | −81.68266
3 * | 24.58918 | −81.69107
4 * | 24.58905 | −81.69613
5 * | 24.59312 | −81.69862
6 | 24.60374 | −81.69868
7 | 24.60359 | −81.68266

Appendix E to Subpart P of Part 922—Wildlife Management Areas Boundary Coordinates and Access and Use Restrictions

Coordinates listed in this appendix are unprojected (Geographic) and based on the North American Datum of 1983.

The access and use restriction for each zone is listed under the zone name and set forth at 15 CFR 922.164(d).

The boundary for the following Wildlife Management Areas begins at each individual zone's Point 1 and continues to each successive point in numerical order until ending at that same zone's last point as listed in its specific coordinate table.

Ballast and Man Keys Flats WMA 1

Idle Speed No Wake
Point | Latitude | Longitude
1 | 24.52370 | −81.94818
2 | 24.52568 | −81.94852
3 | 24.53128 | −81.95063
4 | 24.53197 | −81.95088
5 | 24.53253 | −81.95179
6 | 24.53296 | −81.95226
7 | 24.53342 | −81.95250
8 | 24.53515 | −81.95235
9 | 24.53455 | −81.93151
10 | 24.52213 | −81.93124
11 | 24.52370 | −81.94818

Ballast and Man Keys Flats WMA 2

Idle Speed No Wake
Point | Latitude | Longitude
1 | 24.53526 | −81.95645
2 | 24.53513 | −81.95653
3 | 24.53507 | −81.95660
4 | 24.53466 | −81.95711
5 | 24.53398 | −81.95777
6 | 24.53361 | −81.95844
7 | 24.53336 | −81.95918
8 | 24.53296 | −81.95969
9 | 24.53242 | −81.95984
10 | 24.53195 | −81.95987
11 | 24.53135 | −81.95991
12 | 24.53059 | −81.96006
13 | 24.52984 | −81.96056
14 | 24.52911 | −81.96119
15 | 24.52803 | −81.96208
16 | 24.52728 | −81.96270
17 | 24.52645 | −81.96261
18 | 24.52513 | −81.96213
19 | 24.52499 | −81.96205
20 | 24.52614 | −81.96561
21 | 24.53545 | −81.96303
22 | 24.53526 | −81.95645

Ballast and Man Keys Flats WMA 3

Idle Speed No Wake
Point | Latitude | Longitude
1 | 24.53519 | −81.95404
2 | 24.53482 | −81.95413
3 | 24.53373 | −81.95423
4 | 24.53298 | −81.95422
5 | 24.53266 | −81.95348
6 | 24.53234 | −81.95281
7 | 24.53192 | −81.95214
8 | 24.53153 | −81.95139
9 | 24.53085 | −81.95099
10 | 24.53006 | −81.95075
11 | 24.52913 | −81.95055
12 | 24.52806 | −81.95035
13 | 24.52705 | −81.95038
14 | 24.52630 | −81.95049
15 | 24.52522 | −81.95083
16 | 24.52400 | −81.95136
17 | 24.52489 | −81.96102
18 | 24.52510 | −81.96119
19 | 24.52632 | −81.96187
20 | 24.52710 | −81.96176
21 | 24.52782 | −81.96125
22 | 24.52858 | −81.96083
23 | 24.52937 | −81.96021
24 | 24.53002 | −81.95986
25 | 24.53131 | −81.95944
26 | 24.53214 | −81.95929
27 | 24.53278 | −81.95925
28 | 24.53307 | −81.95871
29 | 24.53340 | −81.95777
30 | 24.53430 | −81.95707
31 | 24.53503 | −81.95625
32 | 24.53517 | −81.95610
33 | 24.53525 | −81.95601
34 | 24.53519 | −81.95404

Channel Key Banks WMA 1

Idle Speed No Wake
Point | Latitude | Longitude
1 | 24.79864 | −80.91482
2 | 24.79054 | −80.90649
3 | 24.78363 | −80.91293
4 | 24.79325 | −80.91988
5 | 24.79864 | −80.91482

Channel Key Banks WMA 2

Idle Speed No Wake
Point | Latitude | Longitude
1 | 24.79341 | −80.90382
2 | 24.79144 | −80.90566
3 | 24.80042 | −80.91454
4 | 24.80139 | −80.91446
5 | 24.80827 | −80.90440
6 | 24.80309 | −80.90109
7 | 24.79341 | −80.90382

Channel Key Banks WMA 3

Idle Speed No Wake
Point | Latitude | Longitude
1 | 24.80936 | −80.90509
2 | 24.80357 | −80.91428
3 | 24.81171 | −80.91360
4 | 24.81164 | −80.90655
5 | 24.80936 | −80.90509

Channel Key Banks WMA 4

Idle Speed No Wake
Point | Latitude | Longitude
1 | 24.83778 | −80.90001
2 | 24.82315 | −80.89502
3 | 24.82025 | −80.89590
4 | 24.82013 | −80.89894
5 | 24.82623 | −80.90103
6 | 24.82468 | −80.90508
7 | 24.81429 | −80.90823
8 | 24.81441 | −80.91337
9 | 24.83992 | −80.91123
10 | 24.84415 | −80.90734
11 | 24.84561 | −80.90353
12 | 24.83925 | −80.90463
13 | 24.83778 | −80.90001

Channel Key Banks WMA 5

Idle Speed No Wake
Point | Latitude | Longitude
1 | 24.87054 | −80.88345
2 | 24.85033 | −80.87681
3 | 24.84612 | −80.89420
4 | 24.84127 | −80.90120
5 | 24.83946 | −80.90058
6 | 24.84016 | −80.90280
7 | 24.84742 | −80.90170
8 | 24.84649 | −80.90518
9 | 24.85246 | −80.89969
10 | 24.85295 | −80.89489
11 | 24.85097 | −80.88579
12 | 24.85682 | −80.88193
13 | 24.87021 | −80.88591
14 | 24.87054 | −80.88345

Channel Key Banks WMA

The wildlife management area outer seaward boundary begins just north of Channel Key at Point 1. From Point 1 the boundary continues SE to Point 2 and to each successive point in numerical order ending at Point 5. The inner boundary is defined by the Channel Key Banks Wildlife Management Area No Entry Zone around Channel Key beginning at Point 1 of that zone and continuing to each successive point in numerical order until it ends at Point 159.

No Entry
Point | Latitude | Longitude
1 | 24.79084 | −80.91578
2 | 24.79083 | −80.91570
3 | 24.79084 | −80.91564
4 | 24.79085 | −80.91549
5 | 24.79085 | −80.91544
6 | 24.79086 | −80.91539
7 | 24.79087 | −80.91532
8 | 24.79089 | −80.91524
9 | 24.79090 | −80.91521
10 | 24.79094 | −80.91512
11 | 24.79095 | −80.91509
12 | 24.79097 | −80.91502
13 | 24.79100 | −80.91496
14 | 24.79104 | −80.91489
15 | 24.79109 | −80.91483
16 | 24.79114 | −80.91477
17 | 24.79119 | −80.91472
18 | 24.79122 | −80.91470
19 | 24.79133 | −80.91460
20 | 24.79138 | −80.91454
21 | 24.79149 | −80.91429
22 | 24.79152 | −80.91424
23 | 24.79155 | −80.91417
24 | 24.79160 | −80.91411
25 | 24.79162 | −80.91408
26 | 24.79173 | −80.91395
27 | 24.79177 | −80.91390
28 | 24.79181 | −80.91387
29 | 24.79187 | −80.91382
30 | 24.79193 | −80.91378
31 | 24.79199 | −80.91374
32 | 24.79206 | −80.91371
33 | 24.79207 | −80.91370
34 | 24.79217 | −80.91367
35 | 24.79229 | −80.91363
36 | 24.79260 | −80.91357
37 | 24.79261 | −80.91357
38 | 24.79268 | −80.91356
39 | 24.79275 | −80.91355
40 | 24.79277 | −80.91356
41 | 24.79293 | −80.91356
42 | 24.79313 | −80.91352
43 | 24.79320 | −80.91351
44 | 24.79327 | −80.91351
45 | 24.79334 | −80.91351
46 | 24.79341 | −80.91352
47 | 24.79346 | −80.91353
48 | 24.79355 | −80.91356
49 | 24.79360 | −80.91357
50 | 24.79364 | −80.91359
51 | 24.79371 | −80.91362
52 | 24.79387 | −80.91370
53 | 24.79390 | −80.91371
54 | 24.79400 | −80.91376
55 | 24.79405 | −80.91378
56 | 24.79410 | −80.91381
57 | 24.79413 | −80.91383
58 | 24.79415 | −80.91384
59 | 24.79420 | −80.91386
60 | 24.79426 | −80.91389
61 | 24.79432 | −80.91393
62 | 24.79438 | −80.91397
63 | 24.79444 | −80.91402
64 | 24.79445 | −80.91403
65 | 24.79461 | −80.91418
66 | 24.79466 | −80.91423
67 | 24.79470 | −80.91428
68 | 24.79475 | −80.91434
69 | 24.79478 | −80.91441
70 | 24.79481 | −80.91446
71 | 24.79489 | −80.91463
72 | 24.79491 | −80.91467
73 | 24.79493 | −80.91470
74 | 24.79497 | −80.91477
75 | 24.79500 | −80.91484
76 | 24.79503 | −80.91491
77 | 24.79504 | −80.91496
78 | 24.79506 | −80.91503
79 | 24.79507 | −80.91508
80 | 24.79508 | −80.91513
81 | 24.79509 | −80.91521
82 | 24.79509 | −80.91523
83 | 24.79511 | −80.91530
84 | 24.79513 | −80.91537
85 | 24.79514 | −80.91543
86 | 24.79515 | −80.91548
87 | 24.79515 | −80.91554
88 | 24.79517 | −80.91589
89 | 24.79517 | −80.91591
90 | 24.79520 | −80.91643
91 | 24.79520 | −80.91647
92 | 24.79519 | −80.91655
93 | 24.79518 | −80.91663
94 | 24.79517 | −80.91670
95 | 24.79517 | −80.91671
96 | 24.79515 | −80.91678
97 | 24.79514 | −80.91681
98 | 24.79508 | −80.91698
99 | 24.79503 | −80.91708
100 | 24.79496 | −80.91721
101 | 24.79496 | −80.91723
102 | 24.79492 | −80.91730
103 | 24.79487 | −80.91736
104 | 24.79482 | −80.91742
105 | 24.79477 | −80.91747
106 | 24.79474 | −80.91750
107 | 24.79470 | −80.91753
108 | 24.79465 | −80.91757
109 | 24.79457 | −80.91763
110 | 24.79454 | −80.91765
111 | 24.79450 | −80.91768
112 | 24.79444 | −80.91771
113 | 24.79437 | −80.91774
114 | 24.79433 | −80.91776
115 | 24.79428 | −80.91777
116 | 24.79407 | −80.91783
117 | 24.79403 | −80.91784
118 | 24.79379 | −80.91789
119 | 24.79376 | −80.91790
120 | 24.79370 | −80.91792
121 | 24.79363 | −80.91794
122 | 24.79355 | −80.91795
123 | 24.79348 | −80.91795
124 | 24.79341 | −80.91795
125 | 24.79334 | −80.91794
126 | 24.79331 | −80.91793
127 | 24.79328 | −80.91792
128 | 24.79322 | −80.91791
129 | 24.79300 | −80.91784
130 | 24.79295 | −80.91782
131 | 24.79288 | −80.91779
132 | 24.79227 | −80.91748
133 | 24.79221 | −80.91744
134 | 24.79216 | −80.91741
135 | 24.79212 | −80.91738
136 | 24.79200 | −80.91728
137 | 24.79197 | −80.91725
138 | 24.79191 | −80.91719
139 | 24.79182 | −80.91709
140 | 24.79169 | −80.91701
141 | 24.79154 | −80.91694
142 | 24.79149 | −80.91691
143 | 24.79143 | −80.91686
144 | 24.79137 | −80.91682
145 | 24.79132 | −80.91677
146 | 24.79128 | −80.91672
147 | 24.79119 | −80.91660
148 | 24.79118 | −80.91659
149 | 24.79113 | −80.91653
150 | 24.79109 | −80.91646
151 | 24.79108 | −80.91644
152 | 24.79095 | −80.91617
153 | 24.79094 | −80.91614
154 | 24.79092 | −80.91610
155 | 24.79090 | −80.91606
156 | 24.79088 | −80.91601
157 | 24.79086 | −80.91594
158 | 24.79085 | −80.91586
159 | 24.79084 | −80.91578

Marquesas Keys Turtle WMA

Idle Speed No Wake
Point | Latitude | Longitude
1 | 24.55110 | −82.25453
2 | 24.57496 | −82.25476
2 | 24.57546 | −82.19300
4 | 24.55156 | −82.19305
5 | 24.55110 | −82.25453

Pelican Shoal WMA

No Entry
Point | Latitude | Longitude
1 | 24.50252 | −81.63114
2 | 24.50206 | −81.63075
3 | 24.50164 | −81.63064
4 | 24.50147 | −81.63068
5 | 24.50132 | −81.63078
6 | 24.50122 | −81.63094
7 | 24.50118 | −81.63113
8 | 24.50120 | −81.63126
9 | 24.50135 | −81.63162
10 | 24.50158 | −81.63188
11 | 24.50193 | −81.63207
12 | 24.50223 | −81.63212
13 | 24.50245 | −81.63212
14 | 24.50259 | −81.63207
15 | 24.50273 | −81.63196
16 | 24.50282 | −81.63179
17 | 24.50284 | −81.63160
18 | 24.50280 | −81.63141
19 | 24.50269 | −81.63126
20 | 24.50252 | −81.63114

Red Bay Bank WMA 1

Idle Speed No Wake
Point | Latitude | Longitude
1 | 24.75060 | −81.13581
2 | 24.74698 | −81.13746
3 | 24.75323 | −81.15290
4 | 24.75430 | −81.17123
5 | 24.75726 | −81.16952
6 | 24.75960 | −81.16188
7 | 24.75728 | −81.15075
8 | 24.75060 | −81.13581

Red Bay Bank WMA 2

Point | Latitude | Longitude
1 | 24.76489 | −81.17336
2 | 24.76116 | −81.17789
3 | 24.76932 | −81.18551
4 | 24.77090 | −81.17929
5 | 24.76489 | −81.17336

Snake Creek WMA 1

No Motor
Point | Latitude | Longitude
1 | 24.94965 | −80.58774
2 | 24.94895 | −80.58751
3 | 24.94821 | −80.58710
4 | 24.94790 | −80.58685
5 | 24.94761 | −80.58643
6 | 24.94695 | −80.58520
7 | 24.94676 | −80.58495
8 | 24.94554 | −80.58387
9 | 24.94439 | −80.58404
10 | 24.94374 | −80.58407
11 | 24.94327 | −80.58395
12 | 24.94236 | −80.58331
13 | 24.94151 | −80.58182
14 | 24.94114 | −80.58139
15 | 24.94047 | −80.58102
16 | 24.93612 | −80.58770
17 | 24.94352 | −80.59103
18 | 24.94840 | −80.59079
19 | 24.94965 | −80.58774

Snake Creek WMA 2

No Motor
Point | Latitude | Longitude
1 | 24.94824 | −80.59116
2 | 24.94368 | −80.59135
3 | 24.94737 | −80.59330
4 | 24.94824 | −80.59116

Snake Creek WMA 3

No Motor
Point | Latitude | Longitude
1 | 24.94725 | −80.59360
2 | 24.93974 | −80.58991
3 | 24.94570 | −80.59761
4 | 24.94725 | −80.59360

Snake Creek WMA 4

No Motor
Point | Latitude | Longitude
1 | 24.94540 | −80.59785
2 | 24.93942 | −80.58980
3 | 24.93584 | −80.58814
4 | 24.93424 | −80.59059
5 | 24.93594 | −80.59222
6 | 24.93666 | −80.59207
7 | 24.93715 | −80.59183
8 | 24.93750 | −80.59175
9 | 24.93772 | −80.59177
10 | 24.93806 | −80.59181
11 | 24.93873 | −80.59213
12 | 24.93904 | −80.59239
13 | 24.93919 | −80.59258
14 | 24.93934 | −80.59288
15 | 24.93943 | −80.59321
16 | 24.93972 | −80.59488
17 | 24.93972 | −80.59536
18 | 24.93981 | −80.59567
19 | 24.93981 | −80.59581
20 | 24.93994 | −80.59618
21 | 24.93996 | −80.59675
22 | 24.93985 | −80.59760
23 | 24.93984 | −80.59972
24 | 24.93994 | −80.60078
25 | 24.94007 | −80.60166
26 | 24.94020 | −80.60233
27 | 24.94046 | −80.60274
28 | 24.94061 | −80.60290
29 | 24.94082 | −80.60298
30 | 24.94111 | −80.60335
31 | 24.94540 | −80.59785

Tortugas Bank WMA

No Anchor by Vessels >50m Length
Point | Latitude | Longitude
1 | 24.53333 | −83.00080
2 | 24.61666 | −83.10000
3 | 24.65000 | −83.10000
4 | 24.65000 | −83.00080
5 | 24.53333 | −83.00080

Western Dry Rocks WMA

From April 1 to July 31, Continuous Transit Without Interruption and No Anchor
Point | Latitude | Longitude
1 | 24.42822 | −81.92479
2 | 24.42802 | −81.95011
3 | 24.43694 | −81.95018
4 | 24.43712 | −81.92488
5 | 24.42822 | −81.92479

The seaward boundary for the following Wildlife Management Areas begins at each individual zone's Point 1 and continues to each successive point in numerical order until ending at that same zone's last point as listed in its specific coordinate table. The inner landward boundary for each individual zone below is defined by and follows the shoreline at mean high water.

Bay Keys WMA 1

No Motor
Point | Latitude | Longitude
1 | 24.63604 | −81.76179
2 | 24.63575 | −81.76133
3 | 24.63530 | −81.76112
4 | 24.63469 | −81.76077
5 | 24.63400 | −81.76062
6 | 24.63310 | −81.76065
7 | 24.63218 | −81.76082
8 | 24.63178 | −81.76125
9 | 24.63111 | −81.76203
10 | 24.63071 | −81.76286
11 | 24.63099 | −81.76382
12 | 24.63123 | −81.76472
13 | 24.63160 | −81.76550
14 | 24.63204 | −81.76629
15 | 24.63289 | −81.76629
16 | 24.63353 | −81.76601
17 | 24.63416 | −81.76584
18 | 24.63511 | −81.76579
19 | 24.63559 | −81.76530
20 | 24.63589 | −81.76457
21 | 24.63584 | −81.76399
22 | 24.63603 | −81.76353
23 | 24.63613 | −81.76319
24 | 24.63622 | −81.76258
25 | 24.63604 | −81.76179

Bay Keys WMA 2

No Motor
Point | Latitude | Longitude
1 | 24.63560 | −81.77521
2 | 24.63493 | −81.77494
3 | 24.63452 | −81.77470
4 | 24.63414 | −81.77460
5 | 24.63384 | −81.77461
6 | 24.63364 | −81.77467
7 | 24.63323 | −81.77490
8 | 24.63302 | −81.77509
9 | 24.63288 | −81.77531
10 | 24.63277 | −81.77576
11 | 24.63279 | −81.77619
12 | 24.63322 | −81.77719
13 | 24.63355 | −81.77758
14 | 24.63378 | −81.77774
15 | 24.63402 | −81.77784
16 | 24.63423 | −81.77788
17 | 24.63444 | −81.77786
18 | 24.63484 | −81.77774
19 | 24.63549 | −81.77748
20 | 24.63573 | −81.77733
21 | 24.63591 | −81.77714
22 | 24.63595 | −81.77709
23 | 24.63610 | −81.77691
24 | 24.63620 | −81.77672
25 | 24.63621 | −81.77668
26 | 24.63627 | −81.77643
27 | 24.63627 | −81.77619
28 | 24.63620 | −81.77588
29 | 24.63607 | −81.77561
30 | 24.63585 | −81.77536
31 | 24.63560 | −81.77521

Big Mullet Key WMA

No Motor
Point | Latitude | Longitude
1 | 24.58096 | −81.91817
2 | 24.58090 | −81.91758
3 | 24.58080 | −81.91723
4 | 24.58051 | −81.91671
5 | 24.58029 | −81.91649
6 | 24.58001 | −81.91630
7 | 24.57930 | −81.91618
8 | 24.57897 | −81.91606
9 | 24.57803 | −81.91612
10 | 24.57730 | −81.91636
11 | 24.57690 | −81.91667
12 | 24.57677 | −81.91683
13 | 24.57659 | −81.91714
14 | 24.57647 | −81.91762
15 | 24.57650 | −81.91818
16 | 24.57665 | −81.91856
17 | 24.57690 | −81.91886
18 | 24.57758 | −81.91929
19 | 24.57757 | −81.91952
20 | 24.57761 | −81.91975
21 | 24.57793 | −81.92047
22 | 24.57863 | −81.92131
23 | 24.57887 | −81.92147
24 | 24.57917 | −81.92155
25 | 24.57962 | −81.92151
26 | 24.58006 | −81.92128
27 | 24.58042 | −81.92092
28 | 24.58068 | −81.92051
29 | 24.58079 | −81.92015
30 | 24.58106 | −81.91976
31 | 24.58116 | −81.91940
32 | 24.58112 | −81.91861
33 | 24.58096 | −81.91817

Cottrell Key WMA

No Entry
Point | Latitude | Longitude
1 | 24.60377 | −81.91824
2 | 24.60300 | −81.91882
3 | 24.60285 | −81.91909
4 | 24.60262 | −81.91937
5 | 24.60197 | −81.91958
6 | 24.60109 | −81.92023
7 | 24.60095 | −81.92045
8 | 24.60061 | −81.92084
9 | 24.60034 | −81.92138
10 | 24.60020 | −81.92193
11 | 24.59996 | −81.92219
12 | 24.59984 | −81.92238
13 | 24.59972 | −81.92274
14 | 24.59969 | −81.92298
15 | 24.59982 | −81.92389
16 | 24.60029 | −81.92486
17 | 24.60069 | −81.92516
18 | 24.60112 | −81.92528
19 | 24.60144 | −81.92526
20 | 24.60176 | −81.92512
21 | 24.60209 | −81.92487
22 | 24.60271 | −81.92470
23 | 24.60296 | −81.92458
24 | 24.60317 | −81.92441
25 | 24.60365 | −81.92457
26 | 24.60402 | −81.92463
27 | 24.60463 | −81.92461
28 | 24.60482 | −81.92465
29 | 24.60514 | −81.92463
30 | 24.60537 | −81.92456
31 | 24.60556 | −81.92445
32 | 24.60584 | −81.92407
33 | 24.60612 | −81.92403
34 | 24.60647 | −81.92408
35 | 24.60701 | −81.92405
36 | 24.60734 | −81.92386
37 | 24.60753 | −81.92358
38 | 24.60764 | −81.92319
39 | 24.60765 | −81.92284
40 | 24.60759 | −81.92245
41 | 24.60770 | −81.92202
42 | 24.60765 | −81.92152
43 | 24.60752 | −81.92112
44 | 24.60734 | −81.92085
45 | 24.60652 | −81.92024
46 | 24.60646 | −81.92009
47 | 24.60649 | −81.91955
48 | 24.60627 | −81.91899
49 | 24.60567 | −81.91844
50 | 24.60534 | −81.91826
51 | 24.60455 | −81.91806
52 | 24.60430 | −81.91808
53 | 24.60377 | −81.91824

Crane Key WMA

No Entry
Point | Latitude | Longitude
1 | 24.75715 | −81.51346
2 | 24.75651 | −81.51279
3 | 24.75602 | −81.51237
4 | 24.75603 | −81.51177
5 | 24.75562 | −81.51127
6 | 24.75527 | −81.51098
7 | 24.75436 | −81.51080
8 | 24.75327 | −81.51102
9 | 24.75218 | −81.51170
10 | 24.75169 | −81.51339
11 | 24.75232 | −81.51475
12 | 24.75330 | −81.51486
13 | 24.75392 | −81.51468
14 | 24.75491 | −81.51549
15 | 24.75599 | −81.51582
16 | 24.75709 | −81.51581
17 | 24.75748 | −81.51526
18 | 24.75753 | −81.51437
19 | 24.75715 | −81.51346

Dove and Rodriguez Keys WMA

No Motor
Point | Latitude | Longitude
1 | 25.05010 | −80.47599
2 | 25.05531 | −80.44249
3 | 25.04935 | −80.43991
4 | 25.04375 | −80.45695
5 | 25.04506 | −80.47474
6 | 25.04718 | −80.47836
7 | 25.05010 | −80.47599

East Bahia Honda Key WMA

No Motor
Point | Latitude | Longitude
1 | 24.78258 | −81.22843
2 | 24.78185 | −81.22775
3 | 24.78061 | −81.22719
4 | 24.77864 | −81.22625
5 | 24.77759 | −81.22590
6 | 24.77676 | −81.22560
7 | 24.77592 | −81.22468
8 | 24.77522 | −81.22475
9 | 24.77521 | −81.22593
10 | 24.77468 | −81.22756
11 | 24.77484 | −81.22917
12 | 24.77600 | −81.22990
13 | 24.77704 | −81.23140
14 | 24.77783 | −81.23134
15 | 24.77834 | −81.23113
16 | 24.77909 | −81.23108
17 | 24.77950 | −81.23098
18 | 24.78013 | −81.23124
19 | 24.78055 | −81.23169
20 | 24.78069 | −81.23242
21 | 24.78138 | −81.23261
22 | 24.78257 | −81.23189
23 | 24.78284 | −81.23101
24 | 24.78284 | −81.22957
25 | 24.78258 | −81.22843

East Content Keys and Upper Harbor Key Flats WMA 1

No Entry
Point | Latitude | Longitude
1 | 24.81100 | −81.44379
2 | 24.81136 | −81.44433
3 | 24.81144 | −81.44439
4 | 24.81175 | −81.44454
5 | 24.81239 | −81.44470
6 | 24.81287 | −81.44470
7 | 24.81356 | −81.44459
8 | 24.81381 | −81.44449
9 | 24.81402 | −81.44431
10 | 24.81418 | −81.44400
11 | 24.81425 | −81.44356
12 | 24.81424 | −81.44332
13 | 24.81419 | −81.44309
14 | 24.81418 | −81.44216
15 | 24.81414 | −81.44176
16 | 24.81408 | −81.44144
17 | 24.81401 | −81.44128
18 | 24.81370 | −81.44076
19 | 24.81351 | −81.44056
20 | 24.81323 | −81.44040
21 | 24.81294 | −81.44033
22 | 24.81273 | −81.44033
23 | 24.81235 | −81.44042
24 | 24.81196 | −81.44062
25 | 24.81160 | −81.44088
26 | 24.81130 | −81.44114
27 | 24.81099 | −81.44147
28 | 24.81085 | −81.44169
29 | 24.81075 | −81.44190
30 | 24.81067 | −81.44224
31 | 24.81067 | −81.44252
32 | 24.81070 | −81.44278
33 | 24.81100 | −81.44379

Happy Jack Key WMA

No Entry
Point | Latitude | Longitude
1 | 24.69922 | −81.56774
2 | 24.69900 | −81.56754
3 | 24.69868 | −81.56741
4 | 24.69841 | −81.56738
5 | 24.69810 | −81.56746
6 | 24.69765 | −81.56771
7 | 24.69732 | −81.56797
8 | 24.69715 | −81.56823
9 | 24.69707 | −81.56861
10 | 24.69708 | −81.56887
11 | 24.69717 | −81.56917
12 | 24.69732 | −81.56940
13 | 24.69758 | −81.56967
14 | 24.69783 | −81.56983
15 | 24.69846 | −81.57007
16 | 24.69872 | −81.57023
17 | 24.69901 | −81.57031
18 | 24.69922 | −81.57030
19 | 24.69938 | −81.57026
20 | 24.69968 | −81.57008
21 | 24.69989 | −81.56980
22 | 24.69996 | −81.56962
23 | 24.70000 | −81.56939
24 | 24.70001 | −81.56918
25 | 24.69998 | −81.56895
26 | 24.69977 | −81.56838
27 | 24.69961 | −81.56814
28 | 24.69932 | −81.56791
29 | 24.69922 | −81.56774

Horseshoe Keys WMA

No Entry
Point | Latitude | Longitude
1 | 24.78282 | −81.29316
2 | 24.78271 | −81.29266
3 | 24.78160 | −81.29255
4 | 24.78133 | −81.29209
5 | 24.78055 | −81.29126
6 | 24.77962 | −81.29059
7 | 24.77887 | −81.29017
8 | 24.77867 | −81.28991
9 | 24.77840 | −81.28970
10 | 24.77820 | −81.28961
11 | 24.77800 | −81.28958
12 | 24.77817 | −81.28908
13 | 24.77816 | −81.28867
14 | 24.77804 | −81.28833
15 | 24.77792 | −81.28814
16 | 24.77774 | −81.28746
17 | 24.77751 | −81.28715
18 | 24.77734 | −81.28700
19 | 24.77700 | −81.28683
20 | 24.77679 | −81.28678
21 | 24.77601 | −81.28692
22 | 24.77585 | −81.28665
23 | 24.77530 | −81.28600
24 | 24.77512 | −81.28588
25 | 24.77489 | −81.28582
26 | 24.77464 | −81.28562
27 | 24.77444 | −81.28553
28 | 24.77423 | −81.28550
29 | 24.77395 | −81.28552
30 | 24.77375 | −81.28560
31 | 24.77357 | −81.28573
32 | 24.77316 | −81.28561
33 | 24.77291 | −81.28560
34 | 24.77291 | −81.28526
35 | 24.77278 | −81.28494
36 | 24.77249 | −81.28453
37 | 24.77209 | −81.28425
38 | 24.77188 | −81.28420
39 | 24.77125 | −81.28419
40 | 24.77093 | −81.28432
41 | 24.77053 | −81.28436
42 | 24.77029 | −81.28448
43 | 24.77039 | −81.28374
44 | 24.77011 | −81.28284
45 | 24.76971 | −81.28267
46 | 24.76963 | −81.28273
47 | 24.76939 | −81.28261
48 | 24.76804 | −81.28243
49 | 24.76783 | −81.28248
50 | 24.76760 | −81.28261
51 | 24.76727 | −81.28254
52 | 24.76701 | −81.28259
53 | 24.76665 | −81.28280
54 | 24.76649 | −81.28295
55 | 24.76635 | −81.28320
56 | 24.76613 | −81.28400
57 | 24.76610 | −81.28423
58 | 24.76612 | −81.28446
59 | 24.76638 | −81.28521
60 | 24.76764 | −81.28733
61 | 24.76778 | −81.28748
62 | 24.76789 | −81.28783
63 | 24.76793 | −81.28817
64 | 24.76821 | −81.28889
65 | 24.76831 | −81.28999
66 | 24.76866 | −81.29104
67 | 24.76910 | −81.29164
68 | 24.76935 | −81.29183
69 | 24.76999 | −81.29247
70 | 24.77012 | −81.29286
71 | 24.77046 | −81.29327
72 | 24.77067 | −81.29344
73 | 24.77099 | −81.29354
74 | 24.77134 | −81.29408
75 | 24.77163 | −81.29431
76 | 24.77186 | −81.29461
77 | 24.77216 | −81.29485
78 | 24.77316 | −81.29517
79 | 24.77343 | −81.29514
80 | 24.77383 | −81.29497
81 | 24.77417 | −81.29510
82 | 24.77454 | −81.29507
83 | 24.77448 | −81.29520
84 | 24.77557 | −81.29723
85 | 24.77572 | −81.29705
86 | 24.77606 | −81.29682
87 | 24.77624 | −81.29658
88 | 24.77638 | −81.29652
89 | 24.77678 | −81.29666
90 | 24.77700 | −81.29664
91 | 24.77720 | −81.29657
92 | 24.77740 | −81.29678
93 | 24.77764 | −81.29663
94 | 24.77779 | −81.29650
95 | 24.77797 | −81.29623
96 | 24.77830 | −81.29587
97 | 24.77835 | −81.29572
98 | 24.77837 | −81.29537
99 | 24.77842 | −81.29532
100 | 24.77871 | −81.29546
101 | 24.77898 | −81.29551
102 | 24.78047 | −81.29525
103 | 24.78078 | −81.29510
104 | 24.78111 | −81.29488
105 | 24.78170 | −81.29405
106 | 24.78281 | −81.29406
107 | 24.78290 | −81.29384
108 | 24.78293 | −81.29361
109 | 24.78290 | −81.29337
110 | 24.78282 | −81.29316

Howe Key Mangrove WMA

No Motor
Point | Latitude | Longitude
1 | 24.77266 | −81.43359
2 | 24.77228 | −81.43272
3 | 24.77178 | −81.43246
4 | 24.77106 | −81.43234
5 | 24.77040 | −81.43278
6 | 24.77026 | −81.43410
7 | 24.77044 | −81.43557
8 | 24.77101 | −81.43616
9 | 24.77192 | −81.43662
10 | 24.77300 | −81.43639
11 | 24.77337 | −81.43584
12 | 24.77338 | −81.43524
13 | 24.77303 | −81.43477
14 | 24.77281 | −81.43429
15 | 24.77266 | −81.43359

Little Mullet Key WMA

No Entry
Point | Latitude | Longitude
1 | 24.58361 | −81.94891
2 | 24.58321 | −81.94826
3 | 24.58295 | −81.94794
4 | 24.58272 | −81.94778
5 | 24.58224 | −81.94762
6 | 24.58199 | −81.94762
7 | 24.58178 | −81.94768
8 | 24.58151 | −81.94787
9 | 24.58070 | −81.94817
10 | 24.58033 | −81.94850
11 | 24.58014 | −81.94882
12 | 24.58006 | −81.94904
13 | 24.58005 | −81.94974
14 | 24.57994 | −81.94996
15 | 24.57990 | −81.95019
16 | 24.57991 | −81.95113
17 | 24.58000 | −81.95160
18 | 24.58016 | −81.95197
19 | 24.58040 | −81.95240
20 | 24.58067 | −81.95266
21 | 24.58117 | −81.95292
22 | 24.58145 | −81.95297
23 | 24.58167 | −81.95295
24 | 24.58217 | −81.95278
25 | 24.58307 | −81.95243
26 | 24.58326 | −81.95232
27 | 24.58342 | −81.95214
28 | 24.58356 | −81.95190
29 | 24.58375 | −81.95132
30 | 24.58378 | −81.95090
31 | 24.58384 | −81.95059
32 | 24.58388 | −81.95008
33 | 24.58384 | −81.94970
34 | 24.58373 | −81.94926
35 | 24.58361 | −81.94891

Little Pine Key Mangrove WMA

No Entry
Point | Latitude | Longitude
1 | 24.75670 | −81.34069
2 | 24.75666 | −81.33996
3 | 24.75632 | −81.33942
4 | 24.75569 | −81.33901
5 | 24.75502 | −81.33900
6 | 24.75434 | −81.33963
7 | 24.75372 | −81.34056
8 | 24.75333 | −81.34189
9 | 24.75390 | −81.34298
10 | 24.75431 | −81.34336
11 | 24.75492 | −81.34342
12 | 24.75534 | −81.34361
13 | 24.75604 | −81.34380
14 | 24.75641 | −81.34362
15 | 24.75700 | −81.34347
16 | 24.75723 | −81.34325
17 | 24.75745 | −81.34263
18 | 24.75748 | −81.34190
19 | 24.75722 | −81.34130
20 | 24.75689 | −81.34101
21 | 24.75674 | −81.34094
22 | 24.75670 | −81.34069

Marquesas Keys WMA 1

No Entry
Point | Latitude | Longitude
1 | 24.57552 | −82.14685
2 | 24.57554 | −82.14726
3 | 24.57569 | −82.14771
4 | 24.57599 | −82.14805
5 | 24.57633 | −82.14822
6 | 24.57692 | −82.14822
7 | 24.57725 | −82.14811
8 | 24.57756 | −82.14783
9 | 24.57774 | −82.14742
10 | 24.57778 | −82.14695
11 | 24.57764 | −82.14651
12 | 24.57722 | −82.14600
13 | 24.57688 | −82.14583
14 | 24.57645 | −82.14584
15 | 24.57595 | −82.14613
16 | 24.57566 | −82.14644
17 | 24.57552 | −82.14685

Marquesas Key WMA 2

No Entry
Point | Latitude | Longitude
1 | 24.57633 | −82.14964
2 | 24.57590 | −82.14952
3 | 24.57549 | −82.14958
4 | 24.57519 | −82.14976
5 | 24.57488 | −82.14980
6 | 24.57459 | −82.14995
7 | 24.57423 | −82.15031
8 | 24.57391 | −82.15098
9 | 24.57381 | −82.15130
10 | 24.57236 | −82.15268
11 | 24.57235 | −82.15295
12 | 24.57246 | −82.15366
13 | 24.57260 | −82.15397
14 | 24.57279 | −82.15417
15 | 24.57299 | −82.15427
16 | 24.57331 | −82.15435
17 | 24.57361 | −82.15434
18 | 24.57381 | −82.15426
19 | 24.57554 | −82.15273
20 | 24.57580 | −82.15233
21 | 24.57630 | −82.15195
22 | 24.57652 | −82.15172
23 | 24.57687 | −82.15115
24 | 24.57697 | −82.15068
25 | 24.57695 | −82.15030
26 | 24.57684 | −82.15003
27 | 24.57668 | −82.14983
28 | 24.57633 | −82.14964

Marquesas Keys WMA 3

No Entry
Point | Latitude | Longitude
1 | 24.56599 | −82.15858
2 | 24.56647 | −82.15876
3 | 24.56674 | −82.15878
4 | 24.56704 | −82.15871
5 | 24.56723 | −82.15860
6 | 24.56748 | −82.15837
7 | 24.56775 | −82.15788
8 | 24.56792 | −82.15724
9 | 24.56783 | −82.15642
10 | 24.56775 | −82.15620
11 | 24.56754 | −82.15590
12 | 24.56738 | −82.15574
13 | 24.56719 | −82.15564
14 | 24.56667 | −82.15555
15 | 24.56571 | −82.15574
16 | 24.56532 | −82.15600
17 | 24.56510 | −82.15638
18 | 24.56504 | −82.15664
19 | 24.56503 | −82.15697
20 | 24.56511 | −82.15735
21 | 24.56525 | −82.15770
22 | 24.56554 | −82.15821
23 | 24.56599 | −82.15858

Marquesas Keys WMA 4

No Entry
Point | Latitude | Longitude
1 | 24.55340 | −82.13516
2 | 24.55248 | −82.13464
3 | 24.55170 | −82.13506
4 | 24.55169 | −82.13633
5 | 24.55215 | −82.13727
6 | 24.55300 | −82.13727
7 | 24.55362 | −82.13677
8 | 24.55378 | −82.13566
9 | 24.55340 | −82.13516

Northeast Tarpon Belly Keys WMA

No Motor
Point | Latitude | Longitude
1 | 24.73167 | −81.50581
2 | 24.73095 | −81.50581
3 | 24.73060 | −81.50606
4 | 24.73044 | −81.50671
5 | 24.73042 | −81.50717
6 | 24.73047 | −81.50759
7 | 24.73064 | −81.50789
8 | 24.73090 | −81.50815
9 | 24.73114 | −81.50851
10 | 24.73128 | −81.50877
11 | 24.73137 | −81.50897
12 | 24.73181 | −81.50900
13 | 24.73207 | −81.50902
14 | 24.73238 | −81.50898
15 | 24.73262 | −81.50880
16 | 24.73275 | −81.50868
17 | 24.73290 | −81.50854
18 | 24.73294 | −81.50821
19 | 24.73293 | −81.50769
20 | 24.73289 | −81.50723
21 | 24.73278 | −81.50707
22 | 24.73267 | −81.50689
23 | 24.73252 | −81.50663
24 | 24.73232 | −81.50622
25 | 24.73205 | −81.50587
26 | 24.73167 | −81.50581

Pelican Key WMA

No Entry
Point | Latitude | Longitude
1 | 25.09429 | −80.45566
2 | 25.09324 | −80.45404
3 | 25.09202 | −80.45437
4 | 25.08935 | −80.45648
5 | 25.09236 | −80.45738
6 | 25.09338 | −80.45711
7 | 25.09429 | −80.45566

Pigeon Key WMA

No Entry
Point | Latitude | Longitude
1 | 25.05874 | −80.50884
2 | 25.05365 | −80.50892
3 | 25.05367 | −80.51362
4 | 25.05876 | −80.51361
5 | 25.05874 | −80.50884

No Entry
Point | Latitude | Longitude
1 | 24.68464 | −81.67036
2 | 24.68437 | −81.66977
3 | 24.68443 | −81.66914
4 | 24.68456 | −81.66873
5 | 24.68463 | −81.66823
6 | 24.68472 | −81.66743
7 | 24.68456 | −81.66699
8 | 24.68443 | −81.66677
9 | 24.68429 | −81.66655
10 | 24.68370 | −81.66644
11 | 24.68300 | −81.66677
12 | 24.68246 | −81.66724
13 | 24.68208 | −81.66778
14 | 24.68198 | −81.66874
15 | 24.68216 | −81.66928
16 | 24.68249 | −81.66978
17 | 24.68255 | −81.67000
18 | 24.68249 | −81.67027
19 | 24.68216 | −81.67057
20 | 24.68211 | −81.67118
21 | 24.68213 | −81.67210
22 | 24.68268 | −81.67287
23 | 24.68338 | −81.67292
24 | 24.68396 | −81.67280
25 | 24.68445 | −81.67252
26 | 24.68488 | −81.67219
27 | 24.68506 | −81.67173
28 | 24.68511 | −81.67140
29 | 24.68504 | −81.67106
30 | 24.68499 | −81.67092
31 | 24.68464 | −81.67036

Tavernier Key WMA 1

No Motor

The wildlife management area boundary begins at Point 1 and continues generally west to each successive point in numerical order until it reaches Point 9. From Point 9 the boundary continues towards Point 10 until it intersects the shoreline. From this intersection the boundary follows the shoreline generally east until it intersects the line segment formed between Point 11 and Point 12. From this intersection the boundary continues south to Point 12 and ends at Point 13.

Point | Latitude | Longitude
1 | 24.99714 | −80.52042
2 | 24.99669 | −80.52156
3 | 24.99678 | −80.52273
4 | 24.99718 | −80.52350
5 | 24.99737 | −80.52449
6 | 24.99814 | −80.52557
7 | 24.99877 | −80.52654
8 | 24.99903 | −80.52697
9 | 24.99904 | −80.52698
10 * | 24.99958 | −80.52898
11 * | 25.00200 | −80.51992
12 | 24.99800 | −80.52098
13 | 24.99714 | −80.52042

Torch Key Mangroves WMA 1

No Entry
Point | Latitude | Longitude
1 | 24.74240 | −81.46950
2 | 24.74188 | −81.46907
3 | 24.74113 | −81.46884
4 | 24.74050 | −81.46898
5 | 24.73993 | −81.46952
6 | 24.73970 | −81.47021
7 | 24.73979 | −81.47084
8 | 24.74002 | −81.47115
9 | 24.74090 | −81.47141
10 | 24.74162 | −81.47180
11 | 24.74189 | −81.47180
12 | 24.74223 | −81.47173
13 | 24.74241 | −81.47161
14 | 24.74259 | −81.47116
15 | 24.74268 | −81.47055
16 | 24.74276 | −81.46996
17 | 24.74240 | −81.46950

Torch Key Mangroves WMA 2

No Entry
Point | Latitude | Longitude
1 | 24.73398 | −81.47187
2 | 24.73345 | −81.47166
3 | 24.73300 | −81.47159
4 | 24.73253 | −81.47185
5 | 24.73232 | −81.47243
6 | 24.73221 | −81.47312
7 | 24.73229 | −81.47375
8 | 24.73260 | −81.47403
9 | 24.73294 | −81.47415
10 | 24.73319 | −81.47420
11 | 24.73341 | −81.47431
12 | 24.73373 | −81.47436
13 | 24.73420 | −81.47412
14 | 24.73432 | −81.47386
15 | 24.73462 | −81.47313
16 | 24.73458 | −81.47252
17 | 24.73436 | −81.47211
18 | 24.73398 | −81.47187

Water Key Mangroves WMA 1

No Entry
Point | Latitude | Longitude
1 | 24.74854 | −81.34645
2 | 24.74837 | −81.34611
3 | 24.74828 | −81.34592
4 | 24.74790 | −81.34566
5 | 24.74774 | −81.34520
6 | 24.74755 | −81.34494
7 | 24.74724 | −81.34456
8 | 24.74672 | −81.34442
9 | 24.74625 | −81.34448
10 | 24.74571 | −81.34494
11 | 24.74559 | −81.34543
12 | 24.74557 | −81.34602
13 | 24.74565 | −81.34633
14 | 24.74593 | −81.34659
15 | 24.74636 | −81.34677
16 | 24.74659 | −81.34683
17 | 24.74676 | −81.34706
18 | 24.74687 | −81.34741
19 | 24.74702 | −81.34773
20 | 24.74733 | −81.34796
21 | 24.74746 | −81.34794
22 | 24.74754 | −81.34799
23 | 24.74762 | −81.34816
24 | 24.74771 | −81.34824
25 | 24.74790 | −81.34858
26 | 24.74810 | −81.34869
27 | 24.74834 | −81.34871
28 | 24.74860 | −81.34874
29 | 24.74886 | −81.34863
30 | 24.74904 | −81.34853
31 | 24.74914 | −81.34833
32 | 24.74924 | −81.34808
33 | 24.74933 | −81.34778
34 | 24.74931 | −81.34735
35 | 24.74921 | −81.34685
36 | 24.74883 | −81.34649
37 | 24.74854 | −81.34645

Water Key Mangroves WMA 2

No Entry
Point | Latitude | Longitude
1 | 24.74448 | −81.34500
2 | 24.74448 | −81.34460
3 | 24.74448 | −81.34437
4 | 24.74433 | −81.34388
5 | 24.74392 | −81.34358
6 | 24.74322 | −81.34334
7 | 24.74260 | −81.34305
8 | 24.74211 | −81.34317
9 | 24.74181 | −81.34369
10 | 24.74170 | −81.34442
11 | 24.74188 | −81.34512
12 | 24.74224 | −81.34588
13 | 24.74252 | −81.34616
14 | 24.74284 | −81.34656
15 | 24.74320 | −81.34678
16 | 24.74364 | −81.34669
17 | 24.74406 | −81.34664
18 | 24.74437 | −81.34636
19 | 24.74449 | −81.34604
20 | 24.74456 | −81.34588
21 | 24.74458 | −81.34571
22 | 24.74460 | −81.34552
23 | 24.74455 | −81.34514
24 | 24.74448 | −81.34500

West Bahia Honda Key WMA

No Motor
Point | Latitude | Longitude
1 | 24.78525 | −81.27156
2 | 24.78470 | −81.27108
3 | 24.78428 | −81.27094
4 | 24.78352 | −81.27019
5 | 24.78274 | −81.26991
6 | 24.78195 | −81.26989
7 | 24.78128 | −81.26965
8 | 24.78047 | −81.26962
9 | 24.77941 | −81.26936
10 | 24.77877 | −81.26932
11 | 24.77824 | −81.26939
12 | 24.77777 | −81.26967
13 | 24.77761 | −81.27003
14 | 24.77754 | −81.27073
15 | 24.77755 | −81.27144
16 | 24.77779 | −81.27204
17 | 24.77829 | −81.27222
18 | 24.77860 | −81.27223
19 | 24.77886 | −81.27238
20 | 24.77912 | −81.27259
21 | 24.77955 | −81.27279
22 | 24.78067 | −81.27283
23 | 24.78116 | −81.27303
24 | 24.78156 | −81.27303
25 | 24.78210 | −81.27338
26 | 24.78234 | −81.27391
27 | 24.78284 | −81.27483
28 | 24.78295 | −81.27513
29 | 24.78333 | −81.27544
30 | 24.78401 | −81.27555
31 | 24.78453 | −81.27532
32 | 24.78487 | −81.27512
33 | 24.78525 | −81.27485
34 | 24.78556 | −81.27449
35 | 24.78582 | −81.27398
36 | 24.78587 | −81.27368
37 | 24.78590 | −81.27320
38 | 24.78585 | −81.27253
39 | 24.78560 | −81.27186
40 | 24.78525 | −81.27156

Note: The coordinates in the tables below marked with an asterisk (*) are not a part of the zone's boundary. These coordinates are landward reference points used to draw a line segment that intersects with the shoreline.

Barnes-Card Sound WMA

Idle Speed No Wake

The wildlife management area boundary begins SW of Middle Key in the NW corner of Barnes Sound at the intersection of the shoreline with the line segment formed between Point 1 and Point 2. From this intersection the boundary follows the shoreline generally around to the NE until it intersects the line segment formed between Point 3 and Point 4. From this intersection the boundary continues towards Point 4 until it intersects the shoreline. From this intersection the boundary continues to follow the shoreline generally to the SW and then to the east until it intersects the line segment formed between Point 5 and Point 6. From this intersection the boundary continues SW to the intersection of the shoreline and the line segment formed between Point 7 and Point 8 on Middle Key. From this intersection the boundary follows the shoreline around the western side of Middle Key until it intersects the line segment between Point 9 and Point 10. From this intersection the boundary continues to the intersection of the shoreline with the line segment formed between Point 11 and Point 12 where it ends.

Point | Latitude | Longitude
1 * | 25.27503 | −80.39899
2 * | 25.27519 | −80.39925
3 * | 25.29560 | −80.38496
4 * | 25.29534 | −80.38494
5 * | 25.29207 | −80.38250
6 * | 25.29189 | −80.38228
7 * | 25.28008 | −80.39430
8 * | 25.28027 | −80.39516
9 * | 25.27574 | −80.39840
10 * | 25.27557 | −80.39829
11 * | 25.27503 | −80.39899
12 * | 25.27519 | −80.39925

Bay Keys WMA 3

Idle Speed No Wake

The wildlife management area boundary begins at the intersection of the shoreline and the line segment formed between Point 1 and Point 2 on Bay Keys. From this intersection the boundary continues to Point 2 and then to the south and back generally to the north to each successive point in numerical order until it reaches Point 29. From Point 29 the boundary continues towards Point 30 until it intersects the shoreline. From this intersection the boundary continues around the eastern side of Bay Keys until it intersects the line segment formed between Point 31 and Point 32. From this intersection the boundary continues to Point 32 and to each successive point in numerical order until it reaches Point 38. From Point 38 the boundary continues towards Point 39 until it intersects the shoreline. From this intersection the boundary continues around the western side of Bay Keys until it intersects the line segment formed between Point 40 and Point 41 where it ends.

Point | Latitude | Longitude
1 * | 24.64084 | −81.77765
2 | 24.64039 | −81.77751
3 | 24.63991 | −81.77707
4 | 24.63927 | −81.77672
5 | 24.63882 | −81.77661
6 | 24.63834 | −81.77669
7 | 24.63786 | −81.77669
8 | 24.63705 | −81.77692
9 | 24.63645 | −81.77684
10 | 24.63621 | −81.77668
11 | 24.63620 | −81.77672
12 | 24.63610 | −81.77691
13 | 24.63595 | −81.77709
14 | 24.63644 | −81.77736
15 | 24.63786 | −81.77743
16 | 24.63879 | −81.77724
17 | 24.63921 | −81.77727
18 | 24.63952 | −81.77752
19 | 24.63984 | −81.77794
20 | 24.64020 | −81.77830
21 | 24.64079 | −81.77871
22 | 24.64083 | −81.78048
23 | 24.64090 | −81.78064
24 | 24.64137 | −81.78126
25 | 24.64154 | −81.78166
26 | 24.64189 | −81.78113
27 | 24.64159 | −81.78064
28 | 24.64151 | −81.78042
29 | 24.64139 | −81.77968
30 * | 24.64152 | −81.77950
31 * | 24.64219 | −81.77902
32 | 24.64249 | −81.77886
33 | 24.64281 | −81.77877
34 | 24.64295 | −81.77860
35 | 24.64299 | −81.77841
36 | 24.64289 | −81.77823
37 | 24.64259 | −81.77808
38 | 24.64237 | −81.77804
39 * | 24.64208 | −81.77795
40 * | 24.64084 | −81.77765
41 * | 24.64039 | −81.77751

Boca Grande Key WMA

No Entry

The wildlife management area boundary begins just south of Boca Grande Key at Point 1. From Point 1 the boundary continues generally to the west and then north to each successive point in numerical order until it reaches Point 29. From Point 29 the boundary continues towards Point 30 until it intersects the shoreline. From this intersection the boundary follows the shoreline to the south and then east until it intersects the line segment formed between Point 31 and Point 32. From this intersection the boundary continues to Point 32 and then to each successive point in numerical order ending at Point 34.

Point | Latitude | Longitude
1 | 24.52704 | −82.00396
2 | 24.52705 | −82.00424
3 | 24.52697 | −82.00481
4 | 24.52689 | −82.00508
5 | 24.52687 | −82.00529
6 | 24.52676 | −82.00566
7 | 24.52676 | −82.00591
8 | 24.52677 | −82.00627
9 | 24.52678 | −82.00636
10 | 24.52688 | −82.00676
11 | 24.52696 | −82.00697
12 | 24.52744 | −82.00791
13 | 24.52748 | −82.00799
14 | 24.52755 | −82.00809
15 | 24.52778 | −82.00832
16 | 24.52787 | −82.00838
17 | 24.52799 | −82.00845
18 | 24.52821 | −82.00854
19 | 24.52837 | −82.00857
20 | 24.52858 | −82.00856
21 | 24.52883 | −82.00867
22 | 24.52943 | −82.00887
23 | 24.52950 | −82.00890
24 | 24.52996 | −82.00919
25 | 24.53071 | −82.00957
26 | 24.53182 | −82.01006
27 | 24.53192 | −82.01010
28 | 24.53230 | −82.01019
29 | 24.53298 | −82.01037
30 * | 24.53310 | −82.00904
31 * | 24.52812 | −82.00374
32 | 24.52770 | −82.00343
33 | 24.52721 | −82.00335
34 | 24.52704 | −82.00396

Crocodile Lake WMA 1

No Entry Within 300 Feet (100 Yards) of Shorelines

The wildlife management area boundary begins just north of the mouth of Steamboat Creek on the Card Sound side of North Key Largo at the intersection of the shoreline and the line segment formed between Point 1 and Point 2. From this intersection the boundary continues NW to Point 2 and then Point 3. From Point 3 the boundary continues generally NE to each successive point in numerical order until it reaches Point 32. From Point 32 the boundary continues roughly SE towards Point 33 until it intersects the shoreline. From this intersection the boundary follows the shoreline generally to the SW until it intersects the line segment formed between Point 34 and Point 35 where it ends.

Point | Latitude | Longitude
1 * | 25.28658 | −80.32913
2 | 25.28713 | −80.32954
3 | 25.28756 | −80.32992
4 | 25.28770 | −80.32975
5 | 25.28783 | −80.32950
6 | 25.28793 | −80.32909
7 | 25.28823 | −80.32865
8 | 25.28833 | −80.32844
9 | 25.28871 | −80.32700
10 | 25.28874 | −80.32669
11 | 25.28895 | −80.32629
12 | 25.28947 | −80.32552
13 | 25.28967 | −80.32533
14 | 25.28984 | −80.32506
15 | 25.28999 | −80.32491
16 | 25.29038 | −80.32445
17 | 25.29065 | −80.32407
18 | 25.29131 | −80.32276
19 | 25.29142 | −80.32245
20 | 25.29157 | −80.32232
21 | 25.29188 | −80.32195
22 | 25.29271 | −80.32078
23 | 25.29289 | −80.32061
24 | 25.29340 | −80.31995
25 | 25.29360 | −80.31956
26 | 25.29384 | −80.31921
27 | 25.29406 | −80.31879
28 | 25.29433 | −80.31857
29 | 25.29470 | −80.31819
30 | 25.29493 | −80.31804
31 | 25.29548 | −80.31757
32 | 25.29591 | −80.31714
33 * | 25.29532 | −80.31608
34 * | 25.28658 | −80.32913
35 | 25.28713 | −80.32954

Crocodile Lake WMA 2

No Entry Within 300 Feet (100 Yards) of Shorelines; Exception for Steamboat Creek

The wildlife management area boundary begins just NW of Cormorant Point on the Card Sound side North Key Largo at Point 1. From Point 1 the boundary continues generally to the east in Card Sound to each successive point in numerical order to Point 36. From Point 36 the boundary continues towards Point 37 until it intersects the shoreline on the western side of the northern mouth of Steamboat Creek. From this intersection the boundary follows the shoreline roughly west and then south until it intersects the line segment formed between Point 38 and Point 39 just north of the southern mouth of Steamboat Creek. From this intersection the boundary continues to Point 39 and then roughly west to each successive point in numerical order to Point 173 west of Barnes Point. From Point 173 the boundary continues roughly east to each successive point in numerical order to Point 253 where it ends. The inner landward boundary is defined by and follows the shoreline where not already specified.

Point | Latitude | Longitude
1 | 25.29164 | −80.34016
2 | 25.29157 | −80.34000
3 | 25.29151 | −80.33971
4 | 25.29141 | −80.33947
5 | 25.29128 | −80.33928
6 | 25.29108 | −80.33912
7 | 25.29108 | −80.33882
8 | 25.29101 | −80.33860
9 | 25.29074 | −80.33807
10 | 25.29062 | −80.33790
11 | 25.29036 | −80.33770
12 | 25.29005 | −80.33751
13 | 25.28928 | −80.33729
14 | 25.28891 | −80.33706
15 | 25.28872 | −80.33682
16 | 25.28842 | −80.33658
17 | 25.28804 | −80.33636
18 | 25.28788 | −80.33600
19 | 25.28780 | −80.33556
20 | 25.28790 | −80.33522
21 | 25.28792 | −80.33502
22 | 25.28790 | −80.33482
23 | 25.28782 | −80.33454
24 | 25.28744 | −80.33396
25 | 25.28727 | −80.33381
26 | 25.28707 | −80.33372
27 | 25.28692 | −80.33336
28 | 25.28677 | −80.33284
29 | 25.28645 | −80.33224
30 | 25.28644 | −80.33203
31 | 25.28652 | −80.33177
32 | 25.28653 | −80.33131
33 | 25.28669 | −80.33049
34 | 25.28670 | −80.33026
35 | 25.28614 | −80.33008
36 | 25.28585 | −80.32979
37 * | 25.28566 | −80.33011
38 * | 25.26721 | −80.34202
39 | 25.26672 | −80.34252
40 | 25.26657 | −80.34307
41 | 25.26702 | −80.34330
42 | 25.26724 | −80.34334
43 | 25.26743 | −80.34331
44 | 25.26770 | −80.34321
45 | 25.26805 | −80.34293
46 | 25.26821 | −80.34287
47 | 25.26873 | −80.34253
48 | 25.26901 | −80.34240
49 | 25.26923 | −80.34219
50 | 25.26949 | −80.34208
51 | 25.26966 | −80.34195
52 | 25.26981 | −80.34188
53 | 25.27002 | −80.34189
54 | 25.27030 | −80.34182
55 | 25.27019 | −80.34209
56 | 25.27011 | −80.34263
57 | 25.27011 | −80.34285
58 | 25.27016 | −80.34308
59 | 25.27068 | −80.34411
60 | 25.27100 | −80.34447
61 | 25.27119 | −80.34460
62 | 25.27146 | −80.34468
63 | 25.27161 | −80.34468
64 | 25.27185 | −80.34473
65 | 25.27205 | −80.34472
66 | 25.27225 | −80.34466
67 | 25.27250 | −80.34453
68 | 25.27276 | −80.34448
69 | 25.27318 | −80.34432
70 | 25.27377 | −80.34401
71 | 25.27411 | −80.34399
72 | 25.27433 | −80.34393
73 | 25.27487 | −80.34403
74 | 25.27512 | −80.34403
75 | 25.27544 | −80.34412
76 | 25.27597 | −80.34471
77 | 25.27635 | −80.34548
78 | 25.27634 | −80.34583
79 | 25.27637 | −80.34609
80 | 25.27634 | −80.34634
81 | 25.27621 | −80.34657
82 | 25.27599 | −80.34680
83 | 25.27579 | −80.34715
84 | 25.27553 | −80.34766
85 | 25.27539 | −80.34808
86 | 25.27539 | −80.34840
87 | 25.27551 | −80.34878
88 | 25.27544 | −80.34911
89 | 25.27547 | −80.34959
90 | 25.27565 | −80.35024
91 | 25.27579 | −80.35058
92 | 25.27592 | −80.35074
93 | 25.27608 | −80.35088
94 | 25.27625 | −80.35096
95 | 25.27655 | −80.35102
96 | 25.27687 | −80.35114
97 | 25.27736 | −80.35152
98 | 25.27756 | −80.35164
99 | 25.27792 | −80.35178
100 | 25.27800 | −80.35193
101 | 25.27805 | −80.35219
102 | 25.27815 | −80.35240
103 | 25.27832 | −80.35261
104 | 25.27862 | −80.35282
105 | 25.27831 | −80.35296
106 | 25.27754 | −80.35341
107 | 25.27725 | −80.35369
108 | 25.27691 | −80.35422
109 | 25.27668 | −80.35469
110 | 25.27659 | −80.35496
111 | 25.27648 | −80.35567
112 | 25.27649 | −80.35586
113 | 25.27640 | −80.35619
114 | 25.27642 | −80.35656
115 | 25.27651 | −80.35681
116 | 25.27661 | −80.35699
117 | 25.27677 | −80.35715
118 | 25.27699 | −80.35728
119 | 25.27716 | −80.35758
120 | 25.27730 | −80.35776
121 | 25.27775 | −80.35809
122 | 25.27788 | −80.35816
123 | 25.27813 | −80.35822
124 | 25.27835 | −80.35821
125 | 25.27829 | −80.35852
126 | 25.27817 | −80.35888
127 | 25.27814 | −80.35912
128 | 25.27806 | −80.35934
129 | 25.27803 | −80.35966
130 | 25.27829 | −80.36063
131 | 25.27845 | −80.36089
132 | 25.27867 | −80.36107
133 | 25.27887 | −80.36116
134 | 25.27901 | −80.36119
135 | 25.27924 | −80.36119
136 | 25.27971 | −80.36124
137 | 25.28004 | −80.36123
138 | 25.28041 | −80.36133
139 | 25.28063 | −80.36134
140 | 25.28122 | −80.36121
141 | 25.28172 | −80.36092
142 | 25.28208 | −80.36086
143 | 25.28289 | −80.36049
144 | 25.28313 | −80.36065
145 | 25.28317 | −80.36087
146 | 25.28330 | −80.36114
147 | 25.28320 | −80.36132
148 | 25.28312 | −80.36157
149 | 25.28304 | −80.36170
150 | 25.28283 | −80.36189
151 | 25.28269 | −80.36216
152 | 25.28262 | −80.36265
153 | 25.28242 | −80.36350
154 | 25.28230 | −80.36371
155 | 25.28224 | −80.36390
156 | 25.28205 | −80.36412
157 | 25.28184 | −80.36452
158 | 25.28164 | −80.36477
159 | 25.28154 | −80.36507
160 | 25.28153 | −80.36530
161 | 25.28160 | −80.36566
162 | 25.28150 | −80.36589
163 | 25.28146 | −80.36612
164 | 25.28147 | −80.36636
165 | 25.28151 | −80.36651
166 | 25.28161 | −80.36672
167 | 25.28190 | −80.36714
168 | 25.28207 | −80.36728
169 | 25.28227 | −80.36738
170 | 25.28253 | −80.36741
171 | 25.28320 | −80.36730
172 | 25.28342 | −80.36732
173 | 25.28369 | −80.36731
174 | 25.28405 | −80.36721
175 | 25.28439 | −80.36707
176 | 25.28477 | −80.36680
177 | 25.28493 | −80.36673
178 | 25.28512 | −80.36661
179 | 25.28534 | −80.36633
180 | 25.28566 | −80.36606
181 | 25.28588 | −80.36571
182 | 25.28613 | −80.36559
183 | 25.28636 | −80.36541
184 | 25.28649 | −80.36522
185 | 25.28659 | −80.36500
186 | 25.28663 | −80.36485
187 | 25.28664 | −80.36461
188 | 25.28653 | −80.36418
189 | 25.28655 | −80.36380
190 | 25.28661 | −80.36361
191 | 25.28663 | −80.36339
192 | 25.28657 | −80.36298
193 | 25.28644 | −80.36267
194 | 25.28626 | −80.36244
195 | 25.28621 | −80.36197
196 | 25.28610 | −80.36163
197 | 25.28605 | −80.36133
198 | 25.28588 | −80.36086
199 | 25.28583 | −80.36063
200 | 25.28560 | −80.35995
201 | 25.28538 | −80.35940
202 | 25.28530 | −80.35909
203 | 25.28499 | −80.35846
204 | 25.28477 | −80.35819
205 | 25.28467 | −80.35799
206 | 25.28463 | −80.35764
207 | 25.28436 | −80.35684
208 | 25.28429 | −80.35652
209 | 25.28425 | −80.35617
210 | 25.28427 | −80.35604
211 | 25.28439 | −80.35564
212 | 25.28454 | −80.35488
213 | 25.28477 | −80.35467
214 | 25.28493 | −80.35440
215 | 25.28510 | −80.35389
216 | 25.28513 | −80.35361
217 | 25.28536 | −80.35331
218 | 25.28568 | −80.35300
219 | 25.28639 | −80.35223
220 | 25.28694 | −80.35172
221 | 25.28713 | −80.35147
222 | 25.28732 | −80.35108
223 | 25.28743 | −80.35028
224 | 25.28742 | −80.34993
225 | 25.28727 | −80.34936
226 | 25.28735 | −80.34856
227 | 25.28734 | −80.34825
228 | 25.28737 | −80.34806
229 | 25.28784 | −80.34645
230 | 25.28801 | −80.34548
231 | 25.28810 | −80.34520
232 | 25.28833 | −80.34478
233 | 25.28863 | −80.34442
234 | 25.28880 | −80.34434
235 | 25.28896 | −80.34421
236 | 25.28916 | −80.34390
237 | 25.28964 | −80.34394
238 | 25.28991 | −80.34390
239 | 25.29008 | −80.34385
240 | 25.29026 | −80.34389
241 | 25.29048 | −80.34388
242 | 25.29075 | −80.34377
243 | 25.29102 | −80.34353
244 | 25.29135 | −80.34287
245 | 25.29144 | −80.34251
246 | 25.29144 | −80.34214
247 | 25.29152 | −80.34187
248 | 25.29154 | −80.34161
249 | 25.29164 | −80.34129
250 | 25.29164 | −80.34099
251 | 25.29170 | −80.34073
252 | 25.29169 | −80.34037
253 | 25.29164 | −80.34016

Crocodile Lake WMA 3

No Entry Within 300 Feet (100 Yards) of Shorelines

The wildlife management area boundary begins just west of the southern mouth of Steamboat Creek on the Barnes Sound side of North Key Largo at Point 1. From Point 1 the boundary continues towards Point 2 until it intersects the shoreline. From this intersection the boundary follows the shoreline roughly to the SE until it intersects the line segment formed between Point 3 and Point 4. From this intersection the boundary continues SW into Barnes Sound to Point 4. From Point 4 the boundary continues NW to Point 5 and Point 6. From Point 6 the boundary continues NE to Point 7 and then to Point 8 where it ends.

Point | Latitude | Longitude
1 | 25.26635 | −80.34179
2 * | 25.26608 | −80.34141
3 * | 25.26527 | −80.34055
4 | 25.26447 | −80.34149
5 | 25.26543 | −80.34236
6 | 25.26588 | −80.34258
7 | 25.26616 | −80.34204
8 | 25.26635 | −80.34179

Crocodile Lake WMA 4

No Entry Within 300 Feet (100 Yards) of Shorelines

The wildlife management area boundary begins at the intersection of the shoreline and the line segment formed between Point 1 and Point 2 near the northern mouth of Jewfish Creek on Key Largo. From this intersection the boundary continues roughly west into Barnes Sound to Point 2 and then Point 3. From Point 3 the boundary continues roughly north in Barnes Sound to Point 299. From Point 299 the boundary continues towards Point 300 until it intersects the shoreline just south of the southern mouth of Steamboat Creek on North Key Largo. From this intersection the boundary follows the shoreline roughly south until it intersects the line segment formed between Point 301 and Point 302 where it ends near the northern mouth of Jewfish Creek. The inner landward boundary is defined by and follows the shoreline where not already specified.

Point | Latitude | Longitude
1 * | 25.19810 | −80.38422
2 | 25.19826 | −80.38441
3 | 25.19862 | −80.38523
4 | 25.19903 | −80.38484
5 | 25.19921 | −80.38457
6 | 25.19931 | −80.38423
7 | 25.19933 | −80.38395
8 | 25.19926 | −80.38366
9 | 25.19934 | −80.38348
10 | 25.19954 | −80.38325
11 | 25.19975 | −80.38277
12 | 25.19992 | −80.38264
13 | 25.20016 | −80.38239
14 | 25.20033 | −80.38208
15 | 25.20051 | −80.38183
16 | 25.20061 | −80.38160
17 | 25.20068 | −80.38134
18 | 25.20082 | −80.38098
19 | 25.20090 | −80.38056
20 | 25.20087 | −80.38032
21 | 25.20075 | −80.37991
22 | 25.20051 | −80.37943
23 | 25.20026 | −80.37921
24 | 25.20000 | −80.37910
25 | 25.19975 | −80.37874
26 | 25.19927 | −80.37831
27 | 25.19917 | −80.37814
28 | 25.19899 | −80.37766
29 | 25.19899 | −80.37715
30 | 25.19880 | −80.37646
31 | 25.19887 | −80.37610
32 | 25.19882 | −80.37579
33 | 25.19873 | −80.37558
34 | 25.19856 | −80.37531
35 | 25.19840 | −80.37515
36 | 25.19819 | −80.37503
37 | 25.19831 | −80.37480
38 | 25.19838 | −80.37447
39 | 25.19853 | −80.37426
40 | 25.19861 | −80.37405
41 | 25.19887 | −80.37396
42 | 25.19906 | −80.37383
43 | 25.19924 | −80.37362
44 | 25.19934 | −80.37340
45 | 25.19960 | −80.37342
46 | 25.19987 | −80.37334
47 | 25.20012 | −80.37316
48 | 25.20032 | −80.37288
49 | 25.20041 | −80.37281
50 | 25.20087 | −80.37281
51 | 25.20123 | −80.37288
52 | 25.20142 | −80.37297
53 | 25.20163 | −80.37302
54 | 25.20191 | −80.37302
55 | 25.20226 | −80.37294
56 | 25.20277 | −80.37317
57 | 25.20298 | −80.37322
58 | 25.20320 | −80.37321
59 | 25.20347 | −80.37311
60 | 25.20370 | −80.37329
61 | 25.20392 | −80.37336
62 | 25.20398 | −80.37375
63 | 25.20407 | −80.37398
64 | 25.20420 | −80.37417
65 | 25.20437 | −80.37431
66 | 25.20464 | −80.37442
67 | 25.20486 | −80.37443
68 | 25.20507 | −80.37438
69 | 25.20536 | −80.37421
70 | 25.20572 | −80.37388
71 | 25.20600 | −80.37349
72 | 25.20639 | −80.37264
73 | 25.20676 | −80.37173
74 | 25.20683 | −80.37146
75 | 25.20683 | −80.37117
76 | 25.20657 | −80.36968
77 | 25.20658 | −80.36957
78 | 25.20662 | −80.36944
79 | 25.20695 | −80.36885
80 | 25.20726 | −80.36818
81 | 25.20751 | −80.36756
82 | 25.20771 | −80.36685
83 | 25.20776 | −80.36621
84 | 25.20776 | −80.36572
85 | 25.20763 | −80.36476
86 | 25.20743 | −80.36409
87 | 25.20746 | −80.36367
88 | 25.20742 | −80.36254
89 | 25.20750 | −80.36207
90 | 25.20766 | −80.36159
91 | 25.20787 | −80.36117
92 | 25.20796 | −80.36088
93 | 25.20813 | −80.36063
94 | 25.20837 | −80.36008
95 | 25.20856 | −80.35934
96 | 25.20877 | −80.35887
97 | 25.20898 | −80.35817
98 | 25.20916 | −80.35732
99 | 25.20915 | −80.35668
100 | 25.20911 | −80.35635
101 | 25.20903 | −80.35613
102 | 25.20891 | −80.35595
103 | 25.20865 | −80.35566
104 | 25.20852 | −80.35558
105 | 25.20828 | −80.35549
106 | 25.20806 | −80.35543
107 | 25.20784 | −80.35542
108 | 25.20763 | −80.35548
109 | 25.20736 | −80.35563
110 | 25.20707 | −80.35570
111 | 25.20688 | −80.35581
112 | 25.20667 | −80.35602
113 | 25.20650 | −80.35627
114 | 25.20623 | −80.35640
115 | 25.20605 | −80.35654
116 | 25.20588 | −80.35675
117 | 25.20576 | −80.35699
118 | 25.20563 | −80.35708
119 | 25.20539 | −80.35693
120 | 25.20516 | −80.35686
121 | 25.20500 | −80.35685
122 | 25.20494 | −80.35631
123 | 25.20479 | −80.35596
124 | 25.20473 | −80.35564
125 | 25.20467 | −80.35549
126 | 25.20455 | −80.35532
127 | 25.20444 | −80.35500
128 | 25.20424 | −80.35473
129 | 25.20420 | −80.35449
130 | 25.20442 | −80.35403
131 | 25.20449 | −80.35379
132 | 25.20474 | −80.35378
133 | 25.20479 | −80.35406
134 | 25.20497 | −80.35442
135 | 25.20511 | −80.35458
136 | 25.20535 | −80.35475
137 | 25.20555 | −80.35482
138 | 25.20570 | −80.35483
139 | 25.20602 | −80.35481
140 | 25.20622 | −80.35474
141 | 25.20642 | −80.35460
142 | 25.20661 | −80.35443
143 | 25.20680 | −80.35415
144 | 25.20697 | −80.35412
145 | 25.20717 | −80.35405
146 | 25.20736 | −80.35393
147 | 25.20750 | −80.35376
148 | 25.20770 | −80.35370
149 | 25.20798 | −80.35357
150 | 25.20848 | −80.35311
151 | 25.20872 | −80.35282
152 | 25.20919 | −80.35213
153 | 25.20926 | −80.35195
154 | 25.20931 | −80.35172
155 | 25.20929 | −80.35128
156 | 25.20982 | −80.35232
157 | 25.21002 | −80.35254
158 | 25.21028 | −80.35267
159 | 25.21052 | −80.35271
160 | 25.21075 | −80.35269
161 | 25.21098 | −80.35260
162 | 25.21117 | −80.35248
163 | 25.21137 | −80.35227
164 | 25.21158 | −80.35188
165 | 25.21197 | −80.35149
166 | 25.21238 | −80.35116
167 | 25.21316 | −80.35032
168 | 25.21341 | −80.35013
169 | 25.21357 | −80.34991
170 | 25.21375 | −80.34953
171 | 25.21412 | −80.34905
172 | 25.21448 | −80.34843
173 | 25.21483 | −80.34835
174 | 25.21508 | −80.34833
175 | 25.21550 | −80.34820
176 | 25.21565 | −80.34832
177 | 25.21609 | −80.34858
178 | 25.21642 | −80.34865
179 | 25.21664 | −80.34866
180 | 25.21692 | −80.34859
181 | 25.21731 | −80.34842
182 | 25.21748 | −80.34831
183 | 25.21767 | −80.34824
184 | 25.21797 | −80.34804
185 | 25.21834 | −80.34767
186 | 25.21862 | −80.34753
187 | 25.21914 | −80.34705
188 | 25.21943 | −80.34663
189 | 25.21956 | −80.34631
190 | 25.21976 | −80.34631
191 | 25.22006 | −80.34625
192 | 25.22065 | −80.34605
193 | 25.22090 | −80.34600
194 | 25.22119 | −80.34589
195 | 25.22144 | −80.34585
196 | 25.22169 | −80.34576
197 | 25.22238 | −80.34566
198 | 25.22258 | −80.34557
199 | 25.22277 | −80.34543
200 | 25.22293 | −80.34527
201 | 25.22304 | −80.34507
202 | 25.22311 | −80.34484
203 | 25.22312 | −80.34459
204 | 25.22322 | −80.34433
205 | 25.22344 | −80.34441
206 | 25.22373 | −80.34441
207 | 25.22411 | −80.34425
208 | 25.22440 | −80.34406
209 | 25.22462 | −80.34382
210 | 25.22567 | −80.34239
211 | 25.22597 | −80.34208
212 | 25.22635 | −80.34157
213 | 25.22672 | −80.34127
214 | 25.22718 | −80.34076
215 | 25.22752 | −80.34064
216 | 25.22777 | −80.34048
217 | 25.22791 | −80.34034
218 | 25.22855 | −80.34002
219 | 25.22955 | −80.33964
220 | 25.22976 | −80.33960
221 | 25.22989 | −80.33955
222 | 25.23009 | −80.33942
223 | 25.23034 | −80.33931
224 | 25.23097 | −80.33891
225 | 25.23173 | −80.33860
226 | 25.23226 | −80.33827
227 | 25.23292 | −80.33812
228 | 25.23351 | −80.33781
229 | 25.23452 | −80.33748
230 | 25.23549 | −80.33731
231 | 25.23625 | −80.33713
232 | 25.23688 | −80.33683
233 | 25.23792 | −80.33613
234 | 25.23849 | −80.33589
235 | 25.23917 | −80.33547
236 | 25.23985 | −80.33528
237 | 25.24085 | −80.33514
238 | 25.24115 | −80.33502
239 | 25.24151 | −80.33498
240 | 25.24168 | −80.33493
241 | 25.24246 | −80.33497
242 | 25.24440 | −80.33526
243 | 25.24530 | −80.33532
244 | 25.24561 | −80.33530
245 | 25.24673 | −80.33557
246 | 25.24739 | −80.33564
247 | 25.24783 | −80.33561
248 | 25.24821 | −80.33549
249 | 25.24906 | −80.33500
250 | 25.24985 | −80.33448
251 | 25.25048 | −80.33403
252 | 25.25093 | −80.33375
253 | 25.25134 | −80.33358
254 | 25.25194 | −80.33341
255 | 25.25272 | −80.33343
256 | 25.25362 | −80.33336
257 | 25.25379 | −80.33338
258 | 25.25414 | −80.33335
259 | 25.25458 | −80.33326
260 | 25.25480 | −80.33316
261 | 25.25521 | −80.33325
262 | 25.25612 | −80.33330
263 | 25.25668 | −80.33320
264 | 25.25729 | −80.33333
265 | 25.25743 | −80.33332
266 | 25.25763 | −80.33325
267 | 25.25793 | −80.33325
268 | 25.25807 | −80.33321
269 | 25.25825 | −80.33311
270 | 25.25847 | −80.33310
271 | 25.25872 | −80.33302
272 | 25.26013 | −80.33313
273 | 25.26041 | −80.33309
274 | 25.26061 | −80.33303
275 | 25.26107 | −80.33299
276 | 25.26124 | −80.33294
277 | 25.26193 | −80.33287
278 | 25.26275 | −80.33293
279 | 25.26301 | −80.33306
280 | 25.26311 | −80.33317
281 | 25.26329 | −80.33351
282 | 25.26373 | −80.33394
283 | 25.26393 | −80.33403
284 | 25.26429 | −80.33410
285 | 25.26471 | −80.33407
286 | 25.26480 | −80.33427
287 | 25.26472 | −80.33458
288 | 25.26473 | −80.33532
289 | 25.26468 | −80.33573
290 | 25.26429 | −80.33726
291 | 25.26425 | −80.33793
292 | 25.26417 | −80.33813
293 | 25.26389 | −80.33909
294 | 25.26381 | −80.33972
295 | 25.26381 | −80.34022
296 | 25.26391 | −80.34062
297 | 25.26405 | −80.34089
298 | 25.26427 | −80.34110
299 | 25.26461 | −80.34057
300 * | 25.26494 | −80.33988
301 * | 25.19810 | −80.38422
302 | 25.19826 | −80.38441

Eastern Lake Surprise WMA 1

Idle Speed No Wake

The wildlife management area boundary begins in Lake Surprise on North Key Largo at Point 1. From Point 1 the boundary continues NW to Point 2 and then towards Point 3 until it intersects the shoreline. From this intersection the boundary follows the shoreline generally to the NW until it intersects the line segment formed between Point 4 and Point 5. From this intersection the boundary continues roughly NE into Eastern Lake Surprise to Point 5. From Point 5 the boundary continues to each successive point in numerical order until it reaches Point 93 where it ends. The inner landward boundary is defined by and follows the shoreline where not already specified.

Point | Latitude | Longitude
1 | 25.17978 | −80.38141
2 | 25.18000 | −80.38161
3 * | 25.18118 | −80.38331
4 * | 25.18175 | −80.38414
5 | 25.18236 | −80.38348
6 | 25.18255 | −80.38340
7 | 25.18277 | −80.38341
8 | 25.18291 | −80.38345
9 | 25.18349 | −80.38383
10 | 25.18363 | −80.38383
11 | 25.18358 | −80.38356
12 | 25.18358 | −80.38309
13 | 25.18367 | −80.38278
14 | 25.18386 | −80.38247
15 | 25.18403 | −80.38232
16 | 25.18423 | −80.38223
17 | 25.18450 | −80.38220
18 | 25.18477 | −80.38225
19 | 25.18502 | −80.38216
20 | 25.18533 | −80.38194
21 | 25.18585 | −80.38133
22 | 25.18583 | −80.38114
23 | 25.18586 | −80.38091
24 | 25.18596 | −80.38063
25 | 25.18609 | −80.38043
26 | 25.18618 | −80.38015
27 | 25.18622 | −80.38003
28 | 25.18625 | −80.37949
29 | 25.18637 | −80.37919
30 | 25.18674 | −80.37803
31 | 25.18677 | −80.37762
32 | 25.18692 | −80.37669
33 | 25.18711 | −80.37634
34 | 25.18716 | −80.37611
35 | 25.18730 | −80.37583
36 | 25.18752 | −80.37561
37 | 25.18778 | −80.37548
38 | 25.18788 | −80.37519
39 | 25.18806 | −80.37488
40 | 25.18817 | −80.37454
41 | 25.18800 | −80.37450
42 | 25.18774 | −80.37456
43 | 25.18758 | −80.37456
44 | 25.18717 | −80.37474
45 | 25.18683 | −80.37480
46 | 25.18654 | −80.37478
47 | 25.18634 | −80.37469
48 | 25.18612 | −80.37448
49 | 25.18579 | −80.37392
50 | 25.18571 | −80.37352
51 | 25.18576 | −80.37311
52 | 25.18570 | −80.37305
53 | 25.18555 | −80.37315
54 | 25.18516 | −80.37333
55 | 25.18485 | −80.37340
56 | 25.18456 | −80.37334
57 | 25.18431 | −80.37318
58 | 25.18402 | −80.37313
59 | 25.18377 | −80.37297
60 | 25.18358 | −80.37307
61 | 25.18318 | −80.37320
62 | 25.18303 | −80.37321
63 | 25.18283 | −80.37318
64 | 25.18268 | −80.37335
65 | 25.18257 | −80.37344
66 | 25.18228 | −80.37356
67 | 25.18199 | −80.37358
68 | 25.18181 | −80.37355
69 | 25.18166 | −80.37349
70 | 25.18140 | −80.37364
71 | 25.18111 | −80.37369
72 | 25.18097 | −80.37368
73 | 25.18077 | −80.37361
74 | 25.18043 | −80.37338
75 | 25.18018 | −80.37327
76 | 25.18009 | −80.37332
77 | 25.17999 | −80.37346
78 | 25.17979 | −80.37362
79 | 25.17957 | −80.37387
80 | 25.17911 | −80.37413
81 | 25.17893 | −80.37438
82 | 25.17878 | −80.37483
83 | 25.17877 | −80.37516
84 | 25.17870 | −80.37542
85 | 25.17863 | −80.37556
86 | 25.17849 | −80.37573
87 | 25.17835 | −80.37605
88 | 25.17817 | −80.37632
89 | 25.17812 | −80.37643
90 | 25.17806 | −80.37665
91 | 25.17805 | −80.37720
92 | 25.17733 | −80.37783
93 | 25.17978 | −80.38141

Eastern Lake Surprise WMA 2

No Entry

The wildlife management area boundary begins in Eastern Lake Surprise on North Key Largo at the intersection of the shoreline and the line segment formed between Point 1 and Point 2. From this intersection the boundary continues NW into the lake to Point 2 and then roughly NE to Point 3 and then to each successive point in numerical order to Point 89. From Point 89 the boundary continues towards Point 90 until it intersects the shoreline. From this intersection the boundary continues NW along the shoreline until it intersects the line segment formed between Point 91 and Point 92. From this intersection the boundary continues towards Point 92 until it intersects the shoreline. From this intersection the boundary continues along the shoreline around Eastern Lake Surprise until it intersects the line segment formed between Point 93 and Point 94 where it ends. The inner landward boundary is defined by and follows the shoreline where not already specified.

Point | Latitude | Longitude
1 * | 25.17666 | −80.37687
2 | 25.17733 | −80.37783
3 | 25.17805 | −80.37720
4 | 25.17806 | −80.37665
5 | 25.17812 | −80.37643
6 | 25.17817 | −80.37632
7 | 25.17835 | −80.37605
8 | 25.17849 | −80.37573
9 | 25.17863 | −80.37556
10 | 25.17870 | −80.37542
11 | 25.17877 | −80.37516
12 | 25.17878 | −80.37483
13 | 25.17893 | −80.37438
14 | 25.17911 | −80.37413
15 | 25.17957 | −80.37387
16 | 25.17979 | −80.37362
17 | 25.17999 | −80.37346
18 | 25.18009 | −80.37332
19 | 25.18018 | −80.37327
20 | 25.18043 | −80.37338
21 | 25.18077 | −80.37361
22 | 25.18097 | −80.37368
23 | 25.18111 | −80.37369
24 | 25.18140 | −80.37364
25 | 25.18166 | −80.37349
26 | 25.18181 | −80.37355
27 | 25.18199 | −80.37358
28 | 25.18228 | −80.37356
29 | 25.18257 | −80.37344
30 | 25.18268 | −80.37335
31 | 25.18283 | −80.37318
32 | 25.18303 | −80.37321
33 | 25.18318 | −80.37320
34 | 25.18358 | −80.37307
35 | 25.18377 | −80.37297
36 | 25.18402 | −80.37313
37 | 25.18431 | −80.37318
38 | 25.18456 | −80.37334
39 | 25.18485 | −80.37340
40 | 25.18516 | −80.37333
41 | 25.18555 | −80.37315
42 | 25.18570 | −80.37305
43 | 25.18576 | −80.37311
44 | 25.18571 | −80.37352
45 | 25.18579 | −80.37392
46 | 25.18612 | −80.37448
47 | 25.18634 | −80.37469
48 | 25.18654 | −80.37478
49 | 25.18683 | −80.37480
50 | 25.18717 | −80.37474
51 | 25.18758 | −80.37456
52 | 25.18774 | −80.37456
53 | 25.18800 | −80.37450
54 | 25.18817 | −80.37454
55 | 25.18806 | −80.37488
56 | 25.18788 | −80.37519
57 | 25.18778 | −80.37548
58 | 25.18752 | −80.37561
59 | 25.18730 | −80.37583
60 | 25.18716 | −80.37611
61 | 25.18711 | −80.37634
62 | 25.18692 | −80.37669
63 | 25.18677 | −80.37762
64 | 25.18674 | −80.37803
65 | 25.18637 | −80.37919
66 | 25.18625 | −80.37949
67 | 25.18622 | −80.38003
68 | 25.18618 | −80.38015
69 | 25.18609 | −80.38043
70 | 25.18596 | −80.38063
71 | 25.18586 | −80.38091
72 | 25.18583 | −80.38114
73 | 25.18585 | −80.38133
74 | 25.18533 | −80.38194
75 | 25.18502 | −80.38216
76 | 25.18477 | −80.38225
77 | 25.18450 | −80.38220
78 | 25.18423 | −80.38223
79 | 25.18403 | −80.38232
80 | 25.18386 | −80.38247
81 | 25.18367 | −80.38278
82 | 25.18358 | −80.38309
83 | 25.18358 | −80.38356
84 | 25.18363 | −80.38383
85 | 25.18349 | −80.38383
86 | 25.18291 | −80.38345
87 | 25.18277 | −80.38341
88 | 25.18255 | −80.38340
89 | 25.18236 | −80.38348
90 * | 25.18175 | −80.38414
91 * | 25.18218 | −80.38470
92 * | 25.18283 | −80.38464
93 * | 25.17666 | −80.37687
94 | 25.17733 | −80.37783

Lower Harbor Keys WMA 1

Idle Speed No Wake

The wildlife management area boundary begins at Point 1 just north of Lower Harbor Keys. From Point 1 the boundary continues to each successive point in numerical order until it reaches Point 9. From Point 9 the boundary continues towards Point 10 until it intersects the shoreline. From this intersection the boundary follows the shoreline to the east until it intersects the line segment formed between Point 11 and Point 12. From this intersection the boundary continues towards Point 12 until it intersects the shoreline. From this intersection the boundary follows the shoreline north until it intersects the line segment formed between Point 13 and Point 14. From this intersection the boundary continues to Point 14 and then to each successive point in numerical order until it reaches Point 22. From Point 22 the boundary continues towards Point 23 until it intersects the shoreline. From this intersection the boundary follows the shoreline to the SE until it intersects the line segment formed between Point 23 and Point 24. From this intersection the boundary continues towards Point 24 until it intersects the shoreline. From this intersection the boundary follows the shoreline south until it intersects the line segment formed between Point 24 and Point 25. From this intersection the boundary continues towards Point 25 until it intersects the shoreline. From this intersection the boundary follows the shoreline generally west and south until it intersects the line segment formed between Point 26 and Point 27. From this intersection the boundary continues to Point 27 and then to each successive point in numerical order until it ends at Point 41.

Point | Latitude | Longitude
1 | 24.65039 | −81.73302
2 | 24.65042 | −81.73330
3 | 24.65046 | −81.73369
4 | 24.65054 | −81.73444
5 | 24.65065 | −81.73518
6 | 24.65106 | −81.73609
7 | 24.65164 | −81.73561
8 | 24.65138 | −81.73502
9 | 24.65138 | −81.73446
10 * | 24.65145 | −81.73357
11 * | 24.65238 | −81.73229
12 * | 24.65286 | −81.73252
13 * | 24.65373 | −81.73248
14 | 24.65397 | −81.73231
15 | 24.65431 | −81.73240
16 | 24.65458 | −81.73294
17 | 24.65450 | −81.73331
18 | 24.65407 | −81.73414
19 | 24.65449 | −81.73388
20 | 24.65473 | −81.73335
21 | 24.65490 | −81.73266
22 | 24.65467 | −81.73248
23 * | 24.65459 | −81.73192
24 * | 24.65378 | −81.73136
25 * | 24.65315 | −81.73141
26 * | 24.65288 | −81.73189
27 | 24.65229 | −81.73119
28 | 24.65171 | −81.73116
29 | 24.65173 | −81.73040
30 | 24.65133 | −81.72978
31 | 24.65102 | −81.72915
32 | 24.65187 | −81.72797
33 | 24.64998 | −81.72693
34 | 24.65020 | −81.72884
35 | 24.65047 | −81.72930
36 | 24.65076 | −81.72973
37 | 24.65120 | −81.73080
38 | 24.65089 | −81.73139
39 | 24.65036 | −81.73151
40 | 24.65033 | −81.73223
41 | 24.65039 | −81.73302

Lower Harbor Keys WMA 2

Idle Speed No Wake

The wildlife management area boundary begins at the intersection of the southern shoreline and the line segment formed by Point 1 and Point 2. From this intersection the boundary continues towards Point 2 until it intersects the northern shoreline. From this intersection the boundary follows the shoreline generally north until it intersects the line segment formed between Point 3 and Point 4. From this intersection the boundary continues to Point 4 and then to each successive point in numerical order until it reaches Point 35. From Point 35 the boundary continues towards Point 36 until it intersects the shoreline. From this intersection the boundary follows the shoreline NE until it intersects the line segment formed between Point 37 and Point 38. From this intersection the boundary continues towards Point 38 until it intersects the shoreline. From this intersection the boundary continues NE and then NW until it intersects the line segment formed between Point 39 and Point 40. From this intersection the boundary continues towards Point 40 until it intersects the shoreline. From this intersection the boundary follows the shoreline until it intersects the line segment formed between Point 41 and Point 42. From this intersection the boundary continues to Point 42 and then generally south to each successive point in numerical order until it reaches Point 58. From Point 58 the boundary continues towards Point 59 until it intersects the shoreline. From this intersection the boundary follows the shoreline generally south until it intersects the line segment formed between Point 60 and Point 61 where it ends.

Point | Latitude | Longitude
1 * | 24.63714 | −81.72648
2 * | 24.63786 | −81.72658
3 * | 24.64324 | −81.72504
4 | 24.64357 | −81.72482
5 | 24.64379 | −81.72478
6 | 24.64398 | −81.72471
7 | 24.64431 | −81.72469
8 | 24.64453 | −81.72475
9 | 24.64467 | −81.72493
10 | 24.64488 | −81.72525
11 | 24.64502 | −81.72554
12 | 24.64512 | −81.72578
13 | 24.64514 | −81.72594
14 | 24.64506 | −81.72610
15 | 24.64490 | −81.72632
16 | 24.64481 | −81.72669
17 | 24.64480 | −81.72697
18 | 24.64475 | −81.72733
19 | 24.64470 | −81.72750
20 | 24.64459 | −81.72765
21 | 24.64432 | −81.72817
22 | 24.64418 | −81.72849
23 | 24.64397 | −81.72882
24 | 24.64378 | −81.72928
25 | 24.64359 | −81.72965
26 | 24.64334 | −81.73000
27 | 24.64306 | −81.73054
28 | 24.64269 | −81.73109
29 | 24.64231 | −81.73194
30 | 24.64192 | −81.73319
31 | 24.64240 | −81.73364
32 | 24.64239 | −81.73331
33 | 24.64245 | −81.73291
34 | 24.64258 | −81.73221
35 | 24.64290 | −81.73172
36 * | 24.64366 | −81.73050
37 * | 24.64393 | −81.73019
38 * | 24.64423 | −81.73019
39 * | 24.64863 | −81.72961
40 * | 24.64875 | −81.72928
41 * | 24.64906 | −81.72888
42 | 24.64909 | −81.72802
43 | 24.64893 | −81.72729
44 | 24.64860 | −81.72812
45 | 24.64795 | −81.72822
46 | 24.64775 | −81.72862
47 | 24.64688 | −81.72765
48 | 24.64640 | −81.72754
49 | 24.64573 | −81.72762
50 | 24.64529 | −81.72752
51 | 24.64491 | −81.72753
52 | 24.64495 | −81.72682
53 | 24.64517 | −81.72625
54 | 24.64532 | −81.72589
55 | 24.64524 | −81.72562
56 | 24.64460 | −81.72447
57 | 24.64403 | −81.72442
58 | 24.64344 | −81.72451
59 * | 24.64267 | −81.72468
60 * | 24.63714 | −81.72648
61 * | 24.63786 | −81.72658

Lower Harbor Keys WMA 3

Idle Speed No Wake

The wildlife management area boundary begins at the intersection of the southeastern shoreline and the line segment formed by Point 1 and Point 2. From this intersection the boundary continues towards Point 2 until it intersects the southwestern shoreline. From this intersection the boundary follows the shoreline generally NE until it intersects the line segment formed between Point 3 and Point 4. From this intersection the boundary continues towards Point 4 until it intersects the northeastern shoreline. From this intersection the boundary follows the shoreline generally SW until it intersects the line segment formed between Point 5 and Point 6 where it ends.

Point | Latitude | Longitude
1 * | 24.63598 | −81.72307
2 * | 24.63671 | −81.72340
3 * | 24.63793 | −81.72233
4 * | 24.63763 | −81.72191
5 * | 24.63598 | −81.72307
6 * | 24.63671 | −81.72340

Marathon Oceanside Shoreline WMA 1

Idle Speed No Wake

The wildlife management area boundary begins at Point 1 just south of Vaca Key and continues south to Point 2. From Point 2 the boundary continues towards Point 3 until it intersects the shoreline. From this intersection the boundary follows the shoreline west and then north until it intersects the line segment formed between Point 4 and Point 5. From this intersection the boundary continues to Point 5 and then east and south to each successive point in numerical order ending at Point 12.

Point | Latitude | Longitude
1 | 24.69269 | −81.07529
2 | 24.69203 | −81.07537
3 * | 24.69177 | −81.07551
4 * | 24.69376 | −81.07932
5 | 24.69368 | −81.07888
6 | 24.69356 | −81.07840
7 | 24.69350 | −81.07803
8 | 24.69346 | −81.07746
9 | 24.69341 | −81.07712
10 | 24.69340 | −81.07675
11 | 24.69322 | −81.07522
12 | 24.69269 | −81.07529

Marathon Oceanside Shoreline WMA 2

Idle Speed No Wake

The wildlife management area boundary begins at Point 1 and continues towards Point 2 until it intersects the shoreline. From this intersection the boundary follows the shoreline north until it intersects the line segment formed between Point 2 and Point 3. From this intersection the boundary continues to Point 3 and then to each successive point in numerical order until it reaches Point 20. From Point 20 the boundary continues towards Point 21 until it intersects the shoreline. From this intersection the boundary follows the shoreline generally north until it intersects the line segment formed between Point 22 and Point 23. From this intersection the boundary continues towards Point 23 until it intersects the shoreline. From this intersection the boundary follows the shoreline north until it intersects the line segment formed between Point 24 and Point 25. From this intersection the boundary continues to Point 25 where it ends.

Point | Latitude | Longitude
1 | 24.70081 | −81.07727
2 * | 24.70137 | −81.07703
3 | 24.70133 | −81.07685
4 | 24.70114 | −81.07592
5 | 24.70099 | −81.07551
6 | 24.70076 | −81.07505
7 | 24.70054 | −81.07481
8 | 24.70024 | −81.07455
9 | 24.69997 | −81.07442
10 | 24.69968 | −81.07421
11 | 24.69952 | −81.07411
12 | 24.69889 | −81.07346
13 | 24.69528 | −81.07496
14 | 24.69341 | −81.07520
15 | 24.69351 | −81.07594
16 | 24.69355 | −81.07631
17 | 24.69360 | −81.07688
18 | 24.69362 | −81.07743
19 | 24.69372 | −81.07816
20 | 24.69387 | −81.07886
21 * | 24.69395 | −81.07930
22 * | 24.69559 | −81.07875
23 * | 24.69569 | −81.07910
24 * | 24.70020 | −81.07787
25 | 24.70081 | −81.07727

Marathon Oceanside Shoreline WMA 3

Idle Speed No Wake

The wildlife management area boundary begins at Point 1 and continues to Point 2 and then to each successive point in numerical order until it reaches Point 11. From Point 11 the boundary continues towards Point 12 until it intersects the shoreline. From this intersection the boundary follows the shoreline north until it intersects the line segment formed between Point 13 and Point 14. From this intersection the boundary continues to Point 15 where it ends.

Point | Latitude | Longitude
1 | 24.70296 | −81.07077
2 | 24.69992 | −81.07304
3 | 24.69907 | −81.07339
4 | 24.69968 | −81.07396
5 | 24.70001 | −81.07420
6 | 24.70029 | −81.07440
7 | 24.70061 | −81.07467
8 | 24.70088 | −81.07496
9 | 24.70112 | −81.07539
10 | 24.70131 | −81.07586
11 | 24.70148 | −81.07676
12 * | 24.70152 | −81.07701
13 * | 24.71061 | −81.07095
14 * | 24.71059 | −81.07084
15 | 24.70296 | −81.07077

Marathon Oceanside Shoreline WMA 4

Idle Speed No Wake

The wildlife management area boundary begins at Point 1 and continues to Point 2 and then to each successive point in numerical order until it reaches Point 4. From Point 4 the boundary continues towards Point 5 until it intersects the shoreline. From this intersection the boundary follows the shoreline south until it intersects the line segment formed between Point 6 and Point 7. From this intersection the boundary continues to Point 7 where it ends.

Point | Latitude | Longitude
1 | 24.70382 | −81.07013
2 | 24.70345 | −81.07041
3 | 24.71124 | −81.07041
4 | 24.71160 | −81.07013
5 * | 24.70842 | −81.07013
6 * | 24.70814 | −81.07013
7 | 24.70382 | −81.07013

Marathon Oceanside Shoreline WMA 5

Idle Speed No Wake

The wildlife management area boundary begins at Point 1 and continues to Point 2 and then to Point 3.

From Point 3 the boundary continues north towards Point 4 until it intersects the shoreline. From this intersection the boundary follows the shoreline to the NE until it intersects the line segment formed between Point 5 and Point 6. From this intersection the boundary continues to the intersection of the shoreline and the line segment formed between Point 6 and Point 7. From this intersection the boundary continues to the intersection of the shoreline and the line segment formed between Point 7 and Point 8. From this intersection the boundary follows the shoreline generally to the NE until it intersects the line segment formed between Point 9 and Point 10. From this intersection the boundary continues south to Point 10 where it ends.

Point | Latitude | Longitude
1 | 24.70751 | −81.06421
2 | 24.70582 | −81.06865
3 | 24.70448 | −81.06964
4 * | 24.71254 | −81.06968
5 * | 24.71314 | −81.06943
6 * | 24.71351 | −81.06927
7 * | 24.71335 | −81.06914
8 * | 24.71350 | −81.06895
9 * | 24.71556 | −81.06431
10 | 24.70751 | −81.06421

Marathon Oceanside Shoreline WMA 6

Idle Speed No Wake

The wildlife management area boundary begins at Point 1 and continues to Point 2. From Point 2 the boundary continues north towards Point 3 until it intersects the shoreline. From this intersection the boundary follows the shoreline east until it intersects the line segment formed between Point 4 and Point 5. From this intersection the boundary continues towards Point 5 until it intersects the shoreline. From this intersection the boundary follows the shoreline east until it intersects the line segment formed between Point 6 and Point 7. From this intersection the boundary continues south to Point 7 where it ends.

Point | Latitude | Longitude
1 | 24.70843 | −81.06178
2 | 24.70762 | −81.06391
3 * | 24.71557 | −81.06392
4 * | 24.71557 | −81.06380
5 * | 24.71549 | −81.06339
6 * | 24.71565 | −81.06177
7 | 24.70843 | −81.06178

Marathon Oceanside Shoreline WMA 7

Idle Speed No Wake

The wildlife management area boundary begins at Point 1 and continues to Point 2. From Point 2 the boundary continues north towards Point 3 until it intersects the shoreline. From this intersection the boundary follows the shoreline east until it intersects the line segment formed between Point 4 and Point 5. From this intersection the boundary continues to Point 5 where it ends.

Point | Latitude | Longitude
1 | 24.70909 | −81.06003
2 | 24.70860 | −81.06134
3 * | 24.71568 | −81.06139
4 * | 24.71604 | −81.06000
5 | 24.70909 | −81.06003

Marathon Oceanside Shoreline WMA 8

Idle Speed No Wake

The wildlife management area boundary begins at Point 1 and continues to Point 2. From Point 2 the boundary continues north towards Point 3 until it intersects the shoreline. From this intersection the boundary follows the shoreline east until it intersects the line segment formed between Point 4 and Point 5. From this intersection the boundary continues to the intersection of the shoreline with the line segment formed between Point 6 and Point 7. From this intersection the boundary follows the shoreline east until it intersects the line segment formed between Point 8 and Point 9. From this intersection the boundary continues to the intersection of the shoreline with the line segment formed between Point 9 and Point 10. From this intersection the boundary follows the shoreline NE until it intersects the line segment formed between Point 11 and Point 12. From this intersection the boundary continues to the intersection of the shoreline with the line segment formed between Point 13 and Point 14. From this intersection the boundary follows the shoreline NE until it intersects the line segment formed between Point 15 and Point 16. From this intersection the boundary continues to the intersection of the shoreline with the line segment formed between Point 17 and Point 18. From this intersection the boundary follows the shoreline NE until it intersects the line segment formed between Point 19 and 20. From this intersection the boundary continues south to Point 20 where it ends.

Point | Latitude | Longitude
1 | 24.71070 | −81.05387
2 | 24.70930 | −81.05937
3 * | 24.71645 | −81.05956
4 * | 24.71694 | −81.05857
5 * | 24.71683 | −81.05843
6 * | 24.71705 | −81.05819
7 * | 24.71724 | −81.05789
8 * | 24.71724 | −81.05769
9 * | 24.71718 | −81.05754
10 * | 24.71722 | −81.05740
11 * | 24.71771 | −81.05691
12 * | 24.71764 | −81.05676
13 * | 24.71798 | −81.05676
14 * | 24.71819 | −81.05665
15 * | 24.71872 | −81.05617
16 * | 24.71859 | −81.05604
17 * | 24.71881 | −81.05600
18 * | 24.71896 | −81.05588
19 * | 24.72026 | −81.05397
20 | 24.71070 | −81.05387

Marathon Oceanside Shoreline WMA 9

Idle Speed No Wake

The wildlife management area boundary begins at Point 1 and continues to Point 2. From Point 2 the boundary continues north towards Point 3 until it intersects the shoreline. From this intersection the boundary follows the shoreline NE until it intersects the line segment formed between Point 4 and Point 5. From this intersection the boundary continues to the intersection of the shoreline with the line segment formed between Point 5 and Point 6. From this intersection the boundary follows the shoreline east until it intersects the line segment formed between Point 7 and Point 8. From this intersection the boundary continues to the intersection of the shoreline with the line segment formed between Point 8 and Point 9. From this intersection the boundary follows the shoreline east until it intersects with the line segment formed between Point 10 and Point 11. From this intersection the boundary continues to Point 11 where it ends.

Point | Latitude | Longitude
1 | 24.71131 | −81.05148
2 | 24.71083 | −81.05339
3 * | 24.72015 | −81.05343
4 * | 24.72135 | −81.05298
5 * | 24.72127 | −81.05279
6 * | 24.72145 | −81.05268
7 * | 24.72148 | −81.05217
8 * | 24.72135 | −81.05203
9 * | 24.72148 | −81.05184
10 * | 24.72150 | −81.05155
11 | 24.71131 | −81.05148

Marathon Oceanside Shoreline WMA 10

Idle Speed No Wake

The wildlife management area boundary begins at Point 1 and continues to Point 2. From Point 2 the boundary continues north towards Point 3 until it intersects the shoreline. From this intersection the boundary follows the shoreline SE until it intersects the line segment formed between Point 4 and Point 5. From this intersection the boundary continues to the intersection of the shoreline with the line segment formed between Point 5 and Point 6. From this intersection the boundary follows the shoreline east until it intersects the line segment formed between Point 7 and Point 8. From this intersection the boundary continues to the intersection of the shoreline with the line segment formed between Point 8 and Point 9. From this intersection the boundary follows the shoreline NE until it intersects the line segment formed between Point 10 and Point 11. From this intersection the boundary continues to the intersection of the shoreline with the line segment formed between Point 11 and Point 12. From this intersection the boundary follows the shoreline east until it intersects the line segment formed between Point 13 and Point 14. From this intersection the boundary continues to the intersection of the shoreline with the line segment formed between Point 14 and Point 15. From this intersection the boundary follows the shoreline NE until it intersects with the line segment formed between Point 16 and Point 17. From this intersection the boundary continues south to Point 17 where it ends.

Point | Latitude | Longitude
1 | 24.71265 | −81.04627
2 | 24.71142 | −81.05107
3 * | 24.72151 | −81.05114
4 * | 24.72111 | −81.05061
5 * | 24.72097 | −81.05042
6 * | 24.72110 | −81.05030
7 * | 24.72109 | −81.04978
8 * | 24.72085 | −81.04965
9 * | 24.72096 | −81.04944
10 * | 24.72238 | −81.04897
11 * | 24.72233 | −81.04885
12 * | 24.72242 | −81.04872
13 * | 24.72244 | −81.04692
14 * | 24.72239 | −81.04651
15 * | 24.72254 | −81.04625
16 * | 24.72269 | −81.04605
17 | 24.71265 | −81.04627

Marathon Oceanside Shoreline WMA 11

Idle Speed No Wake

The wildlife management area boundary begins at Point 1 and continues north towards Point 2 until it intersects the shoreline. From this intersection the boundary follows the shoreline east until it intersects the line segment formed between Point 3 and Point 4. From this intersection the boundary continues to the intersection of the shoreline with the line segment formed between Point 4 and Point 5. From this intersection the boundary follows the shoreline east until it intersects the line segment formed between Point 6 and Point 7. From this intersection the boundary continues to the intersection of the shoreline with the line segment formed between Point 7 and Point 8. From this intersection the boundary follows the shoreline east until it intersects the line segment formed between Point 9 and Point 10. From this intersection the boundary continues to the intersection of the shoreline with the line segment formed between Point 10 and Point 11. From this intersection the boundary follows the shoreline east until it intersects the line segment formed between Point 12 and Point 13. From this intersection the boundary continues to the intersection of the shoreline with the line segment formed between Point 13 and Point 14. From this intersection the boundary follows the shoreline generally east until it intersects the line segment formed between Point 15 and Point 16. From this intersection the boundary continues to the intersection of the shoreline with the line segment formed between Point 17 and Point 18. From this intersection the boundary follows the shoreline east until it intersects the line segment formed between Point 19 and Point 20. From this intersection the boundary continues to the intersection of the shoreline with the line segment formed between Point 20 and Point 21. From this intersection the boundary follows the shoreline east until it intersects the line segment formed between Point 22 and Point 23. From this intersection the boundary continues to the intersection of the shoreline with the line segment formed between Point 23 and Point 24. From this intersection the boundary follows the shoreline east until it intersects the line segment formed between Point 25 and Point 26. From this intersection the boundary continues to the intersection of the shoreline with the line segment formed between Point 26 and Point 27. From this intersection the boundary follows the shoreline east until it intersects the line segment formed between Point 28 and Point 29. From this intersection the boundary continues to the intersection of the shoreline with the line segment formed between Point 30 and 31. From this intersection the boundary follows the shoreline east until it intersects with the line segment formed between Point 32 and Point 33. From this intersection the boundary continues south to Point 33 and then to each successive point in numerical order until it reaches Point 43 where it ends.

Point | Latitude | Longitude
1 | 24.71297 | −81.04491
2 * | 24.72368 | −81.04480
3 * | 24.72371 | −81.04462
4 * | 24.72365 | −81.04439
5 * | 24.72387 | −81.04421
6 * | 24.72401 | −81.04373
7 * | 24.72381 | −81.04357
8 * | 24.72401 | −81.04339
9 * | 24.72414 | −81.04293
10 * | 24.72400 | −81.04278
11 * | 24.72429 | −81.04264
12 * | 24.72535 | −81.04143
13 * | 24.72520 | −81.04118
14 * | 24.72546 | −81.04101
15 * | 24.72586 | −81.03979
16 * | 24.72575 | −81.03947
17 * | 24.72599 | −81.03943
18 * | 24.72616 | −81.03933
19 * | 24.72720 | −81.03490
20 * | 24.72711 | −81.03470
21 * | 24.72724 | −81.03458
22 * | 24.72728 | −81.03390
23 * | 24.72708 | −81.03375
24 * | 24.72720 | −81.03356
25 * | 24.72731 | −81.03264
26 * | 24.72718 | −81.03239
27 * | 24.72739 | −81.03227
28 * | 24.72756 | −81.03154
29 * | 24.72742 | −81.03125
30 * | 24.72778 | −81.03133
31 * | 24.72801 | −81.03115
32 * | 24.72821 | −81.03029
33 | 24.72521 | −81.03060
34 | 24.72248 | −81.03188
35 | 24.71857 | −81.03016
36 | 24.71598 | −81.02914
37 | 24.71362 | −81.02521
38 | 24.71169 | −81.02500
39 | 24.71234 | −81.03006
40 | 24.71291 | −81.03354
41 | 24.71342 | −81.03673
42 | 24.71362 | −81.03903
43 | 24.71297 | −81.04491

Marquesas Keys WMA 5

Idle Speed No Wake

The wildlife management area boundary begins at Point 1 and continues west to Point 2. From Point 2 the boundary continues towards Point 3 until it intersects the shoreline. From this intersection the boundary follows the shoreline generally north until it intersects the line segment formed between Point 4 and Point 5. From this intersection the boundary continues east to Point 5. From Point 5 the boundary continues towards Point 6 until it intersects the shoreline. From this intersection the boundary follows the shoreline south until it intersects the line segment formed between Point 7 and Point 8. From this intersection the boundary continues west to Point 8 where it ends.

Point | Latitude | Longitude
1 | 24.54928 | −82.12325
2 | 24.54925 | −82.12387
3 * | 24.54932 | −82.12463
4 * | 24.55071 | −82.12565
5 | 24.55084 | −82.12426
6 * | 24.55100 | −82.12265
7 * | 24.54930 | −82.12248
8 | 24.54928 | −82.12325

Snake Creek WMA 5

No Motor

The wildlife management area boundary begins at Point 1 and continues north to Point 2 and Point 3. From Point 3 the boundary continues towards Point 4 until it intersects the shoreline. From this intersection the boundary follows the shoreline generally east until it intersects the segment formed between Point 5 and Point 6. From this intersection the boundary continues south to Point 6 and then to each successive point in numerical order until it reaches Point 14 where it ends.

Point | Latitude | Longitude
1 | 24.94988 | −80.58636
2 | 24.95017 | −80.58640
3 | 24.95120 | −80.58686
4 * | 24.95213 | −80.58686
5 * | 24.95365 | −80.57247
6 | 24.95186 | −80.57257
7 | 24.94680 | −80.57271
8 | 24.94129 | −80.58042
9 | 24.94368 | −80.58226
10 | 24.94592 | −80.58277
11 | 24.94742 | −80.58409
12 | 24.94797 | −80.58525
13 | 24.94863 | −80.58603
14 | 24.94988 | −80.58636

Tavernier Key WMA 2

No Motor
Point | Latitude | Longitude
1 | 25.00175 | −80.49206
2 | 24.99672 | −80.48946
3 | 24.99390 | −80.49587
4 | 24.98732 | −80.51278
5 | 24.99099 | −80.52419
6 | 24.99283 | −80.52588
7 | 24.99646 | −80.52861
8 | 24.99898 | −80.52879
9 | 24.99885 | −80.52771
10 | 24.99856 | −80.52683
11 | 24.99823 | −80.52632
12 | 24.99713 | −80.52483
13 | 24.99687 | −80.52417
14 | 24.99678 | −80.52373
15 | 24.99658 | −80.52314
16 | 24.99631 | −80.52256
17 | 24.99619 | −80.52227
18 | 24.99625 | −80.52149
19 | 24.99679 | −80.52019
20 | 24.99562 | −80.51942
21 | 24.99766 | −80.51215
22 | 25.00175 | −80.49206

Tavernier Key WMA 3

No Motor

The wildlife management area boundary begins at Point 1 and continues generally south and then west to each successive point in numerical order until it reaches Point 6. From Point 6 the boundary continues towards Point 7 until it intersects the shoreline. From this intersection the boundary follows the shoreline to the east until it intersects the line segment formed between Point 8 and Point 9. From this intersection the boundary continues east to Point 9 and then generally NE to each successive point in numerical order until it reaches Point 23 where it ends.

Point | Latitude | Longitude
1 | 24.99533 | −80.52814
2 | 24.99333 | −80.52659
3 | 24.98952 | −80.52362
4 | 24.98458 | −80.52899
5 | 24.98735 | −80.53482
6 | 24.99049 | −80.53631
7 * | 24.99154 | −80.53528
8 * | 24.99304 | −80.53406
9 | 24.99289 | −80.53310
10 | 24.99284 | −80.53281
11 | 24.99291 | −80.53246
12 | 24.99287 | −80.53218
13 | 24.99294 | −80.53193
14 | 24.99297 | −80.53182
15 | 24.99308 | −80.53174
16 | 24.99312 | −80.53171
17 | 24.99384 | −80.53075
18 | 24.99380 | −80.53042
19 | 24.99379 | −80.53026
20 | 24.99407 | −80.52967
21 | 24.99500 | −80.52932
22 | 24.99635 | −80.52893
23 | 24.99533 | −80.52814

West Content Keys WMA 1

Idle Speed No Wake

The wildlife management area boundary begins at Point 1 and continues west towards Point 2 until it intersects the shoreline. From this intersection the boundary follows the shoreline north until it intersects the line segment formed between Point 3 and Point 4. From this intersection the boundary continues east to Point 4 and then south to Point 5. From Point 5 the boundary continues towards Point 6 until it intersects the shoreline. From this intersection the boundary follows the shoreline south until it intersects the line segment formed between Point 6 and Point 7. From this intersection the boundary continues SW to Point 7. From Point 7 the boundary continues towards Point 8 until it intersects the shoreline. From this intersection the boundary follows the shoreline south until it intersects the line segment formed between Point 9 and Point 10. From this intersection the boundary continues south to Point 10 where it ends.

Point | Latitude | Longitude
1 | 24.78196 | −81.48875
2 * | 24.78194 | −81.49159
3 * | 24.79184 | −81.48926
4 | 24.79152 | −81.48779
5 | 24.79037 | −81.48830
6 * | 24.79030 | −81.48832
7 | 24.79020 | −81.48848
8 * | 24.79008 | −81.48864
9 * | 24.78374 | −81.48891
10 | 24.78196 | −81.48875

West Content Keys WMA 2

No Entry

The wildlife management area boundary begins at the intersection of the shoreline and the line segment formed between Point 1 and Point 2. From this intersection the boundary follows the shoreline generally north until it intersects the line segment formed between Point 3 and Point 4. From this intersection the boundary continues towards Point 4 until it intersects the shoreline. From this intersection the boundary follows the shoreline generally east until it intersects the line segment formed between Point 5 and Point 6. From this intersection the boundary continues towards Point 6 until it intersects the shoreline. From this intersection the boundary follows the shoreline east and then south until it intersects the line segment formed between Point 7 and the intersection of the shoreline and the line segment formed between Point 8 and Point 9. From this intersection the boundary continues west to the intersection of the shoreline and the line segment formed between Point 8 and Point 9 where it ends.

Point | Latitude | Longitude
1 * | 24.78361 | −81.49804
2 * | 24.78383 | −81.49804
3 * | 24.78689 | −81.50019
4 * | 24.78758 | −81.50002
5 * | 24.78877 | −81.49667
6 * | 24.78898 | −81.49638
7 * | 24.78342 | −81.49486
8 * | 24.78361 | −81.49804
9 * | 24.78383 | −81.49804

Whitmore Bight WMA

No Motor

The wildlife management area boundary begins at the intersection of the shoreline and the line segment formed between Point 1 and Point 2 near Upper Sound Point on Rattlesnake Key. From this intersection the boundary continues east to Point 3 and then roughly SW to Point 4. From Point 4 the boundary continues roughly west to each successive point in numerical order to Point 7. From Point 7 the boundary continues towards Point 8 until it intersects the shoreline on the eastern side of the mouth of South Sound Creek. From this intersection the boundary follows the shoreline east until it intersects the line segment formed between Point 9 and the intersection of the shoreline and the line segment formed between Point 10 and point 11. From this intersection the boundary continues across the mouth of South Creek to the intersection of the shoreline and the line segment formed between Point 10 and point 11. From this intersection the boundary follows the shoreline roughly north until it intersects the line segment formed between Point 12 and Point 13 near Sound Point. From this intersection the boundary continues to Point 13 and then to Point 14. From Point 14 the boundary continues towards Point 15 until it intersects the shoreline on Rattlesnake Key. From this intersection the boundary follows the shoreline roughly NE until it intersects the line segment formed between Point 16 and Point 17 where it ends. The inner landward boundary is defined by and follows the shoreline where not already specified.

Point | Latitude | Longitude
1 * | 25.16915 | −80.35011
2 * | 25.16918 | −80.34978
3 | 25.16672 | −80.34438
4 | 25.09659 | −80.39692
5 | 25.09868 | −80.40633
6 | 25.09997 | −80.41157
7 | 25.10046 | −80.41261
8 * | 25.10294 | −80.41379
9 * | 25.10368 | −80.40861
10 * | 25.10369 | −80.40770
11 * | 25.10384 | −80.40763
12 * | 25.15866 | −80.35582
13 | 25.16045 | −80.35397
14 | 25.16109 | −80.35387
15 * | 25.16314 | −80.35469
16 * | 25.16915 | −80.35011
17 * | 25.16918 | −80.34978

Woman Key WMA

No Entry

The wildlife management area boundary begins at Point 1 SE of Woman Key and continues west to each successive point in numerical order until it reaches Point 24. From Point 24 the boundary continues north towards Point 25 until it intersects the shoreline. From this intersection the boundary follows the shoreline east until it intersects the line segment formed between Point 26 and Point 27. From this intersection the boundary continues east to Point 27 then south to Point 28 and Point 29 where it ends.

Point | Latitude | Longitude
1 | 24.52295 | −81.96687
2 | 24.52294 | −81.96689
3 | 24.52291 | −81.96698
4 | 24.52290 | −81.96706
5 | 24.52289 | −81.96714
6 | 24.52286 | −81.96723
7 | 24.52283 | −81.96740
8 | 24.52281 | −81.96758
9 | 24.52281 | −81.96773
10 | 24.52285 | −81.96855
11 | 24.52286 | −81.96866
12 | 24.52289 | −81.96885
13 | 24.52290 | −81.96913
14 | 24.52290 | −81.96971
15 | 24.52291 | −81.96981
16 | 24.52296 | −81.97038
17 | 24.52296 | −81.97069
18 | 24.52295 | −81.97104
19 | 24.52282 | −81.97202
20 | 24.52276 | −81.97239
21 | 24.52269 | −81.97282
22 | 24.52268 | −81.97293
23 | 24.52265 | −81.97340
24 | 24.52265 | −81.97349
25 * | 24.52391 | −81.97363
26 * | 24.52419 | −81.96746
27 | 24.52420 | −81.96700
28 | 24.52319 | −81.96689
29 | 24.52295 | −81.96687

Barracuda Keys WMA

Idle Speed No Wake

The wildlife management area seaward boundary begins just east of Barracuda Keys at Point 1 and continues SW to Point 2. From Point 2 the seaward boundary continues towards Point 3 until it intersects the shoreline. From this intersection the boundary follows the shoreline to the NE and then generally SW until it intersects the line segment formed between Point 4 and Point 5. From this intersection the boundary continues SW to Point 5 and then to each successive point in numerical order until it reaches Point 8 where it ends. The inner landward boundary is defined by and follows the shoreline where not already specified.

Point | Latitude | Longitude
1 | 24.72801 | −81.59614
2 | 24.71841 | −81.60001
3 * | 24.71345 | −81.60925
4 * | 24.71318 | −81.60986
5 | 24.70529 | −81.62653
6 | 24.71727 | −81.63677
7 | 24.73373 | −81.60053
8 | 24.72801 | −81.59614

Cayo Agua Keys WMA

Idle Speed No Wake

The wildlife management area seaward boundary begins in northern Cayo Agua Keys at the intersection of the shoreline with the line segment formed between Point 1 and Point 2. From this intersection the boundary follows the shoreline south until it intersects the line segment formed between Point 3 and Point 4. From this intersection the boundary continues towards Point 4 until it intersects the shoreline. From this intersection the boundary follows the shoreline SE until it intersects the line segment formed between Point 5 and Point 6. From this intersection the boundary continues towards Point 6 until it intersects the shoreline. From this intersection the boundary follows the shoreline south until it intersects the line segment formed between Point 7 and Point 8. From this intersection the boundary continues towards Point 8 until it intersects the shoreline. From this intersection the boundary follows the shoreline generally south until it intersects the line segment formed between Point 8 and Point 9. From this intersection the boundary continues towards Point 9 until it intersects the shoreline. From this intersection the boundary follows the shoreline generally west until it intersects the line segment formed between Point 10 and Point 11. From this intersection the boundary continues towards Point 11 until it intersects the shoreline. From this intersection the boundary follows the shoreline generally west and then north until it intersects the line segment formed between Point 12 and Point 13. From this intersection the boundary continues towards Point 13 until it intersects the shoreline. From this intersection the boundary follows the shoreline generally west until it intersects the line segment formed between Point 14 and Point 15. From this intersection the boundary continues towards Point 15 until it intersects the shoreline. From this intersection the boundary follows the shoreline generally east and then north until it intersects the line segment formed between Point 16 and Point 17. From this intersection the boundary continues towards Point 17 until it intersects the shoreline. From this intersection the boundary follows the shoreline generally NE until it intersects the line segment formed between Point 18 and Point 19. From this intersection the boundary continues to Point 19 and then to point 20 and to Point 21. From Point 21 the boundary continues towards Point 22 until it intersects the shoreline. From this intersection the boundary follows the shoreline generally south until it intersects the line segment formed between Point 23 and Point 24. From this intersection the boundary continues towards Point 24 until it intersects the shoreline. From this intersection the boundary follows the shoreline generally NE until it intersects the line segment formed between Point 25 and Point 26. From this intersection the boundary continues to the intersection of the shoreline with the line segment formed between Point 27 and Point 28 where it ends. The inner landward boundary is defined by and follows the shoreline where not already specified.

Point | Latitude | Longitude
1 * | 24.63365 | −81.74368
2 * | 24.63352 | −81.74371
3 * | 24.63305 | −81.74364
4 * | 24.63300 | −81.74353
5 * | 24.63216 | −81.74279
6 * | 24.63163 | −81.74274
7 * | 24.63001 | −81.74285
8 * | 24.62958 | −81.74284
9 * | 24.62947 | −81.74324
10 * | 24.62948 | −81.74393
11 * | 24.62956 | −81.74444
12 * | 24.63249 | −81.74670
13 * | 24.63244 | −81.74697
14 * | 24.63224 | −81.74788
15 * | 24.63250 | −81.74800
16 * | 24.63323 | −81.74701
17 * | 24.63356 | −81.74700
18 * | 24.63474 | −81.74603
19 | 24.63485 | −81.74580
20 | 24.63468 | −81.74542
21 | 24.63370 | −81.74540
22 * | 24.63326 | −81.74553
23 * | 24.63270 | −81.74530
24 * | 24.63258 | −81.74514
25 * | 24.63366 | −81.74419
26 * | 24.63374 | −81.74406
27 * | 24.63365 | −81.74368
28 * | 24.63352 | −81.74371

Cotton Key WMA

No Motor

The wildlife management area seaward boundary begins just north of Cotton Key at Point 1 and continues to each successive point in numerical order until it reaches Point 13. From Point 13 the boundary continues to the intersection of the shoreline and the line segment formed by Point 14 and Point 15. From this intersection the boundary follows the shoreline south until it intersects the line segment formed between Point 16 and Point 17. From this intersection the boundary continues south to Point 17 and then to each successive point in numerical order until it reaches Point 34 where it ends. The inner landward boundary is defined by and follows the shoreline where not already specified.

Point | Latitude | Longitude
1 | 24.96534 | −80.62371
2 | 24.96217 | −80.62222
3 | 24.95775 | −80.62167
4 | 24.95604 | −80.62041
5 | 24.95566 | −80.62018
6 | 24.95510 | −80.61969
7 | 24.95467 | −80.61944
8 | 24.95382 | −80.61882
9 | 24.95357 | −80.61860
10 | 24.95342 | −80.61853
11 | 24.95315 | −80.61857
12 | 24.95207 | −80.61844
13 | 24.95168 | −80.61848
14 * | 24.95134 | −80.61852
15 * | 24.95140 | −80.61866
16 * | 24.95048 | −80.61950
17 | 24.95012 | −80.61944
18 | 24.94987 | −80.61950
19 | 24.94932 | −80.61943
20 | 24.94901 | −80.61933
21 | 24.94868 | −80.61911
22 | 24.94778 | −80.61887
23 | 24.94753 | −80.61886
24 | 24.94740 | −80.62102
25 | 24.94742 | −80.62205
26 | 24.94748 | −80.62268
27 | 24.94804 | −80.62353
28 | 24.95682 | −80.62360
29 | 24.95838 | −80.62506
30 | 24.95650 | −80.63762
31 | 24.96032 | −80.63704
32 | 24.96016 | −80.62849
33 | 24.96322 | −80.62475
34 | 24.96534 | −80.62371

East Content Keys and Upper Harbor Key Flats WMA 2

Idle Speed No Wake

The wildlife management area seaward boundary begins just NE of Upper Harbor Key at Point 1 and continues generally SW and then NW to each successive point in numerical order until it reaches Point 9. From Point 9 the boundary continues to the intersection of the shoreline and the line segment formed between Point 10 and Point 11. From this intersection the boundary follows the shoreline north until it intersects the line segment formed between Point 12 and Point 13. From this intersection the boundary continues north to Point 14 and then Point 15. From Point 15 the boundary continues towards Point 16 until it intersects the shoreline. From this intersection the boundary follows the shoreline west until it intersects the line segment formed between Point 16 and Point 17. From this intersection the boundary continues towards Point 17 until it intersects the shoreline. From this intersection the boundary follows the shoreline SW until it intersects the line segment formed between Point 17 and Point 18. From this intersection the boundary continues towards Point 18 until it intersects the shoreline. From this intersection the boundary follows the shoreline generally west until it intersects the line segment formed between Point 19 and Point 20. From this intersection the boundary continues towards Point 20 until it intersects the shoreline. From this intersection the boundary follows the shoreline generally south and then west until it intersects the line segment formed between Point 21 and Point 22. From this intersection the boundary continues towards Point 22 until it intersects the shoreline. From this intersection the boundary follows the shoreline north until it intersects the line segment formed between Point 23 and Point 24. From this intersection the boundary continues to Point 24 and then to Point 25. From Point 25 the boundary continues towards Point 26 until it intersects the shoreline. From this intersection the boundary follows the shoreline generally north and then NE until it intersects the line segment formed between Point 27 and Point 28. From this intersection the boundary continues towards Point 28 until it intersects the shoreline. From this intersection the boundary follows the shoreline generally NE until it intersects the line segment formed between Point 29 and Point 30. From this intersection the boundary continues towards Point 30 until it intersects the shoreline. From this intersection the boundary follows the shoreline roughly north until it intersects the line segment formed between Point 30 and Point 31. From this intersection the boundary continues towards Point 31 until it intersects the shoreline. From this intersection the boundary follows the shoreline generally east until it intersects the line segment formed between Point 31 and Point 32. From this intersection the boundary continues towards Point 32 until it intersects the shoreline. From this intersection the boundary follows the shoreline generally NE until it intersects the line segment formed between Point 33 and Point 34. From this intersection the boundary continues to Point 34 and then to each successive point in numerical order until it reaches Point 38 where it ends. The inner landward boundary is defined by and follows the shoreline where not already specified. In addition the inner boundary is also defined by the East Content Keys and Upper Harbor Key Flats Wildlife Management Area No Entry Zone around Upper Harbor Key that begins at Point 1 of that zone and continues to each successive point in numerical order until it ends at Point 33.

Point | Latitude | Longitude
1 | 24.81837 | −81.42989
2 | 24.81206 | −81.43563
3 | 24.80073 | −81.44120
4 | 24.79213 | −81.45039
5 | 24.78816 | −81.45029
6 | 24.78526 | −81.45419
7 | 24.77345 | −81.45394
8 | 24.77339 | −81.46382
9 | 24.78344 | −81.46760
10 * | 24.78440 | −81.46821
11 * | 24.78451 | −81.46802
12 * | 24.78492 | −81.46804
13 * | 24.78493 | −81.46825
14 | 24.78593 | −81.46810
15 | 24.79541 | −81.46748
16 * | 24.79638 | −81.46742
17 * | 24.79588 | −81.46810
18 * | 24.79556 | −81.46851
19 * | 24.79537 | −81.47051
20 * | 24.79331 | −81.47179
21 * | 24.79230 | −81.47551
22 * | 24.79230 | −81.47601
23 * | 24.79361 | −81.47575
24 | 24.79382 | −81.47614
25 | 24.79593 | −81.47599
26 * | 24.79610 | −81.47565
27 * | 24.79978 | −81.47308
28 * | 24.80041 | −81.47262
29 * | 24.80184 | −81.46881
30 * | 24.80207 | −81.46886
31 * | 24.80228 | −81.46889
32 * | 24.80224 | −81.46866
33 * | 24.80322 | −81.46592
34 | 24.80377 | −81.46534
35 | 24.82795 | −81.44055
36 | 24.82599 | −81.43778
37 | 24.82329 | −81.43647
38 | 24.81837 | −81.42989

East Harbor Key WMA

No Entry

The wildlife management area seaward boundary begins just NE of East Harbor Key at Point 1 and continues to each successive point in numerical order until it reaches Point 8. From Point 8 the boundary continues towards Point 9 until it intersects the shoreline. From this intersection the boundary follows the shoreline to the north until it intersects the line segment formed between Point 10 and Point 11. From this intersection the boundary continues to Point 11 and then to each successive point in numerical order until it reaches Point 36 where it ends. The inner landward boundary is defined by and follows the shoreline where not already specified.

Point | Latitude | Longitude
1 | 24.65964 | −81.73360
2 | 24.65919 | −81.73347
3 | 24.65892 | −81.73346
4 | 24.65871 | −81.73349
5 | 24.65843 | −81.73361
6 | 24.65820 | −81.73377
7 | 24.65807 | −81.73391
8 | 24.65794 | −81.73410
9 * | 24.65787 | −81.73422
10 * | 24.65779 | −81.73518
11 | 24.65784 | −81.73532
12 | 24.65797 | −81.73552
13 | 24.65813 | −81.73570
14 | 24.65827 | −81.73598
15 | 24.65842 | −81.73617
16 | 24.65856 | −81.73629
17 | 24.65881 | −81.73645
18 | 24.65906 | −81.73655
19 | 24.65931 | −81.73657
20 | 24.65959 | −81.73658
21 | 24.65981 | −81.73652
22 | 24.66001 | −81.73643
23 | 24.66017 | −81.73632
24 | 24.66032 | −81.73615
25 | 24.66040 | −81.73601
26 | 24.66048 | −81.73578
27 | 24.66049 | −81.73549
28 | 24.66045 | −81.73511
29 | 24.66041 | −81.73496
30 | 24.66034 | −81.73480
31 | 24.66031 | −81.73454
32 | 24.66022 | −81.73420
33 | 24.66013 | −81.73402
34 | 24.65999 | −81.73383
35 | 24.65983 | −81.73369
36 | 24.65964 | −81.73360

Mud Keys WMA

Idle Speed No Wake

The wildlife management area seaward boundary begins on the eastern side of Mud Keys at the intersection of the shoreline with the line segment formed between Point 1 and Point 2. From this intersection the boundary continues towards Point 2 until it intersects the shoreline. From this intersection the boundary follows the shoreline south until it intersects the line segment formed between Point 3 and Point 4. From this intersection the boundary continues towards Point 4 until it intersects the shoreline. From this intersection the boundary follows the shoreline south until it intersects the line segment formed between Point 5 and Point 6. From this intersection the boundary continues towards Point 6 until it intersects the shoreline. From this intersection the boundary follows the shoreline generally west until it intersects the line segment formed between Point 7 and Point 8. From this intersection the boundary continues towards Point 8 until it intersects the shoreline. From this intersection the boundary follows the shoreline west until it intersects the line segment formed between Point 9 and Point 10. From this intersection the boundary continues towards Point 10 until it intersects the shoreline. From this intersection the boundary follows the shoreline NW until it intersects the line segment formed between Point 11 and Point 12. From this intersection the boundary continues towards Point 12 until it intersects the shoreline. From this intersection the boundary follows the shoreline west until it intersects the line segment formed between Point 13 and Point 14. From this intersection the boundary continues towards Point 14 until it intersects the shoreline. From this intersection the boundary follows the shoreline west until it intersects the line segment formed between Point 15 and Point 16. From this intersection the boundary continues towards Point 16 until it intersects the shoreline. From this intersection the boundary follows the shoreline NW until it intersects the line segment formed between Point 17 and Point 18. From this intersection the boundary continues towards Point 18 until it intersects the shoreline. From this intersection the boundary follows the shoreline NE until it intersects the line segment formed between Point 19 and Point 20. From this intersection the boundary continues towards Point 20 until it intersects the shoreline. From this intersection the boundary follows the shoreline generally east and then north and then west until it intersects the line segment formed between Point 21 and Point 22. From this intersection the boundary continues towards Point 22 until it intersects the shoreline. From this intersection the boundary follows the shoreline generally east and then north and then west until it intersects the line segment formed between Point 23 and Point 24. From this intersection the boundary continues towards Point 24 until it intersects the shoreline. From this intersection the boundary follows the shoreline generally NE until it intersects the line segment formed between Point 25 and Point 26. From this intersection the boundary continues towards Point 26 until it intersects the shoreline. From this intersection the boundary follows the shoreline generally west until it intersects the line segment formed between Point 27 and Point 28. From this intersection the boundary continues towards Point 28 until it intersects the shoreline. From this intersection the boundary follows the shoreline generally north and then east until it intersects the line segment formed between Point 29 and Point 30. From this intersection the boundary continues towards Point 30 until it intersects the shoreline. From this intersection the boundary follows the shoreline generally east until it intersects the line segment formed between Point 31 and Point 32. From this intersection the boundary continues towards Point 32 until it intersects the shoreline. From this intersection the boundary follows the shoreline generally south until it intersects the line segment formed between Point 33 and Point 34. From this intersection the boundary continues towards Point 35 until it intersects the shoreline. From this intersection the boundary follows the shoreline generally south until it intersects the line segment formed between Point 36 and Point 37 where it ends. The inner landward boundary is defined by and follows the shoreline where not already specified.

Point | Latitude | Longitude
1 * | 24.67121 | −81.69116
2 * | 24.67064 | −81.69055
3 * | 24.67040 | −81.69063
4 * | 24.66977 | −81.69077
5 * | 24.66936 | −81.69118
6 * | 24.66866 | −81.69180
7 * | 24.66809 | −81.69341
8 * | 24.66820 | −81.69402
9 * | 24.66824 | −81.69461
10 * | 24.66856 | −81.69564
11 * | 24.66899 | −81.69598
12 * | 24.66861 | −81.69695
13 * | 24.66868 | −81.69730
14 * | 24.66862 | −81.69785
15 * | 24.66876 | −81.69814
16 * | 24.66961 | −81.69805
17 * | 24.66999 | −81.69847
18 * | 24.67044 | −81.69861
19 * | 24.67121 | −81.69800
20 * | 24.67132 | −81.69766
21 * | 24.67168 | −81.69848
22 * | 24.67243 | −81.69841
23 * | 24.67377 | −81.69850
24 * | 24.67412 | −81.69866
25 * | 24.67461 | −81.69839
26 * | 24.67488 | −81.69850
27 * | 24.67502 | −81.69888
28 * | 24.67581 | −81.69883
29 * | 24.67604 | −81.69760
30 * | 24.67656 | −81.69672
31 * | 24.67642 | −81.68895
32 * | 24.67529 | −81.68934
33 * | 24.67312 | −81.69109
34 * | 24.67292 | −81.69091
35 * | 24.67227 | −81.69186
36 * | 24.67121 | −81.69116
37 * | 24.67064 | −81.69055

Sawyer Key WMA

No Entry

The wildlife management area seaward boundary begins at Point 1 and continues west to Point 2. From Point 2 the boundary continues west towards Point 3 until it intersects the shoreline. From this intersection the boundary follows the shoreline SW until it intersects the line segment formed between Point 4 and Point 5. From this intersection the boundary continues towards Point 5 until it intersects the shoreline. From this intersection the boundary follows the shoreline SW until it intersects the line segment formed between Point 6 and the intersection of the shoreline and the line segment formed between Point 7 and Point 8. From this intersection the boundary continues SW to the intersection of the shoreline and the line segment formed between Point 7 and Point 8. From this intersection the boundary follows the shoreline generally north until it intersects the line segment formed between Point 9 and Point 10. From this intersection the boundary continues towards Point 10 until it intersects the shoreline. From this intersection the boundary follows the shoreline NE until it intersects the line segment formed between Point 10 and Point 11. From this intersection the boundary follows the shoreline generally north and then east until it intersects the line segment formed between Point 12 and Point 13. From this intersection the boundary continues towards Point 13 until it intersects the shoreline. From this intersection the boundary follows the shoreline generally east until it intersects the line segment formed between Point 14 and Point 15. From this intersection the boundary continues south to Point 16 where it ends. The inner landward boundary is defined by and follows the shoreline where not already specified.

Point | Latitude | Longitude
1 | 24.75564 | −81.55825
2 | 24.75565 | −81.55869
3 * | 24.75564 | −81.55915
4 * | 24.75537 | −81.56027
5 * | 24.75502 | −81.56068
6 * | 24.75390 | −81.56322
7 * | 24.75174 | −81.56691
8 * | 24.75186 | −81.56706
9 * | 24.75761 | −81.56705
10 * | 24.75769 | −81.56691
11 * | 24.75785 | −81.56602
12 * | 24.75830 | −81.56476
13 * | 24.75826 | −81.56416
14 * | 24.75880 | −81.55778
15 * | 24.75851 | −81.55730
16 | 24.75564 | −81.55825

Snipe Keys WMA 2

Idle Speed No Wake

The wildlife management area seaward boundary begins at the intersection of the shoreline and the line segment formed between Point 1 and Point 2. From this intersection the boundary continues towards Point 3 until it intersects the shoreline. From this intersection the boundary follows the shoreline west until it intersects the line segment formed between Point 4 and Point 5. From this intersection the boundary continues towards Point 5 until it intersects the shoreline. From this intersection the boundary follows the shoreline generally west until it intersects the line segment formed between Point 6 and Point 7. From this intersection the boundary continues towards Point 7 until it intersects the shoreline. From this intersection the boundary follows the shoreline generally west until it intersects the line segment formed between Point 8 and Point 9. From this intersection the boundary continues towards Point 9 until it intersects the shoreline. From this intersection the boundary follows the shoreline generally west until it intersects the line segment formed between Point 10 and Point 11. From this intersection the boundary continues towards Point 11 until it intersects the shoreline. From this intersection the boundary follows the shoreline NW until it intersects the line segment formed between Point 12 and Point 13. From this intersection the boundary continues towards Point 13 until it intersects the shoreline. From this intersection the boundary follows the shoreline NW until it intersects the line segment formed between Point 13 and Point 14. From this intersection the boundary continues NW to Point 14 and then west to Point 15. From Point 15 the boundary continues SW towards Point 16 until it intersects the shoreline. From this intersection the boundary follows the shoreline generally SW until it intersects the line segment formed between Point 16 and Point 17. From this intersection the boundary continues towards Point 17 until it intersects the shoreline. From this intersection the boundary follows the shoreline west until it intersects the line segment formed between Point 18 and Point 19. From this intersection the boundary continues west to Point 19 and then Point 20. From Point 20 the boundary continues towards Point 21 until it intersects the shoreline. From this intersection the boundary follows the shoreline west until it intersects the line segment formed between Point 21 and Point 22. From this intersection the boundary continues towards Point 22 until it intersects the shoreline. From this intersection the boundary follows the shoreline west until it intersects the line segment formed between Point 23 and Point 24. From this intersection the boundary continues towards Point 24 until it intersects the shoreline. From this intersection the boundary follows the shoreline west until it intersects the line segment formed between Point 25 and Point 26. From this intersection the boundary continues towards Point 26 until it intersects the shoreline. From this intersection the boundary follows the shoreline west until it intersects the line segment formed between Point 26 and Point 27. From this intersection the boundary continues NW to Point 27 and then to each successive point in numerical order until it reaches Point 34. From Point 34 the boundary continues east towards Point 35 until it intersects the shoreline. From this intersection the boundary follows the shoreline east until it intersects the line segment formed between Point 36 and Point 37. From this intersection the boundary continues towards Point 37 until it intersects the shoreline. From this intersection the boundary follows the shoreline generally east until it intersects the line segment formed between Point 38 and Point 39. From this intersection the boundary continues east to the intersection of the shoreline with the line segment formed between Point 40 and Point 41. From this intersection the boundary follows the shoreline east until it intersects with the line segment formed between Point 42 and Point 43. From this intersection the boundary continues east towards Point 43 until it intersects the shoreline. From this intersection the boundary follows the shoreline east until it intersects the line segment formed between Point 44 and Point 45 where it ends. The inner landward boundary is defined by and follows the shoreline where not already specified.

Point | Latitude | Longitude
1 * | 24.69379 | −81.66054
2 * | 24.69368 | −81.66045
3 * | 24.69316 | −81.66077
4 * | 24.69355 | −81.66239
5 * | 24.69343 | −81.66275
6 * | 24.69298 | −81.66378
7 * | 24.69273 | −81.66402
8 * | 24.69167 | −81.66801
9 * | 24.69152 | −81.66834
10 * | 24.69174 | −81.66910
11 * | 24.69185 | −81.67023
12 * | 24.69241 | −81.67087
13 * | 24.69262 | −81.67119
14 | 24.69293 | −81.67142
15 | 24.69291 | −81.67153
16 * | 24.69285 | −81.67160
17 * | 24.69275 | −81.67166
18 * | 24.69278 | −81.67176
19 | 24.69279 | −81.67189
20 | 24.69276 | −81.67206
21 * | 24.69264 | −81.67220
22 * | 24.69259 | −81.67231
23 * | 24.69269 | −81.67266
24 * | 24.69263 | −81.67287
25 * | 24.69274 | −81.67328
26 * | 24.69281 | −81.67341
27 | 24.69292 | −81.67346
28 | 24.69343 | −81.67337
29 | 24.69328 | −81.67278
30 | 24.69330 | −81.67221
31 | 24.69335 | −81.67208
32 | 24.69327 | −81.67196
33 | 24.69327 | −81.67191
34 | 24.69335 | −81.67182
35 * | 24.69342 | −81.67153
36 * | 24.69345 | −81.67122
37 * | 24.69330 | −81.67089
38 * | 24.69295 | −81.67030
39 * | 24.69283 | −81.67030
40 * | 24.69309 | −81.66963
41 * | 24.69299 | −81.66963
42 * | 24.69337 | −81.66454
43 * | 24.69380 | −81.66326
44 * | 24.69379 | −81.66054
45 * | 24.69368 | −81.66045

Snipe Keys WMA 3

No Motor

The wildlife management area seaward boundary begins at Point 1 at Snipe Keys and continues towards Point 2 until it intersects the shoreline. From this intersection the boundary follows the shoreline SE until it intersects the line segment formed between Point 2 and Point 3. From this intersection the boundary continues towards Point 3 until it intersects the shoreline. From this intersection the boundary follows the shoreline east until it intersects the line segment formed between Point 4 and Point 5. From this intersection the boundary continues towards Point 5 until it intersects the shoreline. From this intersection the boundary follows the shoreline east until it intersects the line segment formed between Point 6 and Point 7. From this intersection the boundary continues towards Point 7 until it intersects the shoreline. From this intersection the boundary follows the shoreline east until it intersects the line segment formed between Point 7 and Point 8. From this intersection the boundary continues east to Point 8 and then to Point 9. From Point 9 the boundary continues towards Point 10 until it intersects the shoreline. From this intersection the boundary follows the shoreline east until it intersects the line segment formed between Point 11 and Point 12. From this intersection the boundary continues towards Point 12 until it intersects the shoreline. From this intersection the boundary follows the shoreline generally NE until it intersects the line segment formed between Point 12 and Point 13. From this intersection the boundary continues to Point 13 and then Point 14. From Point 14 the boundary continues towards Point 15 until it intersects the shoreline. From this intersection the boundary follows the shoreline generally NE until it intersects the line segment formed between Point 15 and Point 16. From this intersection the boundary continues towards Point 16 until it intersects the shoreline. From this intersection the boundary follows the shoreline SE until it intersects the line segment formed between Point 17 and Point 18. From this intersection the boundary continues towards Point 18 until it intersects the shoreline. From this intersection the boundary follows the shoreline east until it intersects the line segment formed between Point 19 and Point 20. From this intersection the boundary follows the shoreline generally NE until it intersects the line segment formed between Point 21 and Point 22. From this intersection the boundary continues towards Point 22 until it intersects the shoreline. From this intersection the boundary follows the shoreline NE and then east until it intersects the line segment formed between Point 23 and Point 24. From this intersection the boundary continues towards Point 24 until it intersects the shoreline. From this intersection the boundary follows the shoreline east and then south until it intersects the line segment formed between Point 25 and Point 26. From this intersection the boundary continues towards Point 26 until it intersects the shoreline. From this intersection the boundary follows the shoreline south and then west until it intersects the line segment formed between Point 27 and 28. From this intersection the boundary continues towards Point 28 until it intersects the shoreline. From this intersection the boundary follows the shoreline west until it intersects the line segment formed between Point 29 and Point 30. From this intersection the boundary continues towards Point 30 until it intersects the shoreline. From this intersection the boundary follows the shoreline west until it intersects the line segment formed between Point 30 and Point 31. From this intersection the boundary continues towards Point 31 until it intersects the shoreline. From this intersection the boundary follows the shoreline north until it intersects the line segment formed between Point 31 and Point 33. From this intersection the boundary continues towards Point 33 until it intersects the shoreline. From this intersection the boundary follows the shoreline generally west until it intersects the line segment formed between Point 34 and Point 35. From this intersection the boundary continues towards Point 35 until it intersects the shoreline. From this intersection the boundary follows the shoreline generally NW until it intersects the line segment formed between Point 36 and the intersection of the shoreline and the line segment formed between Point 37 and Point 38. From this intersection the boundary continues to the intersection of the shoreline and the line segment formed between Point 37 and Point 38. From this intersection the boundary continues to the intersection of the shoreline and the line segment formed between Point 39 and Point 40. From this intersection the boundary continues to the intersection of the shoreline and the line segment formed between Point 41 and Point 42. From this intersection the boundary continues to the intersection of the shoreline and the line segment formed between Point 43 and Point 44. From this intersection the boundary continues to the intersection of the shoreline and the line segment formed between Point 45 and Point 46. From this intersection the boundary continues towards Point 47 until it intersects the shoreline. From this intersection the boundary follows the shoreline south until it intersects the line segment formed between Point 48 and Point 49. From this intersection the boundary continues towards Point 49 until it intersects the shoreline. From this intersection the boundary follows the shoreline south until it intersects the line segment formed between Point 50 and Point 51. From this intersection the boundary continues towards Point 51 until it intersects the shoreline. From this intersection the boundary follows the shoreline south until it intersects the line segment formed between Point 52 and Point 53. From this intersection the boundary continues towards Point 53 until it intersects the shoreline. From this intersection the boundary follows the shoreline west until it intersects the line segment formed between Point 54 and Point 55. From this intersection the boundary continues towards Point 55 until it intersects the shoreline. From this intersection the boundary follows the shoreline generally west and then north until it intersects the line segment formed between Point 56 and Point 57. From this intersection the boundary continues towards Point 57 until it intersects the shoreline. From this intersection the boundary follows the shoreline north until it intersects the line segment formed between Point 58 and the intersection of the shoreline and the line segment formed between Point 59 and Point 60. From this intersection the boundary continues to the intersection of the shoreline and the line segment formed between Point 59 and Point 60. From this intersection the boundary continues to the intersection of the shoreline and the line segment formed between Point 61 and Point 62. From this intersection the boundary follows the shoreline generally NE until it intersects the line segment formed between Point 63 and the intersection formed between the shoreline and the line segment formed between Point 64 and Point 65. From this intersection the boundary continues to the intersection of the shoreline and the line segment formed between Point 64 and Point 65. From this intersection the boundary continues to the intersection of the shoreline and the line segment formed between Point 66 and Point 67. From this intersection the boundary continues NE to Point 67. From Point 67 the boundary continues east towards Point 68 until it intersects the shoreline. From this intersection the boundary follows the shoreline until it intersects the line segment formed between Point 69 and Point 70. From this intersection the boundary continues north to Point 70 and Point 71 and then generally east to each successive point in numerical order until it reaches Point 83. From Point 83 the boundary continues towards Point 84 until it intersects the shoreline where it ends. The inner landward boundary is defined by and follows the shoreline where not already specified.

Point | Latitude | Longitude
1 | 24.69292 | −81.67346
2 * | 24.69281 | −81.67341
3 * | 24.69274 | −81.67328
4 * | 24.69263 | −81.67287
5 * | 24.69269 | −81.67266
6 * | 24.69259 | −81.67231
7 * | 24.69264 | −81.67220
8 | 24.69276 | −81.67206
9 | 24.69279 | −81.67189
10 * | 24.69278 | −81.67176
11 * | 24.69275 | −81.67166
12 * | 24.69285 | −81.67160
13 | 24.69291 | −81.67153
14 | 24.69293 | −81.67142
15 * | 24.69262 | −81.67119
16 * | 24.69241 | −81.67087
17 * | 24.69185 | −81.67023
18 * | 24.69174 | −81.66910
19 * | 24.69152 | −81.66834
20 * | 24.69167 | −81.66801
21 * | 24.69273 | −81.66402
22 * | 24.69298 | −81.66378
23 * | 24.69343 | −81.66275
24 * | 24.69355 | −81.66239
25 * | 24.68938 | −81.66143
26 * | 24.68868 | −81.66151
27 * | 24.68598 | −81.66518
28 * | 24.68574 | −81.66543
29 * | 24.68572 | −81.66562
30 * | 24.68573 | −81.66580
31 * | 24.68577 | −81.66598
32 * | 24.68592 | −81.66595
33 * | 24.68604 | −81.66622
34 * | 24.68655 | −81.66859
35 * | 24.68733 | −81.66899
36 * | 24.68843 | −81.67065
37 * | 24.68852 | −81.67164
38 * | 24.68869 | −81.67164
39 * | 24.68832 | −81.67239
40 * | 24.68849 | −81.67241
41 * | 24.68821 | −81.67283
42 * | 24.68836 | −81.67294
43 * | 24.68780 | −81.67317
44 * | 24.68798 | −81.67334
45 * | 24.68753 | −81.67355
46 * | 24.68768 | −81.67373
47 * | 24.68702 | −81.67392
48 * | 24.68598 | −81.67433
49 * | 24.68579 | −81.67505
50 * | 24.68506 | −81.67548
51 * | 24.68481 | −81.67598
52 * | 24.68454 | −81.67621
53 * | 24.68420 | −81.67739
54 * | 24.68415 | −81.67947
55 * | 24.68453 | −81.67966
56 * | 24.68780 | −81.68024
57 * | 24.68815 | −81.68001
58 * | 24.68838 | −81.67997
59 * | 24.68883 | −81.67993
60 * | 24.68880 | −81.67979
61 * | 24.68970 | −81.67984
62 * | 24.68965 | −81.67964
63 * | 24.69017 | −81.67882
64 * | 24.69054 | −81.67760
65 * | 24.69029 | −81.67763
66 * | 24.69055 | −81.67730
67 | 24.69078 | −81.67719
68 * | 24.69099 | −81.67589
69 * | 24.69180 | −81.67492
70 | 24.69239 | −81.67474
71 | 24.69256 | −81.67476
72 | 24.69262 | −81.67462
73 | 24.69256 | −81.67437
74 | 24.69243 | −81.67423
75 | 24.69256 | −81.67406
76 | 24.69260 | −81.67391
77 | 24.69288 | −81.67376
78 | 24.69290 | −81.67369
79 | 24.69296 | −81.67367
80 | 24.69300 | −81.67364
81 | 24.69302 | −81.67354
82 | 24.69299 | −81.67350
83 | 24.69292 | −81.67346
84 * | 24.69281 | −81.67341

Appendix F to Subpart P of Part 922—Sanctuary Preservation Areas Boundary Coordinates

Coordinates listed in this appendix are unprojected (Geographic) and based on the North American Datum of 1983.

The boundary for the following Sanctuary Preservation Areas (SPA) begins at each individual zone's Point 1 and continues to each successive point in numerical order until ending at that same zone's last point as listed in its specific coordinate table.

Alligator Reef SPA

Point | Latitude | Longitude
1 | 24.85383 | −80.61950
2 | 24.84691 | −80.60967
3 | 24.84002 | −80.62083
4 | 24.84683 | −80.62716
5 | 24.85383 | −80.61950

Carysfort Reef SPA

Point | Latitude | Longitude
1 | 25.22734 | −80.19447
2 | 25.19451 | −80.20821
3 | 25.20476 | −80.23208
4 | 25.23405 | −80.21709
5 | 25.23671 | −80.21573
6 | 25.23492 | −80.21169
7 | 25.22734 | −80.19447

Cheeca Rocks SPA

Point | Latitude | Longitude
1 | 24.90367 | −80.61917
2 | 24.90700 | −80.61517
3 | 24.90417 | −80.61283
4 | 24.90167 | −80.61667
5 | 24.90367 | −80.61917

Coffins Patch SPA

Point | Latitude | Longitude
1 | 24.67917 | −80.97217
2 | 24.68433 | −80.97467
3 | 24.69117 | −80.96133
4 | 24.68533 | −80.95883
5 | 24.67917 | −80.97217

Conch Reef SPA

Point | Latitude | Longitude
1 | 24.95800 | −80.45783
2 | 24.95567 | −80.45433
3 | 24.94986 | −80.45703
4 | 24.94633 | −80.45867
5 | 24.94933 | −80.46217
6 | 24.95800 | −80.45783

Davis Reef SPA

Point | Latitude | Longitude
1 | 24.92233 | −80.50867
2 | 24.92683 | −80.50450
3 | 24.92350 | −80.50083
4 | 24.91850 | −80.50583
5 | 24.92233 | −80.50867

Eastern Dry Rocks SPA

Point | Latitude | Longitude
1 | 24.46200 | −81.84767
2 | 24.46533 | −81.84250
3 | 24.46217 | −81.83883
4 | 24.45783 | −81.84667
5 | 24.46200 | −81.84767

Hen and Chickens SPA

Point | Latitude | Longitude
1 | 24.93400 | −80.55317
2 | 24.93967 | −80.54767
3 | 24.93683 | −80.54383
4 | 24.93100 | −80.54917
5 | 24.93400 | −80.55317

Key Largo Dry Rocks−Grecian Rocks SPA

Point | Latitude | Longitude
1 | 25.10502 | −80.30565
2 | 25.10880 | −80.31061
3 | 25.12650 | −80.29850
4 | 25.12432 | −80.29468
5 | 25.10502 | −80.30565

Looe Key SPA

Point | Latitude | Longitude
1 | 24.55200 | −81.41350
2 | 24.55400 | −81.40050
3 | 24.54500 | −81.39750
4 | 24.54200 | −81.41167
5 | 24.54745 | −81.41267
6 | 24.55200 | −81.41350

Molasses Reef SPA

Point | Latitude | Longitude
1 | 25.01767 | −80.36400
2 | 25.00483 | −80.37833
3 | 25.01200 | −80.38050
4 | 25.01667 | −80.37550
5 | 25.01767 | −80.36400

Newfound Harbor Key SPA

Point | Latitude | Longitude
1 | 24.61233 | −81.39667
2 | 24.61667 | −81.39767
3 | 24.61833 | −81.38900
4 | 24.61417 | −81.38800
5 | 24.61233 | −81.39667

Sand Key SPA

Point | Latitude | Longitude
1 | 24.45033 | −81.88250
2 | 24.46017 | −81.88233
3 | 24.45967 | −81.87150
4 | 24.45017 | −81.87200
5 | 24.45033 | −81.88250

Sombrero Key SPA

Point | Latitude | Longitude
1 | 24.62500 | −81.10317
2 | 24.62083 | −81.11483
3 | 24.62536 | −81.11674
4 | 24.62629 | −81.11398
5 | 24.63183 | −81.11300
6 | 24.62832 | −81.10790
7 | 24.62930 | −81.10497
8 | 24.62500 | −81.10317

The Elbow SPA

Point | Latitude | Longitude
1 | 25.14950 | −80.26050
2 | 25.14917 | −80.25367
3 | 25.13633 | −80.26067
4 | 25.14167 | −80.26783
5 | 25.14320 | −80.26640
6 | 25.14720 | −80.26266
7 | 25.14950 | −80.26050

Turtle Rocks SPA

Point | Latitude | Longitude
1 | 25.30828 | −80.20750
2 | 25.27452 | −80.23195
3 | 25.28222 | −80.24276
4 | 25.31519 | −80.22184
5 | 25.30828 | −80.20750

Turtle Shoal SPA

Point | Latitude | Longitude
1 | 24.73452 | −80.92027
2 | 24.72375 | −80.91202
3 | 24.71386 | −80.93661
4 | 24.72406 | −80.94341
5 | 24.73452 | −80.92027

Appendix G to Subpart P of Part 922—Conservation Areas Boundary Coordinates

Coordinates listed in this appendix are unprojected (Geographic) and based on the North American Datum of 1983.

The boundary for the following Conservation Areas begins at each individual zone's Point 1 and continues to each successive point in numerical order until ending at that same zone's last point as listed in its specific coordinate table.

Conch Reef Conservation Area

Point | Latitude | Longitude
1 | 24.95167 | −80.44883
2 | 24.94717 | −80.45433
3 | 24.94986 | −80.45703
4 | 24.95567 | −80.45433
5 | 24.95167 | −80.44883

Eastern Sambo Conservation Area

Point | Latitude | Longitude
1 | 24.48950 | −81.66600
2 | 24.49617 | −81.66717
3 | 24.49733 | −81.65983
4 | 24.49250 | −81.65583
5 | 24.48950 | −81.66600

Tennessee Reef Conservation Area

Point | Latitude | Longitude
1 | 24.77003 | −80.75115
2 | 24.75788 | −80.74189
3 | 24.75157 | −80.75147
4 | 24.76495 | −80.75955
5 | 24.77003 | −80.75115

Tortugas North Conservation Area

Point | Latitude | Longitude
1 | 24.76667 | −83.10000
2 | 24.76667 | −82.90000
3 | 24.76333 | −82.80000
4 | 24.72610 | −82.80000
5 | 24.72537 | −82.86646
6 | 24.71690 | −82.89975
7 | 24.65000 | −82.96674
8 | 24.65000 | −83.10000
9 | 24.76667 | −83.10000

Tortugas South Conservation Area

Point | Latitude | Longitude
1 | 24.55017 | −83.16643
2 | 24.55000 | −83.08333
3 | 24.30000 | −83.08333
4 | 24.30084 | −83.16711
5 | 24.55017 | −83.16643

Western Sambo Conservation Area

The Western Sambo Conservation Area boundary begins approximately 6 miles south of Boca Chica Key at Point 1. From Point 1 the boundary continues to Point 2 and Point 3. From Point 3 the boundary continues towards Point 4 until it intersects the shoreline. From this intersection the boundary continues east following the shoreline until it intersects the line segment formed between Point 5 and Point 6. From this intersection the boundary continues to Point 6 and ends at Point 7.

Point | Latitude | Longitude
1 | 24.47295 | −81.70024
2 | 24.46655 | −81.72928
3 | 24.49877 | −81.72544
4* | 24.55794 | −81.71838
5* | 24.56201 | −81.67996
6 | 24.50469 | −81.69301
7 | 24.47295 | −81.70024

Note: The coordinates in the table above marked with an asterisk (*) are not a part of the zone's boundary. These coordinates are landward reference points used to draw a line segment that intersects with the shoreline.

Within the Western Sambo Conservation Area, an additional no anchor zone surrounds the offshore reef tract. The boundary for the Western Sambo Conservation Area No Anchor zone begins at Point 1 and continues to each successive point in numerical order until ending at Point 5.

Western Sambo Conservation Area

No Anchor

Point | Latitude | Longitude
1 | 24.49877 | −81.72544
2 | 24.50469 | −81.69301
3 | 24.47295 | −81.70024
4 | 24.46655 | −81.72928
5 | 24.49877 | −81.72544

Appendix H to Subpart P of Part 922—Restoration Areas—Habitat Boundary Coordinates

Coordinates listed in this appendix are unprojected (Geographic) and based on the North American Datum of 1983.

The boundary for the following Restoration Areas—Habitat zones begins at each individual zone's Point 1 and continues to each successive point in numerical order until ending at that same zone's last point as listed in its specific coordinate table.

Cheeca Rocks East Restoration Area—Habitat

Point | Latitude | Longitude
1 | 24.90299 | −80.61106
2 | 24.90298 | −80.60901
3 | 24.90194 | −80.60902
4 | 24.90195 | −80.61106
5 | 24.90299 | −80.61106

Cheeca Rocks South Restoration Area—Habitat

Point | Latitude | Longitude
1 | 24.89782 | −80.62210
2 | 24.89846 | −80.61492
3 | 24.89581 | −80.61500
4 | 24.89587 | −80.62216
5 | 24.89782 | −80.62210

Horseshoe Reef Restoration Area—Habitat

Point | Latitude | Longitude
1 | 25.13797 | −80.29796
2 | 25.14422 | −80.29317
3 | 25.13806 | −80.28500
4 | 25.13196 | −80.28979
5 | 25.13797 | −80.29796

Pickles Reef Restoration Area—Habitat

Point | Latitude | Longitude
1 | 24.97864 | −80.43372
2 | 24.97866 | −80.44120
3 | 24.98488 | −80.44055
4 | 24.98459 | −80.43332
5 | 24.97864 | −80.43372

Appendix I to Subpart P of Part 922—Restoration Areas—Nursery Boundary Coordinates

Coordinates listed in this appendix are unprojected (Geographic) and based on the North American Datum of 1983.

The boundary for the following Restoration Areas—Nursery zones begins at each individual zone's Point 1 and continues to each successive point in numerical order until ending at that same zone's last point as listed in its specific coordinate table.

Carysfort Reef Restoration Area—Nursery

Point | Latitude | Longitude
1 | 25.23492 | −80.21169
2 | 25.23231 | −80.21302
3 | 25.23405 | −80.21709
4 | 25.23671 | −80.21573
5 | 25.23492 | −80.21169

Islamorada Restoration Area—Nursery

Point | Latitude | Longitude
1 | 24.88775 | −80.56321
2 | 24.88777 | −80.56754
3 | 24.89171 | −80.56753
4 | 24.89169 | −80.56319
5 | 24.88775 | −80.56321

Key Largo Restoration Area—Nursery

Point | Latitude | Longitude
1 | 25.08091 | −80.31483
2 | 25.08484 | −80.31479
3 | 25.08482 | −80.31048
4 | 25.08089 | −80.31050
5 | 25.08091 | −80.31483

Looe Key East Restoration Area—Nursery

Point | Latitude | Longitude
1 | 24.55911 | −81.40124
2 | 24.56385 | −81.40272
3 | 24.56554 | −81.39802
4 | 24.56109 | −81.39638
5 | 24.55911 | −81.40124

Looe Key West Restoration Area—Nursery

Point | Latitude | Longitude
1 | 24.55149 | −81.41663
2 | 24.55200 | −81.4135
3 | 24.54745 | −81.41267
4 | 24.54705 | −81.41568
5 | 24.55149 | −81.41663

Marathon Restoration Area—Nursery

Point | Latitude | Longitude
1 | 24.66333 | −81.02078
2 | 24.66333 | −81.02780
3 | 24.66986 | −81.02781
4 | 24.66986 | −81.02078
5 | 24.66333 | −81.02078

Marker 32 Restoration Area—Nursery

Point | Latitude | Longitude
1 | 24.47712 | −81.77809
2 | 24.48104 | −81.77811
3 | 24.48105 | −81.77368
4 | 24.47717 | −81.77372
5 | 24.47712 | −81.77809

Middle Keys Restoration Area—Nursery

Point | Latitude | Longitude
1 | 24.65659 | −81.02141
2 | 24.65858 | −81.01799
3 | 24.65533 | −81.01548
4 | 24.65337 | −81.01932
5 | 24.65659 | −81.02141

Sand Key Restoration Area—Nursery

Point | Latitude | Longitude
1 | 24.45983 | −81.88394
2 | 24.45605 | −81.88389
3 | 24.45603 | −81.88804
4 | 24.45981 | −81.88808
5 | 24.45983 | −81.88394

Tavernier Restoration Area—Nursery

Point | Latitude | Longitude
1 | 24.98883 | −80.42110
2 | 24.99140 | −80.41819
3 | 24.98708 | −80.41356
4 | 24.98417 | −80.41647
5 | 24.98883 | −80.42110

The Elbow Restoration Area—Nursery

Point | Latitude | Longitude
1 | 25.14320 | −80.26640
2 | 25.14515 | −80.26901
3 | 25.14928 | −80.26534
4 | 25.14720 | −80.26266
5 | 25.14320 | −80.26640

[FR Doc. 2025-00496 Filed 1-16-25; 8:45 am]

BILLING CODE 3510-NK-P